FEDERAL COMMUNICATIONS COMMISSION

47 CFR Part 73

[MB Docket No. 87-268; FCC 07-138]

Advanced Television Systems and Their Impact Upon the Existing Television Broadcast Service

AGENCY: Federal Communications Commission.

ACTION: Final rule.

SUMMARY: The Commission adopts a new Table of Allotments for digital television (DTV) providing all eligible stations with channels for DTV operations after the DTV transition on February 17, 2009. The new DTV Table accommodates all eligible broadcasters, reflects to the extent possible the channel elections made by broadcasters, and is consistent with efficient spectrum use. The new DTV Table finalizes the channels and facilities necessary to complete the digital transition and ultimately will replace the existing DTV Table at the end of the DTV transition. The existing DTV Table continues to govern stations' DTV operations until the end of the DTV transition.

DATES: Effective October 26, 2007.

ADDRESSES: Federal Communications Commission, Washington, DC 20554.

FOR FURTHER INFORMATION CONTACT: For additional information on this proceeding, contact Kim Matthews of the Media Bureau, Policy Division, (202) 418-2154.

SUPPLEMENTARY INFORMATION: This is a summary of the Federal Communications Commission's Seventh Report and Order in MB Docket No. 87-268, FCC 07-138, adopted August 1, 2007, and released August 6, 2007. The full text of this document is available for public inspection and copying during regular business hours in the FCC Reference Center, Federal Communications Commission, 445 12th Street, SW., CY-A257, Washington, DC 20554. These documents will also be available via ECFS (http://www.fcc.gov/cgb/ecfs/). (Documents will be available electronically in ASCII, Word 97, and/or Adobe Acrobat.) The complete text may be purchased from the Commission's copy contractor, 445 12th Street, SW., Room CY-B402, Washington, DC 20554. To request this document in accessible formats (computer diskettes, large print, audio recording, and Braille), send an e-mail to fcc504@fcc.gov or call the Commission's Consumer and Governmental Affairs Bureau at (202) 418-0530 (voice), (202) 418-0432 (TTY).

Summary of the Seventh Report and Order

1. In this Seventh Report and Order, the Commission adopts a new Table of Allotments for digital television (“DTV”) providing all eligible stations with channels for DTV operations after the DTV transition on February 17, 2009. The new DTV Table is the result of informed decisions made by eligible licensees and permittees during the Commission's channel election process. As the Commission stated in the Seventh Further Notice of Proposed Rule Making in this proceeding (71 FR 66592, November 15, 2006) (“Seventh Further Notice”), in developing these final DTV allotments the Commission has attempted to accommodate broadcasters' channel preferences as well as their replication and maximization service area certifications (made via FCC Form 381). The DTV Table adopted herein reflects consideration of the comments filed in response to the Seventh Further Notice as well as our efforts to promote overall spectrum efficiency and ensure that broadcasters provide the best possible service to the public.

2. In early 2006, Congress established February 17, 2009 as a new hard deadline for the end of the DTV transition and the end of analog transmissions by full power television broadcasters. In view of the short period of time remaining before this deadline, our goal has been to finalize DTV channels and facilities as expeditiously as possible to provide stations with the certainty they need to complete their digital build out, consistent with the interference and other standards set forth in the Seventh Further Notice.

Requests for Minor Adjustments

3. We will make a variety of minor adjustments based on requests from commenters. We received comments filed on behalf of 22 stations requesting that we make minor adjustments to the station coordinates specified in the proposed DTV Table Appendix B. We asked licensees to review the accuracy of their information contained in the proposed DTV Table Appendix B and comment on any inaccuracies or discrepancies in this information. In some cases, the station requested a change to conform to the coordinates reflected on a station authorization and/or the coordinates of the Antenna Structure Registration (“ASR”) for the station's tower. In circumstances where a station submitted a correction to the station's coordinates, the corrected coordinates are specified on a station license or construction permit, and the requested change did not result in a change of more than three seconds latitude or longitude for the station, we are making the requested correction. Accepting corrections to Appendix B of three seconds or less is consistent with the Commission's rules, which do not require a construction permit for such a correction before it can be licensed. Three seconds of latitude or longitude is approximately 200 to 300 feet. The stations for which we make such a correction are listed in Appendix D1 hereto and the changes requested by those stations are reflected in DTV Table Appendix B adopted herein.

4. We also received comments filed on behalf of stations requesting modification of the proposed DTV Table Appendix B in the Seventh Further Notice either to express a station's geographic coordinates in tenths of seconds in addition to the currently listed degrees, minutes, and seconds or to round to the nearest whole second rather than merely truncate the data. One such commenter argued that precision is important as even a small change in location data could have an impact on interference studies in light of the 0.1 percent interference standard. We note that a tenth of a second latitude or longitude is equivalent to approximately 10 feet.

5. We find it is appropriate to round to the nearest whole second because the resources necessary to collect more precise data and revise the computer software that generates the Table would not be justified by the small difference in physical location. For those commenters that have requested a correction of their station coordinates and provided us with station coordinates expressed to the tenth of a second, we have revised DTV Table Appendix B to round the coordinates to the nearest whole second. The stations for which such a change is made are included in the list of stations in Appendix D1 herein.

Requests To Make Changes to Certification

6. We are permitting changes to stations' facility certifications (FCC Form 381) based on appropriate demonstrations from these stations where such changes are consistent with the circumstances contemplated in the Seventh Further Notice. In paragraph 28 of the Seventh Further Notice, the Commission recognized that some stations have already constructed or received authorization to construct facilities on the station's TCD that provide service to areas that extend beyond that to which the station certified on FCC Form 381. Because the interference protection provided during the channel election process was limited to the facilities to which the station certified in FCC Form 381, the Commission noted that stations serving or authorized to serve areas beyond their certified area could become subject to interference in those areas. The Commission stated that it would permit stations in this situation to file comments proposing to modify their certified facilities to match their authorized or constructed facilities. Stations requesting such a change were required either to (1) Submit an engineering analysis demonstrating that the proposed change to their certified facilities would not result in interference in excess of 0.1 percent to any licensee's existing TCD or (2) submit the signed, written consent of every affected licensee. The Commission also stated that stations in these circumstances seeking a change in their certification would be required to accept interference from any channel election already approved.

1. Requests That Meet the Interference Criteria

7. We will permit stations to change their facility certifications (FCC Form 381), and thus our post-transition DTV Table Appendix B, where such stations have demonstrated that such modification of their facilities will conform to licensed or authorized facilities and where the proposed change to the Appendix B facilities either meets the interference criterion discussed above (i.e., the proposed change would not result in interference in excess of 0.1 percent to any licensee's existing TCD) or, as discussed further below, the station affected agreed to accept the interference. We received comments on behalf of 130 stations requesting such changes. We have made the changes requested by these commenters and the changes are reflected in the revised DTV Table Appendix B adopted herein. A list of the stations for which we made these changes is attached hereto in Appendix D2. To address the requests of those commenters in this group whose stations are moving to a different channel for post-transition service, we recalculated their post-transition DTV coverage area based on their authorized or licensed DTV facility, as indicated by the file number shown in Appendix D2.

8. In some cases, stations listed in Appendix D2 request changes to the DTV Table/Appendix B that differ from the facilities specified in a current authorization for the station on the post-transition channel. In these circumstances, we have revised DTV Table Appendix B to specify the station's authorized facilities. The following paragraphs describe three situations that merit additional explanation.

9. KBCW, San Francisco, CA. San Francisco Television Station KBCW, Inc. (“KBCW”), licensee of station KBCW, channel 44, and KBCW-DT, channel 45, San Francisco, CA, received channel 45 for its TCD in the proposed DTV Table. In comments filed on behalf of KBCW, CBS Corporation (“CBS”) requests a change to conform to the parameters of KBCW's licensed facilities on Channel 45. CBS states that, along most azimuths, the currently licensed digital facilities of KBCW exceed those resulting from the replication facilities assigned to the station in the proposed DTV Table Appendix B. CBS states that an interference study shows that the requested KBCW parameters would cause in excess of 0.1 percent new interference only to the digital operation of KQCA, Stockton, California. According to CBS, KQCA currently receives 0.46 percent interference from KBCW-DT's presently licensed operation and would continue to do so after the transition if KBCW-DT keeps its existing facilities. CBS submitted an agreement in which KQCA agrees to accept this interference. In light of the interference agreement submitted by CBS, we will accept the requested change to the parameters for KBCW to conform to its authorized and operating facilities. These changes are reflected in the revised DTV Table Appendix B adopted herein.

10. KALO, Honolulu, HI. Pacifica Broadcasting Company (“Pacifica”), licensee of station KALO(TV), channel 38, and KALO-DT, channel *10, Honolulu, HI, received channel 10 for its TCD in the proposed DTV Table. In a late-filed comment, Pacifica noted its concern that it may not be able to operate at its applied-for power level on channel 10 because it will cause an unacceptable level of interference to the FCC monitoring station at Waipahu. To address this anticipated difficulty, Pacifica has proposed a reduced ERP of 14.275 kW. This power level is less than the authorized power of the facility, but the reduction is necessary to prevent interference with our nearby monitoring facility. We have studied the proposed power and find that it does not cause impermissible interference to any station. We accept KALO's proposal and the DTV Table Appendix B has been revised accordingly.

11. WPPB, Boca Raton, FL. The School Board of Broward County (“SBBC”), licensee of WPPB-TV, channel *63, and permittee of WPPB-DT, channel *40, Boca Raton, FL, received channel *40 for its TCD in the proposed DTV Table. In comments filed to this proceeding, SBBC supports the proposed allotment of channel *40, but asks to change its certified facilities and DTV Table Appendix B to reflect facilities authorized by the Commission in 2002. No other comments were filed related to this TCD.

12. SBBC's request to change WPPB's DTV channel from *44 to *40 was approved in the 2002 Boca Raton Allotment Order. In that order, WPPB-DT, channel *40, was authorized to operate at maximized facilities, including an ERP of 1000 kW and an antenna HAAT of 310 m. However, SBBC certified in its FCC Form 381 for maximized facilities as authorized by its existing construction permit for DTV channel *44. SBBC explained in its FCC Form 381 that it did this because the channel substitution decision was challenged by a petition for reconsideration and, thus, not deemed “final.” In its FCC Form 381, SBBC also stated its intention to certify for maximized facilities at the new channel *40 allotment when the channel substitution became final. SBBC subsequently filed an application in 2006 to conform its new DTV channel *40 allotment to those facilities specified in the 2002 Boca Raton Allotment Order.

13. The proposed post-transition DTV Table now shows WPPB's new DTV channel *40. We hereby revise DTV Table Appendix B herein to reflect the facilities authorized by the 2002 Boca Raton Allotment Order. This change does not result in more than 0.1 percent new interference to any station. WPPB's requested certification change is to facilities expressly authorized to the station in 2002, and the station expressed its intent to certify to these facilities in its Form 381 filing.

2. Requests By Operating Stations That Do Not Meet Interference Criteria

14. We will permit stations that are already operating their final, post-transition DTV facilities to change their facility certifications (FCC Form 381), and thus our post-transition DTV Table Appendix B, to reflect those facilities, even though such operations will exceed the 0.1 percent interference standard. Eight stations requested changes to the proposed DTV Table Appendix B to reflect operating facilities where we have determined that the interference caused to the TCD of another licensee exceeds the 0.1 percent interference standard and there is no interference agreement with the affected station(s). In several cases, the Commission granted pending applications for these stations after certification. In other cases, as discussed further below, we have permitted stations to change their certification from replication to maximization, thereby potentially causing more interference to other stations than would have been permitted for the facilities to which the station originally certified.

15. While these stations are requesting changes to the parameters proposed in the Seventh Further Notice in situations where the level of interference exceeds the relevant standard, we find that they have met their burden of demonstrating that their special circumstances justify a waiver. We therefore grant the requested changes. In each case, the changes are being requested for stations that are already operating their final, post-transition DTV facilities. We believe it is unnecessary and unfair to require these already-operational facilities to reduce service. Indeed, as these stations are already providing service at the requested parameters, it is in the public interest to allow them to continue to do so. In addition, none of the stations receiving the interference filed an opposition to the station requesting the change.

16. Following is a brief discussion of the stations requesting changes to reflect their operating facilities and the relevant circumstances that support our grant of their requests:

17. KTBN, Santa Ana, CA. Trinity Christian Center of Santa Ana, Inc. (“Trinity”), licensee of station KTBN-TV, channel 40, and KTBN-DT, channel 23, Santa Ana, CA, received channel 23 for its TCD in the proposed DTV Table. Trinity requests that the parameters for KTBN in the proposed DTV Table Appendix B be changed to reflect those of the facility currently licensed in BLCDT-20050729AFT. The Commission's interference analysis shows that KTBN's licensed facility causes 0.75 percent interference to KBEH, Oxnard, California (analog channel 63, digital channel 24 for both pre- and post-transition).

18. WICS, Springfield, IL. WICS Licensee, LLC (“WICS Licensee”), licensee of station WICS, channel 20, and WICS-DT, channel 42, Springfield, IL, received channel 42 for its TCD in the proposed DTV Table. Sinclair Broadcast Group, Inc. (“Sinclair”), the parent company of WICS Licensee, requests that the parameters for WICS in the DTV Table Appendix B be changed to reflect those of the licensed facility BLCDT-20050627AAI. The Commission's interference analysis shows that the WICS licensed facility causes 0.43 percent interference to WICD, Champaign, Illinois (analog 15, post-transition digital channel 41).

19. WUTV, Buffalo, NY. WUTV Licensee, LLC (“WUTV Licensee”), licensee of station WUTV, channel 29, and permittee of WUTV-DT, channel 14, Buffalo, NY, received channel 14 for its TCD in the proposed DTV Table. Sinclair Broadcast Group Inc., parent company of WUTV Licensee, requests that the parameters for WUTV in the DTV Table Appendix B be changed to reflect those of the licensed facility BLCDT-20060829BGK. The Commission's interference analysis shows that the WUTV licensed facility causes 8.45 percent interference to the TCD on channel 14 of a new analog singleton in Bath, New York (call sign 870331LW). We note that, in its license application, WUTV indicated it would employ antenna beam tilting to protect the Bath station from interference and that the WUTV license specifies beam tilting.

20. WKDH, Houston, MS. Southern Broadcasting Inc. (“Southern”), licensee of singleton station WKDH, channel 45, Houston, MS, received channel 45 for its TCD in the proposed DTV Table. Southern requests that the parameters for WKDH in the DTV Table Appendix B be changed to reflect the parameters specified in its construction permit BPCDT-20060519ABE. WKDH is now operating pursuant to program test authority. The Commission's interference analysis shows that WKDH causes 0.34 percent interference to WPXH, Gadsden, Alabama (analog channel 44, digital channel 45 for both pre- and post-transition).

21. WTEN, Albany, NY. Young Broadcasting, Inc. (“Young”), licensee of station WTEN, channel 10, and WTEN-DT, channel 26, Albany, NY, received channel 26 for its TCD in the proposed DTV Table. Young requests that the parameters for WTEN in the DTV Table Appendix B be changed to reflect the parameters of the station's license BLCDT-20060104ACC. The Commission's interference analysis shows that the WTEN licensed facility causes 3.24 percent interference to WHPX, New London, Connecticut (analog channel 26, post-transition digital channel 26) and 1.39 percent interference to WFXV, Utica, New York, (analog channel 33, digital channel 27 for both pre- and post-transition).

22. WLMB, Toledo, OH. Dominion Broadcasting, Inc., (“Dominion”), licensee of station WLMB, channel 40, and WLMB-DT, channel 5, Toledo, OH, received channel 5 for its TCD in the proposed DTV Table. Dominion requests that the parameters for WLMB in the DTV Table Appendix B be changed to reflect those of the licensed facility BLCDT-20050201AAF. Dominion failed to timely file a certification on FCC Form 381 for WLMB specifying whether it would construct replication or maximization facilities, and consequently WLMB was assigned replication facilities in the proposed DTV Table Appendix B. The Commission noted that forty-one stations, including WLMB, did not timely file a certification form, and stated that it would permit these licensees to file comments proposing a change to their certification to specify maximized facilities for which they would have been allowed to certify. Dominion requests that its certification for WLMB be modified to specify the maximized facilities that Dominion has now constructed and that the Commission has licensed. The Commission's interference analysis shows that the WLMB licensed facility causes 2.04 percent interference to WGVK, Kalamazoo, Michigan (analog channel 52, digital channel 5 for both pre- and post-transition).

23. KOCE, Huntington Beach, CA. KOCE-TV Foundation (“KOCE Foundation”), licensee of noncommercial educational station KOCE, channel *50-, and KOCE-DT, channel *48, Huntington Beach, CA, received channel *48 for its TCD in the proposed DTV Table. KOCE Foundation requests that the parameters for KOCE in the proposed DTV Table Appendix B be changed to reflect those of the licensed facility BLEDT-20041117ADG. KOCE Foundation failed to timely file a certification on FCC Form 381 for KOCE specifying whether it would construct replication or maximization facilities, and consequently KOCE was assigned replication facilities in the proposed DTV Table Appendix B. This situation is similar to WLMB, paragraph 54, supra. The Commission noted that KOCE also did not timely file a certification form and stated that it would permit this licensee to file comments proposing a change to its certification to specify maximized facilities for which it would have been allowed to certify. KOCE Foundation requests that its certification for KOCE be modified to specify KOCE-DT's licensed, maximized facilities. The Commission's interference analysis shows that the KOCE licensed facility causes 0.24 percent new interference to KAZA, Avalon, CA (analog channel 54, digital channel 47 for both pre- and post-transition).

24. WLLA, Kalamazoo, MI. Christian Faith Broadcast, Inc. (“Christian Faith”), licensee of station WLLA, channel 64, and WLLA-DT, channel 45, Kalamazoo, MI, received channel 45 for its TCD in the proposed DTV Table. Christian Faith failed to timely file a certification on FCC Form 381 for this station. Stations that did not file certifications were assigned replication facilities for purposes of the Commission's channel election process and interference evaluation. On October 31, 2005, Christian Faith filed a request for acceptance of a late-filed certification on behalf of WLLA specifying maximization facilities authorized for that station. The proposed DTV Table Appendix B did not reflect this requested certification change. Christian Faith subsequently filed comments in response to the Seventh Further Notice requesting a change in the proposed DTV Table to reflect its construction permit for maximized facilities for this station. On May 29, 2007, Christian Faith filed a license application for WLLA for these maximized facilities. The authorized and operating maximized facilities of WLLA cause 2.11 percent new interference to WZPX, Battle Creek, Michigan (analog channel 43, digital channel 44 for both pre- and post-transition) and 0.79 percent new interference to WDIV, Detroit, Michigan (analog channel 4, digital channel 45 for both pre- and post-transition).

25. For the reasons discussed supra, we hereby grant the changes requested for these eight stations and these changes are reflected in the DTV Table Appendix B adopted herein.

3. Requests By Non-Operational Stations That Do Not Meet Interference Criteria

26. Comments were filed on behalf of two stations requesting changes to the proposed DTV Table Appendix B to reflect authorized facilities where we have determined that the interference caused to another licensee's existing TCD exceeds the 0.1 percent interference standard, there is no interference agreement with the affected station(s), and the station requesting the change is not operational. One of these stations, WTCV, San Juan, PR, has not met its burden to demonstrate that special circumstances justify a waiver, and we therefore deny its request to change DTV Table Appendix B. Unlike the stations discussed above, this station has not completed construction and begun DTV service to the public. We do not believe it is appropriate to change the facilities specified in DTV Table Appendix B where the station requesting the change does not meet the applicable interference standard and is not yet providing service to the public. We note that this station could apply in the future for a modification to specify maximized facilities. Any such application would be subject to interference criteria and other standards adopted in the Third DTV Periodic Review Report and Order. As discussed further below, for one station, WMFD, Mansfield, Ohio, we will grant the request to change DTV Table Appendix B because this station has obtained international coordination for its authorized facility.

27. WTCV, San Juan, PR. International Broadcasting Corporation (“IBC”), licensee of station WTCV, channel 18, and WTCV-DT, channel 32, San Juan, PR, received channel 32 for its TCD in the proposed DTV Table. IBC states in its comments that it originally intended to operate its post-transition DTV transmitter from its current analog tower but was forced to change sites because of difficulties in obtaining tower space at its original site for its digital facilities. According to IBC, after lengthy negotiations with the tower site owner, Puerto Rico Telephone Company, “it became clear that the tower structural requirements imposed at the time made the project economically unfeasible.” IBC therefore certified to an authorized construction permit for a different site with substantially reduced facilities. In its comments IBC states that it has recently solved the difficulties of obtaining tower space to operate from its currently authorized analog site and has filed an application for a construction permit to operate from this site. This application was pending at the time IBC filed its comments in response to the Seventh Further Notice but has now been granted. IBC requests a change in the proposed DTV Table Appendix B to specify the parameters of the construction permit application that was pending at the time IBC's comments were filed and that has now been granted. IBC states that the proposed change in site and technical facilities will enable WTCV to serve an additional 318,230 viewers. However, the WTCV facilities requested by IBC would cause 1.49 percent new interference to WSJU-TV, San Juan, Puerto Rico (analog channel 30, post-transition digital channel 31) and WTCV is not currently operational. As the facilities requested by IBC would cause new interference in excess of the 0.1 percent interference standard and the station is not yet providing service to the public, we will deny IBC's request to change DTV Table Appendix B.

28. WMFD, Mansfield, OH. Mid-State Television, Inc., (“Mid-State”), licensee of station WMFD-TV, channel 68 and WMFD-DT, channel 12, Mansfield, OH, received channel 12 for its TCD in the proposed DTV Table. Mid-State certified to a then-pending maximization application that had not yet been authorized due to international coordination issues. Mid-State states that, when it filed its pre-election certification, it indicated that it intended to operate with the facilities specified in the then-pending modification application, but that the application remained subject to international coordination. After certification, the application was amended to resolve the international coordination issues and subsequently was granted in July 2005. The proposed DTV Table Appendix B specifies the facilities to which Mid-State certified. Mid-State requests that DTV Table Appendix B be changed to reflect the facilities specified in its July 2005 construction permit. The facilities requested by Mid-State would cause 1.13 percent interference to WINM, Angola, Indiana (analog channel 63, post-transition digital channel 12) and 0.44 percent interference to WBOY, Clarksburg, West Virginia (analog channel 12, post-transition digital channel 12). Neither of the affected stations filed comments opposing WMFD's proposed change to Appendix B.

29. We will grant Mid-State's request and change DTV Table Appendix B accordingly. This change is reflected in the DTV Table Appendix B attached hereto. The change requested by Mid-State is the result of a negotiated solution with Canada to resolve international coordination issues that prohibit operation of the facility proposed in the application pending at the time of certification and to which Mid-State certified on FCC Form 381. The Commission has recognized that stations facing international coordination issues face unique challenges in completing the digital transition. As the result of a modification to a Canadian DTV allotment, WMFD states that it is precluded from constructing the facilities listed in the proposed DTV Table Appendix B. If we were to deny the change requested by Mid-State, WMFD would be required to identify a new facility and re-commence the process of obtaining international coordination for that facility. Because of the unique circumstances faced by WMFD, a station that is already providing digital service to the public and seeks to improve that service, we believe that grant of the requested change to DTV Table Appendix B is warranted and will serve the public interest.

Requests for Modified Coverage Area

30. We will grant requests filed on behalf of 30 stations whose post-transition DTV channel is different from their pre-transition DTV channel to change the coverage area in the proposed DTV Table Appendix B. In general, these commenters argue that the facilities specified in the proposed DTV Table Appendix B do not permit the station to provide service to the area served by the station's analog facility.

31. In the creation of the initial Table of Allotments, DTV channels were chosen to allow service on the channel to best match the Grade B service contour of the analog station with which it was paired. Implementation of this replication goal requires a combination of transmitter site, ERP, directional antenna characteristics, and antenna height that is adequate to cover at least the same area as was served by the analog station. In the Sixth Report and Order in this docket (62 FR 26684, May 14, 1997) (“Sixth Report and Order”), however, the Commission determined that the maximum permissible power for all allotments in the initial DTV Table would be 1000 kW. For some stations whose analog channel was in the VHF band and whose initial DTV channel was in the UHF band, an ERP of 1000 kW was not sufficient to permit replication of the station's analog service.

32. On FCC Form 381, the Commission permitted stations the choice of certifying to operate their post-transition DTV station based on: (1) A current station authorization; (2) a pending application for maximization that had not been authorized due to a pending international coordination issue; or (3) replication facilities. Stations certifying to replication facilities that had not changed their DTV channel since the 1998 DTV Second MO&O (64 FR 4322, January 28, 1999) (“Second MO&O”) had their replication facilities based on the facilities established in Appendix B of the Second MO&O.

33. Several commenters argue that, because of the 1000 kW maximum imposed in the Sixth Report and Order, the Commission's decision to base replication during the channel election process on the station's initial DTV facilities established in the Second MO&O rather than the station's analog facilities resulted in the Commission proposing parameters in the DTV Table Appendix B that do not permit the station to replicate the analog service area. In other cases, stations filed comments requesting a change to the parameters in the proposed DTV Table Appendix B to modify the station's coverage area to permit replication of the station's analog coverage area where the station was not subject to the 1000 kW maximum imposed in the Sixth Report and Order. These stations, returning to their analog channel for post-transition operations, commented that the proposed DTV Table Appendix B facilities would not permit replication of the station's analog Grade B contour. For stations returning to their analog channel, this discrepancy between the proposed Appendix B parameters and the analog coverage area may have been due to translation discrepancies that occurred over a series of engineering calculations used to determine replication. In other cases, stations simply requested an increase in power or a change to the station's antenna pattern to permit the station to serve more of the area served by the station's analog facilities.

34. In response to the comments filed on behalf of these stations, we have recalculated Appendix B facilities based on replicating the analog coverage that was used to determine their initial DTV table facilities. If the recalculation would result in a reduction in the Appendix B facilities, we are adopting herein the larger Appendix B facilities that we had initially proposed in the Seventh Further Notice. If the recalculation would result in a larger coverage area and our analysis indicates that the recalculated facilities (1) Meet the 0.1 percent interference standard specified in the Second DTV Periodic Report and Order (69 FR 59500, October 4, 2004) (“Second DTV Periodic Report and Order”) or (2) would cause more than 0.1 percent new interference but the affected station(s) agree to accept the interference, we are granting the request to change DTV Appendix B to reflect the larger coverage area. These stations are listed in Appendix D3 and the revised parameters for these stations are reflected in the revised DTV Table Appendix B, infra. There were no comments filed opposing these requested changes.

35. We believe that permitting these changes to the proposed DTV Table is consistent with our overall goal in the DTV transition of encouraging replication of analog service. One of the Commission's objectives throughout the transition has been to permit broadcasters to reach with digital service the audiences they have been serving with analog service so that viewers will continue to have access to the stations that they are accustomed to receiving over the air. We believe that the revisions requested by the stations listed in Appendix D3 will serve the public interest by permitting those stations to provide digital service to more of their established analog viewers.

36. In addition, three stations requested changes to the proposed DTV Table Appendix B to increase the station's coverage area, but our recalculations of the Appendix B facilities and the subsequent interference analysis show that the requested change would result in interference that would exceed the 0.1 percent interference standard adopted in the Second DTV Periodic Report and Order and the affected station has not agreed to accept this interference. We deny the requests of these stations, as described in greater detail below. None of them are requesting changes to reflect DTV facilities they are operating or are authorized to operate. Consistent with our decisions above, we decline to change the facilities specified in DTV Table Appendix B where the station requesting the change does not meet the applicable interference standard and is not yet providing service to the public. We note, however, that each of these stations must file an application for authority to construct its post-transition facility, and at that time may be able, consistent with the procedures ultimately adopted in the Third Periodic Review proceeding, to specify facilities in that application that more closely approach the parameters requested in their comments. Following is a list of these stations and a description of their individual circumstances.

37. WEDU, Tampa, FL. Florida West Coast Public Broadcasting, Inc. (“FWCPB”), licensee of NCE station WEDU, channel *3, and WEDU-DT, channel *54, Tampa, FL, received channel *13 for its TCD in the proposed DTV Table. FWCPB requests that the proposed DTV Table Appendix B be revised to specify omnidirectional facilities for WEDU at an ERP of 40 kW. The Commission's interference analysis based on recalculated Appendix B facilities shows that WEDU would cause 1.16 percent new interference to WTLV, Jacksonville, Florida (analog channel 12, post-transition digital channel TCD channel 13).

38. WGTV, Athens, GA. Georgia Public Telecommunications Commission (“GPTC”), licensee of NCE station WGTV, channel *8, and permittee of WGTV-DT, channel *12, Athens, GA, received channel *8 for its TCD in the proposed DTV Table. GPTC requests that the proposed parameters in DTV Table Appendix B be changed to permit WGTV to increase power and operate with an omnidirectional antenna. The Commission's interference analysis based on recalculated Appendix B facilities shows that WGTV would cause 0.19 percent new interference to WCIQ, Mount Cheaha, Alabama (analog channel 7, post-transition digital channel 7).

39. KOED, Tulsa, OK. Oklahoma Educational Television Authority (“OETA”), licensee of NCE station KOED-TV, channel *11, and KOED-DT, channel *38, Tulsa, OK, received channel *11 for its TCD in the proposed DTV Table. OETA requests that DTV Table Appendix B be revised to reflect an increase in antenna height for KOED. The Commission's interference analysis based on recalculated Appendix B facilities shows that the KOED would cause 0.16 percent new interference to KTUL, Tulsa, Oklahoma (analog channel 8, post-transition digital channel 10).

Requests for Alternative Channel Assignments

40. We will grant certain stations' requests for an alternative channel assignment, consistent with our proposal in the Seventh Further Notice. In paragraph 25 of the Seventh Further Notice, the Commission stated that it would consider requests for alternative channel assignments only from the following: (1) Licensees unable to construct full, authorized DTV facilities on the TCDs that they requested and received because, in order to avoid causing impermissible interference to other TCDs and still obtain their preferred channel, they had to agree to construct facilities on their TCD that are smaller than those to which they had certified on FCC Form 381; (2) licensees with international coordination issues which the Commission has been unable to resolve with the Canadian and Mexican governments; (3) licensees with TCDs for low-VHF channels (channels 2-6); and (4) new licensees and permittees that attained such status after the start of the channel election process and to which we assigned a TCD for post-transition DTV operations because their assigned NTSC or DTV channel was determined to cause impermissible interference to existing licensees. The Commission stated that licensees that want to change their DTV allotment, but which are not in any of these categories (e.g., are technically able to construct their full, authorized DTV facilities on their existing TCD) may request a change in allotment only after the DTV Table is finalized and must do so through the existing allotment procedures.

41. The Commission stated that any request for an alternative channel assignment must either meet the 0.1 percent additional interference standard or be accompanied by a request for a waiver of the 0.1 percent limit or the signed written consent of the affected licensee. The Commission stated that it would grant waivers of the 0.1 percent limit where doing so would promote overall spectrum efficiency and ensure the best possible service to the public, including service to local communities.

42. We received comments filed on behalf of 22 stations requesting a change in the channel assigned to the station for post-transition operation in the proposed DTV Table. For 13 of these stations, we will grant the requested channel change. A list of the stations for which we are granting an alternative channel appears in Appendix D5, infra, and we have revised the DTV Table for these stations accordingly. For each of these stations, we believe that the circumstances described by the station are consistent with one or more of the criteria for consideration of alternative channel assignments outlined in the Seventh Further Notice. Furthermore, none require waiver of the 0.1 percent interference standard, because they either do not exceed that limit or have acquired the agreement of the affected station(s).

43. For two stations, we deny the request for an alternative channel assignment. According to the Commission's interference analysis, the new channels requested by these stations cause interference to another station in excess of the 0.1 percent standard and there is no agreement with the affected station accepting this interference. As discussed below, we decline to waive our interference limit for these stations. Following is a brief discussion of these two stations and the relevant circumstances.

44. KCWX, Fredericksburg, TX. Corridor Television LLP, Inc., (“Corridor”), licensee of singleton station KCWX, channel 2, Fredericksburg, TX, received channel 5 for its TCD in the proposed DTV Table. Corridor requests the substitution of channel 8 for its TCD of channel 5. Corridor recognizes that the allotment of channel 8 to KCWX would require a waiver of the 0.1 percent interference standard, but argues that grant of a waiver would contribute to clearing the lower VHF band so that it can be used for other purposes. In addition, Corridor states that it serves viewers in a rural area that rely more heavily on overthe-air signals and that channel 8 would result in fewer signal reception difficulties for these viewers than channel 5. Corridor also argues that operation on channel 8 would reduce its operating costs.

45. Corridor argues that, with respect to new channel allotments after the transition, the Commission proposed to utilize an interference protection requirement based on engineering criteria (e.g., permissible interference), rather than geographic spacing, and to use an interference standard of 0.5 percent. Corridor argues that this proposed standard should be given significant weight in considering requests to waive the 0.1 percent standard in connection with the TCD selection process. The Commission's interference analysis shows that the requested change would cause 0.79 percent interference to KTBC, Austin, Texas (analog channel 7, post-transition digital channel 7) and 0.47 percent interference to NCE station KLRN, San Antonio, Texas (analog channel 9, post-transition digital channel 9). KTBC License, Inc., licensee of KTBC, filed an opposition to Corridor's request to waive the 0.1 percent interference limit. In addition, Alamo Public Telecommunications Council, licensee of KLRN, filed an opposition to Corridor's request, also arguing that Corridor should not receive a waiver of the 0.1 percent interference standard.

46. We note that the 0.5 percent standard is only a proposal and a different standard could be adopted. Moreover, the new interference caused to KTBC, 0.79 percent, not only significantly exceeds the current 0.1 percent interference standard applied to channel substitution requests, it also exceeds even the proposed 0.5 percent standard. In view of the significant level of impermissible interference caused by the proposed KCWX channel substitution, we decline to waive our interference limit in this situation. We do not believe that a waiver in these circumstances would promote overall spectrum efficiency or ensure the best possible television service to the public or the local community.

47. WMYT, Rock Hill, SC. WMYT-TV, Inc., (“WMYT”), licensee of station WMYT-TV, channel 55, and permittee of WMYT-DT, channel 39, Rock Hill, SC, received channel 39 for its TCD in the proposed DTV Table. WMYT requests the substitution of Channel 46 for its TCD of Channel 39. WMYT argues that Channel 46 is fully spaced to other stations, while Channel 39 is short-spaced to two stations. WMYT also argues that the station would cause less interference on Channel 46 at its preferred ERP than it does at the lower assigned ERP on Channel 39. In addition, WMYT states that operation on Channel 46 would permit it to serve up to 500,000 additional viewers. The Commission's interference analysis shows that the requested change would cause 0.64 percent new interference to WYCW, Asheville, NC (analog 62, post-transition digital channel 45).

48. In view of the level of interference caused to WYCW, we do not believe it is appropriate to waive our interference standard in this situation. The level of interference caused is far in excess of the applicable 0.1 percent standard. In addition, the new interference caused to WYCW of 0.64 percent exceeds even the 0.5 percent new interference standard we proposed apply to new channel allotments after the transition. As we concluded with respect to the proposed channel substitution of KCWX, supra, in view of the significant level of impermissible interference that would be caused by the WMYT request we do not believe that a waiver of our interference standard would promote our overall spectrum efficiency or ensure the best service to the public.

Additional Requests to Change Appendix B Facilities

Antenna Information

49. We deny the requests of certain stations seeking to add antenna identification numbers to the proposed post-transition DTV Table Appendix B. Several stations requested that we change the proposed DTV Table Appendix B to include such antenna identification numbers. In developing the proposed post-transition DTV Table Appendix B, we did not include any antenna identification number for stations operating with an omnidirectional antenna. An omnidirectional antenna provides the same power level in every azimuthal direction and antenna identification numbers are only used for directional antennas in order to determine the different power levels in each direction. Accordingly, where stations request the addition of an antenna identification number to Appendix B, we will not make that change if our database indicates that the station is authorized for an omnidirectional antenna.

50. In addition, Scripps Howard Broadcasting requests that we change Appendix B for KNXV, Phoenix, Arizona and WCPO, Cincinnati, Ohio to reflect an antenna pattern value of “1” for 110 degrees. Trinity Broadcasting of Indiana, Inc. makes a similar request for WCLJ, Bloomington, Indiana. The channel allotments for KNXV and WCLJ are based on the use of omnidirectional antennas, so we will delete the antenna identification number in Appendix B for these stations. For WCPO, the correct 110 degree value of 1 was used when we generated Appendix B and we will correct the antenna pattern in the FCC's CDBS database. Finally, Griffin Tulsa II Licensing, LLC requests that we change Appendix B for KQCW, Muskogee, OK to reflect a relative field value of “0.958” instead of “0.096” in the reference pattern at 280 degrees. We have made this change and it is reflected on Appendix B, infra.

Speculative Requests To Change Appendix B Facilities

51. We reject the premature or incomplete requests of certain stations seeking changes to their facilities as proposed in the post-transition DTV Table Appendix B when these changes pertain to speculative future events or could best be accomplished through the upcoming application process. These requests are not for modifications of the coverage area as defined by the proposed DTV Table Appendix B to match authorized or licensed coverage. Instead, these stations comment that they may be unable to serve the coverage area, which is described in the proposed DTV Table Appendix B, on their post-transition channel due to differences in station parameters on the new channel or different equipment the station would like to use. These are changes that should be requested in an application to construct or modify post-transition facilities on the new channel filed consistent with the procedures and standards for such applications adopted in the Third DTV Periodic Review proceeding, including compliance with the filing freeze and interference standard.

52. Commenters notified the Commission of possible future changes to the parameters for 13 stations. See Comments of Pappas Entities, filed Jan. 25, 2007, at 4-5 (relating to station KSWT-DT, Yuma, AZ) and at 6 (relating to station KDBC-DT, El Paso, TX); Comments of Mission Broadcasting Inc. (“Mission”), filed Jan. 25, 2007, at 6-7 (relating to station KJTL-DT, Wichita Falls, TX) and at 10 (relating to WFXP-DT, Erie, PA); See Comments of Twin Cities, at 3 (relating to NCE station KTCI-DT, St. Paul, MN); Comments of The Arizona Board of Regents (“Arizona Board”), filed Jan. 25, 2007, at 1 (relating to NCE station KAET-DT, Phoenix, AZ); Comments of Barrington Peoria License LLC (“Barrington Peoria”), filed Jan. 25, 2007, at 1 (relating to NCE station WHOI-DT, Peoria, IL); Comments of the Board of Trustees of Northern Michigan University (“Northern Michigan”), filed Jan. 10, 2007, at 2 (relating to NCE station WNMU-DT, Marquette, MI); Comments of Puerto Rico Public Broadcasting Corporation, filed Jan. 25, 2007 (relating to station WIPR-DT, San Juan, PR); Comments of PTCB at 1 (relating to station KPCB-DT, Snyder, TX, whose proposed post-transition DTV Appendix B facilities accurately reflect the coverage of the KPCB certified construction permit); Comments of CBS Corporation (“CBS”), filed Jan. 25, 2007, at 4 (relating to station KCBS-DT, Los Angeles, CA); and Comments of Tribune Broadcasting Company (“Tribune”), filed Jan. 29, 2007, at 5 (relating to stations WGNO-DT and WNOL-DT, New Orleans, LA). In general, these commenters anticipate filing requests for changes to station parameters in the future, but do not yet have all of the information necessary to request changes at this time. See, e.g., Comments of Pappas Entities at 4-5 (stating intent to duplicate its analog facilities for KSWT-DT) and at 6 (speculating possible need for new site for KDBC-DT); Comments of Mission at 6-7 and at 10 (stating future intent to modify KJTL-DT and WFXP-DT); and Comments of Tribune at 3 (stating intent to apply for different facilities not yet determined for WGNO-DT and WNOL-DT, both of which were destroyed by Hurricane Katrina). On July 23, 2007, Tribune filed an ex parte specifying the new parameters for these stations. See Tribune ex parte (dated July 23, 2007). In addition, in cases where a station certified to replication facilities or will not use its current DTV channel for post-transition operations, some stations comment that they may not be able to construct the precise facilities specified in the proposed DTV Table Appendix B. For example, Pappas Entities, which certified to replication facilities for KSWT-DT, argues in its comments that it is virtually impossible for a VHF directional antenna to duplicate exactly the directional pattern originally designed for a UHF antenna. This issue was addressed in the Third DTV Periodic Review NPRM (72 FR 37310, July 9, 2007) (“Third DTV Periodic Review NPRM”) at ¶¶ 92-93 (proposing post-transition application rules and procedures). In general, these stations note that, while the station seeks to serve the same coverage area on the post-transition channel as defined by the facilities specified in Appendix B, the station will operate with different equipment and/or other parameters on the channel than those specified in Appendix B. See, e.g., Comments of Twin Cities at 3 (stating intent to use another station's existing antenna for KTCI-DT); Comments of Arizona Board at 1 (stating intent to use its analog channel's existing antenna for KAET-DT); Comments of Barrington Peoria at 1 (stating intent to use its analog channel's existing top-mounted antenna site for WHOI-DT); Comments of Northern Michigan at 2 (stating intent to use its analog channel's existing antenna site for WNMU-DT); Comments of PTCB at 1 (stating intent to use its analog channel's parameters for KPCB-DT); and Comments of CBS at 4 (stating intent to use another station's parameters for KCBS-DT). We find that these speculative or incomplete requests are not yet ripe for Commission action. If and when these stations need to request changes to station parameters and have full information regarding the nature of the changes, the station should file a request following the procedures appropriate for the change requested.

53. In response to these premature or speculative requests to modify facilities, we refer commenters to our discussion in the Third DTV Periodic Review NPRM concerning the rules and procedures for filing applications for construction permits to build stations' post-transition (DTV) facilities and to request authorization to maximize facilities. We remind stations that they must file construction permit or modification applications (i.e., FCC Form 301 or 340) if they need to request authority to construct or modify their post-transition facilities. Moreover, in the Third DTV Periodic Review NPRM, the Commission proposed that stations must limit their applications to those facilities specified in the new DTV Table Appendix B and that applications requesting facilities that would serve a larger area than stations' new DTV Table Appendix B facilities would not be accepted. Stations that wish to apply for reduced facilities may do so, but must comply with the reduction standard ultimately adopted in the Third DTV Periodic Report and Order.

54. The appropriate rules, procedures and timing for filing these applications will depend on whether the station will be using its current DTV channel or another channel for post-transition operations. Stations KSWT-DT, KDBC-DT, KJTL-DT and WFXP-DT will use their current DTV channel for post-transition operations. These stations, and others that seek to modify their facility on their current DTV channel, may file an application at any time, provided they comply with the relevant interference standard and do not violate the filing freeze. In response to Pappas Entities' request for clarification on this issue, we note that the filing freeze does not preclude the filing of an application to modify a construction permit to specify facilities listed for the station in the post-transition DTV Table Appendix B. Accordingly, Pappas can file for modification based on current rules and procedures and does not need a waiver of the freeze. However, to the extent that Pappas seeks a change in its post-transition DTV facilities that would result in an expanded or shifted coverage area, such a change would violate the filing freeze and Pappas must wait until the freeze is lifted to make such a request.

55. Stations KTCI-DT, KAET-DT, WHOI-DT, WNMU-DT, KPCB-DT, WIPR-DT, and KCBS-DT will use a different channel from their current DTV channel for post-transition operations. These stations, and others that seek to use their analog channel or a new channel for post-transition operations, may not file an application to construct their post-transition facilities until the final post-transition rules and procedures are established by the Report and Order in the Third DTV Periodic Review proceeding. We recognize that these stations may need to request different parameters from those specified in the post-transition DTV Table Appendix B, even though these stations are not seeking to change the coverage area of their post-transition channel. These stations should address this situation in their applications for their post-transition channels. If a station that is moving to a different channel for post-transition use determines that the parameters necessary to serve the coverage area specified in the post-transition DTV Table Appendix B differ from those specified in the post-transition DTV Table Appendix B, it should apply for those changes in its application. The Commission will evaluate those applications using the interference standard and other processing standards adopted in the Third DTV Periodic Report and Order.

56. We note that some commenters have asked for changes to the proposed post-transition DTV Table Appendix B facilities to conform to specific parts of their licensed or authorized facilities. Although we are allowing stations to change their certifications and post-transition DTV Table Appendix B facilities to reflect an existing license or authorization, stations must conform to all portions of that license or authorization and may not choose various parts of that license or authorization.

57. WGNO and WNOL, New Orleans, LA. Tribune Television New Orleans, Inc. (“Tribune”), licensee of station WGNO, channel 26, and permittee of WGNO-DT, channel 15, New Orleans, LA, received channel 26 for its TCD in the proposed DTV Table. Tribune is also the licensee of station WNOL, channel 38, and permittee of WNOL-DT, channel 40, New Orleans, LA, which received channel 15 for its TCD in the proposed DTV Table. Tribune states that the analog and digital transmission facilities of both of these stations were destroyed by Hurricane Katrina. Tribune states that it has worked to resume and then improve reduced-power analog operations for both stations but that it has not yet been able to restore DTV operations. Tribune is evaluating alternative sites for the DTV operations of these stations and recently reported that it has finalized negotiations to relocate the digital operations of the stations to another tower. Tribune recently filed an ex parte to request that the proposed DTV allotments for WGNO and WNOL be changed to reflect the technical parameters for the facilities it will construct at the new site. The Commission is committed to continuing to work with stations affected by Hurricane Katrina to help those stations commence or re-commence operations. Because this request applies to post-transition operations, we will offer the proposal for further comment.

Proposals Subject to the Filing Freeze

58. We deny the requests of stations seeking a waiver of the filing freeze, except for one station which has demonstrated unique circumstances. Seven stations filed comments requesting a change in and/or expansion of the facilities specified in the proposed post-transition DTV Table Appendix B that is inconsistent with the August 2004 filing freeze. This freeze on the filing of certain applications was imposed to provide for a stable database while the Commission developed the post-transition DTV Table. The freeze precludes any expansion of a station's post-transition noise limited service contour beyond that of the station's certified Grade B contour. The freeze remains in effect while the DTV Table is being finalized to assist the Commission in providing stations with authorizations for post-transition facilities. The stations whose comments are discussed below are not requesting changes to DTV Table Appendix B to reflect authorized facilities to which they could have certified on FCC Form 381, consistent with the 0.1 percent interference standard, or to match constructed and operating facilities. In contrast, the stations discussed below are requesting changes that violate the filing freeze and do not meet the criteria for a change to certified facilities discussed in the Seventh Further Notice.

59. For one station, WLAE, New Orleans, LA, we hereby waive the filing freeze and make the changes requested to the DTV Table Appendix B adopted herein. For the reasons discussed below, we believe that a waiver of the freeze for this station is warranted. For the other stations discussed below, we decline to waive the filing freeze and decline to make the requested changes to Appendix B. In order to preserve the integrity of the licensing process and avoid giving certain stations an unfair advantage over others in seeking expanded facilities, we have granted waivers of the filing freeze only in very limited circumstances. In general, before we can consider stations' requests to modify and, in particular, expand their DTV facilities, we must first ensure that all stations can at least provide digital service to their analog viewers by the transition date. Except for the unique circumstances present in the case of WLAE, we find that these stations have failed to demonstrate that a waiver of the freeze would advance their transition to DTV or that the station's circumstances warrant a waiver of the freeze for any other reason. A description of these stations' individual circumstances is provided below.

60. WLAE, New Orleans, LA. Educational Broadcasting Foundation, Inc. (“EBFI”), licensee of NCE station WLAE, channel 32 and permittee of WLAE-DT, channel 31, New Orleans, LA, received channel 31 for its TCD in the proposed DTV Table. EBFI did not file a Form 381 for WLAE and, accordingly, the station received replication facilities in the proposed post-transition DTV Table Appendix B. At the time that certifications were due, WLAE-DT had a construction permit for maximized facilities. In August 2005, WLAE's facilities were destroyed by Hurricane Katrina. EBFI now asks to change the station's certification to its previously authorized maximized facilities.

61. We will waive the freeze to allow WLAE-DT to apply for the maximized facilities specified in its initial construction permit. WLAE was one of the 41 stations expressly invited to request maximized facilities for which they would have been allowed to certify. As noted above, the WLAE-DT maximized facilities were authorized at the time that certifications were filed. Our actions herein will aid in the restoration of public television service to the city of New Orleans.

62. WBPG, Gulf Shores, AL. LIN of Alabama, L.L.C. (“LIN”), singleton licensee of analog station WBPG, channel 55, Gulf Shores, AL, received channel 25 for its TCD in the proposed DTV Table. The previous licensee of WBPG certified on FCC Form 381 that the station did not have a digital allotment and would operate post-transition based on its currently authorized analog facilities. In comments filed to this proceeding, LIN seeks to maximize its Appendix B facilities for WBPG by increasing its ERP, changing its antenna pattern, and changing transmitter location. The changes requested would violate the filing freeze. LIN does not have an existing authorization for these facilities and does not meet the criteria for a change to certified facilities discussed in the Seventh Further Notice.

63. WUOA, Tuscaloosa, AL. The Board of Trustees of the University of Alabama (“University of Alabama”), singleton licensee of analog station WUOA, channel 23, Tuscaloosa, AL, received channel 23 for its TCD in the proposed DTV Table. The previous licensee of WUOA, Channel 23, LLC, certified in its FCC Form 381 that it did not have a DTV channel allotment and intended to operate its post-transition station based on its currently authorized analog license. In comments filed to this proceeding, the University of Alabama seeks to maximize the Appendix B facilities for WUOA by increasing the permitted ERP, changing the antenna pattern, and changing transmitter location. The facilities requested would violate the filing freeze. The University of Alabama does not have an existing authorization for such facilities and the request does not meet the criteria for a change to certified facilities discussed in the Seventh Further Notice.

64. KQSD, Lowry, SD. South Dakota Board of Directors for Educational Telecommunications (“SDBD”), licensee of NCE station KQSD-TV, channel *11 and KQSD-DT, channel *15, Lowry, SD, received its analog channel *11 for its TCD in the proposed DTV Table. In its FCC Form 381, SDBD certified to replication facilities and was given the allotted replication facilities in the proposed Appendix B. In its comments, SDBD requests a change in Appendix B for KQSD-DT to increase the HAAT and change the geographic coordinates. These changes violate the filing freeze. KQSD does not have a current authorization for these facilities and the request does not meet the criteria for a change to certified facilities discussed in the Seventh Further Notice.

65. KNVA, Austin, TX. 54 Broadcasting, Inc. (“54 Broadcasting”), licensee of station KNVA, channel 54, and KNVA-DT, channel 49, Austin, TX, received channel 49 for its TCD in the proposed DTV Table. In its FCC Form 381, 54 Broadcasting certified that KNVA would operate post-transition at maximized facilities as authorized by an existing construction permit. 54 Broadcasting's comments request that its allotment be changed to allow operation post-transition at a lower ERP but using an omnidirectional instead of a directional antenna to provide more viewers with DTV service. These requested changes would violate the freeze. KNVA does not have a current authorization for these facilities and the request does not meet the criteria for a change to certified facilities discussed in the Seventh Further Notice.

66. KPXC, Denver, CO. Paxson Denver License, Inc. (“Paxson”), licensee of station KPXC-TV, channel 59, and permittee of KPXC-DT, channel 43, Denver, CO, received channel 43 for its TCD in the proposed DTV Table. In its FCC Form 381, Paxson certified to replication facilities, which are reflected in the proposed Appendix B parameters for KPXC-DT. In its comments, Paxson seeks a change in KPXC's certified facilities to conform to those it recently requested in a January 2007 construction permit application, including a site change. Paxson states that the would-be tower owner at the original KPXC-DT site received initial local zoning board approval from the Board of Commissioners of Jefferson County in 2003, which was affirmed by the Jefferson County District Court. In 2006, however, the decision was overturned by the Colorado Appeals Court which remanded the case to the Board of Commissioners. The Board of Commissioners subsequently sought certiorari from the Colorado Supreme Court, which has yet to make a decision. Paxson states it “has no expectation that it could construct the station on Mt. Morrison before the statutory termination of analog service” and it would thus be “more reasonable for the allotment to correspond to the parameters proposed in the new CP application.”

67. Paxson's request would result in a significant shift in the area served by KPXC, such that the station's digital signal would not reach a large area that is currently served by this station, and would violate the filing freeze. We are concerned, however, about the zoning issue faced by this station and by Paxson's stated expectation that it will not be able to construct its full DTV facility before the transition deadline on February 17, 2009. While we do not believe that shifting Paxson's coverage as proposed is the proper resolution, and therefore deny Paxson's request for a waiver of the freeze, we hereby invite Paxson to propose another site that would result in a less dramatic change to its current service area and population. We will consider such a request in the application process following adoption of the Report and Order in the Third DTV Periodic Review proceeding. We also urge Paxson to keep us informed concerning progress and events in the zoning case in Colorado.

68. WMHT, Schenectady, NY. WMHT Educational Telecommunications (“WMHT”), licensee of NCE station WMHT-TV, channel *17, and permittee of WMHT-DT, channel *34, Schenectady, NY, received channel *34 for its TCD in the proposed DTV Table. In its comments, WMHT supports the proposed allotment of channel *34 but requests a change of its community of license from Schenectady to Albany. WMHT argues that it should be allowed to change its community of license because its market is defined as a hyphenated market, Schenectady-Albany, in the NTSC Table of Allotments. In addition, WMHT argues that the station's “Troy studio and Altamont tower locations permit it to serve the entire New York Capital District and beyond.” No other comments were filed related to this TCD.

69. We decline to make the allotment change requested by WMHT at this time. The Commission did not use hyphenated markets in the initial DTV Table and did not use hyphenated markets in the new DTV Table proposed in the Seventh Further Notice. While the market may have been hyphenated in the NTSC Table, WMHT's license lists the station's market as Schenectady and not as a hyphenated market. WMHT's request to change its community of license is precluded by the Commission's filing freeze. We further conclude that WMHT has not demonstrated that a waiver of the freeze is warranted. WMHT does not suggest that the change in community of license is necessary to advance its digital transition process. Instead, WMHT states only that the proposed change “entails no change in the current operation,” “will result in no diminution of service to Schenectady,” and is intended for “future state funding, grant funding, and membership recruitment” because an Albany community license provides “greater recognition to the licensee's operations.” We note that WMHT may seek a change in its community of license after the freeze is lifted, consistent with the Commission's rules for post-transition operations.

Stations Not Eligible To Participate in the Channel Election Process

70. We deny the requests of pending applicants for a new television station to add new allotments to the post-transition DTV Table. Comments were filed by such pending applicants arguing that the Commission failed to include such allotments in the proposed DTV Table. In each case, the commenter has an application for a construction permit for a new television station on the requested new allotment pending at the Commission. In the Second DTV Periodic Report and Order, the Commission made it clear that only Commission licensees and permittees would be eligible to participate in the channel election process. Applicants for new stations and petitioners for new allotments were expressly excluded from making elections. In the Seventh Further Notice, we noted that a number of pending applications for new television stations had been granted since the start of the channel election process, and we accommodated those permittees with TCDs in the proposed DTV Table. In addition, we announced a method by which we would assign TCDs to other new permittees whose pending applications for new television stations were granted before an Order finalizing the DTV Table is adopted. We also stated that, before the end of the transition, we would issue an NPRM to amend the DTV Table in order to allot a DTV channel for each remaining authorized facility that does not have an allotted DTV channel. Thus, if any other pending applications are granted before the end of the transition, we will attempt to accommodate these stations with a DTV channel for post transition operation.

Stations Awaiting International Coordination

71. In the Seventh Further Notice, the Commission noted that proposed allotments near the U.S.-Canadian and U.S.-Mexican borders require coordination with those countries. The Commission stated that our international negotiations are continuing in a cooperative manner and we indicated that we do not believe that these negotiations will delay stations' ability to construct their post-transition facilities. We continue to believe that international coordination of digital allotments will proceed in a manner that will allow affected stations to construct digital facilities by the transition deadline. In some cases, however, stations may need to proceed with constructing authorized facilities to the extent approved by Canada or Mexico, even if those facilities differ from the preferred facilities sought by the station, if international coordination issues arise that delay action on a pending application and those issues cannot be resolved in time to allow construction to be completed before the end of the transition.

72. We note that all stations in the U.S.-Canadian or U.S.-Mexican border area with a TCD on a channel that is not their current digital channel will have to file an application for the TCD channel following adoption of the Report and Order in the Third DTV Periodic Review proceeding. A list of these stations is attached hereto in Appendix D4. The Commission is working to coordinate all Appendix B facilities as a group so that individual applications do not need to be coordinated. If there are circumstances where this is not possible, the Commission will work with these stations to expedite international coordination of their applications.

73. In the Seventh Further Notice, the Commission identified two allotments for which it had received recent objections from Industry Canada: WBSF-DT, (TCD on channel 46), Bay City, MI and KAYU-DT, (TCD on channel 28), Spokane, WA. The Commission included the TCDs for these channels in the proposed DTV Table, but sought comment from these licensees concerning whether they are willing to reduce coverage on the TCD in order to address Canadian concerns. The Commission also noted that these licensees could request an alternative post-transition DTV allotment. Both of these stations have filed comments indicating their belief that the current proposed TCD does not in fact cause impermissible interference, and have submitted engineering statements in support of their positions. These stations request that the Commission continue to negotiate with Industry Canada to permit them to operate on the TCD proposed in the Seventh Further Notice. We are adopting our proposed allotments for these stations, subject to our continuing negotiations with Canada which relate to these allotments as well as all other new DTV allotments in the border area.

Resolution of TCDs Pending After Round Three

74. We adopt our tentative conclusions in the Seventh Further Notice with respect to the resolution of four allotments that remained outstanding after TCDs were announced for the third round of channel elections. The Commission noted that these TCDs represented challenging and difficult cases in crowded markets necessitating waiver of the freeze or the 0.1 percent interference standard in order to find appropriate channels for post-transition operation that would ensure the best possible service to the public and promote overall spectrum efficiency. We received comments from some of the parties involved in these cases and address each of these proposed allotments below.

75. WABC, New York, NY. American Broadcasting Companies, Inc. (“ABC”), the licensee of station WABC-TV, channel 7 and WABC-DT, channel 45, New York, NY, was granted a waiver of the 0.1 percent interference standard in the Seventh Further Notice and received channel 7 for its TCD in the proposed DTV Table. ABC and The New Jersey Public Broadcasting Authority (“NJPBA”), the permittee of WNJB-DT, channel *8, New Brunswick, NJ, filed comments related to this TCD. During the channel election process, NJPBA initially objected to the grant of a waiver for WABC and later sought a waiver of the freeze to move its digital operations on channel 8 to New York City. These arguments were fully considered by the Commission in deciding to grant ABC's request for waiver of the 0.1 percent interference standard, required in light of the predicted 2.8 percent new interference to WNJB. The Commission concluded that the loss of service for WABC would affect current viewers of WABC, while the predicted loss of service for WNJB would affect areas outside of its current service area and primarily outside of the state of New Jersey. The Commission noted that WABC has been a pioneer of digital service, having built full-power digital operations in 2001 and re-built them first at Four Times Square and then on the Empire State Building, with a back-up facility at Alpine Tower in New Jersey, after the September 11, 2001 loss of the World Trade Center. In addition, the Commission noted that allotting channel 7 to WABC would eliminate any interference concerns between WABC and both WEDH-TV, an NCE station in Hartford, CT (analog channel *24, post-transition digital channel *45), and WOLF-TV in Hazleton, PA (analog channel 56, post-transition digital channel 45).

76. Because ABC sought the waiver during the channel election process, both parties had an opportunity to present their arguments prior to the adoption of the Seventh Further Notice. We find that NJPBA has not raised any new arguments that would cause us to reverse our grant of the interference standard waiver to ABC. We note that NJPBA contests the Commission's statement in the Seventh Further Notice that WNJB had not built its digital facility. In fact, WNJB has built only smaller DTV facilities pursuant to STA and has still not constructed its full, authorized DTV facility, in contrast to WABC's early construction and rebuilding of full DTV facilities after the September 11, 2001 destruction of their facilities.

77. NJPBA also claims that, based on an agreement between the parties, it is entitled to a waiver of the Commission's current freeze on modification applications and thereby allowed to co-locate its transmitting facilities at Four Times Square in New York City. As noted by ABC, NJPBA did not file its application and waiver request to modify WNJB-DT's facilities until after release of the Seventh Further Notice. Moreover, NJPBA offers no showing that it could not achieve its transition absent a waiver of the freeze. Thus, we disagree with NJPBA that allotment of channel 7 to ABC necessitates, or entitles NJPBA to, a waiver of the freeze. The Media Bureau will consider WNJB's application and waiver request in the normal course of processing. As noted in the Seventh Further Notice, consideration of NJPBA's application is best left until after the filing freeze is lifted. Accordingly, we allot channel 7 to WABC.

78. WEDH, Hartford, CT and WEDN, Norwich, CT. Connecticut Public Broadcasting, Inc. (“CPBI”), the licensee of NCE stations WEDH, channel *24, permittee of WEDH-DT, channel *32, Hartford, CT and WEDN, channel *53, permittee of WEDN-DT, channel *9, Norwich, CT, received a TCD of channel *45 for WEDH in Hartford and a TCD of channel *9 for WEDN in Norwich in the proposed DTV Table. In proposing these allotments, the Commission found it necessary to supersede a pending swap application and rulemaking pertaining to CPBI's pre-transition facilities. CPBI filed comments in favor of these proposed allotments. No comments were filed opposing these proposed allotments. Accordingly, we allot channel *45 to WEDH, Hartford, CT and channel *9 to WEDN, Norwich, CT.

79. Although CPBI supported the post-transition allotments, it objected to the Commission's decision to supersede the swap application and channel substitution rulemaking proceedings associated with the changes CPBI requested for its Hartford and Norwich stations. We cannot reinstate these applications without vitiating the basis for the post-transition channel allotments for WEDH and WEDN. We recognize, however, that CPBI wants to use their new allotments for pre-transition DTV operations. In that regard, we note that the Third DTV Periodic Review NPRM seeks comment on a proposal to allow stations that are moving to new post-transition channels (such as WEDH and WEDN) to begin operating on their new channels before the transition date, under certain conditions. If such a proposal is adopted, CPBI would be able to apply for pre-transition DTV operations on their new allotments.

80. KTFK, Stockton, CA. Telefutura Sacramento, LLC (“Telefutura”), the licensee of station KTFK-TV, channel 64, and KTFK-DT, channel 62, Stockton, CA, was granted a waiver of the filing freeze in the Seventh Further Notice to permit it to modify KTFK's certified facilities and receive channel 26 for its TCD in the proposed DTV Table. No comments were filed opposing this proposed allotment. Accordingly, we adopt this TCD and allot channel 26 to KTFK, Stockton, CA.

81. KVIE, Sacramento, CA. KVIE, Inc., the licensee of NCE station KVIE, channel *6 and KVIE-DT, channel *53, Sacramento, CA, was granted a waiver of the 0.1 percent interference standard and received channel *9 for its TCD in the proposed DTV Table. KVIE, Inc. filed comments in favor of the proposed allotment. No comments were filed opposing this proposed allotment. Accordingly, we adopt this TCD and allot channel *9 to KVIE(TV), Sacramento, CA.

TCDs for New Permittees Granted During Proceeding

82. We adopt the TCDs announced for the six new permittees in the New Permittees Public Notice (72 FR 2485, January 19, 2007) (“New Permittees Public Notice”). As discussed, supra, six pending applications were granted during this rulemaking, and proposed TCDs for the new permittees were published for comment in the New Permittees Public Notice. There were no comments, or only favorable comments, regarding the TCDs of five of the permittees, and they are therefore included in this Report and Order's modified DTV Table and Appendix B. An objection was raised to the TCD of one of the new permittees, and is discussed below.

83. KCWV, Duluth, MN. George S. Flinn, III, new permittee of station KCWV-TV, channel 27, Duluth, MN, received channel 27 for KCWV's TCD in the Public Notice. The State of Wisconsin—Educational Communications Board (“ECB”) filed comments in opposition. ECB is the licensee of NCE station WHWC-DT, Channel *27, Menomonie, WI, which received channel 27 for its TCD in the proposed DTV Table. ECB states its belief that the proposed allotment of channel 27 to Duluth “would cause interference to WHWC-DT for 10,995 persons, or 1.290 percent of its noise limited service area,” including “new interference from Duluth channel 27 of 0.345 percent of the population served.” ECB asks the Commission to instead assign channel 47 to KCWV, arguing that such an allotment “would cause considerably less interference.” Mr. Flinn did not file a reply.

84. Prior to the issuance of the New Permittees Public Notice, the TCDs of all new permittees were analyzed using computer software techniques that have been validated through extensive testing and comparison of results with similar software used by other parties participating in this proceeding. At that time, the Commission's interference analysis indicated that no station would receive impermissible interference from KCWV's TCD. We have considered the analysis offered in ECB's pleadings, and we find that they do not match our findings. We are confident that the results of our interference analysis are correct and accurately reflect the service areas to be provided with the facilities specified and the interference conditions that are expected to be present among stations. We therefore include KCWV in the modified DTV Table and Appendix B.

Stations To Be Deleted From the DTV Table

85. Two stations, Delta College, licensee of NCE station WDCP-TV, University Center, MI, analog channel *19 and permittee of DTV channel *18, and Rockfleet Broadcasting II, LLC, (“Rockfleet”) licensee of station WFUP, channel 45, and permittee of WFUP-DT, channel 59, Vanderbilt, MI (satellite station of WFUX-TV, Cadillac, MI), have notified us that they do not intend to construct DTV facilities and will cease operation after February 17, 2009. Delta College filed a comment and requested that we delete the TCD for WDCP on channel 18 from the Table of Allotments.

86. Rockfleet notified us during the first round of the channel elections that it does not intend to construct a post-transition DTV facility for WFUP. Rockfleet explained that Vanderbilt will be served by the digital signal of WFUX-DT. Consequently, we did not assign a TCD for this station. Rockfleet will surrender its license for cancellation after February 17, 2009.

4. Other Requests

87. WSWP, Grandview, WV. We grant the request of West Virginia Educational Broadcasting Authority (“WVEBA”), licensee of NCE station WSWP-TV, channel *9 and permittee of WSWP-DT, channel *53, Grandview, WV, which received channel *10 for its TCD in the proposed DTV Table, for a waiver of the 0.1 percent interference standard up to 2.0 percent and to the extent that it is consistent with the filing freeze. WVEBA requests a waiver of the 0.1 percent interference standard, claiming that WSWP-DT cannot replicate the station's existing analog service area on the proposed allotment for channel *10. Davis Television Clarksburg, LLC (“DTC”), permittee of WVFX-DT, channel 10, Clarksburg, WV, and TCD on channel 10 in the proposed DTV Table, filed reply comments opposing WVEBA's waiver request.

88. In the first channel election round, WVEBA elected its analog channel *9; however, this election was determined to cause more than 2.0 percent new interference, and, thus, disapproved. In the second round, WVEBA elected channel 11, but this election was also rejected because it was determined to cause more than 0.1 percent new interference. In the third round, WVEBA elected channel 10. This election was also determined to cause more than 0.1 percent new interference. Consequently, WVEBA received channel *10 as its TCD, but at reduced facilities in order to bring the station into compliance with the 0.1 percent interference standard. Specifically, WSWP's ERP was reduced to 2.5 kW. In response to the Third Round TCD PN, WVEBA filed a “Request for Partial Reconsideration,” supporting its proposed channel allotment, but requesting to operate at 10 kW in order to “adequately serve the station's current audience.”

89. The Seventh Further Notice proposed channel *10 as WSWP's TCD at 2.5 kW ERP in the post-transition DTV Table. WVEBA filed comments in response to the Seventh Further Notice and now asks for 20 kW ERP. WVEBA contends that this power level is necessary for the station to replicate its analog coverage.

90. WVEBA certified to its replication facilities on Form 381. WVEBA claims that its current analog station serves 906,075 people and that its proposed operation of its digital facility on channel 10 at 20 kW ERP would serve 900,098 people. WVEBA further asserts that its proposal to operate WSWP at 20 kW ERP will result in new interference of 0.7 percent to WVFX-DT, which it acknowledges exceeds the 0.1 percent interference standard, but claims is necessary “to meet its certification to replicate its NTSC coverage.” DTC replies that WVEBA overstates WSWP's present analog population coverage and understates the interference to WVFX-DT, claiming that WVEBA's proposal would cause more than 1.4 percent new interference.

91. We agree with DTC that WVEBA overstates WSWP's present analog population coverage, but we also concur with WVEBA that WSWP-DT's operation at the proposed 2.5 kW ERP would not fully replicate its existing analog coverage. We also find, however, that operation of channel *10 at 20 kW ERP would exceed the station's certified replication facilities and violate the current freeze on expansion of a noise limited service contour beyond its certified replication contour. To resolve the conflict, we have analyzed WSWP's channel facilities using a modified replication approach to derive the proposed facilities from the analog Grade B contour on which the initial DTV Table facilities were based and determined that WSWP could replicate its analog coverage at 18.6 kW. Operation of WSWP-DT at 18.6 kW, however, would cause 1.73 percent new interference to WVFX-DT, which exceeds the 0.1 percent interference standard. Therefore, we must consider WVEBA's waiver request.

92. In evaluating WVEBA's request for a waiver of the 0.1 percent interference standard, we find that although WVEBA's circumstances are dissimilar to two stations that were granted waivers in the Seventh Further Notice, WVEBA does offer important public interest bases that merit a waiver in this case. First, WVEBA had an out-of-core DTV channel, which would have warranted a 2.0 percent interference allowance to elect its analog channel *9 in the first round. However, use of channel 9 would have exceeded the 2.0 percent standard. Second, although there are UHF channels available in its market, WVEBA has argued persuasively that a UHF channel would not replicate the station's analog coverage due to the mountainous terrain in WSWP's service area and would require this educational station to incur “significant increased capital and operational costs.” Third, NCE station WSWP offers unique educational programming to an economically disadvantaged community that relies on over-the-air broadcasting for their TV service.

93. Our analysis indicates that WSWP's operation on channel 10 with full replication facilities would cause less total interference than would its operation on channel 9, 11 or any other high VHF channel. We conclude that WSWP would have been eligible for up to 2.0 percent new interference using its own analog channel 9 for post-transition DTV operation. Operation on channel 9 would have exceeded 2.0 percent new interference, while operation on channel 10 at 18.6 kW does not. Therefore, we grant WVEBA's request for waiver of the 0.1 percent interference standard and establish its Appendix B facilities at 18.6 kW ERP on channel *10.

94. KTAZ, Phoenix, AZ. We grant the request of NBC Telemundo License, Co. (“NBC Telemundo”), licensee of singleton station KTAZ, channel 39, Phoenix, AZ, which received channel 39 for its TCD in the proposed DTV Table, to change station KTAZ's post-transition DTV Table Appendix B facilities. In 2005, the Commission approved a modification to the analog Table of Allotments sought by NBC Telemundo and Community Television Educators, Inc. (“CTE”) which substituted Channel 39 for noncommercial reserved Channel 39 (*39) in Phoenix, substituted noncommercial reserved Channel 11 (*11) for Channel 11 in Holbrook, Arizona, and authorized NBC Telemundo to operate on Channel 39 in Phoenix and CTE to operate on Channel *11 in Holbrook. The Commission subsequently granted minor modification applications filed by the parties to implement the channel substitutions. The proposed post-transition DTV Table Appendix B lists the Facility ID for the former Channel *39 facility for KTAZ, rather than the Facility ID for the new Channel 39 facility. NBC Telemundo requests that Appendix B be revised to reflect the correct Facility ID for the new Channel 39 facility.

95. In addition, NBC Telemundo states that the technical facilities specified in Appendix B for Channel 39 are no longer accurate. KTAZ does not have a paired digital channel. The technical facilities specified in Appendix B for Channel 39 reflect the digital parameters applied for by CTE prior to the channel substitutions. NBC Telemundo states that it recently relocated the Channel 39 analog facility to a new tower.

96. We have revised DTV Table Appendix B as adopted herein to reflect operation of a digital station on Channel 39 in Phoenix with parameters reflected in the analog authorization approved by the Commission for KTAZ. In addition, we have revised Appendix B to reflect the correct Facility ID for both KTAZ and Channel *11 in Holbrook.

97. WNYA, Pittsfield, MA. In response to comments filed opposing the proposed post-transition facilities of WNYA, Pittsfield, MA, we will change station WNYA's post-transition DTV Table Appendix B facilities. Venture Technologies Group, LLC, licensee of singleton station WNYA, channel 51, Pittsfield, MA, received channel 13 for its TCD in the proposed post-transition DTV Table. WNYT-TV, LLC (“WNYT”), licensee of station WNYT, channel 13, and WNYT-DT, channel 12, Albany, NY, which received channel 12 for its TCD in the proposed post-transition DTV Table, objects to the facilities proposed for WNYA in the post-transition DTV Table Appendix B. WNYA did not respond to the WNYT comments.

98. The proposed post-transition DTV Table Appendix B specifies a site change for WNYA which would move that station's DTV facility from the WNYA analog site in Pittsfield to WNYT's licensed site near Albany. WNYA specified this site change in its second round conflict decision form (FCC Form 385) to resolve an interference conflict of 3.7 percent with WNYT, which resulted from WNYA's election of channel 13. In its comments, WNYT claims that the ERP of 28kW that is proposed for WNYA in Appendix B, is substantially in excess of that permitted for a DTV station on channel 13 in Zone 1. WNYT requests that the Commission revise Appendix B for WNYA to specify the Pittsfield site for that station with parameters that would permit WNYA to comply with its FCC Form 381 certification.

99. WNYT is correct that the power specified in the proposed Appendix B for WNYA exceeds the maximum allowed pursuant to 73.622(f)(7)(ii). At an HAAT of 396 meters, the maximum ERP for a channel 13, Zone 1 DTV station is 12.6 kW. However, WNYT's request that we change WNYA's Appendix B facilities to specify the Pittsfield transmitter site would not address the interference conflict found in round 2 of the channel election process.

100. We conclude that WNYA can serve most of its certified coverage area from the site near Albany, at reduced power. We have determined that WNYA can provide an acceptable predicted field strength over Pittsfield, Massachusetts, its city of license, based on its FCC Form 385 facilities with its maximum ERP reduced from the proposed 28 kW to 12.6 kW. In addition, at this reduced power, WNYA's operation on channel 13 will cause any additional interference. Therefore, we are changing Appendix B to specify an ERP for WNYA of 12.6 kW.

101. WLFL, Raleigh, NC. We deny the request of Sinclair Broadcast Group, Inc. (“Sinclair”), the parent entity of the licensee of station WLFL, channel 22 and permittee of WLFL-DT, channel 57, Raleigh, NC, which received channel 27 for its TCD in the proposed DTV Table. We conclude that it is not necessary to increase the ERP for this station.

102. In its Form 381, Sinclair certified to maximized facilities for WLFL-DT as authorized by its construction permit. In the first round, Sinclair obtained a TCD for channel 27 through an approved NCA with station WRDC, Durham, NC. Sinclair's comments claim that the power listed for channel 27 on Appendix B is incorrect. In fact, the proposed channel 27 power is less than the certified channel 57 power so that the post-transition facilities will match the certified facilities' coverage. Consequently, no change in Appendix B is needed to provide WLFL-DT with its certified coverage.

103. KCET, Los Angeles, CA. Community Television of Southern California (“CTSC”), licensee of NCE station KCET, channel *28, and KCET-DT, channel *59, Los Angeles, CA, received channel *28 for its TCD in the proposed DTV Table. CTSC states in its comments that it certified that it would operate noncommercial educational station KCET with maximized facilities on channel *28 for post-transition operations but the Commission disapproved the election because it was projected to cause interference of 2.3 percent to the elected DTV channel 27 of KEYT, Santa Barbara, California (analog channel 3, post-transition digital channel 27). CTSC states that it changed its election to specify replication facilities on channel *28 but reserved its right to seek maximized facilities should circumstances permit.

104. On July 7, 2006, Smith Media License Holdings, LLC (“Smith”) filed a letter requesting a waiver of the July 1, 2006 replication/maximization deadline with respect to KEYT-DT. In that letter, Smith indicated that for KEYT-DT to operate with its allotted replication facilities, as the prior owner certified, Smith would have to increase the ERP for KEYT to approximately 698 kW. Smith indicated that, because of electrical capacity limits at the station's antenna site, it did not anticipate being able to increase power at the antenna site until near the end of the DTV transition.

105. According to CTSC, the maximized facilities it originally proposed for KCET-DT on Channel *28 would not cause impermissible interference to the facilities of KEYT-DT on Channel *27 if KEYT-DT operates with an ERP of 699 kW. Accordingly, CTSC requests that the Commission change DTV Table Appendix B to specify maximized parameters for KCET-DT. Smith objects to CTSC's request and urges the Commission to continue to protect the KEYT-DT post-transition allotment. We deny the request of CTSC to change DTV Table Appendix B for KCET. We note the disagreement of CTSC, but have already determined that the KCET maximized facilities would cause interference to the certified facilities of KEYT-DT on its TCD in excess of the permissible limit. Our analysis was performed using computer software techniques that have been validated through extensive testing and comparison of results with similar software used by other parties participating in this proceeding. We are confident that the result of our interference analysis is correct, and there is no agreement with the affected station to accept this interference. The Commission will determine in the Third DTV Periodic Review Report and Order what interference standards and other procedures to apply to stations seeking to file applications for changes to station parameters post-transition. KCET may choose to file an application at that time.

Procedural Matters

Seventh Report and Order

Final Regulatory Flexibility Analysis

106. As required by the Regulatory Flexibility Act of 1980 (“RFA”), the Commission has prepared a Final Regulatory Flexibility Analysis (“FRFA”) relating to this Seventh Report and Order.

Final Paperwork Reduction Act Analysis

107. This Seventh Report and Order was analyzed with respect to the Paperwork Reduction Act of 1995 (“PRA”) and does not contain any information collection requirements.

Congressional Review Act

108. The Commission will send a copy of this Seventh Report and Order in a report to be sent to Congress and the Government Accountability Office, pursuant to the Congressional Review Act.

Final Regulatory Flexibility Act Analysis

109. As required by the Regulatory Flexibility Act of 1980, as amended (“RFA”) an Initial Regulatory Flexibility Analysis (“IRFA”) was incorporated in the Seventh Further Notice of Proposed Rulemaking (“Seventh Further Notice”). The Commission sought written public comment on the proposals in the NPRM, including comment on the IRFA. The comments received are discussed below. The Commission received no comments on the IRFA. This present Final Regulatory Flexibility Analysis (“FRFA”) conforms to the RFA.

A. Need for, and Objectives of, the Report and Order

110. This Seventh Report and Order (“Seventh R&O”) adopts rules implementing a new post-transition DTV Table of Allotments (“DTV Table”), providing all eligible full power broadcast television stations with channels for DTV operations after the transition. The new post-transition DTV Table finalizes the channel and facilities necessary to complete the digital transition for full power television stations, including full power commercial and noncommercial broadcast television stations.

111. The new post-transition DTV Table is based on the tentative channel designations (“TCDs”) announced for eligible broadcast licensees through the channel election process, as well as on the Commission's efforts to promote overall spectrum efficiency and ensure the best possible service to the public, including service to local communities. During this election process, which was established by the Second DTV Periodic Report and Order, eligible full power broadcast licensees selected their ultimate DTV channel inside the “core spectrum,” consisting of current television channels 2 through 51 (54-698 MHz). In developing the proposed new allotments, the Commission sought to accommodate broadcasters' channel preferences, as well as their replication and maximization service area certifications (made via FCC Form 381).

112. The new post-transition DTV Table achieves the goals set forth for the channel election process. First, the new DTV Table provides all eligible stations with channels for DTV operations after the transition. Second, the new DTV Table is the result of informed decisions by licensees when making their channel elections and licensees benefited from the clarity and transparency of the channel election process. Third, the new DTV Table recognizes industry expectations by protecting existing service and respecting investments already made, to the extent feasible. Finally, the new DTV Table reflects our efforts to promote overall spectrum efficiency and ensure the best possible DTV service to the public.

B. Summary of Significant Issues Raised by Public Comments in Response to the IRFA

113. There were no comments filed that specifically addressed the rules and policies proposed in the IRFA.

C. Description and Estimate of the Number of Small Entities to Which the Rules Will Apply

114. The RFA directs the Commission to provide a description of and, where feasible, an estimate of the number of small entities that will be affected by the rules adopted herein. The RFA generally defines the term “small entity” as having the same meaning as the terms “small business,” “small organization,” and “small government jurisdiction.” In addition, the term “small business” has the same meaning as the term “small business concern” under the Small Business Act. A small business concern is one which: (1) Is independently owned and operated; (2) is not dominant in its field of operation; and (3) satisfies any additional criteria established by the Small Business Administration (SBA). The rules of this Seventh R&O will primarily affect full power television stations, as opposed to low power television stations and television translator stations. A description of such small entities, as well as an estimate of the number of such small entities, is provided below.

115. Television Broadcasting. The rules and policies adopted in this Seventh R&O apply to television broadcast licensees and potential licensees of television service. The SBA defines a television broadcast station as a small business if such station has no more than $13.5 million in annual receipts. Business concerns included in this industry are those “primarily engaged in broadcasting images together with sound.” The Commission has estimated the number of licensed commercial television stations to be 1,376. According to Commission staff review of the BIA Financial Network, MAPro Television Database (“BIA”) on March 30, 2007, about 986 of an estimated 1,374 commercial television stations (or about 72 percent) have revenues of $13.5 million or less and thus qualify as small entities under the SBA definition. The Commission has estimated the number of licensed NCE television stations to be 380. We note, however, that, in assessing whether a business concern qualifies as small under the above definition, business (control) affiliations must be included. Our estimate, therefore, likely overstates the number of small entities that might be affected by our action, because the revenue figure on which it is based does not include or aggregate revenues from affiliated companies. The Commission does not compile and otherwise does not have access to information on the revenue of NCE stations that would permit it to determine how many such stations would qualify as small entities.

116. In addition, an element of the definition of “small business” is that the entity not be dominant in its field of operation. We are unable at this time to define or quantify the criteria that would establish whether a specific television station is dominant in its field of operation. Accordingly, the estimate of small businesses to which rules may apply do not exclude any television station from the definition of a small business on this basis and are therefore over-inclusive to that extent. Also as noted, an additional element of the definition of “small business” is that the entity must be independently owned and operated. We note that it is difficult at times to assess these criteria in the context of media entities and our estimates of small businesses to which they apply may be over-inclusive to this extent.

117. Class A TV, LPTV, and TV translator stations. The rules and policies adopted in this Seventh R&O do not directly affect low power television stations, as the DTV Table adopted in the Seventh R&O finalizes post-transition digital channels only for full power television stations. Nonetheless, as discussed in Section E, infra, low power television stations will also eventually transition from analog to digital technology and may be indirectly affected by the channel allotment decisions herein. The broadcast stations indirectly affected include licensees of Class A TV stations, low power television (LPTV) stations, and TV translator stations, as well as to potential licensees in these television services. The same SBA definition that applies to television broadcast licensees would apply to these stations. The SBA defines a television broadcast station as a small business if such station has no more than $13.5 million in annual receipts. Currently, there are approximately 567 licensed Class A stations, 2,227 licensed LPTV stations, and 4,518 licensed TV translators. Given the nature of these services, we will presume that all of these licensees qualify as small entities under the SBA definition. We note, however, that under the SBA's definition, revenue of affiliates that are not LPTV stations should be aggregated with the LPTV station revenues in determining whether a concern is small. Our estimate may thus overstate the number of small entities since the revenue figure on which it is based does not include or aggregate revenues from non-LPTV affiliated companies. We do not have data on revenues of TV translator or TV booster stations, but virtually all of these entities are also likely to have revenues of less than $13.5 million and thus may be categorized as small, except to the extent that revenues of affiliated non-translator or booster entities should be considered.

D. Description of Projected Reporting, Recordkeeping and Other Compliance Requirements

118. The rules adopted in this Seventh R&O involve no changes to reporting, recordkeeping, or other compliance requirements beyond what is already required under the current regulations.

E. Steps Taken To Minimize Significant Impact on Small Entities, and Significant Alternatives Considered

119. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

120. The new post-transition DTV Table provides all eligible full power broadcast television stations—large and small alike—with channels for post-transition DTV operations. Small broadcasters, just like large ones, benefited from participating in the channel election process. The new DTV Table is the result of informed decisions by licensees when making their channel elections, and all licensees benefited from the clarity and transparency of the channel election process. Moreover, the new DTV Table recognizes industry expectations by protecting existing service and respecting investments already made, for both large and small broadcasters, to the extent feasible. The TCDs are primarily based on the channels elected by licensees. The vast majority of licensees participating in the channel election process received a TCD for a channel they elected, and all comments, including those from small broadcasters, were considered when finalizing this Table.

121. In general, our goal in reviewing the comments filed in response to the proposed Table was to accommodate the requests made by commenters to the extent possible consistent with the standards outlined in the Seventh Further Notice. Large and small broadcasters alike benefited from this approach, which was taken in an effort to expedite finalization of the DTV Table and Appendix B so that stations can complete construction of their post-transition facilities by the statutory deadline for the DTV transition. Where commenters made specific requests for changes to the proposals in the Seventh Further Notice, requests that provided for an alternative service area for the station or parameters that differed from those proposed by the Commission, those requests were granted to the extent possible consistent with the standards of the Seventh Further Notice and, in particular, with the applicable interference standards. This process has been open and transparent, and has provided consistent treatment for large and small broadcasters.

122. The new DTV Table adopted herein does not provide for channels for low power television stations. The Commission will address the digital transition for low power television (“LPTV”) stations in a separate proceeding. The statutory transition deadline established by Congress in 2006—February 17, 2009—applies only to full-power stations. One of the Commission's goals in the Seventh Report and Order is to permit full power stations to finalize their post-transition facilities by this rapidly approaching deadline. The Commission previously determined that it has discretion under 47 U.S.C. 336(f)(4) to set the date by which analog operations of stations in the low power and translator service must cease. The Commission has stated that the intent is to ensure that low power and translator stations not be required to prematurely convert to digital operation in a manner that could disrupt their analog service or, more importantly, that might cause them to cease operation. The Commission decided not to establish a fixed termination date for the low power digital television transition until it resolved the issues concerning the transition of full-power television stations. The Commission has recognized that low power television stations are a valuable component of the nation's television system and has stated its intention to facilitate, wherever possible, the digital transition of these stations.

F. Report To Congress

The Commission will send a copy of this Seventh R&O, including this FRFA, in a report to be sent to Congress pursuant to the Small Business Regulatory Enforcement Fairness Act of 1996. In addition, the Commission will send a copy of this Seventh R&O, including the FRFA, to the Chief Counsel for Advocacy of the Small Business Administration. A copy of this Seventh R&O and FRFA (or summaries thereof) will also be published in the Federal Register.

Ordering Clauses

123. It is ordered that, pursuant to the authority contained in sections 1, 4(i) and (j), 7, 301, 302, 303, 307, 308, 309, 316, 319, 324, 336, and 337 of the Communications Act of 1934, 47 U.S.C. 151, 154(i) and (j), 157, 301, 302, 303, 307, 308, 309, 316, 319, 324, 336, and 337, this Seventh Report and Order and Eighth Further Notice of Proposed Rule Making is adopted.

124. It is further ordered that pursuant to the authority contained in sections 1, 2, 4(i), 303, 303a, 303b, and 307 of the Communications Act of 1934, 47 U.S.C. 151, 152, 154(i), 303, 303a, 303b, and 307, the Commission's rules are hereby amended as set forth in the rule changes.

125. It is further ordered that the rules as set forth in the rule changes shall be effective 30 days after publication of the Seventh Report and Order and Eighth Further Notice of Proposed Rule Making in the Federal Register.

126. It is further ordered that the Commission's Consumer and Governmental Affairs Bureau, Reference Information Center, shall send a copy of this Seventh Report and Order and Eighth Further Notice of Proposed Rule Making, including the Final Regulatory Flexibility Analysis, to the Chief Counsel for Advocacy of the Small Business Administration.

It is further ordered that the Commission shall send a copy of this Seventh Report and Order and Eighth Further Notice of Proposed Rule Making in a report to be sent to Congress and the Government Accountability Office pursuant to the Congressional Review Act, see 5 U.S.C. 801(a)(1)(A).

List of Subjects in 47 CFR part 73

Television.

Federal Communications Commission.
Marlene H. Dortch,
Secretary.

Final Rules

For the reasons discussed in the preamble, the Federal Communications Commission amends 47 part 73 as follows:

PART 73—RADIO BROADCAST SERVICES

1. The authority citation for Part 73 continues to read as follows:

Authority: 47 U.S.C. 154, 303, 334, 336.

2. Section 73.622 is amended by adding paragraph (i) to read as follows:

§ 73.622 Digital television table of allotments.

* * * * *

(i) Post-Transition Table of DTV Allotments.

Community | Channel No.
ALABAMA
Anniston | 9
Bessemer | 18
Birmingham | *10, 13, 30, 36, 50
Demopolis | *19
Dothan | 21, 36
Dozier | *10
Florence | 14, 20, *22
Gadsden | 26, 45
Gulf Shores | 25
Homewood | 28
Huntsville | 19, *24, 32, 41, 49
Louisville | *44
Mobile | 9, 15, 20, 23, 27, *41
Montgomery | 12, 16, *27, 32, 46
Mount Cheaha | *7
Opelika | 47
Ozark | 33
Selma | 29, 42
Troy | 48
Tuscaloosa | 23, 33
Tuskegee | 22
ALASKA
Anchorage | 5, *8, 10, 12, 20, *26, 28, 32
Bethel | *3
Fairbanks | 7, *9, 11, 18
Juneau | *10, 11
Ketchikan | 13
North Pole | 20
Sitka | 7
ARIZONA
Douglas | 36
Flagstaff | 2, 13, 18, 32
Green Valley | 46
Holbrook | *11
Kingman | 19
Mesa | 12
Phoenix | *8, 10, 15, 17, 20, 24, 26, 33, 39, 49
Prescott | 7
Sierra Vista | 44
Tolleson | 51
Tucson | 9, 19, 23, 25, *28, *30, 32, 40
Yuma | 11, 16
ARKANSAS
Arkadelphia | *13
Camden | 49
El Dorado | *10, 27, 43
Eureka Springs | 34
Fayetteville | *9, 15
Fort Smith | 18, 21, 27
Harrison | 31
Hot Springs | 26
Jonesboro | 8, *20, 48
Little Rock | *7, 12, 22, 30, 32, *36, 44
Mountain View | *13
Pine Bluff | 24, 39
Rogers | 50
Springdale | 39
CALIFORNIA
Anaheim | 32
Arcata | 22
Avalon | 47
Bakersfield | 10, 25, 33, 45
Barstow | 44
Bishop | 20
Calipatria | 36
Ceres | *15
Chico | 24, 43
Clovis | 43
Concord | 14
Corona | 39
Cotati | *23
El Centro | 9, 22
Eureka | 3, *11, 17, 28
Fort Bragg | 8
Fresno | 7, 30, 34, 38, *40
Hanford | 20
Huntington Beach | *48
Long Beach | 18
Los Angeles | 7, 9, 11, 13, *28, 31, 34, 36, *41, 42, 43
Merced | 11
Modesto | 18
Monterey | 31, 32
Novato | 47
Oakland | 44
Ontario | 29
Oxnard | 24
Palm Springs | 42, 46
Paradise | 20
Porterville | 48
Rancho Palos Verdes | 51
Redding | 7, *9
Riverside | 45
Sacramento | *9, 10, 21, 35, 40, 48
Salinas | 8, 13
San Bernardino | *26, 38
San Diego | 8, 10, 18, 19, *30, 40
San Francisco | 7, 19, 27, 29, *30, *33, 38, 39, 45, 51
San Jose | 12, 36, 41, 49, *50
San Luis Obispo | 15, 34
San Mateo | *43
Sanger | 36
Santa Ana | 23
Santa Barbara | 21, 27
Santa Maria | 19
Santa Rosa | 32
Stockton | 25, 26, 46
Twentynine Palms | 23
Vallejo | 34
Ventura | 49
Visalia | 28, *50
Watsonville | *25
COLORADO
Boulder | 15
Broomfield | *13
Castle Rock | 46
Colorado Springs | 10, 22, 24
Denver | 7, 9, *18, 19, 32, 34, 35, *40, 43, 51
Durango | 15, *20, 33
Fort Collins | 21
Glenwood Springs | 23
Grand Junction | 2, 7, 12, 15, *18
Longmont | 29
Montrose | 13
Pueblo | *8, 42
Steamboat Springs | 10
Sterling | 23
CONNECTICUT
Bridgeport | 42, *49
Hartford | 31, 33, *45, 46
New Britain | 35
New Haven | *6, 10, 39
New London | 26
Norwich | *9
Waterbury | 20
DELAWARE
Seaford | *44
Wilmington | *12, 31
DISTRICT OF COLUMBIA
Washington | 7, 9, *27, *33, 35, 36, 48, 50
FLORIDA
Boca Raton | *40
Bradenton | 42
Cape Coral | 35
Clearwater | 21
Clermont | 17
Cocoa | *30, 51
Daytona Beach | 11, 49
Destin | 48
Fort Lauderdale | 30
Fort Myers | 9, 15, *31
Fort Pierce | 34, *38
Fort Walton Beach | 40, 49, 50
Gainesville | 9, 16, *36
High Springs | 28
Hollywood | 47
Jacksonville | *7, 13, 19, 32, 34, 42, *44
Key West | 3, 8
Lake Worth | 36
Lakeland | 19
Leesburg | 40, *46
Live Oak | 48
Marianna | 51
Melbourne | 43, 48
Miami | 7, 10, *18, 19, *20, 22, 23, 31, 32, 35, 46
Naples | 41, 45
New Smyrna Beach | *33
Ocala | 31
Orange Park | 10
Orlando | 22, *23, 26, 27, 39, 41
Palm Beach | 49
Panama City | 7, 9, 13, *38
Panama City Beach | 47
Pensacola | 17, *31, 34, 45
Sarasota | 24
St. Petersburg | 10, 38, 44
Stuart | 44
Tallahassee | 24, 27, *32, 40
Tampa | 7, 12, *13, 29, *34, 47
Tequesta | 16
Tice | 33
Venice | 25
West Palm Beach | 12, 13, *27, 28
GEORGIA
Albany | 10, 12
Athens | *8, 48
Atlanta | 10, 19, 20, *21, 25, 27, 39, *41, 43
Augusta | 12, 30, 42, 51
Bainbridge | 49
Baxley | 35
Brunswick | 24
Chatsworth | *33
Cochran | *7
Columbus | 9, 15, *23, 35, 49
Cordele | 51
Dalton | 16
Dawson | *8
Macon | 13, 16, 40, 45
Monroe | 44
Pelham | *6
Perry | 32
Rome | 51
Savannah | *9, 11, 22, 39
Thomasville | 46
Toccoa | 24
Valdosta | 43
Waycross | *8
Wrens | *6
HAWAII
Hilo | *9, 11, 13, 22, 23
Honolulu | 8, 9, *10, *11, 19, 23, 27, 31, 33, 35, 40, *43
Kailua | 50
Kailua Kona | 25
Kaneohe | 41
Wailuku | 7, *10, 12, 16, 21, 24
Waimanalo | 38
IDAHO
Boise | 7, *21, 28, 39
Caldwell | 10
Coeur d'Alene | *45
Filer | *18
Idaho Falls | 8, 20, 36
Lewiston | 32
Moscow | *12
Nampa | 12, 24
Pocatello | 15, *17, 23, 31
Sun Valley | 32
Twin Falls | 11, *22, 34
ILLINOIS
Aurora | 50
Bloomington | 28
Carbondale | *8
Champaign | 41, 48
Charleston | *50
Chicago | 7, 12, 19, *21, 27, 29, 31, 43, 45, *47
Decatur | 18, 22
East St. Louis | 47
Freeport | 23
Harrisburg | 34
Jacksonville | *15
Joliet | 38
LaSalle | 10
Macomb | *21
Marion | 17
Moline | *23, 38
Mount Vernon | 21
Olney | *19
Peoria | 19, 25, 30, 39, *46
Quincy | 10, 32, *34
Rock Island | 4
Rockford | 13, 16, 42
Springfield | 13, 42, 44
Urbana | *9, 26
INDIANA
Angola | 12
Bloomington | *14, 27, 42, 48
Elkhart | 28
Evansville | *9, 25, 28, 45, 46
Fort Wayne | 19, 24, 31, 36, *40
Gary | *17, 51
Hammond | 36
Indianapolis | 9, 13, 16, *21, 25, *44, 45
Kokomo | 29
Lafayette | 11
Marion | 32
Muncie | 23
Richmond | 39
Salem | 51
South Bend | 22, *35, 42, 48
Terre Haute | 10, 36, 39
Vincennes | *22
IOWA
Ames | 5, 23, *34
Burlington | 41
Cedar Rapids | 9, 27, 47, 51
Council Bluffs | *33
Davenport | *34, 36, 49
Des Moines | 8, *11, 13, 16, 31
Dubuque | 43
Fort Dodge | *25
Iowa City | *12, 25
Mason City | *18, 42
Newton | 39
Ottumwa | 15
Red Oak | *35
Sioux City | 9, *28, 39, 41, 44
Waterloo | 7, 22, *35
KANSAS
Colby | 17, 19
Derby | 46
Dodge City | *21
Ensign | 6
Garden City | 11, 13
Goodland | 10
Great Bend | 22
Hays | 7, *16
Hoisington | 14
Hutchinson | *8, 12, 35
Lakin | *8
Lawrence | 41
Pittsburg | 7, 13
Salina | 17
Topeka | *11, 12, 13, 27, 49
Wichita | 10, 26, 31, 45
KENTUCKY
Ashland | *26, 44
Beattyville | 7
Bowling Green | 13, 16, *18, *48
Campbellsville | 19
Covington | *24
Danville | 4
Elizabethtown | *43
Harlan | 51
Hazard | 12, *16
Lexington | 13, 39, 40, *42
Louisville | 8, 11, *17, 26, *38, 47, 49
Madisonville | 20, *42
Morehead | *15, 21
Murray | *36
Newport | 29
Owensboro | 30
Owenton | *44
Paducah | 32, 41, 49
Pikeville | *24
Somerset | *14
LOUISIANA
Alexandria | *26, 31, 35, 41
Baton Rouge | 9, 13, *25, 34, 45
Columbia | 11
Hammond | 42
Lafayette | 10, 16, *23, 28
Lake Charles | 7, *20, 30
Minden | 21
Monroe | 8, *13
New Iberia | 50
New Orleans | 8, *11, 15, 21, 26, *31, 36, 43, 50
Shreveport | 17, *25, 28, 34, 44
Slidell | 24
West Monroe | 36, 38
MAINE
Augusta | *10
Bangor | 2, 7, 19
Biddeford | *45
Calais | *10
Lewiston | 35
Orono | *9
Poland Spring | 8
Portland | 38, 43, 44
Presque Isle | 8, *10, 47
Waterville | 23
MARYLAND
Annapolis | *42
Baltimore | 11, 13, *29, 38, 40, 41, 46,
Frederick | *28
Hagerstown | 26, 39, *44
Oakland | *36
Salisbury | 21, *28, 47
MASSACHUSETTS
Adams | 36
Boston | 7, *19, 20, 30, 31, 32, 39, *43
Cambridge | 41
Lawrence | 18
Marlborough | 27
New Bedford | 22, 49
Norwell | 10
Pittsfield | 13
Springfield | 11, *22, 40
Vineyard Haven | 40
Worcester | 29, *47
MICHIGAN
Alpena | 11, *24
Ann Arbor | 31
Bad Axe | *15
Battle Creek | 20, 44
Bay City | 22, 46
Cadillac | 9, *17, 47
Calumet | 5
Cheboygan | 35
Detroit | 7, 14, 21, 41, *43, 44, 45
East Lansing | *40
Escanaba | 48
Flint | 12, 16, *28
Grand Rapids | 7, *11, 13, 19
Iron Mountain | 8
Ishpeming | 10
Jackson | 34
Kalamazoo | *5, 8, 45
Lansing | 36, 38, 51
Manistee | *21
Marquette | *13, 19, 35
Mount Clemens | 39
Mount Pleasant | *26
Muskegon | 24
Onondaga | 10
Saginaw | 30, 48
Sault Ste. Marie | 8, 10
Traverse City | 7, 29
MINNESOTA
Alexandria | 7, 42
Appleton | *10
Austin | *20, 36
Bemidji | *9, 26
Brainerd | *28
Chisholm | 11
Crookston | *16
Duluth | *8, 10, 17, 27, 33
Hibbing | 13, *31
Mankato | 12
Minneapolis | 9, 11, 22, 29, 32, 45
Redwood Falls | 27
Rochester | 10, 46
St. Cloud | 40
St. Paul | *26, *34, 35
Thief River Falls | 10
Walker | 12
Worthington | *15
MISSISSIPPI
Biloxi | 13, *16
Booneville | *12
Bude | *18
Columbus | 35, *43
Greenville | 15
Greenwood | *25, 32
Gulfport | 48
Hattiesburg | 22
Holly Springs | 41
Houston | 45
Jackson | 7, 12, *20, 21, 40, 51
Laurel | 28
Magee | 34
Meridian | 11, 24, 31, *44
Mississippi State | *10
Natchez | 49
Oxford | *36
Tupelo | 8
Vicksburg | 35
West Point | 16
MISSOURI
Cape Girardeau | 12, 22
Columbia | 8, 17
Hannibal | 7
Jefferson City | 12, 20
Joplin | *25, 43, 46
Kansas City | 9, *18, 24, 31, 34, 42, 47, 51
Kirksville | 33
Osage Beach | 49
Poplar Bluff | 15
Sedalia | 15
Springfield | 10, 19, *23, 28, 44
St. Joseph | 7, 21
St. Louis | 14, 24, 26, 31, 35, *39, 43
MONTANA
Billings | 10, 11, 18
Bozeman | *8, 13
Butte | 5, 6, 19, 24
Glendive | 10
Great Falls | 7, 8, 26, 45
Hardin | 22
Havre | 9
Helena | 12, 29
Kalispell | 9
Lewistown | 13
Miles City | 3
Missoula | 7, *11, 13, 17, 23
NEBRASKA
Alliance | *13
Bassett | *7
Grand Island | 11, 19
Hastings | 5, *28
Hayes Center | 18
Kearney | 36
Lexington | *26
Lincoln | 8, 10, *12, 51
McCook | 12
Merriman | *12
Norfolk | *19
North Platte | 2, *9
Omaha | 15, *17, 20, 22, 43, 45
Scottsbluff | 7, 17, 29
Superior | 34
NEVADA
Elko | 10
Ely | 3, 27
Goldfield | 50
Henderson | 9
Las Vegas | 2, 7, *11, 13, 16, 22, 29
Laughlin | 32
Paradise | 40
Reno | 7, 9, 13, *15, 20, 26, 44
Tonopah | 9
Winnemucca | 7
NEW HAMPSHIRE
Concord | 33
Derry | 35
Durham | *11
Keene | *49
Littleton | *48
Manchester | 9
Merrimack | 34
NEW JERSEY
Atlantic City | 44, 49
Burlington | 27
Camden | *22
Linden | 36
Montclair | *51
New Brunswick | *8
Newark | 13, 30
Newton | 18
Paterson | 40
Secaucus | 38
Trenton | *43
Vineland | 29
West Milford | *29
Wildwood | 36
NEW MEXICO
Albuquerque | 7, 13, *17, 22, 24, 26, *35, 42, 45
Carlsbad | 19, 25
Clovis | 20
Farmington | 8, 12
Hobbs | 29
Las Cruces | *23, 47
Portales | *32
Roswell | 8, 10, 21, 27
Santa Fe | *9, 10, 27, 29
Silver City | 10, 12
NEW YORK
Albany | 7, 12, 26
Amsterdam | 50
Batavia | 23
Bath | 14
Binghamton | 7, 8, 34, *42
Buffalo | 14, 32, 33, 34, 38, 39, *43
Carthage | 7
Corning | *30, 48
Elmira | 18, 36
Garden City | *21
Ithaca | 20
Jamestown | 26
Kingston | 48
New York | 7, 11, *24, 28, 31, 33, 44
North Pole | 14
Norwood | *23
Plattsburg | *38
Poughkeepsie | 27
Riverhead | 47
Rochester | 10, 13, *16, 28, 45
Saranac Lake | 40
Schenectady | 6, *34, 43
Smithtown | 23
Springville | 7
Syracuse | 15, 17, 19, 24, *25, 44, 47
Utica | 27, 29, 30
Watertown | 21, *41
NORTH CAROLINA
Asheville | 13, *25, 45
Belmont | 47
Burlington | 14
Chapel Hill | *25
Charlotte | *11, 22, 23, 27, 34
Concord | *44
Durham | 11, 28
Edenton | *20
Fayetteville | 36, 38
Goldsboro | 17
Greensboro | 33, 43, 51
Greenville | 10, 14, *23, 51
Hickory | 40
High Point | 8
Jacksonville | *19, 34
Kannapolis | 50
Lexington | 19
Linville | *17
Lumberton | *31
Manteo | 9
Morehead City | 8
New Bern | 12
Raleigh | 27, 48, 49
Roanoke Rapids | *36
Rocky Mount | 15
Washington | 32
Wilmington | *29, 30, 44, 46
Wilson | 42
Winston Salem | 29, 31, *32
NORTH DAKOTA
Bismarck | 12, 16, *22, 26, 31
Devils Lake | 8, *25
Dickinson | 7, *9, 19
Ellendale | *20
Fargo | *13, 19, 21, 44
Grand Forks | *15, 27
Jamestown | 7
Minot | 10, 13, 14, 24, *40
Pembina | 12
Valley City | 38
Williston | 8, 14, *51
OHIO
Akron | 23, 30, *50
Alliance | *45
Athens | *27
Bowling Green | *27
Cambridge | *35
Canton | 39, 47
Chillicothe | 46
Cincinnati | 10, 12, 33, *34, 35
Cleveland | 8, 15, 17, *26, 34
Columbus | 13, 14, 21, 36, *38
Dayton | *16, 30, 41, 50, 51
Lima | 8, 47
Lorain | 28
Mansfield | 12
Newark | 24
Oxford | *28
Portsmouth | 17, *43
Sandusky | 42
Shaker Heights | 10
Springfield | 26
Steubenville | 9
Toledo | 5, 11, 13, *29, 46, 49
Youngstown | 20, 36, 41
Zanesville | 40
OKLAHOMA
Ada | 26
Bartlesville | 17
Cheyenne | *8
Claremore | *36
Eufaula | *31
Lawton | 11
Muskogee | 20
Norman | 46
Oklahoma City | 7, 9, *13, 15, 24, 27, 33, 40, 50, 51
Okmulgee | 28
Shawnee | 29
Tulsa | 8, 10, *11, 22, 42, 45, 47, 49
Woodward | 35
OREGON
Bend | *11, 21, 51 | Coos Bay | 11, 22
Corvallis | *7
Eugene | 9, 13, 17, *29, 31
Grants Pass | 30
Klamath Falls | 13, 29, *33
La Grande | *13, 29
Medford | 5, *8, 10, 12, 26
Pendleton | 11
Portland | 8, *10, 12, 40, 43, 45
Roseburg | 18, 19, 45
Salem | 22, 33
PENNSYLVANIA
Allentown | *39, 46
Altoona | 24, 32, 46
Bethlehem | 9
Clearfield | *15
Erie | 12, 16, 22, 24, *50
Greensburg | 50
Harrisburg | 10, 21, *36
Hazleton | 45
Jeannette | 49
Johnstown | 8, 34
Lancaster | 8, 23
Philadelphia | 6, 17, 26, 32, 34, *35, 42
Pittsburgh | *13, 25, 38, 42, 43, 48, 51
Reading | 25
Red Lion | 30
Scranton | 13, 32, 38, *41, 49
Wilkes Barre | 11
Williamsport | 29
York | 47
RHODE ISLAND
Block Island | 17
Providence | 12, 13, *21, 51
SOUTH CAROLINA
Allendale | *33
Anderson | 14
Beaufort | *44
Charleston | *7, 24, 34, 36, 47, 50
Columbia | 8, 10, 17, *32, 47, 48
Conway | *9
Florence | 13, 16, 21, *45
Georgetown | *38
Greenville | *9, 16, 21, 36
Greenwood | *18
Hardeeville | 28
Myrtle Beach | 18, 32
Rock Hill | 15, 39
Spartanburg | 7, 43
Sumter | *28, 39
SOUTH DAKOTA
Aberdeen | 9, *17
Brookings | *8
Eagle Butte | *13
Florence | 3
Huron | 12
Lead | 10, 29
Lowry | *11
Martin | *8
Mitchell | 26
Pierre | *10, 19
Rapid City | 2, 7, 16, 21, *26
Reliance | 13
Sioux Falls | 7, 11, 13, *24, 36, 47
Vermillion | *34
TENNESSEE
Chattanooga | 9, 12, 13, *29, 40
Cleveland | 42
Cookeville | *22, 36
Crossville | 20
Greeneville | 38
Hendersonville | 51
Jackson | 39, 43
Jellico | 23
Johnson City | 11
Kingsport | 19
Knoxville | 7, 10, *17, 26, 30, 34
Lebanon | 44
Lexington | *47
Memphis | 5, *10, 13, *23, 25, 28, *29, 31, 51
Murfreesboro | 38
Nashville | 5, *8, 10, 15, 21, 23, 27
Sneedville | *41
Tazewell | 48
TEXAS
Abilene | 15, 24, 29
Alvin | 36
Amarillo | 7, *8, 10, 15, 19
Arlington | 42
Austin | 7, 21, *22, 33, 43, 49
Baytown | 41
Beaumont | 12, 21, *33
Belton | 46
Big Spring | 33
Blanco | 18
Borger | 31
Brownsville | 24
Bryan | 28, 50
College Station | *12
Conroe | 32, 42
Corpus Christi | 8, 10, 13, *23, 27, 38
Dallas | 8, *14, 32, 35, 36, 40, 45
Decatur | 30
Del Rio | 28
Denton | *43
Eagle Pass | 18
El Paso | 7, 9, *13, 15, 18, 25, *39, 51
Farwell | 18
Fort Worth | 9, 11, 18, 41
Fredericksburg | 5
Galveston | *23, 48
Garland | 23
Greenville | 46
Harlingen | 31, *34, 38
Houston | *8, 11, 13, 19, *24, 26, 35, 38, 44
Irving | 48
Jacksonville | 22
Katy | 47
Kerrville | 32
Killeen | 13
Lake Dallas | 39
Laredo | 8, 13, 19
Llano | 27
Longview | 31, 38
Lubbock | 11, 16, 27, 35, *39, 40
Lufkin | 9
Mcallen | 49
Midland | 18, 26
Nacogdoches | 18
Odessa | 7, 9, 23, 30, *38, 42
Port Arthur | 40
Rio Grande City | 20
Rosenberg | 45
San Angelo | 11, 16, 19
San Antonio | *9, 12, *16, 30, 38, 39, 41, 48,
Sherman | 12
Snyder | 17
Sweetwater | 20
Temple | 9
Texarkana | 15
Tyler | 7
Uvalde | 26
Victoria | 11, 15
Waco | 10, *20, 26, 44
Weslaco | 13
Wichita Falls | 15, 22, 28
Wolfforth | 43
UTAH
Cedar City | 14
Logan | 12
Ogden | 24, *36, 48
Price | 11
Provo | 29, 32, *44
Richfield | *19
Salt Lake City | 13, 20, 34, 38, 40, *42, 46
St. George | 9, *18
Vernal | 16
VERMONT
Burlington | 13, 22, *32, 43
Hartford | 25
Rutland | *9
St. Johnsbury | *18
Windsor | *24
VIRGINIA
Arlington | 15
Ashland | 47
Bristol | 5
Charlottesville | 19, 32, *46
Danville | 24
Fairfax | *24
Front Royal | *21
Goldvein | *30
Grundy | 49
Hampton | 13
Hampton Norfolk | *16
Harrisonburg | 49
Lynchburg | 13, 20
Manassas | 34
Marion | *42
Norfolk | 33, 40, 46
Norton | *32
Petersburg | 22
Portsmouth | 31, 50
Richmond | 12, 25, 26, *42, *44
Roanoke | *3, 17, 18, 30, 36
Staunton | *11
Virginia Beach | 7, 29
WASHINGTON
Bellevue | 33, 50
Bellingham | 19, 35
Centralia | *19
Everett | 31
Kennewick | 44
Pasco | 18
Pullman | *10, 24
Richland | 26, *38
Seattle | *9, 25, 38, 39, 44, 48
Spokane | 7, *8, 13, 20, 28, 34, 36
Tacoma | 11, 13, 14, *27, *42
Vancouver | 30
Walla Walla | 9
Yakima | 14, 16, *21, 33
WEST VIRGINIA
Bluefield | 40, 46
Charleston | 19, 39, 41
Clarksburg | 10, 12
Grandview | *10
Huntington | 13, 23, *34
Lewisburg | 8
Martinsburg | 12
Morgantown | *33
Oak Hill | 50
Parkersburg | 49
Weston | 5
Wheeling | 7
WISCONSIN
Antigo | 46
Appleton | 27
Chippewa Falls | 49
Crandon | 12
Eagle River | 28
Eau Claire | 13, 15
Fond Du Lac | 44
Green Bay | 11, 23, 39, 41, *42
Janesville | 32
Kenosha | 40
La Crosse | 8, 14, 17, *30
Madison | 11, 19, *20, 26, 50
Mayville | 43
Menomonie | *27
Milwaukee | *8, 18, 22, 25, 28, 33, 34, *35, 46
Park Falls | *36
Racine | 48
Rhinelander | 16
Superior | 19
Suring | 21
Wausau | 7, 9, *24
Wittenberg | 50
WYOMING
Casper | *6, 12, 14, 17, 20
Cheyenne | 11, 27, 30
Jackson | 2, 11
Lander | 7, *8
Laramie | *8
Rawlins | 9
Riverton | 10
Rock Springs | 13
Sheridan | 7, 13
GUAM
Agana | 8, 12
Tamuning | 14
PUERTO RICO
Aguada | 50
Aguadilla | 12, 17, *34
Arecibo | 14, 46
Bayamon | 30
Caguas | 11, *48
Carolina | 51
Fajardo | 13, *16, 33
Guayama | 45
Humacao | 49
Mayaguez | 22, 23, 29, 35
Naranjito | 18
Ponce | 7, 9, 15, 19, *25, 47
San Juan | 21, 27, 28, 31, 32, *43
San Sebastian | 39
Yauco | 41
VIRGIN ISLANDS
Charlotte Amalie | 17, 43, *44
Christiansted | 15, 20, 23

Note: The following Appendicies will not appear in the Code of Federal Regulations.

[Appendix A—Reserved]

Appendix B—DTV Table of Allotments Information

The table in this appendix presents the Commission's assignments of DTV channel allotments to individual broadcast television stations for post-transition DTV operations. It sets forth the technical facilities—effective radiated power, antenna height above average terrain, and antenna identification code—and transmitter site for which each TV station would be authorized on its post-transition channel. The table also provides information on stations' predicted service coverage and the percentage of their service population that would be affected by interference received from other DTV stations. The channels here are the same as those the Commission is including in the new DTV Table of Allotments (DTV Table), codified in § 73.622(i) of the Commission's rules.

The table includes a DTV channel assignment for all television stations that are eligible under the qualifying criteria, set forth in the Second DTV Periodic Report and Order and reiterated in the discussion above. The technical facilities parameters, which were also used for calculation of the tabulated engineering information, were developed in the three-round channel election process that the Commission conducted to create the proposed DTV Table, in some cases modified in response to comments filed in this proceeding. These technical facilities data are also available in an EXCEL format at http://www.fcc.gov/dtv.

Data Elements

Facility ID: A five-digit code for identification of TV or DTV stations associated with channel allotments. A unique code is assigned to each station at the time the Commission first receives an application for a construction permit for that station and does not change, even where the license for the station changes ownership or major changes are made to the station, such as a change of channel or community.

City and State: The city and state to which the channel is allotted and the station is licensed to serve.

NTSC Channel: The station's current analog (NTSC) channel. This field is left blank in the case of stations that are only licensed to operate digital television service. If a station currently operates only an analog channel, that analog channel will appear in this field. Note: Stations must cease analog operations at the end of the DTV transition on February 17, 2009. See 47 U.S.C. 309(j)(14)(A).

DTV Channel: The channel assigned for the station's post-transition DTV operation.

DTV Power: The effective radiated power (ERP) for the station's post-transition DTV operation. This value is the ERP specified for the station's post-transition operation in the channel election process or modified in response to comments in this proceeding. Accordingly, the ERP may be the station's: (1) Currently authorized ERP, (2) 1997 service replication ERP, (3) other allowable value to which it agreed to operate to resolve a conflict or as part of a negotiated agreement in the channel election process; or (4) in cases where a station's assigned DTV channel is not its current DTV channel, a value determined by the Commission that will enable the station to provide coverage of the station's service area as specified in the channel election process. The value shown is the maximum, over a set of uniformly spaced compass directions, of the ERP values used in determining the station's specified noise-limited DTV service contour. This value is used in the calculations of service and interference also shown herein.

In cases where the TV Engineering Database indicated employment of a directional antenna, the ERP in each specific direction was determined through linear interpolation of the relative field values describing the directional pattern. (The directional pattern stored in the FCC computer database provides relative field values at 10-degree intervals and may include additional values in special directions. The result of linear interpolation of these relative field values is squared and multiplied by the overall maximum ERP listed for the station in the TV Engineering Database to find the ERP in a specific direction.)

Where a station's ERP was determined by the Commission, it was calculated using the following methodology. First, the distance to the station's noise-limited DTV contour (or Grade B contour for stations that do not have a DTV channel) was determined in each of 360 uniformly spaced compass directions starting from true north. This determination was made using information in the engineering database, including directional antenna data, and using terrain elevation data at points separated by 3 arc-seconds of longitude and latitude, in conjunction with the FCC F(50, 90) curves. The FCC curves (47 CFR 73.699) were applied in the usual way, as described in 47 CFR 73.684, to find this noise-limited contour distance, with the exception that dipole factor considerations were applied to the field strength contour specified in 47 CFR 73.683 for UHF channels.

The station's post-transition DTV ERP was then calculated by a further application of FCC curves, with noise-limited DTV coverage defined as the presence of field strengths of 28 dBu, 36 dBu, and 41 dBu as set forth in § 73.622(e) of the rules, respectively for low-VHF, high-VHF and UHF, at 50 percent of locations and 90 percent of the time. The family of FCC propagation curves for predicting field strength at 50 percent of locations 90 percent of the time is found by the formula F(50, 90) = F(50, 50) − [F(50, 10) − F(50, 50)]. That is, the F(50, 90) value is lower than F(50, 50) by the same amount that F(50, 10) exceeds F(50, 50). At UHF, the precise value 41 dBu was applied for channel 38; and the value used for other UHF channels is 41 dBu plus a dipole factor modification. This results in reception on channel 14 needing 2.3 dB less, and channel 69 needing 2.3 dB more, than the 41 dBu for channel 38. The dipole factor modification used in ERP calculations is equal to 20 times log10 of the ratio of the center frequency of the UHF channel of interest to the center frequency of channel 38.

In general, these computations of a station's DTV power on a new channel to match the distance to its noise-limited contour result in ERP values which vary with azimuth. For example, the azimuthal ERP pattern that replicates for a UHF channel, the noise-limited contour of an omnidirectional VHF operation will be somewhat different because terrain has a different effect on propagation in the two bands. Thus, the procedure described here effectively derives a new directional antenna pattern wherever necessary for a precise match according to FCC curves.

Finally, the ERP specified for a station's new UHF DTV channel was limited so that it does not exceed 1 megawatt. This was done by scaling the azimuthal power pattern rather than by truncation. For example, if replication by FCC curves as described above requires an ERP of 1.2 megawatts, the power pattern is reduced by a factor of 1.2 in all directions. The azimuthal pattern is used in subsequent service and interference calculations for the station.

Antenna Height: The height of the station's transmitting antenna above average terrain, that is, antenna height above average terrain (antenna HAAT). In general, the antenna HAAT value shown for each station is the same as that specified for the station in the channel election process. This value represents the height of the radiation center of the station whose service area is being replicated, above terrain averaged from 3.2 to 16.1 kilometers (2 to 10 miles) from the station's transmitter site, over 8 evenly spaced radials. In computations of service coverage and interference, the value of antenna HAAT was determined every 5 degrees directly from the terrain elevation data, and by linear interpolation for compass directions in between.

Antenna ID: A six digit number that identifies the radiation pattern for the station's transmitting antenna that is stored in the Commission's Consolidated Database System (CDBS). In cases where a station's post-transition channel is the same as its currently assigned DTV channel, the station's antenna pattern is the same as its certified facilities antenna. In other cases, such as where a station chose its analog channel or a different channel, or where the Commission's staff selected a “best available” channel for the station's post-transition operation, the antenna pattern for the station was developed by our computer software to allow the station to replicate the coverage area reached by operation at its certified facilities on its proposed channel (i.e., the station's TCD from the channel election process); or the station has indicated that it would use a particular antenna for its post-transition operation in the channel election process, the station's antenna pattern is the same as specified in Schedule B of FCC Forms 383 and 385. These antenna patterns are used in the calculation of service area and interference. The CDBS can be accessed on the Internet at http://www.fcc.gov/mb/cdbs.html.

Transmitter Latitude: The geographic latitude coordinates of the station's transmitter location.

Transmitter Longitude: The geographic longitude coordinates of the station's transmitter location.

Service Area, Service Population, and Percent Interference Received: Under the heading “DIGITAL TELEVISION SERVICE AFTER THE TRANSITION,” prospective conditions are evaluated in terms of both area and population. The values tabulated under this heading are net values: service area is the area within a station's noise-limited service contour where the desired signal is above the DTV noise threshold, less the area where service receives predicted interference from other DTV stations. Similarly, the number of people served is the population within a station's noise-limited service contour receiving an adequate signal relative to noise excluding people in areas with predicted interference. The level of interference received to a station's service is calculated based on desired-to-undesired (D/U) ratios, and these levels must be above certain threshold values for acceptable service. The percent interference received value is the percentage of the station's service coverage within its noise-limited service contour that is affected by predicted interference from other DTV stations. The threshold values used to prepare the interference estimates in this appendix are those set forth in § 73.623(c) of the rules, 47 CFR 73.623(c). The procedure used to identify areas of service and interference is that specified in OET Bulletin No. 69. See OET Bulletin No. 69, Longley-Rice Methodology for Evaluating TV Coverage and Interference, February 6, 2004 (“OET Bulletin No. 69”), available at http://www.fcc.gov/Bureaus/Engineering_Technology/Documents/bulletins/oet69/oet69.pdf.

Facility ID | State | City | NTSC: Chan | DTV: Chan | DTV: ERP (kW) | DTV: HAAT (m) | DTV: Antenna ID | DTV: Latitude (DDMMSS) | DTV: Longitude (DDDMMSS) | DTV: Area (sq km) | DTV: Population (thousand) | DTV: Percent interference received
21488 | AK | ANCHORAGE | 5 | 5 | 45 | 277 |  | 612010 | 1493046 | 45353 | 348 | 0
804 | AK | ANCHORAGE | 7 | 8 | 50 | 240 | 67898 | 612522 | 1495220 | 26532 | 317 | 0
10173 | AK | ANCHORAGE | 2 | 10 | 21 | 240 | 67943 | 612522 | 1495220 | 22841 | 317 | 0
13815 | AK | ANCHORAGE | 13 | 12 | 41 | 240 | 65931 | 612522 | 1495220 | 25379 | 317 | 0
35655 | AK | ANCHORAGE | 4 | 20 | 234 | 55 | 74791 | 611311 | 1495324 | 10885 | 302 | 0
83503 | AK | ANCHORAGE | 9 | 26 | 1000 | 212 | 74792 | 610402 | 1494436 | 23703 | 323 | 0
49632 | AK | ANCHORAGE | 11 | 28 | 28.9 | 61 | 73156 | 611133 | 1495401 | 7254 | 292 | 0
25221 | AK | ANCHORAGE | 33 | 32 | 50 | 33 | 74793 | 610957 | 1494102 | 8943 | 287 | 0
4983 | AK | BETHEL | 4 | 3 | 1 | 61 |  | 604733 | 1614622 | 10324 | 9 | 0
64597 | AK | FAIRBANKS | 7 | 7 | 3.2 | 214 | 74449 | 645520 | 1474255 | 11355 | 82 | 0
69315 | AK | FAIRBANKS | 9 | 9 | 3.2 | 152 | 80229 | 645442 | 1474638 | 6873 | 82 | 0
49621 | AK | FAIRBANKS | 11 | 11 | 3.2 | 1 | 74991 | 645036 | 1474248 | 5673 | 82 | 0
13813 | AK | FAIRBANKS | 2 | 18 | 16 | 230 |  | 645520 | 1474249 | 10344 | 82 | 0
8651 | AK | JUNEAU | 3 | 10 | 1 | 1 |  | 581756 | 1342407 | 4249 | 30 | 0
13814 | AK | JUNEAU | 8 | 11 | 0.14 | 1 |  | 581805 | 1342626 | 2239 | 30 | 1.1
60520 | AK | KETCHIKAN | 4 | 13 | 3.2 | 1 | 29997 | 552059 | 1314012 | 4355 | 15 | 0
20015 | AK | NORTH POLE | 4 | 20 | 50 | 5 |  | 644532 | 1471926 | 6209 | 82 | 0
60519 | AK | SITKA | 13 | 7 | 3.2 | 1 | 80181 | 570301 | 1352004 | 6048 | 8 | 0
56642 | AL | ANNISTON | 40 | 9 | 15.6 | 359 | 39744 | 333624 | 862503 | 24554 | 1437 | 6.6
71325 | AL | BESSEMER | 17 | 18 | 350 | 675 | 44013 | 332851 | 872403 | 37533 | 1549 | 1.4
717 | AL | BIRMINGHAM | 10 | 10 | 3 | 426 |  | 332904 | 864825 | 22745 | 1363 | 4.9
74173 | AL | BIRMINGHAM | 13 | 13 | 16.9 | 408 | 75054 | 332926 | 864748 | 31517 | 1646 | 1.9
5360 | AL | BIRMINGHAM | 42 | 30 | 1000 | 426 | 43265 | 332904 | 864825 | 31006 | 1687 | 0.4
16820 | AL | BIRMINGHAM | 68 | 36 | 885 | 406 | 68103 | 332904 | 864825 | 28264 | 1553 | 1.1
71221 | AL | BIRMINGHAM | 6 | 50 | 1000 | 420 | 74797 | 332919 | 864758 | 33118 | 1692 | 0.9
720 | AL | DEMOPOLIS | 41 | 19 | 1000 | 324 | 60739 | 322145 | 875204 | 26322 | 330 | 6.5
43846 | AL | DOTHAN | 18 | 21 | 1000 | 205 |  | 311425 | 851843 | 23559 | 436 | 0
4152 | AL | DOTHAN | 4 | 36 | 995 | 573 |  | 305510 | 854428 | 43948 | 886 | 0.4
714 | AL | DOZIER | 2 | 10 | 3.2 | 393 |  | 313316 | 862332 | 23623 | 353 | 8.7
65128 | AL | FLORENCE | 15 | 14 | 1000 | 431 | 66619 | 350009 | 870809 | 30337 | 1112 | 0
6816 | AL | FLORENCE | 26 | 20 | 50 | 230 | 74798 | 343438 | 874657 | 15572 | 355 | 1.7
715 | AL | FLORENCE | 36 | 22 | 556 | 202 |  | 343441 | 874702 | 20778 | 544 | 0.2
1002 | AL | GADSDEN | 60 | 26 | 150 | 315 | 29932 | 334853 | 862655 | 17744 | 1379 | 0.2
73312 | AL | GADSDEN | 44 | 45 | 225 | 309 | 43164 | 335327 | 862813 | 17536 | 1350 | 0.6
83943 | AL | GULF SHORES | 55 | 25 | 64.5 | 308 | 74787 | 303640 | 873626 | 15544 | 932 | 0
74138 | AL | HOMEWOOD | 21 | 28 | 765 | 427 | 68108 | 332904 | 864825 | 30801 | 1663 | 0.9
48693 | AL | HUNTSVILLE | 19 | 19 | 40.7 | 514 |  | 344419 | 863156 | 23609 | 992 | 2.2
713 | AL | HUNTSVILLE | 25 | 24 | 396 | 340 |  | 344413 | 863145 | 27052 | 1092 | 0.7
57292 | AL | HUNTSVILLE | 31 | 32 | 468 | 538 | 67239 | 344412 | 863159 | 32626 | 1301 | 0.9
28119 | AL | HUNTSVILLE | 54 | 41 | 400 | 518 | 43864 | 344412 | 863159 | 29827 | 1213 | 1
591 | AL | HUNTSVILLE | 48 | 49 | 41 | 552 |  | 344239 | 863207 | 22282 | 936 | 0.8
710 | AL | LOUISVILLE | 43 | 44 | 925 | 262 | 59887 | 314304 | 852603 | 18777 | 337 | 0.1
4143 | AL | MOBILE | 10 | 9 | 29 | 381 |  | 304117 | 874754 | 34970 | 1203 | 0
11906 | AL | MOBILE | 15 | 15 | 510 | 558 | 74580 | 303640 | 873627 | 35481 | 1282 | 0.6
60827 | AL | MOBILE | 21 | 20 | 105 | 529 | 70813 | 303640 | 873627 | 23682 | 1116 | 0
83740 | AL | MOBILE |  | 23 | 337 | 574 | 75124 | 303645 | 873843 | 37989 | 1283 | 0.1
73187 | AL | MOBILE | 5 | 27 | 1000 | 581 | 74800 | 304120 | 874949 | 45411 | 1406 | 0.3
721 | AL | MOBILE | 42 | 41 | 199 | 185 |  | 303933 | 875333 | 16361 | 912 | 0
13993 | AL | MONTGOMERY | 12 | 12 | 24.9 | 507 | 74369 | 315828 | 860944 | 31615 | 788 | 0.5
73642 | AL | MONTGOMERY | 20 | 16 | 1000 | 518 | 29552 | 315828 | 860944 | 37703 | 829 | 1.3
706 | AL | MONTGOMERY | 26 | 27 | 568 | 176 |  | 322255 | 861733 | 18025 | 549 | 3.7
72307 | AL | MONTGOMERY | 32 | 32 | 199 | 545 | 75049 | 320830 | 864443 | 28378 | 579 | 0.7
60829 | AL | MONTGOMERY | 45 | 46 | 500 | 308 | 28430 | 322413 | 861147 | 21909 | 641 | 0.3
711 | AL | MOUNT CHEAHA | 7 | 7 | 24.1 | 610 | 80203 | 332907 | 854833 | 42633 | 2370 | 3.4
11113 | AL | OPELIKA | 66 | 47 | 136 | 539 | 74487 | 321916 | 844728 | 24321 | 662 | 1.3
32851 | AL | OZARK | 34 | 33 | 15 | 151 | 68078 | 311228 | 853649 | 8868 | 244 | 0
84802 | AL | SELMA | 29 | 29 | 1000 | 408 | 32810 | 323227 | 865033 | 26741 | 621 | 5.9
701 | AL | SELMA | 8 | 42 | 787 | 507 |  | 320858 | 864651 | 38739 | 722 | 0.1
62207 | AL | TROY | 67 | 48 | 50 | 345 | 30182 | 320336 | 855701 | 14891 | 479 | 2
77496 | AL | TUSCALOOSA | 23 | 23 | 50 | 266 | 74752 | 330315 | 873257 | 16640 | 407 | 1
21258 | AL | TUSCALOOSA | 33 | 33 | 160 | 625 | 70330 | 332848 | 872550 | 30987 | 1357 | 0.5
68427 | AL | TUSKEGEE | 22 | 22 | 100 | 325 | 74464 | 320336 | 855702 | 17790 | 532 | 0.4
2768 | AR | ARKADELPHIA | 9 | 13 | 7.3 | 320 |  | 335426 | 930646 | 22157 | 299 | 16.9
86534 | AR | CAMDEN | 49 | 49 | 68.1 | 175 | 74782 | 331619 | 924212 | 13417 | 146 | 0.5
92872 | AR | EL DORADO |  | 10 | 6 | 541 | 80186 | 330441 | 921341 | 26324 | 442 | 1.6
35692 | AR | EL DORADO | 10 | 27 | 823 | 582 |  | 330441 | 921341 | 43407 | 631 | 5.4
84164 | AR | EL DORADO | 43 | 43 | 206 | 530 | 74776 | 330441 | 921341 | 26259 | 446 | 0.1
81593 | AR | EUREKA SPRINGS | 34 | 34 | 87.1 | 213 | 75069 | 362630 | 935825 | 12963 | 442 | 0.1
2767 | AR | FAYETTEVILLE | 13 | 9 | 19 | 501 |  | 354853 | 940141 | 35150 | 889 | 1.5
60354 | AR | FAYETTEVILLE | 29 | 15 | 180 | 266 |  | 360057 | 940459 | 19569 | 560 | 3.5
66469 | AR | FORT SMITH | 5 | 18 | 550 | 286 |  | 354949 | 940924 | 25959 | 736 | 0.2
60353 | AR | FORT SMITH | 40 | 21 | 325 | 602 |  | 350415 | 944043 | 33811 | 525 | 7.4
29560 | AR | FORT SMITH | 24 | 27 | 200 | 305 | 41354 | 354236 | 940815 | 19234 | 627 | 0.8
78314 | AR | HARRISON | 31 | 31 | 191 | 339 | 75064 | 364218 | 930345 | 18376 | 533 | 2.8
608 | AR | HOT SPRINGS | 26 | 26 | 66.4 | 258 | 74370 | 342221 | 930247 | 13726 | 250 | 0.1
13988 | AR | JONESBORO | 8 | 8 | 18 | 531 |  | 355322 | 905608 | 39540 | 689 | 0.2
2769 | AR | JONESBORO | 19 | 20 | 50 | 310 |  | 355414 | 904614 | 18806 | 312 | 0
2784 | AR | JONESBORO | 48 | 48 | 982 | 295 | 75036 | 353616 | 903118 | 24784 | 1386 | 0
2770 | AR | LITTLE ROCK | 2 | 7 | 8.06 | 548 | 74338 | 342631 | 921303 | 30372 | 952 | 0
2787 | AR | LITTLE ROCK | 11 | 12 | 55 | 519 |  | 344757 | 922959 | 43098 | 1128 | 0.8
33543 | AR | LITTLE ROCK | 7 | 22 | 750 | 574 |  | 342824 | 921210 | 43307 | 1087 | 0.3
11951 | AR | LITTLE ROCK | 16 | 30 | 1000 | 449 | 40344 | 344757 | 922929 | 32289 | 1043 | 0
33440 | AR | LITTLE ROCK | 4 | 32 | 989 | 474 | 29656 | 344757 | 922959 | 37939 | 1084 | 0.2
58267 | AR | LITTLE ROCK | 36 | 36 | 50 | 394 | 74768 | 344756 | 922945 | 16626 | 809 | 0.2
37005 | AR | LITTLE ROCK | 42 | 44 | 1000 | 485 | 59098 | 344745 | 922944 | 31868 | 1038 | 0.5
2777 | AR | MOUNTAIN VIEW | 6 | 13 | 4.05 | 407 | 66439 | 354847 | 921724 | 20280 | 260 | 14.6
607 | AR | PINE BLUFF | 25 | 24 | 725 | 356 | 40413 | 343155 | 920241 | 24562 | 845 | 0
41212 | AR | PINE BLUFF | 38 | 39 | 1000 | 590 | 40345 | 342631 | 921303 | 34162 | 1006 | 0
29557 | AR | ROGERS | 51 | 50 | 1000 | 267 |  | 362447 | 935716 | 23556 | 643 | 0
67347 | AR | SPRINGDALE | 57 | 39 | 316 | 114 | 40726 | 361107 | 941749 | 12789 | 422 | 0.1
81441 | AZ | DOUGLAS | 3 | 36 | 1000 | 9 | 74708 | 312208 | 1093145 | 10673 | 34 | 0
24749 | AZ | FLAGSTAFF | 2 | 2 | 7.25 | 465 | 74450 | 345806 | 1113028 | 33788 | 270 | 0.2
41517 | AZ | FLAGSTAFF | 13 | 13 | 19.6 | 474 | 74998 | 345805 | 1113029 | 29913 | 203 | 0
74149 | AZ | FLAGSTAFF | 4 | 18 | 726 | 487 | 74804 | 345804 | 1113030 | 34193 | 227 | 0
35104 | AZ | FLAGSTAFF | 9 | 32 | 1000 | 343 | 72238 | 345806 | 1113029 | 26812 | 213 | 1
63927 | AZ | GREEN VALLEY | 46 | 46 | 70.8 | 1095 | 74581 | 322454 | 1104256 | 26056 | 802 | 0
83491 | AZ | HOLBROOK | 11 | 11 | 3.2 | 54 | 74722 | 345505 | 1100825 | 8819 | 16 | 0
24753 | AZ | KINGMAN | 6 | 19 | 1000 | 585 | 74805 | 350157 | 1142156 | 30420 | 175 | 0
35486 | AZ | MESA | 12 | 12 | 22 | 543 | 74517 | 332000 | 1120348 | 33724 | 3236 | 0
2728 | AZ | PHOENIX | 8 | 8 | 30.7 | 527 | 75007 | 332000 | 1120349 | 35929 | 3239 | 0
35587 | AZ | PHOENIX | 10 | 10 | 22.2 | 558 | 74488 | 332003 | 1120343 | 34519 | 3236 | 0
59440 | AZ | PHOENIX | 15 | 15 | 218 | 509 |  | 332000 | 1120346 | 28668 | 3229 | 0
41223 | AZ | PHOENIX | 5 | 17 | 1000 | 507 | 67336 | 332002 | 1120340 | 31756 | 3237 | 0
67868 | AZ | PHOENIX | 21 | 20 | 500 | 489 |  | 332002 | 1120342 | 30913 | 3232 | 0
40993 | AZ | PHOENIX | 3 | 24 | 1000 | 501 | 43557 | 332001 | 1120345 | 31415 | 3234 | 0
68886 | AZ | PHOENIX | 45 | 26 | 1000 | 517 | 33195 | 332001 | 1120332 | 32353 | 3237 | 0
35705 | AZ | PHOENIX | 33 | 33 | 196 | 510 | 74503 | 332000 | 1120346 | 22493 | 3226 | 0
81458 | AZ | PHOENIX | 39 | 39 | 50 | 538 | 80243 | 332003 | 1120338 | 17660 | 3209 | 0.1
7143 | AZ | PHOENIX | 61 | 49 | 531 | 497 | 43560 | 332002 | 1120344 | 24945 | 3227 | 0
35811 | AZ | PRESCOTT | 7 | 7 | 3.2 | 850 | 74984 | 344115 | 1120701 | 24427 | 266 | 0.6
35095 | AZ | SIERRA VISTA | 58 | 44 | 1000 | 319 | 65401 | 314532 | 1104803 | 18972 | 893 | 0
26655 | AZ | TOLLESON | 51 | 51 | 197 | 546 |  | 332003 | 1120338 | 25018 | 3227 | 0
36918 | AZ | TUCSON | 9 | 9 | 9.23 | 1134 | 74508 | 322454 | 1104259 | 39703 | 999 | 0.1
11908 | AZ | TUCSON | 18 | 19 | 480 | 1123 | 59934 | 322456 | 1104250 | 37731 | 924 | 0.1
25735 | AZ | TUCSON | 4 | 23 | 405 | 1123 | 68106 | 322456 | 1104250 | 35035 | 914 | 0.2
44052 | AZ | TUCSON | 11 | 25 | 480 | 1123 | 64314 | 322456 | 1104250 | 35738 | 911 | 0.2
2722 | AZ | TUCSON | 27 | 28 | 50 | 178 | 42999 | 321253 | 1110021 | 8550 | 831 | 0
2731 | AZ | TUCSON | 6 | 30 | 668 | 1092 |  | 322455 | 1104251 | 45415 | 983 | 0
48663 | AZ | TUCSON | 13 | 32 | 108 | 1123 | 43979 | 322456 | 1104250 | 25662 | 807 | 0.7
30601 | AZ | TUCSON | 40 | 40 | 396 | 621 | 74564 | 321456 | 1110658 | 22249 | 933 | 0
74449 | AZ | YUMA | 11 | 11 | 22.3 | 468 | 74556 | 330310 | 1144940 | 34281 | 326 | 0
33639 | AZ | YUMA | 13 | 16 | 510 | 475 | 74806 | 330317 | 1144934 | 28310 | 324 | 0
24518 | CA | ANAHEIM | 56 | 32 | 1000 | 949 | 42876 | 341335 | 1180358 | 33879 | 15062 | 0
8263 | CA | ARCATA | 23 | 22 | 50 | 510 | 74807 | 404336 | 1235818 | 20016 | 120 | 0
29234 | CA | AVALON | 54 | 47 | 350 | 937 | 66764 | 341337 | 1180357 | 31249 | 14695 | 0.2
40878 | CA | BAKERSFIELD | 23 | 10 | 4.6 | 1128 | 74808 | 352714 | 1183537 | 23144 | 841 | 0
34459 | CA | BAKERSFIELD | 17 | 25 | 135 | 405 | 44570 | 352617 | 1184422 | 18738 | 698 | 0
4148 | CA | BAKERSFIELD | 29 | 33 | 110 | 1128 | 27939 | 352711 | 1183525 | 24592 | 992 | 0
7700 | CA | BAKERSFIELD | 45 | 45 | 210 | 387 | 74619 | 352620 | 1184424 | 16819 | 697 | 0
63865 | CA | BARSTOW | 64 | 44 | 1000 | 596 |  | 343634 | 1171711 | 27479 | 1578 | 0
83825 | CA | BISHOP | 20 | 20 | 50 | 928 | 74744 | 372443 | 1181106 | 16923 | 23 | 0
40517 | CA | CALIPATRIA | 54 | 36 | 155 | 476 | 75040 | 330302 | 1144938 | 20044 | 318 | 0
4939 | CA | CERES | 23 | 15 | 15 | 172 |  | 372934 | 1211329 | 11349 | 1202 | 0
33745 | CA | CHICO | 24 | 24 | 331 | 537 |  | 401531 | 1220524 | 28699 | 422 | 0
24508 | CA | CHICO | 12 | 43 | 1000 | 396 | 74809 | 395730 | 1214248 | 25916 | 597 | 1.5
23302 | CA | CLOVIS | 43 | 43 | 283 | 642 |  | 364446 | 1191657 | 31884 | 1452 | 0.1
21533 | CA | CONCORD | 42 | 14 | 50 | 942 | 80194 | 375254 | 1215505 | 29972 | 8383 | 0.1
19783 | CA | CORONA | 52 | 39 | 54 | 912 | 41582 | 341248 | 1180341 | 21797 | 14149 | 0.2
57945 | CA | COTATI | 22 | 23 | 110 | 628 | 68181 | 382054 | 1223438 | 23262 | 4471 | 0
51208 | CA | EL CENTRO | 9 | 9 | 19.5 | 414 | 75031 | 330319 | 1144944 | 31675 | 325 | 0
36170 | CA | EL CENTRO | 7 | 22 | 1000 | 477 | 36690 | 330302 | 1144938 | 33284 | 325 | 0
53382 | CA | EUREKA | 3 | 3 | 8.39 | 503 | 74390 | 404352 | 1235706 | 35110 | 149 | 0
55435 | CA | EUREKA | 13 | 11 | 40 | 550 |  | 404338 | 1235817 | 39817 | 149 | 0
42640 | CA | EUREKA | 6 | 17 | 30 | 550 | 44483 | 404339 | 1235817 | 17975 | 118 | 0
58618 | CA | EUREKA | 29 | 28 | 119 | 381 | 28858 | 404336 | 1235826 | 15820 | 121 | 0
8378 | CA | FORT BRAGG | 8 | 8 | 44.9 | 733 | 74379 | 394138 | 1233443 | 38724 | 143 | 0.2
67494 | CA | FRESNO | 53 | 7 | 38 | 560 | 29423 | 370423 | 1192552 | 33624 | 1631 | 0.2
8620 | CA | FRESNO | 30 | 30 | 182 | 614 | 74349 | 370437 | 1192601 | 22934 | 1437 | 0.1
56034 | CA | FRESNO | 47 | 34 | 185 | 577 | 44959 | 370414 | 1192531 | 24853 | 1422 | 0.1
35594 | CA | FRESNO | 24 | 38 | 326 | 601 | 69073 | 370419 | 1192548 | 28138 | 1466 | 0.1
69733 | CA | FRESNO | 18 | 40 | 250 | 698 | 67432 | 364445 | 1191651 | 29501 | 1441 | 0
34439 | CA | HANFORD | 21 | 20 | 350 | 580 | 29793 | 370422 | 1192550 | 28070 | 1509 | 0
4328 | CA | HUNTINGTON BEACH | 50 | 48 | 1000 | 949 | 65049 | 341335 | 1180357 | 35188 | 15139 | 0
35608 | CA | LONG BEACH | 18 | 18 | 111 | 889 | 75204 | 341250 | 1180340 | 19277 | 14109 | 2.8
282 | CA | LOS ANGELES | 7 | 7 | 11.2 | 978 | 74603 | 341337 | 1180358 | 37164 | 15562 | 0.1
21422 | CA | LOS ANGELES | 9 | 9 | 12 | 951 | 69629 | 341338 | 1180400 | 34447 | 15439 | 0
22208 | CA | LOS ANGELES | 11 | 11 | 40.2 | 902 | 74702 | 341329 | 1180348 | 40526 | 15807 | 0.1
33742 | CA | LOS ANGELES | 13 | 13 | 14.1 | 899 | 74704 | 341342 | 1180402 | 36927 | 15505 | 0
13058 | CA | LOS ANGELES | 28 | 28 | 107 | 913 | 70604 | 341326 | 1180343 | 21994 | 14312 | 1.9
35670 | CA | LOS ANGELES | 5 | 31 | 1000 | 954 | 32823 | 341336 | 1180356 | 42312 | 15543 | 0.2
35123 | CA | LOS ANGELES | 34 | 34 | 392 | 956 | 74509 | 341336 | 1180359 | 31607 | 15014 | 0
47906 | CA | LOS ANGELES | 4 | 36 | 711 | 984 | 74810 | 341332 | 1180352 | 41039 | 15464 | 0
38430 | CA | LOS ANGELES | 58 | 41 | 162 | 901 | 41475 | 341326 | 1180345 | 22058 | 13992 | 1
26231 | CA | LOS ANGELES | 22 | 42 | 486 | 892 | 42167 | 341248 | 1180341 | 24724 | 14376 | 1.4
9628 | CA | LOS ANGELES | 2 | 43 | 300 | 947 | 69117 | 341338 | 1180400 | 31477 | 14815 | 0.5
58608 | CA | MERCED | 51 | 11 | 58 | 575 | 75200 | 370419 | 1192549 | 35621 | 1691 | 0
58609 | CA | MODESTO | 19 | 18 | 500 | 555 | 36726 | 380707 | 1204327 | 29812 | 3331 | 0
35611 | CA | MONTEREY | 67 | 31 | 50 | 701 | 29629 | 364523 | 1213005 | 14541 | 1065 | 42.1
26249 | CA | MONTEREY | 46 | 32 | 46 | 758 | 44481 | 363205 | 1213714 | 16387 | 761 | 9
49153 | CA | NOVATO | 68 | 47 | 1000 | 402 | 28688 | 380900 | 1223531 | 15940 | 5258 | 3
35703 | CA | OAKLAND | 2 | 44 | 811 | 433 | 74637 | 374519 | 1222706 | 23024 | 6336 | 0
60549 | CA | ONTARIO | 46 | 29 | 400 | 937 | 68117 | 341336 | 1180359 | 32827 | 14946 | 1.2
56384 | CA | OXNARD | 63 | 24 | 85 | 533 | 40843 | 341949 | 1190124 | 16934 | 2418 | 38.4
25577 | CA | PALM SPRINGS | 42 | 42 | 50 | 219 | 72090 | 335158 | 1162602 | 7331 | 372 | 4.4
16749 | CA | PALM SPRINGS | 36 | 46 | 50 | 207 | 74811 | 335200 | 1162556 | 7220 | 371 | 0
58605 | CA | PARADISE | 30 | 20 | 661 | 448 | 27908 | 395750 | 1214238 | 23929 | 576 | 0
35512 | CA | PORTERVILLE | 61 | 48 | 197 | 804 | 38116 | 361714 | 1185017 | 27716 | 1741 | 0
55083 | CA | RANCHO PALOS VERDES | 44 | 51 | 1000 | 937 | 65079 | 341335 | 1180357 | 33638 | 15007 | 0
8291 | CA | REDDING | 7 | 7 | 11.6 | 1106 | 74504 | 403610 | 1223900 | 38353 | 371 | 0.1
47285 | CA | REDDING | 9 | 9 | 9.69 | 1097 | 74412 | 403609 | 1223901 | 37993 | 370 | 1.4
22161 | CA | RIVERSIDE | 62 | 45 | 670 | 907 | 74510 | 341250 | 1180340 | 31637 | 15069 | 0
35855 | CA | SACRAMENTO | 6 | 9 | 19.2 | 567 | 74604 | 381618 | 1213018 | 33919 | 5291 | 13.9
25048 | CA | SACRAMENTO | 10 | 10 | 16.6 | 595 | 74695 | 381424 | 1213003 | 37093 | 6313 | 0
51499 | CA | SACRAMENTO | 31 | 21 | 850 | 581 |  | 381554 | 1212924 | 39963 | 6384 | 0
33875 | CA | SACRAMENTO | 3 | 35 | 1000 | 591 | 74812 | 381554 | 1212924 | 37884 | 5024 | 17.7
10205 | CA | SACRAMENTO | 40 | 40 | 765 | 581 | 70334 | 381618 | 1213018 | 31502 | 4587 | 4.2
52953 | CA | SACRAMENTO | 29 | 48 | 1000 | 489 | 44981 | 381554 | 1212924 | 30324 | 4218 | 1.1
19653 | CA | SALINAS | 8 | 8 | 19.2 | 736 | 70343 | 364523 | 1213005 | 28847 | 2561 | 14.8
14867 | CA | SALINAS | 35 | 13 | 19.8 | 720 | 44925 | 364522 | 1213006 | 23793 | 1122 | 49.2
58795 | CA | SAN BERNARDINO | 24 | 26 | 440 | 529 |  | 335757 | 1171705 | 20478 | 13150 | 0
58978 | CA | SAN BERNARDINO | 30 | 38 | 1000 | 909 | 46152 | 341246 | 1180341 | 23330 | 14414 | 0.1
42122 | CA | SAN DIEGO | 8 | 8 | 14.9 | 226 | 80224 | 325017 | 1171456 | 24515 | 3087 | 0.2
40876 | CA | SAN DIEGO | 10 | 10 | 11 | 205 | 74985 | 325020 | 1171456 | 19575 | 2948 | 0.7
10238 | CA | SAN DIEGO | 51 | 18 | 355 | 576 | 39587 | 324150 | 1165604 | 29082 | 2910 | 3.5
58827 | CA | SAN DIEGO | 69 | 19 | 323 | 598 | 65036 | 324147 | 1165607 | 29443 | 3106 | 0.2
6124 | CA | SAN DIEGO | 15 | 30 | 350 | 567 | 33507 | 324153 | 1165603 | 27819 | 3013 | 0.3
35277 | CA | SAN DIEGO | 39 | 40 | 370 | 563 | 68010 | 324148 | 1165606 | 26970 | 2968 | 0.3
34470 | CA | SAN FRANCISCO | 7 | 7 | 21 | 509 | 74465 | 374520 | 1222705 | 32516 | 6516 | 7.3
51189 | CA | SAN FRANCISCO | 20 | 19 | 383 | 418 | 19024 | 374519 | 1222706 | 22989 | 6360 | 1
37511 | CA | SAN FRANCISCO | 26 | 27 | 500 | 403 | 67202 | 374112 | 1222603 | 21218 | 6116 | 1.8
25452 | CA | SAN FRANCISCO | 5 | 29 | 1000 | 506 | 74813 | 374520 | 1222705 | 36730 | 7115 | 0
35500 | CA | SAN FRANCISCO | 9 | 30 | 709 | 509 | 74814 | 374519 | 1222706 | 33404 | 6593 | 4.7
43095 | CA | SAN FRANCISCO | 32 | 33 | 50 | 491 | 74815 | 374520 | 1222705 | 16151 | 5924 | 0.1
65526 | CA | SAN FRANCISCO | 4 | 38 | 712 | 446 | 74655 | 374519 | 1222706 | 23165 | 6338 | 1.4
71586 | CA | SAN FRANCISCO | 38 | 39 | 1000 | 428 | 29544 | 374519 | 1222706 | 24293 | 6266 | 4
69619 | CA | SAN FRANCISCO | 44 | 45 | 400 | 446 | 27801 | 374519 | 1222706 | 19753 | 6005 | 2.9
33778 | CA | SAN FRANCISCO | 14 | 51 | 476 | 701 | 28493 | 372957 | 1215216 | 19534 | 6377 | 0.1
35280 | CA | SAN JOSE | 11 | 12 | 103 | 377 | 64426 | 374107 | 1222601 | 36145 | 6703 | 0.1
34564 | CA | SAN JOSE | 36 | 36 | 740 | 668 | 74585 | 372917 | 1215159 | 28576 | 6601 | 4.5
22644 | CA | SAN JOSE | 65 | 41 | 1000 | 418 | 60706 | 374115 | 1222601 | 23495 | 6250 | 3.3
64987 | CA | SAN JOSE | 48 | 49 | 257 | 688 | 38067 | 372957 | 1215216 | 21071 | 6083 | 1.5
35663 | CA | SAN JOSE | 54 | 50 | 290 | 662 | 34197 | 372917 | 1215159 | 16608 | 6021 | 1.7
19654 | CA | SAN LUIS OBISPO | 6 | 15 | 1000 | 515 | 28386 | 352137 | 1203918 | 30360 | 439 | 0
12930 | CA | SAN LUIS OBISPO | 33 | 34 | 82 | 441 | 44369 | 352138 | 1203921 | 18410 | 410 | 0.2
58912 | CA | SAN MATEO | 60 | 43 | 536 | 428 | 44617 | 374519 | 1222706 | 20821 | 6089 | 2.4
59013 | CA | SANGER | 59 | 36 | 372 | 600 | 43974 | 370437 | 1192601 | 27078 | 1440 | 0
67884 | CA | SANTA ANA | 40 | 23 | 50 | 900 | 39876 | 341327 | 1180344 | 21304 | 13620 | 5.6
12144 | CA | SANTA BARBARA | 38 | 21 | 1000 | 923 | 33205 | 343128 | 1195735 | 36089 | 1343 | 0
60637 | CA | SANTA BARBARA | 3 | 27 | 699 | 917 | 74818 | 343132 | 1195728 | 42071 | 1298 | 2.1
63165 | CA | SANTA MARIA | 12 | 19 | 188 | 591 | 74819 | 345437 | 1201108 | 26167 | 413 | 0
34440 | CA | SANTA ROSA | 50 | 32 | 19.9 | 928 | 72086 | 384010 | 1223752 | 18189 | 742 | 4.5
56550 | CA | STOCKTON | 13 | 25 | 1000 | 594 | 32519 | 381424 | 1213003 | 39491 | 6024 | 7.9
20871 | CA | STOCKTON | 64 | 26 | 425 | 599 | 71124 | 381424 | 1213003 | 27821 | 4135 | 4.8
10242 | CA | STOCKTON | 58 | 46 | 600 | 580 |  | 381554 | 1212924 | 32953 | 4769 | 10.3
16729 | CA | TWENTYNINE PALMS |  | 23 | 150 | 784 | 36709 | 340217 | 1164847 | 20848 | 1940 | 44.1
51429 | CA | VALLEJO | 66 | 34 | 150 | 419 | 39592 | 374519 | 1222706 | 17320 | 5876 | 3.3
14000 | CA | VENTURA | 57 | 49 | 1000 | 937 | 65163 | 341335 | 1180357 | 34730 | 15072 | 0
51488 | CA | VISALIA | 26 | 28 | 219 | 763 | 28096 | 364002 | 1185242 | 30550 | 1433 | 0
16950 | CA | VISALIA | 49 | 50 | 185 | 834 |  | 361714 | 1185017 | 31085 | 1753 | 0
8214 | CA | WATSONVILLE | 25 | 25 | 81.1 | 699 | 70678 | 364522 | 1213004 | 17432 | 1895 | 7.1
57219 | CO | BOULDER | 14 | 15 | 200 | 351 | 66988 | 394017 | 1051306 | 21679 | 2934 | 0
22685 | CO | BROOMFIELD | 12 | 13 | 34.4 | 730 | 80221 | 394055 | 1052949 | 33459 | 3042 | 0
37101 | CO | CASTLE ROCK | 53 | 46 | 300 | 178 | 30026 | 392557 | 1043918 | 13108 | 2332 | 0
35037 | CO | COLORADO SPRINGS | 11 | 10 | 20.1 | 725 | 20589 | 384441 | 1045141 | 29268 | 959 | 54
35991 | CO | COLORADO SPRINGS | 21 | 22 | 51 | 641 | 44318 | 384443 | 1045140 | 22342 | 1109 | 0
52579 | CO | COLORADO SPRINGS | 13 | 24 | 459 | 652 | 74820 | 384445 | 1045138 | 30518 | 2149 | 0
40875 | CO | DENVER | 7 | 7 | 37.4 | 295 | 74403 | 394350 | 1051353 | 24932 | 2899 | 2
23074 | CO | DENVER | 9 | 9 | 39.6 | 318 | 74392 | 394350 | 1051353 | 25732 | 2925 | 1.8
14040 | CO | DENVER | 6 | 18 | 1000 | 292 | 74821 | 394349 | 1051500 | 25306 | 2939 | 0.4
68581 | CO | DENVER | 20 | 19 | 1000 | 295 | 44187 | 394350 | 1051353 | 24975 | 2948 | 0.3
126 | CO | DENVER | 31 | 32 | 1000 | 314 | 30041 | 394345 | 1051412 | 23205 | 2875 | 0
35883 | CO | DENVER | 2 | 34 | 1000 | 318 |  | 394358 | 1051408 | 26818 | 2981 | 0.2
47903 | CO | DENVER | 4 | 35 | 1000 | 373 | 44452 | 394351 | 1051354 | 25932 | 2957 | 0.2
20476 | CO | DENVER | 41 | 40 | 74.8 | 344 |  | 393559 | 1051235 | 17700 | 2624 | 0
68695 | CO | DENVER | 59 | 43 | 145 | 356 | 74822 | 394024 | 1051303 | 17347 | 2700 | 0.4
24514 | CO | DENVER | 50 | 51 | 900 | 233 | 36173 | 394358 | 1051408 | 19718 | 2711 | 0
48589 | CO | DURANGO | 6 | 15 | 46 | 90 | 44437 | 371546 | 1075358 | 8794 | 91 | 0
84224 | CO | DURANGO |  | 20 | 46 | 130 | 65291 | 371546 | 1075358 | 7843 | 65 | 0
82613 | CO | DURANGO | 33 | 33 | 50 | 122 | 75068 | 371546 | 1075345 | 6607 | 54 | 0
125 | CO | FORT COLLINS | 22 | 21 | 1000 | 233 |  | 403832 | 1044905 | 25510 | 1284 | 0
70578 | CO | GLENWOOD SPRINGS | 3 | 23 | 16.1 | 771 | 71566 | 392507 | 1072206 | 14435 | 82 | 0
70596 | CO | GRAND JUNCTION | 5 | 2 | 0.8 | 28 | 29734 | 390517 | 1083358 | 7398 | 116 | 0
52593 | CO | GRAND JUNCTION | 8 | 7 | 9.7 | 829 | 74825 | 390255 | 1081506 | 31964 | 185 | 0
24766 | CO | GRAND JUNCTION | 11 | 12 | 5.3 | 452 | 44527 | 390400 | 1084445 | 17986 | 138 | 0.3
31597 | CO | GRAND JUNCTION | 4 | 15 | 71.5 | 407 | 29771 | 390358 | 1084446 | 12155 | 130 | 0
14042 | CO | GRAND JUNCTION | 18 | 18 | 51.2 | 883 | 74404 | 390314 | 1081513 | 19336 | 121 | 0
38375 | CO | LONGMONT | 25 | 29 | 540 | 379 | 71598 | 400559 | 1045402 | 24252 | 2839 | 0
70579 | CO | MONTROSE | 10 | 13 | 2.6 | 35 | 29766 | 383102 | 1075112 | 7576 | 53 | 1
69170 | CO | PUEBLO | 8 | 8 | 20.3 | 727 | 74992 | 384444 | 1045139 | 29601 | 900 | 56.5
59014 | CO | PUEBLO | 5 | 42 | 880 | 660 | 68141 | 384442 | 1045139 | 31089 | 765 | 13.6
20373 | CO | STEAMBOAT SPRINGS | 24 | 10 | 0.481 | 175 | 44199 | 402743 | 1065057 | 6228 | 29 | 0
63158 | CO | STERLING | 3 | 23 | 599 | 204 |  | 403457 | 1030156 | 21554 | 73 | 0
70493 | CT | BRIDGEPORT | 43 | 42 | 1000 | 156 |  | 412143 | 730648 | 18461 | 5591 | 1.7
13594 | CT | BRIDGEPORT | 49 | 49 | 50 | 222 | 74586 | 411643 | 731108 | 10597 | 3792 | 3.3
147 | CT | HARTFORD | 61 | 31 | 380 | 506 | 66902 | 414213 | 724957 | 23488 | 3645 | 16.3
53115 | CT | HARTFORD | 3 | 33 | 1000 | 289 | 44846 | 414630 | 724820 | 21115 | 3536 | 16.1
13602 | CT | HARTFORD | 24 | 45 | 465 | 505 | 65933 | 414213 | 724957 | 26813 | 4226 | 1.3
3072 | CT | HARTFORD | 18 | 46 | 217 | 269 |  | 414630 | 724804 | 16467 | 3302 | 7.6
74170 | CT | NEW BRITAIN | 30 | 35 | 250 | 434 | 65777 | 414202 | 724957 | 24346 | 4252 | 3.8
13595 | CT | NEW HAVEN | 65 | 6 | 0.4 | 88 |  | 411942 | 725425 | 9068 | 2713 | 10.1
74109 | CT | NEW HAVEN | 8 | 10 | 20.5 | 342 | 65037 | 412522 | 725706 | 25647 | 6215 | 12
33081 | CT | NEW HAVEN | 59 | 39 | 170 | 301 | 46284 | 412522 | 725706 | 17709 | 4376 | 2.9
51980 | CT | NEW LONDON | 26 | 26 | 76 | 368 | 80220 | 412503 | 721155 | 18575 | 3333 | 2.6
13607 | CT | NORWICH | 53 | 9 | 3.2 | 192 | 75021 | 413114 | 721003 | 11997 | 1198 | 29.8
14050 | CT | WATERBURY | 20 | 20 | 58.5 | 515 | 74364 | 414213 | 724957 | 21645 | 3935 | 9.5
1051 | DC | WASHINGTON | 7 | 7 | 15 | 254 | 74539 | 385701 | 770447 | 22296 | 7065 | 0
65593 | DC | WASHINGTON | 9 | 9 | 17 | 254 | 74506 | 385701 | 770447 | 22544 | 7075 | 0.3
65670 | DC | WASHINGTON | 26 | 27 | 90 | 254 | 66360 | 385701 | 770447 | 16086 | 6626 | 1.6
27772 | DC | WASHINGTON | 32 | 33 | 100 | 254 |  | 385701 | 770447 | 17550 | 6781 | 0.1
51567 | DC | WASHINGTON | 20 | 35 | 500 | 254 |  | 385701 | 770447 | 21882 | 7046 | 0.2
22207 | DC | WASHINGTON | 5 | 36 | 1000 | 235 | 74830 | 385721 | 770457 | 22214 | 7092 | 0.8
47904 | DC | WASHINGTON | 4 | 48 | 1000 | 237 | 74831 | 385624 | 770454 | 22223 | 7074 | 0.1
30576 | DC | WASHINGTON | 50 | 50 | 123 | 253 |  | 385744 | 770136 | 17031 | 6767 | 0.1
72335 | DE | SEAFORD | 64 | 44 | 98 | 196 | 66096 | 383915 | 753642 | 11086 | 465 | 7.4
72338 | DE | WILMINGTON | 12 | 12 | 9.9 | 294 | 74622 | 400230 | 751424 | 21656 | 7752 | 1.6
51984 | DE | WILMINGTON | 61 | 31 | 200 | 374 | 39302 | 400230 | 751411 | 18478 | 6836 | 9.5
51349 | FL | BOCA RATON | 63 | 40 | 1000 | 310 |  | 255934 | 801027 | 29971 | 4925 | 0
6601 | FL | BRADENTON | 66 | 42 | 210 | 476 |  | 274910 | 821539 | 28906 | 3722 | 1
70649 | FL | CAPE CORAL | 36 | 35 | 930 | 404 | 67859 | 264742 | 814805 | 28363 | 1378 | 1.1
11125 | FL | CLEARWATER | 22 | 21 | 1000 | 409 | 32885 | 274910 | 821539 | 26800 | 3503 | 0.1
53465 | FL | CLERMONT | 18 | 17 | 1000 | 472 | 38022 | 283512 | 810458 | 36917 | 3225 | 0.1
6744 | FL | COCOA | 68 | 30 | 182 | 491 | 38429 | 283635 | 810335 | 26292 | 2631 | 0
24582 | FL | COCOA | 52 | 51 | 50 | 514 |  | 283512 | 810458 | 23814 | 2623 | 0
25738 | FL | DAYTONA BEACH | 2 | 11 | 54.9 | 511 | 41527 | 283635 | 810335 | 43816 | 3125 | 4.4
131 | FL | DAYTONA BEACH | 26 | 49 | 150 | 459 |  | 285516 | 811909 | 25951 | 2645 | 0.1
81669 | FL | DESTIN |  | 48 | 1000 | 318 | 65951 | 305952 | 864313 | 23444 | 743 | 1.5
64971 | FL | FORT LAUDERDALE | 51 | 30 | 329 | 304 | 74587 | 255909 | 801137 | 20549 | 4770 | 0.2
22093 | FL | FORT MYERS | 11 | 9 | 20 | 451 |  | 264801 | 814548 | 37693 | 1562 | 0
71085 | FL | FORT MYERS | 20 | 15 | 1000 | 454 | 59198 | 264921 | 814554 | 36098 | 1643 | 0
62388 | FL | FORT MYERS | 30 | 31 | 50 | 293 | 74833 | 264854 | 814544 | 17120 | 943 | 0.1
35575 | FL | FORT PIERCE | 34 | 34 | 522 | 438 | 75041 | 270719 | 802320 | 28293 | 2144 | 0
29715 | FL | FORT PIERCE | 21 | 38 | 765 | 297 | 71509 | 270132 | 801043 | 22636 | 2117 | 0
31570 | FL | FORT WALTON BEACH | 53 | 40 | 33.5 | 219 | 29918 | 302409 | 865935 | 11996 | 581 | 0
54938 | FL | FORT WALTON BEACH | 58 | 49 | 50 | 59 | 74834 | 302343 | 863011 | 3785 | 163 | 12
6554 | FL | FORT WALTON BEACH | 35 | 50 | 1000 | 221 |  | 302346 | 865913 | 21954 | 689 | 0
83965 | FL | GAINESVILLE | 29 | 9 | 3.2 | 278 | 75127 | 293747 | 823425 | 18401 | 500 | 1.7
16993 | FL | GAINESVILLE | 20 | 16 | 344 | 254 | 70423 | 293211 | 822400 | 18598 | 793 | 0
69440 | FL | GAINESVILLE | 5 | 36 | 1000 | 263 |  | 294234 | 822340 | 26470 | 1150 | 0
7727 | FL | HIGH SPRINGS | 53 | 28 | 168 | 265 | 73079 | 293747 | 823424 | 17693 | 635 | 0.1
60536 | FL | HOLLYWOOD | 69 | 47 | 575 | 297 | 43915 | 255909 | 801137 | 21946 | 4801 | 0
73130 | FL | JACKSONVILLE | 7 | 7 | 16.2 | 288 | 74527 | 301651 | 813412 | 25919 | 1314 | 0.5
65046 | FL | JACKSONVILLE | 12 | 13 | 25 | 310 |  | 301624 | 813313 | 31176 | 1381 | 1.6
35576 | FL | JACKSONVILLE | 47 | 19 | 1000 | 291 | 42083 | 301651 | 813412 | 27268 | 1345 | 0.3
11909 | FL | JACKSONVILLE | 30 | 32 | 1000 | 291 | 42562 | 301651 | 813412 | 25771 | 1324 | 0.2
29712 | FL | JACKSONVILLE | 17 | 34 | 1000 | 283 | 29378 | 301636 | 813347 | 24697 | 1308 | 0
53116 | FL | JACKSONVILLE | 4 | 42 | 976 | 294 | 41583 | 301624 | 813313 | 26562 | 1329 | 0
29719 | FL | JACKSONVILLE | 59 | 44 | 715 | 235 | 69233 | 301634 | 813353 | 19675 | 1267 | 0
72053 | FL | KEY WEST | 22 | 3 | 1 | 62 |  | 243318 | 814807 | 9983 | 45 | 0
27387 | FL | KEY WEST | 8 | 8 | 3.2 | 33 | 74365 | 243419 | 814425 | 5713 | 45 | 0
27290 | FL | LAKE WORTH | 67 | 36 | 1000 | 385 | 43353 | 263520 | 801244 | 28708 | 4345 | 12.9
53819 | FL | LAKELAND | 32 | 19 | 1000 | 458 |  | 274910 | 821539 | 41503 | 4346 | 1.7
60018 | FL | LEESBURG | 55 | 40 | 1000 | 514 | 32830 | 283511 | 810458 | 37186 | 3155 | 0.2
9881 | FL | LEESBURG | 45 | 46 | 1000 | 472 | 59171 | 283512 | 810458 | 31806 | 3050 | 0.2
22245 | FL | LIVE OAK | 57 | 48 | 1000 | 597 |  | 304051 | 835821 | 44034 | 970 | 0
81594 | FL | MARIANNA | 51 | 51 | 50 | 254 | 74785 | 303042 | 852917 | 13673 | 278 | 0
5802 | FL | MELBOURNE | 43 | 43 | 1000 | 300 | 74433 | 281822 | 805445 | 23789 | 2340 | 0.3
67602 | FL | MELBOURNE | 56 | 48 | 1000 | 456 | 67869 | 280537 | 810728 | 31239 | 2955 | 3.5
63840 | FL | MIAMI | 7 | 7 | 145 | 291 | 80184 | 255749 | 801244 | 36091 | 5031 | 0
53113 | FL | MIAMI | 10 | 10 | 30 | 294 | 74350 | 255759 | 801244 | 27703 | 4931 | 0
13456 | FL | MIAMI | 2 | 18 | 1000 | 309 | 30258 | 255730 | 801244 | 26169 | 4906 | 0
10203 | FL | MIAMI | 39 | 19 | 1000 | 239 | 67745 | 255807 | 801320 | 20430 | 4771 | 0.4
66358 | FL | MIAMI | 17 | 20 | 625 | 301 | 42558 | 255846 | 801146 | 23263 | 4880 | 0
47902 | FL | MIAMI | 4 | 22 | 1000 | 298 |  | 255807 | 801320 | 31232 | 4922 | 0
73230 | FL | MIAMI | 23 | 23 | 485 | 257 | 74466 | 255807 | 801320 | 18379 | 4714 | 0
63154 | FL | MIAMI | 6 | 31 | 1000 | 311 |  | 255807 | 801320 | 30510 | 4920 | 0
12497 | FL | MIAMI | 33 | 32 | 1000 | 263 | 41330 | 255802 | 801234 | 21017 | 4771 | 0
48608 | FL | MIAMI | 35 | 35 | 242 | 282 | 74993 | 255909 | 801137 | 18162 | 4564 | 2.8
67971 | FL | MIAMI | 45 | 46 | 500 | 308 | 36387 | 255934 | 801027 | 19031 | 4815 | 0
19183 | FL | NAPLES | 26 | 41 | 1000 | 454 | 59197 | 264921 | 814554 | 32033 | 1491 | 2
61504 | FL | NAPLES | 46 | 45 | 1000 | 456 | 33429 | 264708 | 814740 | 28232 | 1369 | 0.4
12171 | FL | NEW SMYRNA BEACH | 15 | 33 | 308 | 491 | 59744 | 283635 | 810335 | 28477 | 2677 | 0.1
70651 | FL | OCALA | 51 | 31 | 500 | 259 | 39152 | 292132 | 821943 | 19210 | 910 | 0.2
11893 | FL | ORANGE PARK | 25 | 10 | 12 | 298 |  | 301624 | 813313 | 26958 | 1318 | 0.9
41225 | FL | ORLANDO | 35 | 22 | 1000 | 392 | 28032 | 283613 | 810511 | 34755 | 2981 | 0.2
12855 | FL | ORLANDO | 24 | 23 | 950 | 380 | 40155 | 283608 | 810537 | 32898 | 2991 | 0
71293 | FL | ORLANDO | 6 | 26 | 547 | 516 | 71980 | 283635 | 810335 | 35732 | 2960 | 0.2
55454 | FL | ORLANDO | 27 | 27 | 247 | 477 |  | 283407 | 810316 | 32237 | 2872 | 0
72076 | FL | ORLANDO | 9 | 39 | 1000 | 492 |  | 283407 | 810316 | 40585 | 3220 | 0.2
54940 | FL | ORLANDO | 65 | 41 | 1000 | 515 |  | 283635 | 810335 | 40291 | 3165 | 2.7
11123 | FL | PALM BEACH | 61 | 49 | 800 | 125 | 44853 | 264547 | 801219 | 13671 | 2395 | 0
73136 | FL | PANAMA CITY | 7 | 7 | 52 | 244 | 74969 | 302600 | 852451 | 25857 | 372 | 0.4
2942 | FL | PANAMA CITY | 28 | 9 | 2.3 | 142 | 67964 | 302342 | 853202 | 12161 | 238 | 2.4
66398 | FL | PANAMA CITY | 13 | 13 | 35.5 | 405 | 74426 | 302108 | 852328 | 32536 | 721 | 0.1
6093 | FL | PANAMA CITY | 56 | 38 | 49.2 | 137 |  | 302202 | 855528 | 12069 | 275 | 0
4354 | FL | PANAMA CITY BEACH | 46 | 47 | 50 | 59 | 74838 | 301059 | 854642 | 5037 | 154 | 0
71363 | FL | PENSACOLA | 3 | 17 | 1000 | 579 |  | 303645 | 873843 | 47474 | 1408 | 0
17611 | FL | PENSACOLA | 23 | 31 | 1000 | 549 | 38343 | 303640 | 873626 | 33333 | 1253 | 0.1
10894 | FL | PENSACOLA | 33 | 34 | 1000 | 415 | 33836 | 303735 | 873850 | 27979 | 1210 | 0
41210 | FL | PENSACOLA | 44 | 45 | 1000 | 457 | 42957 | 303516 | 873313 | 28956 | 1244 | 0
61251 | FL | SARASOTA | 40 | 24 | 116 | 233 |  | 273321 | 822149 | 15298 | 2563 | 12
11290 | FL | ST. PETERSBURG | 10 | 10 | 18.5 | 440 | 74467 | 281104 | 824539 | 31248 | 3396 | 0.2
4108 | FL | ST. PETERSBURG | 38 | 38 | 1000 | 438 | 70212 | 275032 | 821546 | 30498 | 3664 | 0.1
74112 | FL | ST. PETERSBURG | 44 | 44 | 463 | 452 |  | 275052 | 821548 | 32510 | 3887 | 0.8
83929 | FL | STUART |  | 44 | 773 | 80 |  | 264337 | 800448 | 14826 | 2240 | 0
82735 | FL | TALLAHASSEE |  | 24 | 24 | 39 | 65784 | 302940 | 842503 | 5304 | 304 | 0
41065 | FL | TALLAHASSEE | 27 | 27 | 1000 | 487 |  | 304006 | 835810 | 41970 | 951 | 0.1
21801 | FL | TALLAHASSEE | 11 | 32 | 938 | 237 |  | 302131 | 843638 | 25384 | 516 | 0
66908 | FL | TALLAHASSEE | 40 | 40 | 1000 | 600 | 70213 | 304051 | 835821 | 38436 | 784 | 0.1
64592 | FL | TAMPA | 8 | 7 | 19 | 465 |  | 275032 | 821545 | 37491 | 4250 | 0.8
68569 | FL | TAMPA | 13 | 12 | 72.3 | 436 | 17613 | 274908 | 821426 | 42687 | 4205 | 6.6
21808 | FL | TAMPA | 3 | 13 | 17.1 | 473 | 75058 | 274948 | 821559 | 36363 | 4123 | 1.2
64588 | FL | TAMPA | 28 | 29 | 987 | 475 | 67821 | 275032 | 821545 | 38497 | 4186 | 0
69338 | FL | TAMPA | 16 | 34 | 475 | 453 |  | 275052 | 821548 | 32898 | 3939 | 2
60559 | FL | TAMPA | 50 | 47 | 500 | 317 | 59290 | 275032 | 821545 | 22988 | 3453 | 0.3
51988 | FL | TEQUESTA | 25 | 16 | 1000 | 454 | 29425 | 270717 | 802342 | 33467 | 2807 | 0.9
71580 | FL | TICE | 49 | 33 | 1000 | 429 | 32880 | 264708 | 814741 | 27350 | 1275 | 0.4
16788 | FL | VENICE | 62 | 25 | 750 | 472 | 39529 | 274910 | 821539 | 32426 | 3786 | 0.1
59443 | FL | WEST PALM BEACH | 5 | 12 | 13.4 | 387 | 74623 | 263520 | 801243 | 29999 | 4818 | 0
52527 | FL | WEST PALM BEACH | 12 | 13 | 29.5 | 291 | 39117 | 263518 | 801230 | 28983 | 4782 | 0
61084 | FL | WEST PALM BEACH | 42 | 27 | 400 | 440 | 44609 | 263437 | 801432 | 26429 | 4992 | 0
39736 | FL | WEST PALM BEACH | 29 | 28 | 630 | 458 | 38600 | 263437 | 801432 | 31715 | 5137 | 0
70713 | GA | ALBANY | 10 | 10 | 18.2 | 272 | 74405 | 311952 | 835144 | 24614 | 626 | 1.2
70815 | GA | ALBANY | 31 | 12 | 60 | 287 | 38373 | 311952 | 835143 | 28865 | 746 | 0.7
23948 | GA | ATHENS | 8 | 8 | 15.6 | 305 | 74366 | 334818 | 840840 | 24589 | 4507 | 0.5
48813 | GA | ATHENS | 34 | 48 | 1000 | 310 |  | 334826 | 842022 | 27603 | 4694 | 0.1
51163 | GA | ATLANTA | 11 | 10 | 80 | 303 |  | 334524 | 841955 | 34627 | 4867 | 0.6
72120 | GA | ATLANTA | 46 | 19 | 1000 | 329 |  | 334826 | 842022 | 32016 | 4822 | 0.1
64033 | GA | ATLANTA | 17 | 20 | 1000 | 310 |  | 334826 | 842022 | 30474 | 4766 | 0.5
4190 | GA | ATLANTA | 30 | 21 | 50 | 334 | 74839 | 334535 | 842007 | 17636 | 4101 | 4.3
22819 | GA | ATLANTA | 36 | 25 | 500 | 332 |  | 334826 | 842022 | 26868 | 4612 | 2
70689 | GA | ATLANTA | 5 | 27 | 1000 | 332 |  | 334751 | 842002 | 30601 | 4773 | 0.6
23960 | GA | ATLANTA | 2 | 39 | 1000 | 301 | 65852 | 334551 | 842142 | 27454 | 4618 | 0.1
13206 | GA | ATLANTA | 57 | 41 | 165 | 319 |  | 340359 | 842717 | 20717 | 4373 | 0.5
6900 | GA | ATLANTA | 69 | 43 | 1000 | 335 |  | 334440 | 842136 | 29766 | 4733 | 0.1
73937 | GA | AUGUSTA | 12 | 12 | 20.2 | 485 | 74489 | 332429 | 815036 | 37025 | 1357 | 0.6
70699 | GA | AUGUSTA | 26 | 30 | 400 | 483 |  | 332420 | 815001 | 34939 | 1259 | 0.2
27140 | GA | AUGUSTA | 6 | 42 | 1000 | 507 |  | 332420 | 815001 | 40539 | 1454 | 0
3228 | GA | AUGUSTA | 54 | 51 | 37 | 363 | 67958 | 332500 | 815006 | 16372 | 615 | 0.1
23486 | GA | BAINBRIDGE | 49 | 49 | 226 | 597 |  | 304051 | 835821 | 34589 | 873 | 0
69446 | GA | BAXLEY | 34 | 35 | 650 | 454 |  | 320335 | 812043 | 36067 | 827 | 0
71236 | GA | BRUNSWICK | 21 | 24 | 500 | 418 | 75243 | 304939 | 814427 | 29155 | 1290 | 0
23942 | GA | CHATSWORTH | 18 | 33 | 426 | 537 | 32774 | 344506 | 844254 | 27651 | 2782 | 1.2
23935 | GA | COCHRAN | 29 | 7 | 22 | 369 |  | 322811 | 831517 | 32901 | 784 | 1.7
595 | GA | COLUMBUS | 9 | 9 | 1 | 503 | 70342 | 321925 | 844646 | 22410 | 642 | 4.7
3359 | GA | COLUMBUS | 3 | 15 | 1000 | 449 |  | 321925 | 844646 | 39904 | 1113 | 11.5
23918 | GA | COLUMBUS | 28 | 23 | 250 | 462 | 33233 | 325108 | 844204 | 27151 | 1332 | 0.1
37179 | GA | COLUMBUS | 38 | 35 | 50 | 399 | 74840 | 322728 | 845308 | 21298 | 660 | 0
12472 | GA | COLUMBUS | 54 | 49 | 500 | 312 | 67961 | 322739 | 845243 | 19986 | 638 | 2.4
63867 | GA | CORDELE | 55 | 51 | 200 | 109 |  | 315335 | 834818 | 14405 | 356 | 0.3
60825 | GA | DALTON | 23 | 16 | 300 | 425 | 28422 | 345707 | 852258 | 24445 | 1157 | 2.7
23930 | GA | DAWSON | 25 | 8 | 6 | 313 | 44505 | 315615 | 843315 | 19618 | 471 | 21
46991 | GA | MACON | 13 | 13 | 30 | 238 |  | 324510 | 833332 | 27301 | 820 | 4.2
58262 | GA | MACON | 24 | 16 | 1000 | 216 | 77955 | 324458 | 833335 | 21248 | 676 | 0.3
43847 | GA | MACON | 41 | 40 | 110 | 189 |  | 324512 | 833346 | 15105 | 538 | 0
24618 | GA | MACON | 64 | 45 | 1000 | 223 | 60980 | 324551 | 833332 | 19160 | 655 | 0.8
68058 | GA | MONROE | 63 | 44 | 700 | 303 |  | 334441 | 842136 | 25422 | 4531 | 0.2
23917 | GA | PELHAM | 14 | 6 | 3.8 | 474 | 74339 | 304013 | 835626 | 30535 | 844 | 0
54728 | GA | PERRY | 58 | 32 | 50 | 247 | 74842 | 324509 | 833335 | 15647 | 553 | 0
51969 | GA | ROME | 14 | 51 | 1000 | 622 | 32746 | 341848 | 843855 | 35465 | 5192 | 0.4
23947 | GA | SAVANNAH | 9 | 9 | 15.2 | 320 | 80230 | 320848 | 813705 | 28965 | 759 | 0.3
590 | GA | SAVANNAH | 11 | 11 | 14.8 | 420 | 74380 | 320314 | 812101 | 28682 | 752 | 0
37174 | GA | SAVANNAH | 22 | 22 | 166 | 436 | 74457 | 320330 | 812020 | 25120 | 667 | 0
48662 | GA | SAVANNAH | 3 | 39 | 1000 | 442 |  | 320331 | 811755 | 37667 | 832 | 0.1
31590 | GA | THOMASVILLE | 6 | 46 | 1000 | 619 |  | 304013 | 835626 | 45196 | 972 | 0.1
63329 | GA | TOCCOA | 32 | 24 | 600 | 209 |  | 343644 | 832205 | 20917 | 1161 | 1.8
28155 | GA | VALDOSTA | 44 | 43 | 50 | 253 | 40583 | 311018 | 832157 | 13316 | 328 | 0
23929 | GA | WAYCROSS | 8 | 8 | 20 | 286 |  | 311317 | 823424 | 28624 | 426 | 5.9
23937 | GA | WRENS | 20 | 6 | 30 | 436 | 74332 | 331533 | 821709 | 25555 | 782 | 0
36914 | HI | HILO | 9 | 9 | 3.2 | 33 | 74970 | 194300 | 1550813 | 10655 | 79 | 0
4146 | HI | HILO | 11 | 11 | 3.35 | 33 | 74440 | 194357 | 1550404 | 5336 | 78 | 0
64544 | HI | HILO | 13 | 13 | 3.73 | 1 | 74413 | 194357 | 1550404 | 6703 | 79 | 0
34846 | HI | HILO | 2 | 22 | 8 | 1 | 44792 | 194351 | 1550411 | 1638 | 64 | 0.5
37103 | HI | HILO | 14 | 23 | 35 | 33 | 28420 | 194300 | 1550813 | 7064 | 78 | 0
4144 | HI | HONOLULU | 2 | 8 | 7.2 | 1 |  | 211746 | 1575036 | 11570 | 817 | 0
36917 | HI | HONOLULU | 9 | 9 | 7 | 33 | 74971 | 211746 | 1575036 | 9210 | 826 | 0
51241 | HI | HONOLULU | 38 | 10 | 14.3 | 577 | 66350 | 212345 | 1580558 | 26942 | 812 | 7.5
26431 | HI | HONOLULU | 11 | 11 | 3.2 | 637 | 74414 | 212403 | 1580610 | 22766 | 862 | 0
34527 | HI | HONOLULU | 20 | 19 | 60.7 | 606 | 43104 | 212351 | 1580600 | 16294 | 788 | 0
34445 | HI | HONOLULU | 5 | 23 | 1000 | 629 | 74843 | 212403 | 1580610 | 31295 | 852 | 0.4
3246 | HI | HONOLULU | 26 | 27 | 262 | 580 | 45219 | 212345 | 1580558 | 14530 | 829 | 0
36846 | HI | HONOLULU | 14 | 31 | 50 | 33 | 28782 | 211849 | 1575143 | 6227 | 746 | 0
65395 | HI | HONOLULU | 32 | 33 | 49.6 | 1 | 77218 | 211849 | 1575143 | 5500 | 751 | 0
34867 | HI | HONOLULU | 13 | 35 | 550 | 33 | 74845 | 211709 | 1575019 | 10827 | 780 | 0
64548 | HI | HONOLULU | 4 | 40 | 85 | 1 | 68040 | 211737 | 1575034 | 4992 | 767 | 1.4
27425 | HI | HONOLULU | 44 | 43 | 6.46 | 577 |  | 212345 | 1580558 | 14133 | 764 | 0
83180 | HI | KAILUA | 50 | 50 | 50 | 632 | 74783 | 211949 | 1574524 | 25899 | 841 | 0
664 | HI | KAILUA KONA | 6 | 25 | 700 | 871 | 66907 | 194316 | 1555515 | 42674 | 64 | 3.4
77483 | HI | KANEOHE | 66 | 41 | 297 | 632 |  | 211949 | 1574524 | 37079 | 778 | 8.5
4145 | HI | WAILUKU | 7 | 7 | 3.69 | 1809 | 74519 | 204241 | 1561526 | 44292 | 146 | 0
26428 | HI | WAILUKU | 10 | 10 | 3.2 | 1811 | 74479 | 204240 | 1561534 | 41025 | 131 | 2.2
64551 | HI | WAILUKU | 12 | 12 | 3.94 | 1664 | 75008 | 204216 | 1561635 | 30905 | 139 | 0
34859 | HI | WAILUKU | 15 | 16 | 50 | 1723 | 74846 | 204234 | 1561554 | 27836 | 135 | 0
37105 | HI | WAILUKU | 21 | 21 | 53.1 | 1298 | 75029 | 204058 | 1561907 | 28579 | 146 | 0
36920 | HI | WAILUKU | 3 | 24 | 72.4 | 1814 |  | 204241 | 1561535 | 48946 | 137 | 9.2
89714 | HI | WAIMANALO | 56 | 38 | 50 | 632 | 74789 | 211949 | 1574524 | 27066 | 843 | 0
8661 | IA | AMES | 5 | 5 | 3.91 | 613 | 74683 | 414947 | 933656 | 43150 | 987 | 0
51502 | IA | AMES | 23 | 23 | 246 | 613 | 74753 | 414947 | 933656 | 38510 | 952 | 0
82619 | IA | AMES | 34 | 34 | 50 | 150 | 75070 | 415849 | 934423 | 12603 | 598 | 0
7841 | IA | BURLINGTON | 26 | 41 | 500 | 388 | 29888 | 410808 | 904830 | 26895 | 855 | 0.4
9719 | IA | CEDAR RAPIDS | 9 | 9 | 19.2 | 607 | 74589 | 421859 | 915131 | 42342 | 970 | 0.8
35336 | IA | CEDAR RAPIDS | 28 | 27 | 1000 | 449 | 29380 | 420525 | 920513 | 33845 | 815 | 0
21156 | IA | CEDAR RAPIDS | 48 | 47 | 500 | 309 |  | 421717 | 915254 | 25135 | 694 | 0
25685 | IA | CEDAR RAPIDS | 2 | 51 | 500 | 585 |  | 421859 | 915130 | 38136 | 900 | 0.1
29108 | IA | COUNCIL BLUFFS | 32 | 33 | 200 | 98 |  | 411515 | 955008 | 13206 | 816 | 0
5471 | IA | DAVENPORT | 36 | 34 | 150 | 102 |  | 412829 | 902645 | 12845 | 542 | 0.1
6885 | IA | DAVENPORT | 6 | 36 | 696 | 329 |  | 411844 | 902246 | 29295 | 999 | 0.2
54011 | IA | DAVENPORT | 18 | 49 | 1000 | 344 | 44477 | 411844 | 902245 | 28483 | 958 | 0
33710 | IA | DES MOINES | 8 | 8 | 29.4 | 566 | 74490 | 414835 | 933716 | 43178 | 984 | 1.2
29102 | IA | DES MOINES | 11 | 11 | 19.8 | 600 | 75043 | 414833 | 933653 | 43085 | 983 | 0.4
66221 | IA | DES MOINES | 13 | 13 | 36.1 | 609 | 74427 | 414947 | 933656 | 47702 | 1038 | 2.2
56527 | IA | DES MOINES | 17 | 16 | 500 | 612 | 39534 | 414947 | 933656 | 40497 | 974 | 0
78915 | IA | DES MOINES |  | 31 | 628 | 589 | 74639 | 414947 | 933656 | 37868 | 947 | 0.1
17625 | IA | DUBUQUE | 40 | 43 | 800 | 262 | 39740 | 423109 | 903711 | 19008 | 305 | 0.9
29100 | IA | FORT DODGE | 21 | 25 | 600 | 363 |  | 424903 | 942441 | 31286 | 337 | 4.1
29095 | IA | IOWA CITY | 12 | 12 | 17.8 | 439 | 75030 | 414315 | 912030 | 35044 | 1110 | 0.1
35096 | IA | IOWA CITY | 20 | 25 | 1000 | 419 | 39521 | 414329 | 912110 | 33132 | 1058 | 1.4
29086 | IA | MASON CITY | 24 | 18 | 500 | 437 | 41152 | 432220 | 924959 | 30335 | 598 | 0
66402 | IA | MASON CITY | 3 | 42 | 1000 | 447 |  | 432220 | 924959 | 38283 | 717 | 1.2
81509 | IA | NEWTON | 39 | 39 | 116 | 154 | 74772 | 414905 | 931232 | 11998 | 651 | 0
53820 | IA | OTTUMWA | 15 | 15 | 50 | 332 | 74372 | 411142 | 915715 | 17119 | 305 | 0.1
29085 | IA | RED OAK | 36 | 35 | 600 | 475 | 32182 | 412040 | 951521 | 30526 | 932 | 0.1
11265 | IA | SIOUX CITY | 9 | 9 | 22.3 | 616 | 74480 | 423512 | 961357 | 44501 | 639 | 1.5
29096 | IA | SIOUX CITY | 27 | 28 | 475 | 348 |  | 423053 | 961815 | 29270 | 353 | 0
39665 | IA | SIOUX CITY | 14 | 39 | 1000 | 611 |  | 423512 | 961319 | 45543 | 662 | 0
66170 | IA | SIOUX CITY | 4 | 41 | 873 | 609 |  | 423512 | 961318 | 44386 | 655 | 0
77451 | IA | SIOUX CITY | 44 | 44 | 914 | 587 | 75037 | 423512 | 961318 | 37919 | 553 | 0.7
593 | IA | WATERLOO | 7 | 7 | 3.2 | 527 | 74624 | 422402 | 915036 | 29923 | 770 | 1.7
81595 | IA | WATERLOO | 22 | 22 | 80.9 | 198 | 74750 | 422453 | 920034 | 14283 | 453 | 0.2
29114 | IA | WATERLOO | 32 | 35 | 250 | 584 |  | 421859 | 915131 | 35668 | 869 | 1
34858 | ID | BOISE | 7 | 7 | 39.8 | 785 | 74994 | 434516 | 1160556 | 42508 | 556 | 0
62442 | ID | BOISE | 4 | 21 | 725 | 858 | 66936 | 434521 | 1160554 | 35287 | 552 | 0
49760 | ID | BOISE | 2 | 28 | 978 | 777 | 74847 | 434517 | 1160553 | 45215 | 558 | 0
35097 | ID | BOISE | 39 | 39 | 50 | 534 | 74773 | 434423 | 1160815 | 10348 | 464 | 0
59363 | ID | CALDWELL | 9 | 10 | 14 | 818 | 41421 | 434518 | 1160552 | 30230 | 551 | 0
62424 | ID | COEUR D'ALENE | 26 | 45 | 50 | 465 | 74848 | 474354 | 1164347 | 14948 | 548 | 0
12284 | ID | FILER | 19 | 18 | 50 | 161 | 74849 | 424347 | 1142452 | 13431 | 132 | 0
66258 | ID | IDAHO FALLS | 8 | 8 | 63 | 463 |  | 433003 | 1123936 | 42673 | 272 | 0
41238 | ID | IDAHO FALLS | 20 | 20 | 50 | 223 | 74745 | 434544 | 1115730 | 14669 | 165 | 0
56028 | ID | IDAHO FALLS | 3 | 36 | 200 | 457 | 28614 | 432951 | 1123950 | 22981 | 247 | 0
56032 | ID | LEWISTON | 3 | 32 | 200 | 361 | 29292 | 462727 | 1170556 | 16016 | 133 | 0
62382 | ID | MOSCOW | 12 | 12 | 78 | 340 |  | 464054 | 1165813 | 35130 | 238 | 12.7
28230 | ID | NAMPA | 12 | 12 | 17 | 829 |  | 434518 | 1160552 | 41395 | 555 | 0.2
59255 | ID | NAMPA | 6 | 24 | 823 | 811 | 74850 | 434520 | 1160555 | 45069 | 558 | 0
86205 | ID | POCATELLO | 15 | 15 | 251 | 327 | 74733 | 425150 | 1123110 | 16199 | 216 | 0
62430 | ID | POCATELLO | 10 | 17 | 190 | 465 | 74851 | 433002 | 1123936 | 29893 | 260 | 0
1270 | ID | POCATELLO | 6 | 23 | 505 | 452 | 28852 | 425515 | 1122044 | 24439 | 241 | 0
78910 | ID | POCATELLO | 31 | 31 | 72.3 | 447 | 75065 | 425515 | 1122044 | 12855 | 207 | 0.1
81570 | ID | SUN VALLEY | 5 | 32 | 1000 | 572 | 74711 | 432647 | 1141252 | 28884 | 161 | 0
35200 | ID | TWIN FALLS | 11 | 11 | 16.4 | 323 | 74393 | 424348 | 1142452 | 27640 | 152 | 0
62427 | ID | TWIN FALLS | 13 | 22 | 50 | 161 | 74852 | 424347 | 1142452 | 12892 | 124 | 0
1255 | ID | TWIN FALLS | 35 | 34 | 21.7 | 152 | 66302 | 424342 | 1142443 | 7375 | 99 | 0
60539 | IL | AURORA | 60 | 50 | 172 | 509 | 74684 | 415244 | 873808 | 23585 | 9162 | 1
5875 | IL | BLOOMINGTON | 43 | 28 | 1000 | 293 |  | 403845 | 891045 | 30031 | 1013 | 0.2
4297 | IL | CARBONDALE | 8 | 8 | 14.1 | 271 | 74549 | 380611 | 891440 | 25125 | 737 | 3.2
25684 | IL | CHAMPAIGN | 15 | 41 | 950 | 375 | 68470 | 400411 | 875445 | 28692 | 921 | 7
42124 | IL | CHAMPAIGN | 3 | 48 | 1000 | 245 |  | 400621 | 882700 | 23439 | 761 | 0.3
18301 | IL | CHARLESTON | 51 | 50 | 255 | 146 | 69577 | 393415 | 881825 | 14097 | 449 | 0
73226 | IL | CHICAGO | 7 | 7 | 3.2 | 515 | 74590 | 415244 | 873810 | 29082 | 9389 | 0.7
9617 | IL | CHICAGO | 2 | 12 | 3.2 | 497 |  | 415244 | 873808 | 28938 | 9367 | 0.5
72115 | IL | CHICAGO | 9 | 19 | 645 | 453 | 39765 | 415244 | 873810 | 31644 | 9509 | 0.5
12279 | IL | CHICAGO | 20 | 21 | 98.9 | 378 | 33366 | 415356 | 873723 | 20833 | 8983 | 0.1
71428 | IL | CHICAGO | 26 | 27 | 160 | 510 | 45223 | 415244 | 873810 | 26125 | 9284 | 0.1
47905 | IL | CHICAGO | 5 | 29 | 350 | 508 | 31269 | 415244 | 873810 | 32116 | 9520 | 0.2
22211 | IL | CHICAGO | 32 | 31 | 690 | 475 |  | 415244 | 873810 | 37880 | 9711 | 0.1
10981 | IL | CHICAGO | 38 | 43 | 200 | 509 | 38347 | 415244 | 873808 | 26028 | 9256 | 0.5
70119 | IL | CHICAGO | 44 | 45 | 467 | 472 | 27856 | 415244 | 873810 | 28750 | 9402 | 0.2
10802 | IL | CHICAGO | 11 | 47 | 300 | 465 | 33534 | 415244 | 873810 | 27544 | 9338 | 0.3
70852 | IL | DECATUR | 17 | 18 | 350 | 375 | 29834 | 395707 | 884955 | 25571 | 913 | 0
16363 | IL | DECATUR | 23 | 22 | 253 | 401 | 46084 | 395656 | 885012 | 25397 | 918 | 0
57221 | IL | EAST ST. LOUIS | 46 | 47 | 187 | 345 | 74855 | 382318 | 902916 | 19175 | 2686 | 0
4689 | IL | FREEPORT | 23 | 23 | 50 | 219 | 74557 | 421748 | 891015 | 14184 | 909 | 6.1
73999 | IL | HARRISBURG | 3 | 34 | 1000 | 302 |  | 373650 | 885220 | 31461 | 703 | 0.1
70536 | IL | JACKSONVILLE | 14 | 15 | 75 | 295 |  | 393609 | 900247 | 19431 | 508 | 1.2
12498 | IL | JOLIET | 66 | 38 | 137 | 401 | 74605 | 415356 | 873723 | 19882 | 8980 | 0.2
998 | IL | LASALLE | 35 | 10 | 16 | 403 | 28403 | 411651 | 885613 | 29036 | 2834 | 2.1
70537 | IL | MACOMB | 22 | 21 | 75 | 131 |  | 402354 | 904355 | 13181 | 224 | 0.2
67786 | IL | MARION | 27 | 17 | 800 | 213 | 41637 | 373326 | 890124 | 20778 | 529 | 0
5468 | IL | MOLINE | 24 | 23 | 80 | 269 | 45050 | 411844 | 902245 | 16674 | 596 | 0.1
73319 | IL | MOLINE | 8 | 38 | 1000 | 334 |  | 411844 | 902246 | 30696 | 927 | 13.3
40861 | IL | MOUNT VERNON | 13 | 21 | 1000 | 242 | 68044 | 383253 | 892917 | 22609 | 2280 | 0.6
4301 | IL | OLNEY | 16 | 19 | 46 | 284 |  | 385019 | 880747 | 17582 | 308 | 0
6866 | IL | PEORIA | 19 | 19 | 52.7 | 160 | 74550 | 403911 | 893514 | 12050 | 556 | 0.8
24801 | IL | PEORIA | 25 | 25 | 246 | 212 | 75203 | 403746 | 893253 | 17471 | 652 | 1.7
42121 | IL | PEORIA | 31 | 30 | 800 | 193 | 71928 | 403806 | 893219 | 19343 | 710 | 0
52280 | IL | PEORIA | 59 | 39 | 100 | 180 |  | 403834 | 893238 | 14576 | 599 | 0.1
28311 | IL | PEORIA | 47 | 46 | 190 | 216 |  | 403744 | 893412 | 17264 | 655 | 0
54275 | IL | QUINCY | 10 | 10 | 13.9 | 238 | 80231 | 395703 | 911954 | 25734 | 311 | 1.3
4593 | IL | QUINCY | 16 | 32 | 50 | 302 | 74856 | 395818 | 911942 | 17825 | 236 | 0
71561 | IL | QUINCY | 27 | 34 | 58.6 | 153 |  | 395841 | 911832 | 13012 | 184 | 1.4
13950 | IL | ROCK ISLAND | 4 | 4 | 3.88 | 408 | 74670 | 413249 | 902835 | 33309 | 983 | 0
73940 | IL | ROCKFORD | 13 | 13 | 12.4 | 216 | 80211 | 421750 | 891424 | 22246 | 1487 | 8.7
72945 | IL | ROCKFORD | 17 | 16 | 196 | 201 |  | 421714 | 891015 | 18378 | 1234 | 0
52408 | IL | ROCKFORD | 39 | 42 | 1000 | 149 | 40572 | 421726 | 890951 | 16227 | 1101 | 9.1
42116 | IL | SPRINGFIELD | 49 | 13 | 5.08 | 183 | 74606 | 394727 | 893053 | 19180 | 552 | 0.4
25686 | IL | SPRINGFIELD | 20 | 42 | 950 | 402 | 68475 | 394815 | 892740 | 29924 | 963 | 1.4
62009 | IL | SPRINGFIELD | 55 | 44 | 335 | 416 |  | 394757 | 892646 | 28977 | 881 | 0
68939 | IL | URBANA | 12 | 9 | 30 | 302 |  | 400218 | 884010 | 30142 | 1063 | 4.8
69544 | IL | URBANA | 27 | 26 | 507 | 138 | 44738 | 401846 | 875500 | 15153 | 385 | 0
67787 | IN | ANGOLA | 63 | 12 | 16.5 | 132 | 33342 | 412715 | 844810 | 17294 | 874 | 6.2
66536 | IN | BLOOMINGTON | 30 | 14 | 224 | 221 | 43429 | 390831 | 862943 | 17415 | 1005 | 0
10253 | IN | BLOOMINGTON | 63 | 27 | 165 | 310 |  | 392416 | 860837 | 22019 | 1993 | 0
68007 | IN | BLOOMINGTON | 42 | 42 | 391 | 297 |  | 392412 | 860850 | 23254 | 2054 | 0.1
56523 | IN | BLOOMINGTON | 4 | 48 | 870 | 337 | 66628 | 392427 | 860852 | 22528 | 2100 | 1.8
74007 | IN | ELKHART | 28 | 28 | 126 | 299 |  | 413658 | 861138 | 20179 | 1271 | 2.3
67802 | IN | EVANSVILLE | 9 | 9 | 30 | 285 | 74975 | 375901 | 871613 | 24887 | 793 | 1.4
24215 | IN | EVANSVILLE | 25 | 25 | 50 | 301 |  | 375157 | 873404 | 17960 | 632 | 0.4
3661 | IN | EVANSVILLE | 7 | 28 | 1000 | 273 | 39643 | 380127 | 872143 | 24657 | 765 | 0
72041 | IN | EVANSVILLE | 44 | 45 | 500 | 288 |  | 375317 | 873237 | 23639 | 730 | 0.2
13991 | IN | EVANSVILLE | 14 | 46 | 250 | 310 |  | 375314 | 873107 | 22329 | 711 | 0
13960 | IN | FORT WAYNE | 33 | 19 | 285 | 239 |  | 410538 | 851036 | 19941 | 1027 | 2.7
73905 | IN | FORT WAYNE | 21 | 24 | 335 | 224 |  | 410608 | 851105 | 20240 | 1052 | 0.1
39270 | IN | FORT WAYNE | 15 | 31 | 1000 | 242 | 66172 | 410538 | 851048 | 21871 | 1106 | 2
25040 | IN | FORT WAYNE | 55 | 36 | 1000 | 219 | 77897 | 410633 | 851142 | 19630 | 1048 | 0.2
22108 | IN | FORT WAYNE | 39 | 40 | 90 | 221 |  | 410613 | 851128 | 16043 | 835 | 0
49803 | IN | GARY | 56 | 17 | 300 | 290 | 46333 | 412056 | 872402 | 17974 | 6919 | 0
48772 | IN | GARY | 50 | 51 | 1000 | 523 | 30328 | 415244 | 873810 | 36200 | 9648 | 0
32334 | IN | HAMMOND | 62 | 36 | 50 | 455 | 20094 | 415244 | 873810 | 13905 | 7988 | 0.2
39269 | IN | INDIANAPOLIS | 8 | 9 | 19.5 | 284 |  | 395325 | 861220 | 25906 | 2472 | 3.7
70162 | IN | INDIANAPOLIS | 13 | 13 | 15.1 | 299 | 80212 | 395543 | 861055 | 26707 | 2510 | 0.8
37102 | IN | INDIANAPOLIS | 40 | 16 | 225 | 284 | 28275 | 395340 | 861221 | 19773 | 2154 | 0.4
41397 | IN | INDIANAPOLIS | 20 | 21 | 200 | 236 | 33405 | 395359 | 861201 | 16842 | 1912 | 0.1
40877 | IN | INDIANAPOLIS | 6 | 25 | 898 | 294 |  | 395357 | 861204 | 29468 | 2603 | 0.1
7908 | IN | INDIANAPOLIS | 69 | 44 | 215 | 167 |  | 395320 | 861207 | 14297 | 1830 | 3.7
146 | IN | INDIANAPOLIS | 59 | 45 | 700 | 285 |  | 395320 | 861207 | 24873 | 2432 | 1
56526 | IN | KOKOMO | 29 | 29 | 624 | 285 | 75202 | 395320 | 861207 | 22949 | 2371 | 0.5
73204 | IN | LAFAYETTE | 18 | 11 | 30 | 214 | 46110 | 402320 | 863646 | 26854 | 2022 | 1.1
28462 | IN | MARION | 23 | 32 | 1000 | 271 | 33152 | 400856 | 855615 | 24181 | 2240 | 1.2
3646 | IN | MUNCIE | 49 | 23 | 79.1 | 246 |  | 400537 | 852332 | 17374 | 1494 | 0.1
67869 | IN | RICHMOND | 43 | 39 | 500 | 281 | 17601 | 393044 | 843809 | 20981 | 3107 | 0.7
34167 | IN | SALEM | 58 | 51 | 1000 | 390 | 43303 | 382100 | 855057 | 30937 | 1759 | 0.7
73983 | IN | SOUTH BEND | 22 | 22 | 203 | 325 | 74481 | 413700 | 861301 | 24469 | 1519 | 2.1
41671 | IN | SOUTH BEND | 34 | 35 | 50 | 333 |  | 413649 | 861120 | 18549 | 1202 | 1.2
41674 | IN | SOUTH BEND | 16 | 42 | 695 | 299 |  | 413620 | 861246 | 26344 | 1633 | 0.8
36117 | IN | SOUTH BEND | 46 | 48 | 300 | 295 | 30032 | 413543 | 860938 | 20015 | 1214 | 2.2
70655 | IN | TERRE HAUTE | 10 | 10 | 14.2 | 293 | 74468 | 391436 | 872307 | 26481 | 742 | 2.5
20426 | IN | TERRE HAUTE | 2 | 36 | 1000 | 248 |  | 391433 | 872329 | 24733 | 706 | 0.3
65247 | IN | TERRE HAUTE | 38 | 39 | 850 | 248 |  | 391433 | 872329 | 23495 | 664 | 0.1
4329 | IN | VINCENNES | 22 | 22 | 50 | 174 | 74592 | 383906 | 872837 | 11671 | 268 | 0.5
65523 | KS | COLBY | 4 | 17 | 1000 | 232 |  | 391509 | 1012109 | 26138 | 40 | 0
162115 | KS | COLBY |  | 19 | 500 | 384 | 67184 | 391431 | 1012138 | 28456 | 43 | 0.6
166332 | KS | DERBY |  | 46 | 570 | 276 |  | 374801 | 973129 | 23316 | 712 | 0
79258 | KS | DODGE CITY | 21 | 21 | 8.42 | 99 |  | 374933 | 1001040 | 8571 | 41 | 0
66414 | KS | ENSIGN | 6 | 6 | 20 | 198 |  | 373828 | 1002039 | 35374 | 155 | 0
72361 | KS | GARDEN CITY | 11 | 11 | 7.4 | 244 | 74394 | 374640 | 1005208 | 23078 | 136 | 0
65535 | KS | GARDEN CITY | 13 | 13 | 21.2 | 250 | 74415 | 373900 | 1004006 | 26607 | 139 | 0.6
66416 | KS | GOODLAND | 10 | 10 | 34.7 | 285 | 74373 | 392810 | 1013319 | 29681 | 45 | 0
72359 | KS | GREAT BEND | 2 | 22 | 1000 | 296 | 74857 | 382554 | 984618 | 30069 | 200 | 0
66415 | KS | HAYS | 7 | 7 | 10.3 | 216 | 74434 | 385301 | 992015 | 23256 | 93 | 0
60675 | KS | HAYS | 9 | 16 | 496 | 304 | 43521 | 384616 | 984416 | 26243 | 116 | 0.4
83181 | KS | HOISINGTON | 14 | 14 | 50 | 163 | 74728 | 383754 | 985052 | 13887 | 84 | 0
33345 | KS | HUTCHINSON | 8 | 8 | 9.28 | 244 | 75009 | 380321 | 974635 | 22260 | 672 | 4.1
66413 | KS | HUTCHINSON | 12 | 12 | 18.5 | 463 | 74428 | 380340 | 974549 | 36509 | 822 | 0.1
77063 | KS | HUTCHINSON | 36 | 35 | 1000 | 310 | 29560 | 375623 | 973042 | 22741 | 712 | 0
60683 | KS | LAKIN | 3 | 8 | 35 | 149 | 64618 | 374940 | 1010635 | 20549 | 77 | 7.4
42636 | KS | LAWRENCE | 38 | 41 | 551 | 291 | 74520 | 385842 | 943201 | 19399 | 1978 | 0
58552 | KS | PITTSBURG | 7 | 7 | 4.2 | 340 |  | 371315 | 944225 | 23837 | 455 | 0.4
83992 | KS | PITTSBURG | 14 | 13 | 3.2 | 163 | 80187 | 371315 | 944222 | 13434 | 303 | 3.2
11912 | KS | SALINA | 18 | 17 | 65 | 314 | 28829 | 390616 | 972315 | 15730 | 202 | 0
70938 | KS | TOPEKA | 11 | 11 | 15.4 | 305 | 80233 | 390351 | 954549 | 27177 | 1122 | 0.3
166546 | KS | TOPEKA | 22 | 12 | 3.2 | 225 | 80241 | 390350 | 954549 | 13374 | 420 | 8.6
63160 | KS | TOPEKA | 13 | 13 | 18.1 | 421 | 75026 | 390019 | 960258 | 33510 | 674 | 0.5
67335 | KS | TOPEKA | 27 | 27 | 50 | 320 | 74472 | 390534 | 954704 | 18654 | 485 | 0
49397 | KS | TOPEKA | 49 | 49 | 123 | 451 | 75032 | 390134 | 955458 | 19858 | 519 | 0
65522 | KS | WICHITA | 10 | 10 | 24.6 | 310 | 74441 | 374653 | 973108 | 30061 | 743 | 0.1
11911 | KS | WICHITA | 24 | 26 | 350 | 303 | 43659 | 374640 | 973037 | 21248 | 704 | 0
72348 | KS | WICHITA | 33 | 31 | 1000 | 345 |  | 374801 | 973129 | 31920 | 747 | 0.1
72358 | KS | WICHITA | 3 | 45 | 891 | 312 |  | 374626 | 973051 | 28473 | 740 | 0.1
34171 | KY | ASHLAND | 25 | 26 | 61.3 | 137 | 31365 | 382744 | 823712 | 11240 | 483 | 0.8
67798 | KY | ASHLAND | 61 | 44 | 50 | 189 | 74858 | 382511 | 822406 | 9527 | 517 | 1.8
27696 | KY | BEATTYVILLE | 65 | 7 | 28 | 322 |  | 373647 | 834018 | 29307 | 1000 | 0.8
4692 | KY | BOWLING GREEN | 13 | 13 | 7.65 | 226 | 74498 | 370352 | 862607 | 20962 | 542 | 2.1
61217 | KY | BOWLING GREEN | 40 | 16 | 600 | 224 | 43547 | 370210 | 861020 | 18291 | 424 | 1.5
71861 | KY | BOWLING GREEN | 24 | 18 | 61 | 177 |  | 370349 | 862607 | 14430 | 362 | 0.9
34177 | KY | BOWLING GREEN | 53 | 48 | 54.8 | 234 | 44491 | 370522 | 863805 | 13561 | 342 | 0.1
25173 | KY | CAMPBELLSVILLE | 34 | 19 | 1000 | 370 | 32906 | 373151 | 852645 | 29998 | 2015 | 0.6
34204 | KY | COVINGTON | 54 | 24 | 53.5 | 117 | 31523 | 390150 | 843023 | 10320 | 1949 | 2.2
64017 | KY | DANVILLE | 56 | 4 | 26.5 | 327 | 64813 | 375251 | 841916 | 36995 | 1251 | 0
34181 | KY | ELIZABETHTOWN | 23 | 43 | 61 | 178 | 31543 | 374055 | 855031 | 12210 | 840 | 0
37809 | KY | HARLAN | 44 | 51 | 550 | 577 |  | 364800 | 832236 | 33564 | 1196 | 3.3
24915 | KY | HAZARD | 57 | 12 | 50 | 398 |  | 371138 | 831052 | 32160 | 793 | 8
34196 | KY | HAZARD | 35 | 16 | 53.2 | 369 | 31615 | 371135 | 831117 | 16906 | 377 | 2.2
24914 | KY | LEXINGTON | 27 | 13 | 30 | 282 | 40363 | 380223 | 842410 | 23929 | 921 | 3
73203 | KY | LEXINGTON | 18 | 39 | 475 | 286 | 70206 | 380203 | 842339 | 19494 | 830 | 3.5
51597 | KY | LEXINGTON | 36 | 40 | 69.5 | 305 | 74859 | 380203 | 842339 | 17819 | 810 | 0.1
34207 | KY | LEXINGTON | 46 | 42 | 48 | 252 | 31539 | 375245 | 841933 | 13467 | 735 | 0.3
73692 | KY | LOUISVILLE | 21 | 8 | 27 | 200 | 45865 | 380159 | 854517 | 21952 | 1500 | 0.7
32327 | KY | LOUISVILLE | 11 | 11 | 15.7 | 370 | 74625 | 382123 | 855052 | 27238 | 1613 | 0.3
21432 | KY | LOUISVILLE | 15 | 17 | 60.3 | 237 | 17602 | 382201 | 854954 | 15178 | 1350 | 0
53939 | KY | LOUISVILLE | 32 | 26 | 600 | 392 | 39847 | 382208 | 854948 | 29065 | 1687 | 0.1
34195 | KY | LOUISVILLE | 68 | 38 | 61.6 | 218 | 64196 | 382201 | 854954 | 13653 | 1295 | 0
13989 | KY | LOUISVILLE | 3 | 47 | 1000 | 392 | 42782 | 382208 | 854948 | 29283 | 1681 | 0.1
28476 | KY | LOUISVILLE | 41 | 49 | 1000 | 390 | 29606 | 382100 | 855057 | 32130 | 1759 | 0.7
74592 | KY | MADISONVILLE | 19 | 20 | 1000 | 216 |  | 372456 | 873130 | 23946 | 744 | 0.4
34212 | KY | MADISONVILLE | 35 | 42 | 55.1 | 298 | 31621 | 371121 | 873049 | 15780 | 419 | 0.1
34202 | KY | MOREHEAD | 38 | 15 | 51.4 | 289 | 31617 | 381038 | 832417 | 16277 | 340 | 0.3
23128 | KY | MOREHEAD | 67 | 21 | 719 | 428 | 67075 | 375426 | 833801 | 30369 | 1018 | 1.5
34174 | KY | MURRAY | 21 | 36 | 56.9 | 187 | 31619 | 364134 | 883211 | 12682 | 320 | 0.6
39738 | KY | NEWPORT | 19 | 29 | 227 | 290 | 19124 | 390719 | 843252 | 17827 | 2366 | 12.3
34205 | KY | OWENSBORO | 31 | 30 | 63.3 | 124 | 31660 | 375107 | 871944 | 11399 | 529 | 0
34211 | KY | OWENTON | 52 | 44 | 49.7 | 214 | 31662 | 383131 | 844839 | 12714 | 763 | 2.4
51991 | KY | PADUCAH | 6 | 32 | 906 | 492 |  | 371131 | 885853 | 40545 | 865 | 0.1
65758 | KY | PADUCAH | 29 | 41 | 55.7 | 143 | 44512 | 370539 | 884020 | 11313 | 239 | 0.1
39561 | KY | PADUCAH | 49 | 49 | 550 | 324 |  | 372342 | 885623 | 26292 | 631 | 0.4
34200 | KY | PIKEVILLE | 22 | 24 | 50.4 | 423 | 32103 | 371706 | 823128 | 16779 | 419 | 0.6
34222 | KY | SOMERSET | 29 | 14 | 53.3 | 429 | 31822 | 371003 | 844930 | 21530 | 541 | 0.2
38590 | LA | ALEXANDRIA | 25 | 26 | 76 | 413 | 64838 | 313356 | 923250 | 20977 | 324 | 0
52907 | LA | ALEXANDRIA | 31 | 31 | 50 | 333 | 75022 | 313354 | 923300 | 19028 | 273 | 0.1
51598 | LA | ALEXANDRIA | 5 | 35 | 1000 | 485 | 74860 | 310215 | 922945 | 38228 | 921 | 2.1
16940 | LA | ALEXANDRIA | 41 | 41 | 191 | 307 | 74775 | 305420 | 923717 | 16245 | 368 | 0
589 | LA | BATON ROUGE | 9 | 9 | 0.36 | 509 | 70344 | 302158 | 911247 | 16013 | 847 | 1.1
38616 | LA | BATON ROUGE | 2 | 13 | 30 | 515 | 36880 | 301749 | 911140 | 34334 | 1962 | 8
38586 | LA | BATON ROUGE | 27 | 25 | 200 | 295 | 65435 | 302222 | 911216 | 19232 | 997 | 0
70021 | LA | BATON ROUGE | 33 | 34 | 1000 | 522 | 32895 | 301934 | 911636 | 37256 | 1695 | 0.1
12520 | LA | BATON ROUGE | 44 | 45 | 1000 | 424 | 29743 | 301935 | 911636 | 30315 | 1564 | 0
52046 | LA | COLUMBIA | 11 | 11 | 17.8 | 572 | 74657 | 320319 | 921112 | 41213 | 677 | 0.3
83945 | LA | HAMMOND |  | 42 | 1000 | 294 | 58980 | 295841 | 895626 | 25352 | 1754 | 0
35059 | LA | LAFAYETTE | 10 | 10 | 17.2 | 507 | 74641 | 301919 | 921659 | 39308 | 1166 | 1.9
33261 | LA | LAFAYETTE | 15 | 16 | 800 | 359 | 29847 | 302144 | 921253 | 29700 | 851 | 0
38588 | LA | LAFAYETTE | 24 | 23 | 50 | 463 | 32658 | 301919 | 921658 | 21068 | 658 | 0
33471 | LA | LAFAYETTE | 3 | 28 | 1000 | 537 | 75545 | 301925 | 921724 | 42222 | 1279 | 0.2
13994 | LA | LAKE CHARLES | 7 | 7 | 17 | 451 |  | 302346 | 930003 | 36541 | 1017 | 0
38587 | LA | LAKE CHARLES | 18 | 20 | 55 | 299 | 59155 | 302346 | 930003 | 16195 | 351 | 0
35852 | LA | LAKE CHARLES | 29 | 30 | 1000 | 315 | 17585 | 301726 | 933435 | 25760 | 730 | 0
81507 | LA | MINDEN | 21 | 21 | 1000 | 502 | 66613 | 324108 | 935600 | 36243 | 952 | 2.4
48975 | LA | MONROE | 8 | 8 | 17 | 518 |  | 321150 | 920414 | 39190 | 663 | 0.3
38589 | LA | MONROE | 13 | 13 | 21.1 | 543 | 74429 | 321145 | 920410 | 38398 | 679 | 2.1
82476 | LA | NEW IBERIA | 50 | 50 | 179 | 303 | 74784 | 302032 | 915832 | 17747 | 767 | 0
4149 | LA | NEW ORLEANS | 8 | 8 | 14.7 | 302 | 75010 | 295714 | 895658 | 28567 | 1795 | 0
25090 | LA | NEW ORLEANS | 12 | 11 | 70.8 | 306 | 67937 | 295713 | 895658 | 30008 | 1898 | 0
54280 | LA | NEW ORLEANS | 38 | 15 | 360 | 309 | 69135 | 295857 | 895658 | 27134 | 1781 | 0.2
37106 | LA | NEW ORLEANS | 20 | 21 | 300 | 254 | 41946 | 295511 | 900129 | 19099 | 1617 | 0
72119 | LA | NEW ORLEANS | 26 | 26 | 1000 | 309 | 74381 | 295857 | 895658 | 31417 | 1910 | 0
18819 | LA | NEW ORLEANS | 32 | 31 | 200 | 274 | 31303 | 295857 | 895709 | 17661 | 1516 | 0
74192 | LA | NEW ORLEANS | 4 | 36 | 958 | 311 |  | 295422 | 900222 | 30245 | 1829 | 0
71357 | LA | NEW ORLEANS | 6 | 43 | 1000 | 283 | 74862 | 295701 | 895728 | 28471 | 1791 | 0
21729 | LA | NEW ORLEANS | 49 | 50 | 1000 | 272 | 44211 | 295511 | 900129 | 21583 | 1671 | 0
70482 | LA | SHREVEPORT | 12 | 17 | 175 | 518 |  | 324028 | 935600 | 33403 | 943 | 1.5
38591 | LA | SHREVEPORT | 24 | 25 | 50 | 326 | 74863 | 324041 | 935535 | 19407 | 591 | 0
35652 | LA | SHREVEPORT | 3 | 28 | 1000 | 543 | 74864 | 324108 | 935600 | 42940 | 1075 | 1.7
12525 | LA | SHREVEPORT | 33 | 34 | 1000 | 551 | 29201 | 323958 | 935559 | 38998 | 1012 | 0.1
73706 | LA | SHREVEPORT | 45 | 44 | 500 | 505 | 32870 | 323957 | 935558 | 30463 | 888 | 0.1
13938 | LA | SLIDELL | 54 | 24 | 1000 | 272 | 43616 | 295511 | 900129 | 24235 | 1729 | 0
3658 | LA | WEST MONROE | 14 | 36 | 1000 | 521 |  | 320542 | 921034 | 40992 | 629 | 9.7
38584 | LA | WEST MONROE | 39 | 38 | 1000 | 154 |  | 323021 | 920855 | 19639 | 356 | 0
74419 | MA | ADAMS | 19 | 36 | 48 | 631 | 68110 | 423814 | 731008 | 20520 | 1724 | 7.7
72145 | MA | BOSTON | 7 | 7 | 15.4 | 306 | 80205 | 421840 | 711300 | 27184 | 7035 | 0.1
72099 | MA | BOSTON | 2 | 19 | 700 | 374 |  | 421837 | 711414 | 32268 | 7320 | 0.4
65684 | MA | BOSTON | 5 | 20 | 625 | 390 |  | 421837 | 711414 | 30535 | 7199 | 2.1
25456 | MA | BOSTON | 4 | 30 | 825 | 390 |  | 421837 | 711414 | 31712 | 7274 | 1.2
6463 | MA | BOSTON | 25 | 31 | 1000 | 341 | 30342 | 421812 | 711308 | 26108 | 6911 | 3.2
7692 | MA | BOSTON | 68 | 32 | 300 | 292 | 41971 | 421827 | 711327 | 19066 | 6343 | 2.3
73982 | MA | BOSTON | 38 | 39 | 70.8 | 354 | 74865 | 421812 | 711308 | 19832 | 6586 | 1.1
72098 | MA | BOSTON | 44 | 43 | 500 | 391 |  | 421837 | 711414 | 28103 | 7091 | 0.6
73238 | MA | CAMBRIDGE | 56 | 41 | 550 | 345 | 46190 | 421812 | 711308 | 22764 | 6870 | 0.2
41436 | MA | LAWRENCE | 62 | 18 | 1000 | 357 | 67714 | 421827 | 711327 | 28934 | 6962 | 2.1
60551 | MA | MARLBOROUGH | 66 | 27 | 100 | 334 | 69136 | 422302 | 712937 | 17821 | 6431 | 0.4
3978 | MA | NEW BEDFORD | 28 | 22 | 350 | 203 | 64975 | 414639 | 705541 | 17274 | 4604 | 0.9
22591 | MA | NEW BEDFORD | 6 | 49 | 350 | 284 | 66255 | 415154 | 711715 | 19160 | 5455 | 0.6
23671 | MA | NORWELL | 46 | 10 | 5 | 144 |  | 420038 | 710242 | 15414 | 5297 | 3.4
136751 | MA | PITTSFIELD | 51 | 13 | 12.6 | 396 | 71986 | 423731 | 740038 | 7283 | 653 | 27.5
6868 | MA | SPRINGFIELD | 22 | 11 | 10 | 268 | 65476 | 420505 | 724214 | 16679 | 2449 | 12.8
72096 | MA | SPRINGFIELD | 57 | 22 | 50 | 306 | 74672 | 421430 | 723854 | 14133 | 2074 | 9.7
25682 | MA | SPRINGFIELD | 40 | 40 | 380 | 324 | 70318 | 421430 | 723857 | 17575 | 2286 | 10.6
6476 | MA | VINEYARD HAVEN | 58 | 40 | 300 | 153 | 42283 | 414120 | 702049 | 14774 | 973 | 3.7
30577 | MA | WORCESTER | 27 | 29 | 200 | 453 |  | 422007 | 714254 | 24769 | 6977 | 8.9
18783 | MA | WORCESTER | 48 | 47 | 365 | 217 | 40890 | 421827 | 711327 | 15283 | 5984 | 0
65942 | MD | ANNAPOLIS | 22 | 42 | 350 | 265 | 74866 | 390036 | 763633 | 19328 | 6752 | 2.4
65696 | MD | BALTIMORE | 11 | 11 | 6.91 | 312 | 74686 | 392005 | 763903 | 22401 | 6953 | 3.9
25455 | MD | BALTIMORE | 13 | 13 | 21.4 | 312 | 70306 | 392005 | 763903 | 25622 | 7452 | 5
65944 | MD | BALTIMORE | 67 | 29 | 50 | 250 | 74867 | 392701 | 764637 | 14260 | 5285 | 4.6
59442 | MD | BALTIMORE | 2 | 38 | 775 | 305 | 74593 | 392005 | 763903 | 26023 | 7730 | 0.3
7933 | MD | BALTIMORE | 54 | 40 | 845 | 373 | 46004 | 392010 | 763859 | 26825 | 7782 | 0.5
60552 | MD | BALTIMORE | 24 | 41 | 200 | 313 | 66845 | 391715 | 764538 | 17292 | 6151 | 5.6
10758 | MD | BALTIMORE | 45 | 46 | 550 | 373 | 46108 | 392010 | 763859 | 22859 | 7059 | 5.2
40626 | MD | FREDERICK | 62 | 28 | 30 | 159 | 67466 | 391537 | 771844 | 7313 | 2448 | 34.6
25045 | MD | HAGERSTOWN | 25 | 26 | 575 | 359 | 74627 | 393945 | 775754 | 22215 | 1362 | 28.7
10259 | MD | HAGERSTOWN | 68 | 39 | 82.5 | 394 | 74528 | 395331 | 775802 | 13861 | 814 | 6
65943 | MD | HAGERSTOWN | 31 | 44 | 209 | 359 | 33311 | 393904 | 775815 | 15728 | 977 | 4.1
40619 | MD | OAKLAND | 36 | 36 | 71.7 | 291 | 75062 | 392414 | 791737 | 10542 | 216 | 6.8
71218 | MD | SALISBURY | 16 | 21 | 635 | 279 | 64847 | 383017 | 753837 | 21695 | 659 | 0
40618 | MD | SALISBURY | 28 | 28 | 76.7 | 157 |  | 382309 | 753533 | 14077 | 426 | 0
16455 | MD | SALISBURY | 47 | 47 | 225 | 292 | 75201 | 383006 | 754400 | 18155 | 579 | 0.4
39659 | ME | AUGUSTA | 10 | 10 | 15.3 | 305 | 74406 | 440916 | 700037 | 25690 | 818 | 1.3
39644 | ME | BANGOR | 2 | 2 | 2.37 | 199 | 74986 | 444410 | 684017 | 19580 | 334 | 0
3667 | ME | BANGOR | 7 | 7 | 14.5 | 250 | 74374 | 444535 | 683401 | 24704 | 334 | 0.6
17005 | ME | BANGOR | 5 | 19 | 465 | 402 | 74868 | 444213 | 690447 | 30384 | 488 | 1.1
39656 | ME | BIDDEFORD | 26 | 45 | 50 | 231 | 41344 | 432500 | 704817 | 10502 | 659 | 5
39649 | ME | CALAIS | 13 | 10 | 3.5 | 133 |  | 450145 | 671925 | 13040 | 29 | 3.4
48408 | ME | LEWISTON | 35 | 35 | 57.2 | 241 | 80218 | 435106 | 701940 | 13589 | 641 | 0.4
39648 | ME | ORONO | 12 | 9 | 15 | 375 | 40127 | 444211 | 690447 | 25072 | 442 | 5.5
73288 | ME | POLAND SPRING | 8 | 8 | 21.3 | 586 | 74574 | 435044 | 704543 | 33555 | 1358 | 4.1
25683 | ME | PORTLAND | 13 | 38 | 1000 | 491 | 28274 | 435528 | 702928 | 34527 | 1169 | 0
53065 | ME | PORTLAND | 51 | 43 | 137 | 254 |  | 435106 | 701940 | 14615 | 619 | 11
39664 | ME | PORTLAND | 6 | 44 | 1000 | 610 | 74869 | 435132 | 704240 | 34340 | 1319 | 1
48305 | ME | PRESQUE ISLE | 8 | 8 | 3.2 | 333 | 80189 | 463305 | 674836 | 19268 | 58 | 0
39662 | ME | PRESQUE ISLE | 10 | 10 | 16.4 | 332 | 74435 | 463305 | 674837 | 25597 | 66 | 0.6
83708 | ME | PRESQUE ISLE | 47 | 47 | 50 | 86 | 75129 | 464512 | 681028 | 6607 | 39 | 0
84088 | ME | WATERVILLE | 23 | 23 | 213 | 331 | 74754 | 440915 | 700037 | 18925 | 769 | 0
67048 | MI | ALPENA | 11 | 11 | 19.8 | 202 | 74982 | 444211 | 833126 | 20697 | 131 | 1.9
9917 | MI | ALPENA | 6 | 24 | 106 | 393 |  | 450818 | 840945 | 24405 | 219 | 1.5
5800 | MI | ANN ARBOR | 31 | 31 | 106 | 328 | 74499 | 422225 | 840410 | 18881 | 4073 | 7.1
16530 | MI | BAD AXE | 35 | 15 | 200 | 309 |  | 433233 | 833937 | 23073 | 1204 | 6.1
10212 | MI | BATTLE CREEK | 41 | 20 | 270 | 311 |  | 423415 | 852807 | 25083 | 2119 | 0.4
71871 | MI | BATTLE CREEK | 43 | 44 | 212 | 305 |  | 424045 | 850357 | 20028 | 1909 | 4.7
41221 | MI | BAY CITY | 5 | 22 | 1000 | 275 | 67337 | 432814 | 835036 | 26723 | 1507 | 4.6
82627 | MI | BAY CITY | 46 | 46 | 50 | 306 | 74778 | 432826 | 835044 | 12942 | 965 | 0
26994 | MI | CADILLAC | 9 | 9 | 20.1 | 497 | 74551 | 440812 | 852033 | 38645 | 826 | 0
9922 | MI | CADILLAC | 27 | 17 | 338 | 393 | 60511 | 444453 | 850408 | 26844 | 392 | 0
25396 | MI | CADILLAC | 33 | 47 | 500 | 393 | 67847 | 444453 | 850408 | 25466 | 378 | 0
76001 | MI | CALUMET | 5 | 5 | 20.5 | 388 | 74362 | 462617 | 880258 | 37246 | 196 | 0
21254 | MI | CHEBOYGAN | 4 | 35 | 78 | 168 | 58961 | 453901 | 842037 | 11815 | 82 | 0
73123 | MI | DETROIT | 2 | 7 | 11.2 | 305 | 74673 | 422738 | 831250 | 24581 | 5551 | 2.5
51570 | MI | DETROIT | 50 | 14 | 50 | 293 | 74870 | 422901 | 831844 | 18484 | 5122 | 0.1
74211 | MI | DETROIT | 20 | 21 | 500 | 324 | 28693 | 422653 | 831023 | 25252 | 5597 | 3
10267 | MI | DETROIT | 7 | 41 | 1000 | 305 | 74871 | 422815 | 831500 | 27193 | 5767 | 0.3
16817 | MI | DETROIT | 56 | 43 | 200 | 318 |  | 422652 | 831023 | 22343 | 5247 | 0
72123 | MI | DETROIT | 62 | 44 | 345 | 323 |  | 422653 | 831023 | 22661 | 5131 | 5.6
53114 | MI | DETROIT | 4 | 45 | 973 | 281 | 19013 | 422858 | 831219 | 22741 | 5397 | 1.2
6104 | MI | EAST LANSING | 23 | 40 | 50 | 296 | 74628 | 424208 | 842451 | 16787 | 1481 | 4.4
9630 | MI | ESCANABA | 3 | 48 | 989 | 327 |  | 460805 | 865655 | 29896 | 159 | 0
21735 | MI | FLINT | 12 | 12 | 13.7 | 287 | 74521 | 431348 | 840335 | 26526 | 2103 | 5.5
21737 | MI | FLINT | 66 | 16 | 1000 | 287 | 28994 | 431318 | 840314 | 23878 | 2363 | 1.7
69273 | MI | FLINT | 28 | 28 | 126 | 258 | 74594 | 425356 | 832741 | 17128 | 4320 | 0
36838 | MI | GRAND RAPIDS | 8 | 7 | 30 | 288 |  | 424114 | 853034 | 28306 | 2299 | 4.5
24784 | MI | GRAND RAPIDS | 35 | 11 | 50 | 238 | 64586 | 425735 | 855345 | 25764 | 1698 | 3.1
49713 | MI | GRAND RAPIDS | 13 | 13 | 15.1 | 305 | 74541 | 431834 | 855444 | 27942 | 1392 | 0.1
68433 | MI | GRAND RAPIDS | 17 | 19 | 725 | 306 | 43453 | 424115 | 853157 | 22476 | 1789 | 6.1
15498 | MI | IRON MOUNTAIN | 8 | 8 | 3.2 | 190 | 74452 | 454910 | 880235 | 16892 | 112 | 2.6
59281 | MI | ISHPEMING | 10 | 10 | 4.54 | 105 | 74721 | 462110 | 875115 | 11135 | 84 | 3.2
29706 | MI | JACKSON | 18 | 34 | 130 | 299 | 39980 | 422513 | 843125 | 18640 | 1398 | 2.2
24783 | MI | KALAMAZOO | 52 | 5 | 10 | 174 |  | 421823 | 853925 | 26295 | 2246 | 4.9
74195 | MI | KALAMAZOO | 3 | 8 | 20 | 305 | 74333 | 423756 | 853216 | 28560 | 2341 | 1.4
11033 | MI | KALAMAZOO | 64 | 45 | 420 | 331 | 69393 | 423352 | 852731 | 18737 | 1717 | 11.8
74420 | MI | LANSING | 6 | 36 | 663 | 288 | 72523 | 424119 | 842235 | 25555 | 3054 | 2
74094 | MI | LANSING | 47 | 38 | 1000 | 281 | 29954 | 422803 | 843906 | 20865 | 1458 | 0
36533 | MI | LANSING | 53 | 51 | 900 | 300 | 59127 | 422513 | 843125 | 24069 | 1807 | 0.2
9913 | MI | MANISTEE | 21 | 21 | 50 | 93 | 74674 | 440357 | 861958 | 9143 | 81 | 4.3
4318 | MI | MARQUETTE | 13 | 13 | 15.7 | 332 | 74500 | 462109 | 875132 | 29278 | 183 | 0.1
81448 | MI | MARQUETTE | 19 | 19 | 50 | 248 | 74742 | 463614 | 873715 | 12597 | 69 | 0
21259 | MI | MARQUETTE | 6 | 35 | 83 | 262 | 67896 | 462011 | 875056 | 13760 | 93 | 0
455 | MI | MOUNT CLEMENS | 38 | 39 | 1000 | 170 | 32831 | 423315 | 825315 | 16235 | 4698 | 1.2
9908 | MI | MOUNT PLEASANT | 14 | 26 | 226 | 299 |  | 434511 | 851240 | 22581 | 643 | 0
67781 | MI | MUSKEGON | 54 | 24 | 280 | 281 | 40886 | 425725 | 855407 | 20561 | 1480 | 2.3
6863 | MI | ONONDAGA | 10 | 10 | 11.6 | 299 | 74659 | 422633 | 843421 | 26535 | 2284 | 1.2
72052 | MI | SAGINAW | 25 | 30 | 193 | 356 |  | 431301 | 834317 | 24557 | 2414 | 3.8
67792 | MI | SAGINAW | 49 | 48 | 1000 | 287 | 40887 | 431318 | 840314 | 23991 | 2035 | 0.1
59279 | MI | SAULT STE. MARIE | 8 | 8 | 24 | 288 | 74353 | 460308 | 840638 | 23547 | 98 | 0.1
26993 | MI | SAULT STE. MARIE | 10 | 10 | 16.3 | 370 | 75038 | 460349 | 840608 | 30785 | 103 | 0.1
21253 | MI | TRAVERSE CITY | 7 | 7 | 3.2 | 230 | 75044 | 444636 | 854102 | 14835 | 225 | 5.4
59280 | MI | TRAVERSE CITY | 29 | 29 | 62.1 | 393 | 74491 | 444453 | 850408 | 19503 | 332 | 0
9632 | MN | ALEXANDRIA | 7 | 7 | 15.6 | 341 | 74469 | 454103 | 950814 | 30282 | 438 | 0.1
35584 | MN | ALEXANDRIA | 42 | 42 | 395 | 358 |  | 454159 | 951035 | 27590 | 404 | 0.3
71549 | MN | APPLETON | 10 | 10 | 24.2 | 364 | 74492 | 451003 | 960002 | 29007 | 219 | 0.4
28510 | MN | AUSTIN | 15 | 20 | 400 | 303 |  | 433834 | 923135 | 26035 | 497 | 0.1
18285 | MN | AUSTIN | 6 | 36 | 500 | 295 |  | 433742 | 930912 | 25023 | 484 | 0.1
49578 | MN | BEMIDJI | 9 | 9 | 15.4 | 329 | 74416 | 474203 | 942915 | 29401 | 114 | 2
83714 | MN | BEMIDJI | 26 | 26 | 50 | 141 | 74758 | 472807 | 944923 | 12672 | 72 | 0
49579 | MN | BRAINERD | 22 | 28 | 46.8 | 227 |  | 462521 | 942742 | 15201 | 153 | 0
82698 | MN | CHISHOLM | 11 | 11 | 12.2 | 200 | 74723 | 475139 | 925646 | 22244 | 112 | 2.9
132606 | MN | CROOKSTON |  | 16 | 105 | 220 | 38385 | 475838 | 963618 | 15345 | 124 | 0
17726 | MN | DULUTH | 8 | 8 | 17.4 | 290 | 80226 | 464731 | 920721 | 27233 | 271 | 1
71338 | MN | DULUTH | 10 | 10 | 19.4 | 268 | 74568 | 464715 | 920721 | 25154 | 252 | 0.2
35525 | MN | DULUTH | 21 | 17 | 1000 | 299 |  | 464737 | 920703 | 30737 | 294 | 0.2
166511 | MN | DULUTH | 27 | 27 | 50 | 268 | 80242 | 464715 | 920721 | 13164 | 204 | 0.4
4691 | MN | DULUTH | 3 | 33 | 381 | 312 |  | 464721 | 920650 | 24856 | 252 | 0
71336 | MN | HIBBING | 13 | 13 | 3.9 | 211 | 74522 | 472253 | 925715 | 15849 | 116 | 0.2
159007 | MN | HIBBING |  | 31 | 500 | 212 | 59939 | 472253 | 925715 | 16478 | 118 | 0
68853 | MN | MANKATO | 12 | 12 | 17.4 | 291 | 74530 | 435613 | 942438 | 26737 | 345 | 1.9
68883 | MN | MINNEAPOLIS | 9 | 9 | 17.9 | 435 | 74995 | 450330 | 930727 | 34544 | 3381 | 0.6
23079 | MN | MINNEAPOLIS | 11 | 11 | 24 | 435 | 74511 | 450344 | 930821 | 36657 | 3438 | 0.1
36395 | MN | MINNEAPOLIS | 23 | 22 | 1000 | 410 | 30005 | 450344 | 930821 | 33367 | 3310 | 0
11913 | MN | MINNEAPOLIS | 29 | 29 | 1000 | 352 | 74442 | 450330 | 930727 | 29943 | 3302 | 0
9629 | MN | MINNEAPOLIS | 4 | 32 | 1000 | 432 |  | 450344 | 930821 | 37736 | 3468 | 0
35843 | MN | MINNEAPOLIS | 45 | 45 | 1000 | 430 |  | 450345 | 930821 | 35610 | 3421 | 0
35585 | MN | REDWOOD FALLS | 43 | 27 | 50 | 167 | 74875 | 442903 | 952927 | 10112 | 84 | 0
35678 | MN | ROCHESTER | 10 | 10 | 16.8 | 381 | 74523 | 433415 | 922537 | 31210 | 565 | 0.9
35906 | MN | ROCHESTER | 47 | 46 | 1000 | 343 | 28767 | 433834 | 923135 | 19950 | 424 | 0.7
35907 | MN | ST. CLOUD | 41 | 40 | 1000 | 430 | 64438 | 452300 | 934230 | 30570 | 3263 | 0
68597 | MN | ST. PAUL | 17 | 26 | 63.1 | 396 | 74396 | 450329 | 930727 | 19236 | 3053 | 0
68594 | MN | ST. PAUL | 2 | 34 | 662 | 411 | 75131 | 450330 | 930727 | 30531 | 3331 | 0.2
28010 | MN | ST. PAUL | 5 | 35 | 755 | 433 |  | 450344 | 930821 | 35389 | 3408 | 0.1
55370 | MN | THIEF RIVER FALLS | 10 | 10 | 9.7 | 113 | 74660 | 480119 | 962212 | 16952 | 121 | 0.3
9640 | MN | WALKER | 12 | 12 | 14.3 | 283 | 74436 | 465603 | 942725 | 26947 | 214 | 1.5
71558 | MN | WORTHINGTON | 20 | 15 | 200 | 290 | 33521 | 435352 | 955650 | 19967 | 290 | 0
592 | MO | CAPE GIRARDEAU | 12 | 12 | 4.01 | 564 | 74661 | 372546 | 893014 | 32285 | 689 | 0.5
19593 | MO | CAPE GIRARDEAU | 23 | 22 | 435 | 543 | 66965 | 372423 | 893344 | 31962 | 691 | 1
65583 | MO | COLUMBIA | 8 | 8 | 13.6 | 242 | 80227 | 385316 | 921548 | 25229 | 493 | 0.5
63164 | MO | COLUMBIA | 17 | 17 | 50 | 348 |  | 384629 | 923322 | 20656 | 475 | 0
4690 | MO | HANNIBAL | 7 | 7 | 13.6 | 271 | 75011 | 395822 | 911954 | 25163 | 309 | 0.1
41110 | MO | JEFFERSON CITY | 13 | 12 | 15.1 | 308 |  | 384130 | 920544 | 27879 | 590 | 0.7
48521 | MO | JEFFERSON CITY | 25 | 20 | 1000 | 293 | 29933 | 384215 | 920521 | 25334 | 533 | 0.2
51101 | MO | JOPLIN | 26 | 25 | 55 | 280 |  | 370437 | 943215 | 17491 | 402 | 0
18283 | MO | JOPLIN | 12 | 43 | 1000 | 269 |  | 370437 | 943215 | 25261 | 532 | 1.6
67766 | MO | JOPLIN | 16 | 46 | 175 | 322 |  | 370433 | 943316 | 21648 | 461 | 0.2
65686 | MO | KANSAS CITY | 9 | 9 | 85 | 357 | 74967 | 390501 | 943057 | 34707 | 2334 | 0
53843 | MO | KANSAS CITY | 19 | 18 | 55 | 355 |  | 390459 | 942849 | 21206 | 2033 | 0
41230 | MO | KANSAS CITY | 5 | 24 | 1000 | 319 | 67335 | 390415 | 943457 | 29717 | 2259 | 0
64444 | MO | KANSAS CITY | 29 | 31 | 1000 | 332 |  | 390501 | 943057 | 31070 | 2224 | 0.2
11291 | MO | KANSAS CITY | 4 | 34 | 1000 | 344 | 74877 | 390420 | 943545 | 31293 | 2286 | 0.5
59444 | MO | KANSAS CITY | 41 | 42 | 450 | 276 | 43791 | 385842 | 943201 | 21585 | 1987 | 0
33336 | MO | KANSAS CITY | 62 | 47 | 1000 | 356 |  | 390526 | 942818 | 31520 | 2174 | 0
33337 | MO | KANSAS CITY | 50 | 51 | 1000 | 339 |  | 390120 | 943049 | 30240 | 2158 | 0
21251 | MO | KIRKSVILLE | 3 | 33 | 87 | 290 | 44120 | 403147 | 922629 | 15915 | 149 | 0
166319 | MO | OSAGE BEACH | 49 | 49 | 204 | 463 | 80245 | 374910 | 924452 | 23362 | 524 | 0
73998 | MO | POPLAR BLUFF | 15 | 15 | 50 | 184 | 74417 | 364804 | 902706 | 11945 | 143 | 1.2
4326 | MO | SEDALIA | 6 | 15 | 322 | 603 |  | 383736 | 925203 | 41154 | 733 | 0.1
28496 | MO | SPRINGFIELD | 10 | 10 | 19.6 | 573 | 74595 | 371308 | 925656 | 41152 | 838 | 0.3
35630 | MO | SPRINGFIELD | 33 | 19 | 1000 | 596 |  | 371308 | 925656 | 47590 | 935 | 0.1
51102 | MO | SPRINGFIELD | 21 | 23 | 100 | 617 |  | 371011 | 925630 | 33191 | 715 | 0
3659 | MO | SPRINGFIELD | 27 | 28 | 1000 | 493 |  | 371308 | 925656 | 41263 | 844 | 0.5
36003 | MO | SPRINGFIELD | 3 | 44 | 1000 | 622 | 74878 | 371011 | 925630 | 43697 | 864 | 2.3
20427 | MO | ST. JOSEPH | 2 | 7 | 7.45 | 247 | 74608 | 394612 | 944753 | 22032 | 970 | 0.8
999 | MO | ST. JOSEPH | 16 | 21 | 1000 | 316 | 68463 | 390120 | 943049 | 27013 | 2118 | 0
48525 | MO | ST. LOUIS | 24 | 14 | 1000 | 396 | 33092 | 382140 | 903254 | 32831 | 2821 | 0
70034 | MO | ST. LOUIS | 4 | 24 | 540 | 335 | 74644 | 383147 | 901758 | 29120 | 2842 | 0
35417 | MO | ST. LOUIS | 11 | 26 | 1000 | 288 |  | 383424 | 901930 | 29590 | 2841 | 0
56524 | MO | ST. LOUIS | 30 | 31 | 1000 | 321 |  | 383450 | 901945 | 31023 | 2858 | 0
46981 | MO | ST. LOUIS | 5 | 35 | 1000 | 332 | 74879 | 383405 | 901955 | 31112 | 2855 | 0.1
62182 | MO | ST. LOUIS | 9 | 39 | 991 | 326 | 74880 | 382856 | 902353 | 29480 | 2832 | 0.1
35693 | MO | ST. LOUIS | 2 | 43 | 1000 | 337 |  | 383207 | 902223 | 30721 | 2851 | 0
13995 | MS | BILOXI | 13 | 13 | 14.1 | 366 | 74542 | 304323 | 890528 | 27980 | 951 | 4.8
43197 | MS | BILOXI | 19 | 16 | 150 | 477 | 45861 | 304518 | 885644 | 25131 | 878 | 16.7
43170 | MS | BOONEVILLE | 12 | 12 | 5.89 | 227 | 74629 | 344000 | 884505 | 20448 | 418 | 2.9
43184 | MS | BUDE | 17 | 18 | 1000 | 341 |  | 312222 | 904504 | 34462 | 721 | 0
12477 | MS | COLUMBUS | 4 | 35 | 1000 | 610 | 74881 | 334506 | 885240 | 44448 | 727 | 3.9
83735 | MS | COLUMBUS |  | 43 | 81 | 204 | 43679 | 335031 | 884148 | 18843 | 412 | 2.6
25236 | MS | GREENVILLE | 15 | 15 | 330 | 269 |  | 333926 | 904218 | 23434 | 322 | 0
43176 | MS | GREENWOOD | 23 | 25 | 625 | 317 |  | 332234 | 903232 | 28909 | 387 | 3.6
43203 | MS | GREENWOOD | 6 | 32 | 1000 | 572 | 68863 | 332223 | 903225 | 34348 | 442 | 0.9
53517 | MS | GULFPORT | 25 | 48 | 300 | 456 | 28507 | 304448 | 890330 | 26058 | 946 | 14.2
48668 | MS | HATTIESBURG | 22 | 22 | 140 | 244 |  | 312420 | 891413 | 18687 | 353 | 0.1
60830 | MS | HOLLY SPRINGS | 40 | 41 | 500 | 122 |  | 345920 | 894113 | 16080 | 1279 | 0.1
83310 | MS | HOUSTON | 45 | 45 | 537 | 491 | 72853 | 334739 | 890515 | 27543 | 525 | 0
68542 | MS | JACKSON | 3 | 7 | 7 | 393 |  | 321249 | 902256 | 28290 | 725 | 0.2
48667 | MS | JACKSON | 12 | 12 | 17.9 | 464 | 74596 | 321426 | 902415 | 36477 | 816 | 0.4
43168 | MS | JACKSON | 29 | 20 | 400 | 482 |  | 321129 | 902422 | 36368 | 826 | 0.1
49712 | MS | JACKSON | 16 | 21 | 1000 | 332 | 39758 | 321641 | 901740 | 28450 | 740 | 2.5
71326 | MS | JACKSON | 40 | 40 | 981 | 598 | 80223 | 321249 | 902256 | 40292 | 886 | 0
166512 | MS | JACKSON | 51 | 51 | 184 | 384 | 80213 | 321426 | 902415 | 24384 | 681 | 0.7
21250 | MS | LAUREL | 7 | 28 | 79 | 128 | 42804 | 312712 | 891705 | 11124 | 251 | 0.1
136749 | MS | MAGEE | 34 | 34 | 98.7 | 305 | 75071 | 320718 | 893239 | 19368 | 665 | 2.7
4686 | MS | MERIDIAN | 11 | 11 | 6.15 | 165 | 75039 | 321938 | 884128 | 18166 | 254 | 2.3
73255 | MS | MERIDIAN | 24 | 24 | 956 | 170 | 74996 | 321940 | 884131 | 18636 | 278 | 0.1
24314 | MS | MERIDIAN | 30 | 31 | 1000 | 183 | 27899 | 321940 | 884131 | 18932 | 263 | 0.4
43169 | MS | MERIDIAN | 14 | 44 | 880 | 369 |  | 320818 | 890536 | 31834 | 662 | 0
43192 | MS | MISSISSIPPI STATE | 2 | 10 | 4.3 | 349 |  | 332114 | 890900 | 24647 | 370 | 0.3
16539 | MS | NATCHEZ | 48 | 49 | 1000 | 313 | 38528 | 314008 | 914130 | 24377 | 340 | 0
43193 | MS | OXFORD | 18 | 36 | 225 | 421 | 33510 | 341728 | 894221 | 23767 | 905 | 2.1
74148 | MS | TUPELO | 9 | 8 | 9 | 542 | 74662 | 334740 | 890516 | 35700 | 634 | 3.2
84253 | MS | VICKSBURG | 35 | 35 | 186 | 253 | 70324 | 321935 | 903703 | 14176 | 526 | 1
37732 | MS | WEST POINT | 27 | 16 | 450 | 494 | 39741 | 334740 | 890516 | 33099 | 599 | 0.6
35694 | MT | BILLINGS | 2 | 10 | 26.1 | 180 |  | 454601 | 1082726 | 21980 | 155 | 0
35724 | MT | BILLINGS | 8 | 11 | 14.5 | 229 | 74882 | 454535 | 1082714 | 21681 | 152 | 0
5243 | MT | BILLINGS | 6 | 18 | 1000 | 228 |  | 454826 | 1082025 | 24478 | 153 | 0
43567 | MT | BOZEMAN | 9 | 8 | 17.9 | 251 | 67316 | 454024 | 1105202 | 14163 | 84 | 0.3
33756 | MT | BOZEMAN | 7 | 13 | 18.9 | 271 | 67232 | 454024 | 1105202 | 13985 | 84 | 0
35959 | MT | BUTTE | 4 | 5 | 10.7 | 588 | 43752 | 460027 | 1122630 | 43135 | 183 | 0
18066 | MT | BUTTE | 6 | 6 | 11.2 | 591 | 80201 | 460027 | 1122630 | 42931 | 192 | 0
14674 | MT | BUTTE | 18 | 19 | 125 | 585 | 42948 | 460024 | 1122630 | 15884 | 65 | 0
81438 | MT | BUTTE | 24 | 24 | 50 | 570 | 74755 | 460024 | 1122630 | 15762 | 67 | 0
24287 | MT | GLENDIVE | 5 | 10 | 30 | 152 |  | 470315 | 1044045 | 20893 | 21 | 1.3
35567 | MT | GREAT FALLS | 3 | 7 | 28.5 | 150 | 73758 | 473209 | 1111702 | 19067 | 89 | 0
34412 | MT | GREAT FALLS | 5 | 8 | 28.6 | 180 |  | 473208 | 1111702 | 22360 | 91 | 0
81331 | MT | GREAT FALLS | 26 | 26 | 50 | 65 | 74759 | 473223 | 1111706 | 8905 | 84 | 0
13792 | MT | GREAT FALLS | 16 | 45 | 157 | 300 | 30029 | 473626 | 1112127 | 16946 | 90 | 0
47670 | MT | HARDIN | 4 | 22 | 1000 | 248 |  | 454424 | 1080818 | 24748 | 151 | 0
83689 | MT | HAVRE | 9 | 9 | 3.2 | 389 | 74719 | 482032 | 1094341 | 22474 | 25 | 0
5290 | MT | HELENA | 12 | 12 | 9.36 | 697 | 74375 | 464935 | 1114233 | 26659 | 152 | 0
68717 | MT | HELENA | 10 | 29 | 43.4 | 697 | 68037 | 464935 | 1114233 | 14425 | 139 | 0
18079 | MT | KALISPELL | 9 | 9 | 3.2 | 850 | 80210 | 480048 | 1142155 | 28213 | 110 | 0
84794 | MT | LEWISTOWN | 13 | 13 | 3.2 | 636 | 74726 | 471046 | 1093205 | 25112 | 16 | 0.4
5237 | MT | MILES CITY | 3 | 3 | 1.03 | 30 | 74367 | 462534 | 1055138 | 7580 | 11 | 0
35455 | MT | MISSOULA | 8 | 7 | 22.5 | 654 |  | 470106 | 1140041 | 36798 | 170 | 0
66611 | MT | MISSOULA | 11 | 11 | 3.2 | 631 | 74999 | 464809 | 1135821 | 18430 | 132 | 0
18084 | MT | MISSOULA | 13 | 13 | 26.7 | 610 | 80239 | 470104 | 1140047 | 35664 | 168 | 0.1
81348 | MT | MISSOULA | 17 | 17 | 50 | 628 | 74739 | 464808 | 1135819 | 16846 | 132 | 0
14675 | MT | MISSOULA | 23 | 23 | 92.6 | 618 | 74525 | 470110 | 1140046 | 18786 | 150 | 0
56537 | NC | ASHEVILLE | 13 | 13 | 29.8 | 853 | 70317 | 352532 | 824525 | 37759 | 2349 | 2.1
69300 | NC | ASHEVILLE | 33 | 25 | 185 | 797 | 41130 | 352532 | 824525 | 22420 | 1437 | 5.8
70149 | NC | ASHEVILLE | 62 | 45 | 1000 | 555 |  | 351320 | 823258 | 34531 | 2043 | 0.1
73152 | NC | BELMONT | 46 | 47 | 1000 | 595 |  | 352144 | 810919 | 40397 | 3404 | 0.6
65074 | NC | BURLINGTON | 16 | 14 | 95 | 213 |  | 361454 | 793921 | 16777 | 1712 | 1.1
69080 | NC | CHAPEL HILL | 4 | 25 | 300 | 448 | 69110 | 355159 | 791000 | 26537 | 2744 | 0.4
10645 | NC | CHARLOTTE | 42 | 11 | 2.2 | 363 |  | 351714 | 804145 | 20685 | 2180 | 3.7
32326 | NC | CHARLOTTE | 36 | 22 | 791 | 577 | 64697 | 352049 | 811015 | 36939 | 3096 | 1.3
30826 | NC | CHARLOTTE | 3 | 23 | 1000 | 565 |  | 352151 | 811113 | 43975 | 3599 | 0.1
49157 | NC | CHARLOTTE | 18 | 27 | 1000 | 368 | 28621 | 351601 | 804405 | 30079 | 2748 | 6.1
74070 | NC | CHARLOTTE | 9 | 34 | 1000 | 348 |  | 351541 | 804338 | 31482 | 2747 | 5.7
69124 | NC | CONCORD | 58 | 44 | 149 | 422 | 74886 | 352130 | 803637 | 24194 | 2537 | 3.7
8617 | NC | DURHAM | 11 | 11 | 19.2 | 607 | 74597 | 354005 | 783158 | 40935 | 2807 | 4.5
54963 | NC | DURHAM | 28 | 28 | 225 | 610 |  | 354028 | 783140 | 36204 | 2685 | 1.5
69292 | NC | EDENTON | 2 | 20 | 543 | 489 |  | 355400 | 762045 | 39125 | 1359 | 0
21245 | NC | FAYETTEVILLE | 62 | 36 | 1000 | 242 | 36997 | 345305 | 790429 | 20318 | 985 | 0.2
16517 | NC | FAYETTEVILLE | 40 | 38 | 500 | 509 | 60837 | 353044 | 785841 | 33401 | 2898 | 0.6
50782 | NC | GOLDSBORO | 17 | 17 | 244 | 628 | 70663 | 354029 | 783140 | 32343 | 2496 | 7
25544 | NC | GREENSBORO | 48 | 33 | 700 | 575 | 38478 | 355203 | 794926 | 33109 | 2816 | 11.6
54452 | NC | GREENSBORO | 61 | 43 | 105 | 527 | 42438 | 355202 | 794926 | 25142 | 2207 | 5.7
72064 | NC | GREENSBORO | 2 | 51 | 1000 | 569 |  | 355213 | 795025 | 41290 | 3777 | 5.9
57838 | NC | GREENVILLE | 9 | 10 | 35 | 575 |  | 352155 | 772338 | 45399 | 1370 | 15.8
35582 | NC | GREENVILLE | 14 | 14 | 50 | 205 |  | 352644 | 772208 | 15450 | 649 | 0
69149 | NC | GREENVILLE | 25 | 23 | 71 | 331 | 42548 | 353310 | 773606 | 17438 | 801 | 0.1
81508 | NC | GREENVILLE | 38 | 51 | 90.7 | 155 | 74769 | 352409 | 772510 | 13446 | 594 | 0.1
65919 | NC | HICKORY | 14 | 40 | 600 | 182 | 67111 | 354359 | 811951 | 11030 | 776 | 19.1
72106 | NC | HIGH POINT | 8 | 8 | 15 | 398 | 70590 | 354846 | 795029 | 29992 | 2769 | 3.7
69444 | NC | JACKSONVILLE | 19 | 19 | 66.6 | 561 | 74418 | 350618 | 772015 | 23999 | 799 | 0.4
37971 | NC | JACKSONVILLE | 35 | 34 | 600 | 199 | 41098 | 343110 | 772652 | 18502 | 568 | 0
12793 | NC | KANNAPOLIS | 64 | 50 | 50 | 348 |  | 351541 | 804338 | 18157 | 2047 | 2.1
35385 | NC | LEXINGTON | 20 | 19 | 800 | 576 |  | 355202 | 794926 | 44436 | 4287 | 2.1
69114 | NC | LINVILLE | 17 | 17 | 61.6 | 546 | 74613 | 360347 | 815033 | 18558 | 1085 | 4.1
69416 | NC | LUMBERTON | 31 | 31 | 109 | 319 | 69624 | 344750 | 790242 | 17329 | 889 | 3.6
76324 | NC | MANTEO | 4 | 9 | 21.3 | 274 | 74336 | 363254 | 761116 | 29522 | 1725 | 0
37982 | NC | MOREHEAD CITY | 8 | 8 | 9.88 | 216 | 74470 | 345301 | 763021 | 20774 | 299 | 0
18334 | NC | NEW BERN | 12 | 12 | 22.2 | 591 | 80237 | 350618 | 772015 | 42635 | 1324 | 2.9
73205 | NC | RALEIGH | 22 | 27 | 568 | 610 |  | 354028 | 783140 | 41286 | 2847 | 2.8
8688 | NC | RALEIGH | 5 | 48 | 916 | 629 | 69133 | 354029 | 783139 | 41666 | 2852 | 0.1
64611 | NC | RALEIGH | 50 | 49 | 1000 | 614 |  | 354029 | 783140 | 44278 | 2980 | 0.1
69397 | NC | ROANOKE RAPIDS | 36 | 36 | 50 | 368 | 74543 | 361728 | 775010 | 19141 | 604 | 8.4
20590 | NC | ROCKY MOUNT | 47 | 15 | 180 | 354 | 36353 | 360611 | 781129 | 22787 | 1759 | 0.1
594 | NC | WASHINGTON | 7 | 32 | 806 | 594 | 74887 | 352155 | 772338 | 44561 | 1497 | 1.1
69332 | NC | WILMINGTON | 39 | 29 | 700 | 297 |  | 341916 | 781343 | 27800 | 786 | 2.2
72871 | NC | WILMINGTON | 26 | 30 | 547 | 419 | 67959 | 340753 | 781117 | 27737 | 750 | 0.1
48666 | NC | WILMINGTON | 6 | 44 | 575 | 280 | 59015 | 341916 | 781343 | 20378 | 591 | 0
12033 | NC | WILMINGTON | 3 | 46 | 1000 | 594 | 74888 | 340751 | 781116 | 44363 | 1060 | 0
10133 | NC | WILSON | 30 | 42 | 873 | 539 | 68096 | 354953 | 780850 | 32166 | 2162 | 2
414 | NC | WINSTON-SALEM | 45 | 29 | 990 | 576 | 39890 | 355203 | 794926 | 37521 | 3484 | 4.8
53921 | NC | WINSTON-SALEM | 12 | 31 | 815 | 572 |  | 362231 | 802226 | 37577 | 2625 | 4.2
69360 | NC | WINSTON-SALEM | 26 | 32 | 263 | 504 | 74889 | 362234 | 802214 | 22283 | 1867 | 6.9
55686 | ND | BISMARCK | 12 | 12 | 19.1 | 466 | 74459 | 463517 | 1004826 | 35655 | 127 | 0.3
22121 | ND | BISMARCK | 17 | 16 | 1000 | 275 | 68012 | 463515 | 1004820 | 25005 | 113 | 0
53324 | ND | BISMARCK | 3 | 22 | 97.3 | 392 | 18952 | 463523 | 1004802 | 21415 | 110 | 0
82611 | ND | BISMARCK | 26 | 26 | 50 | 300 | 74760 | 463523 | 1004739 | 17826 | 104 | 0
41427 | ND | BISMARCK | 5 | 31 | 500 | 389 | 73210 | 463620 | 1004822 | 26522 | 118 | 0
22124 | ND | DEVILS LAKE | 8 | 8 | 16.2 | 451 | 74687 | 480824 | 975938 | 35778 | 150 | 0
162016 | ND | DEVILS LAKE |  | 25 | 134 | 245 | 66852 | 480347 | 992008 | 18194 | 39 | 0
41430 | ND | DICKINSON | 7 | 7 | 11.3 | 223 | 74419 | 465649 | 1025917 | 22461 | 33 | 0.9
53329 | ND | DICKINSON | 9 | 9 | 8.35 | 246 | 74437 | 464334 | 1025456 | 22539 | 36 | 0
55684 | ND | DICKINSON | 2 | 19 | 50 | 217 | 59817 | 464335 | 1025457 | 13157 | 28 | 0
53315 | ND | ELLENDALE | 19 | 20 | 72.3 | 163 | 64873 | 461756 | 985156 | 13632 | 18 | 0
53321 | ND | FARGO | 13 | 13 | 11.4 | 344 | 74460 | 470048 | 971137 | 28996 | 257 | 0
55372 | ND | FARGO | 15 | 19 | 1000 | 379 | 28940 | 464029 | 961340 | 28028 | 320 | 0.1
22129 | ND | FARGO | 6 | 21 | 1000 | 356 |  | 470028 | 971202 | 34973 | 345 | 0
61961 | ND | FARGO | 11 | 44 | 356 | 576 | 73213 | 472032 | 971720 | 31290 | 314 | 0
53320 | ND | GRAND FORKS | 2 | 15 | 50 | 408 | 74645 | 480818 | 975935 | 20362 | 116 | 0
86208 | ND | GRAND FORKS | 27 | 27 | 50 | 96 | 74762 | 475745 | 970312 | 11054 | 108 | 0
55364 | ND | JAMESTOWN | 7 | 7 | 13 | 135 | 80206 | 465530 | 984621 | 18175 | 42 | 0.5
41425 | ND | MINOT | 10 | 10 | 7.69 | 207 | 80232 | 481256 | 1011905 | 21143 | 75 | 1.7
55685 | ND | MINOT | 13 | 13 | 16.1 | 344 | 74570 | 480302 | 1012029 | 29701 | 89 | 0
22127 | ND | MINOT | 14 | 14 | 60 | 216 |  | 480311 | 1012305 | 16113 | 70 | 0
82615 | ND | MINOT | 24 | 24 | 50 | 239 | 74756 | 480314 | 1012603 | 15862 | 69 | 0
53313 | ND | MINOT | 6 | 40 | 146 | 249 | 59853 | 480302 | 1012325 | 15514 | 70 | 0
55362 | ND | PEMBINA | 12 | 12 | 28.7 | 413 | 74382 | 485944 | 972428 | 35647 | 43 | 0.1
49134 | ND | VALLEY CITY | 4 | 38 | 382 | 573 | 73275 | 471645 | 972026 | 32236 | 317 | 0
41429 | ND | WILLISTON | 8 | 8 | 7.21 | 323 | 74598 | 480802 | 1035136 | 24857 | 38 | 0
55683 | ND | WILLISTON | 11 | 14 | 50 | 257 | 59878 | 480830 | 1035334 | 14655 | 32 | 0.5
53318 | ND | WILLISTON | 4 | 51 | 53.9 | 248 | 64823 | 480830 | 1035334 | 12463 | 31 | 0
47996 | NE | ALLIANCE | 13 | 13 | 20.9 | 469 | 74471 | 415024 | 1030318 | 33136 | 89 | 1.5
47981 | NE | BASSETT | 7 | 7 | 18.7 | 453 | 74383 | 422005 | 992901 | 35064 | 41 | 3.3
7894 | NE | GRAND ISLAND | 11 | 11 | 15.2 | 308 | 74493 | 403520 | 984810 | 28343 | 219 | 0.3
27220 | NE | GRAND ISLAND | 17 | 19 | 1000 | 186 | 28644 | 404344 | 983413 | 18605 | 195 | 0
48003 | NE | HASTINGS | 5 | 5 | 6.78 | 223 | 80198 | 403906 | 982304 | 28719 | 229 | 0
47987 | NE | HASTINGS | 29 | 28 | 200 | 366 | 39665 | 404620 | 980521 | 22084 | 179 | 0.1
21162 | NE | HAYES CENTER | 6 | 18 | 1000 | 216 | 74892 | 403729 | 1010158 | 24515 | 76 | 0
21160 | NE | KEARNEY | 13 | 36 | 753 | 338 | 74893 | 403928 | 985204 | 30484 | 227 | 0
47975 | NE | LEXINGTON | 3 | 26 | 375 | 251 | 32442 | 402305 | 992730 | 19875 | 107 | 0
11264 | NE | LINCOLN | 8 | 8 | 17.8 | 440 | 75015 | 405259 | 971820 | 35535 | 695 | 2.8
7890 | NE | LINCOLN | 10 | 10 | 18.4 | 454 | 74987 | 404808 | 971046 | 36426 | 887 | 0.4
66589 | NE | LINCOLN | 12 | 12 | 8.16 | 253 | 74553 | 410818 | 962719 | 23231 | 1145 | 0.1
84453 | NE | LINCOLN | 51 | 51 | 200 | 461 | 74786 | 404738 | 971422 | 25974 | 454 | 0
72362 | NE | MCCOOK | 8 | 12 | 10.4 | 218 |  | 394948 | 1004204 | 23270 | 48 | 0.3
47971 | NE | MERRIMAN | 12 | 12 | 15.7 | 328 | 74407 | 424038 | 1014236 | 26596 | 27 | 1.2
47995 | NE | NORFOLK | 19 | 19 | 53.8 | 348 | 74397 | 421415 | 971641 | 16025 | 214 | 5.8
49273 | NE | NORTH PLATTE | 2 | 2 | 6.75 | 192 | 80195 | 411213 | 1004358 | 27013 | 67 | 0
47973 | NE | NORTH PLATTE | 9 | 9 | 15.5 | 311 | 74398 | 410116 | 1010910 | 28103 | 66 | 0
23277 | NE | OMAHA | 15 | 15 | 295 | 475 |  | 410416 | 961331 | 34708 | 1240 | 0
47974 | NE | OMAHA | 26 | 17 | 200 | 117 |  | 411528 | 960032 | 15002 | 836 | 0
53903 | NE | OMAHA | 7 | 20 | 700 | 396 |  | 411832 | 960133 | 35092 | 1220 | 0
65528 | NE | OMAHA | 6 | 22 | 1000 | 398 |  | 411840 | 960137 | 37205 | 1242 | 0
51491 | NE | OMAHA | 42 | 43 | 700 | 475 |  | 410414 | 961333 | 36280 | 1255 | 0
35190 | NE | OMAHA | 3 | 45 | 1000 | 426 |  | 411824 | 960136 | 35409 | 1221 | 0.3
17683 | NE | SCOTTSBLUFF | 4 | 7 | 32 | 475 |  | 415028 | 1030427 | 37186 | 95 | 3.4
136747 | NE | SCOTTSBLUFF | 16 | 17 | 91.5 | 238 | 74736 | 415023 | 1034935 | 14585 | 56 | 0.2
63182 | NE | SCOTTSBLUFF | 10 | 29 | 1000 | 256 | 74894 | 415958 | 1033955 | 23761 | 74 | 1.2
21161 | NE | SUPERIOR | 4 | 34 | 1000 | 344 | 74895 | 400515 | 975512 | 31807 | 185 | 0.1
48406 | NH | CONCORD | 21 | 33 | 100 | 344 | 42932 | 431104 | 711912 | 16703 | 2327 | 3.5
14682 | NH | DERRY | 50 | 35 | 7.3 | 191 |  | 424407 | 712331 | 8996 | 3843 | 2.3
69237 | NH | DURHAM | 11 | 11 | 15.8 | 302 | 80234 | 431033 | 711229 | 26397 | 4074 | 0.5
69271 | NH | KEENE | 52 | 49 | 50 | 329 | 74896 | 430200 | 722204 | 11793 | 404 | 5
69328 | NH | LITTLETON | 49 | 48 | 50 | 390 | 74897 | 442114 | 714423 | 11253 | 131 | 0
73292 | NH | MANCHESTER | 9 | 9 | 7.11 | 305 | 74688 | 425902 | 713524 | 20862 | 4589 | 2.6
51864 | NH | MERRIMACK | 60 | 34 | 80 | 293 | 28154 | 425902 | 713520 | 13421 | 3094 | 4
9739 | NJ | ATLANTIC CITY |  | 44 | 200 | 284 | 40339 | 394341 | 745039 | 13582 | 5320 | 11
23142 | NJ | ATLANTIC CITY | 62 | 49 | 130 | 296 | 27898 | 393753 | 742112 | 15516 | 1908 | 0.2
7623 | NJ | BURLINGTON | 48 | 27 | 160 | 354 | 68951 | 400230 | 751411 | 19775 | 7092 | 4.5
48481 | NJ | CAMDEN | 23 | 22 | 197 | 266 |  | 394341 | 745039 | 20659 | 6862 | 0
73333 | NJ | LINDEN | 47 | 36 | 832 | 408 | 42433 | 404454 | 735910 | 28648 | 19697 | 1.7
48477 | NJ | MONTCLAIR | 50 | 51 | 200 | 238 |  | 405153 | 741203 | 16560 | 17216 | 0.3
48457 | NJ | NEW BRUNSWICK | 58 | 8 | 20.2 | 212 | 32754 | 403717 | 743015 | 20833 | 17069 | 9.7
18795 | NJ | NEWARK | 13 | 13 | 3.2 | 500 | 74696 | 404243 | 740049 | 25707 | 19255 | 1.5
60555 | NJ | NEWARK | 68 | 30 | 189 | 321 | 80192 | 404522 | 735912 | 16609 | 17182 | 2.8
43952 | NJ | NEWTON | 63 | 18 | 1000 | 250 | 67170 | 405153 | 741203 | 18520 | 17260 | 0
74215 | NJ | PATERSON | 41 | 40 | 300 | 421 | 29858 | 404454 | 735910 | 23316 | 19038 | 0.4
74197 | NJ | SECAUCUS | 9 | 38 | 136 | 500 | 74898 | 404243 | 740049 | 26502 | 19428 | 0.3
48465 | NJ | TRENTON | 52 | 43 | 50 | 271 | 74899 | 401700 | 744120 | 14075 | 8748 | 11.3
60560 | NJ | VINELAND | 65 | 29 | 225 | 396 | 72018 | 400230 | 751411 | 20524 | 7421 | 5.7
20818 | NJ | WEST MILFORD | 66 | 29 | 200 | 167 | 33869 | 404718 | 741519 | 8192 | 13959 | 12.2
61111 | NJ | WILDWOOD | 40 | 36 | 200 | 128 |  | 390728 | 744556 | 14738 | 739 | 0.9
53928 | NM | ALBUQUERQUE | 7 | 7 | 27.6 | 1243 | 74445 | 351253 | 1062701 | 53948 | 961 | 0
48575 | NM | ALBUQUERQUE | 13 | 13 | 7.03 | 1287 | 74399 | 351240 | 1062657 | 43540 | 925 | 0
1151 | NM | ALBUQUERQUE | 32 | 17 | 65.6 | 1247 | 58949 | 351251 | 1062701 | 34322 | 913 | 0
57220 | NM | ALBUQUERQUE | 14 | 22 | 303 | 376 | 74730 | 352444 | 1064332 | 16156 | 820 | 0
993 | NM | ALBUQUERQUE | 23 | 24 | 200 | 1243 |  | 351254 | 1062702 | 47308 | 935 | 0
35313 | NM | ALBUQUERQUE | 4 | 26 | 270 | 1277 |  | 351242 | 1062658 | 48914 | 934 | 0.1
55528 | NM | ALBUQUERQUE | 5 | 35 | 250 | 1287 |  | 351249 | 1062701 | 46539 | 929 | 0
35084 | NM | ALBUQUERQUE | 41 | 42 | 321 | 1262 |  | 351241 | 1062656 | 46959 | 928 | 0
55049 | NM | ALBUQUERQUE | 50 | 45 | 245 | 1287 | 41944 | 351248 | 1062700 | 42560 | 921 | 0
53908 | NM | CARLSBAD | 6 | 19 | 912 | 333 |  | 324738 | 1041229 | 32390 | 153 | 0.6
83707 | NM | CARLSBAD | 25 | 25 | 50 | 134 | 74757 | 322609 | 1041114 | 11804 | 51 | 0
40450 | NM | CLOVIS | 12 | 20 | 598 | 204 | 74900 | 341134 | 1031644 | 21451 | 87 | 0
53904 | NM | FARMINGTON | 3 | 8 | 40 | 166 |  | 364017 | 1081352 | 23531 | 151 | 0
35321 | NM | FARMINGTON | 12 | 12 | 12.7 | 102 | 74408 | 364143 | 1081314 | 13056 | 121 | 0
27431 | NM | HOBBS | 29 | 29 | 67.4 | 159 | 74400 | 324328 | 1030546 | 13761 | 81 | 0
55516 | NM | LAS CRUCES | 22 | 23 | 1000 | 223 | 44448 | 321722 | 1064149 | 21045 | 708 | 0
36916 | NM | LAS CRUCES | 48 | 47 | 200 | 134 | 74901 | 320230 | 1062741 | 8205 | 693 | 0
18338 | NM | PORTALES | 3 | 32 | 82.6 | 190 |  | 341508 | 1031420 | 15679 | 81 | 0
62272 | NM | ROSWELL | 8 | 8 | 20.8 | 499 | 74533 | 332231 | 1034612 | 38887 | 159 | 0
48556 | NM | ROSWELL | 10 | 10 | 24.3 | 610 | 74558 | 330320 | 1034912 | 43742 | 187 | 0.1
84157 | NM | ROSWELL | 21 | 21 | 164 | 128 | 74747 | 330601 | 1041515 | 11510 | 77 | 0
53539 | NM | ROSWELL | 27 | 27 | 50 | 115 | 74474 | 332458 | 1043359 | 7382 | 63 | 0
84215 | NM | SANTA FE |  | 9 | 0.2 | 1241 | 67438 | 351245 | 1062658 | 20827 | 857 | 0.8
60793 | NM | SANTA FE | 11 | 10 | 30 | 608 |  | 354648 | 1063133 | 38985 | 904 | 1.3
32311 | NM | SANTA FE | 2 | 27 | 255 | 1278 |  | 351250 | 1062701 | 48241 | 933 | 0.2
76268 | NM | SANTA FE | 19 | 29 | 245 | 1289 |  | 351244 | 1062657 | 47629 | 935 | 0
53911 | NM | SILVER CITY | 10 | 10 | 3.2 | 485 | 74976 | 325146 | 1081428 | 22295 | 59 | 0.2
85114 | NM | SILVER CITY | 6 | 12 | 3.2 | 502 | 74712 | 325149 | 1081427 | 16454 | 58 | 0
63845 | NV | ELKO | 10 | 10 | 3.2 | 557 |  | 404152 | 1155413 | 21628 | 36 | 0
86537 | NV | ELY | 3 | 3 | 1 | 279 | 74709 | 391446 | 1145536 | 6317 | 8 | 0
86538 | NV | ELY | 6 | 27 | 1000 | 270 | 74713 | 391553 | 1145335 | 13318 | 8 | 0
86201 | NV | GOLDFIELD | 7 | 50 | 50 | 448 | 74716 | 380305 | 1171330 | 8739 | 3 | 0
35870 | NV | HENDERSON | 5 | 9 | 86 | 385 |  | 360026 | 1150022 | 29838 | 1362 | 0.1
69677 | NV | LAS VEGAS | 3 | 2 | 27.7 | 384 |  | 360030 | 1150020 | 41279 | 1419 | 0
35042 | NV | LAS VEGAS | 8 | 7 | 30.1 | 609 |  | 355644 | 1150233 | 33021 | 1366 | 0
11683 | NV | LAS VEGAS | 10 | 11 | 105 | 371 |  | 360027 | 1150024 | 30092 | 1360 | 0
74100 | NV | LAS VEGAS | 13 | 13 | 16 | 606 |  | 355643 | 1150232 | 27920 | 1363 | 0
67089 | NV | LAS VEGAS | 15 | 16 | 1000 | 571 | 36067 | 355646 | 1150234 | 24277 | 1352 | 0
10179 | NV | LAS VEGAS | 21 | 22 | 630 | 383 | 73225 | 360028 | 1150024 | 18735 | 1351 | 0
10195 | NV | LAS VEGAS | 33 | 29 | 1000 | 383 | 73223 | 360028 | 1150024 | 19334 | 1351 | 0
41237 | NV | LAUGHLIN | 34 | 32 | 1000 | 607 | 66737 | 353907 | 1141842 | 27099 | 1276 | 0.1
63768 | NV | PARADISE | 39 | 40 | 200 | 357 |  | 360036 | 1150020 | 14586 | 1350 | 0
60307 | NV | RENO | 4 | 7 | 16.1 | 879 |  | 391857 | 1195302 | 39300 | 677 | 3
63331 | NV | RENO | 8 | 9 | 15.6 | 893 |  | 391849 | 1195300 | 38673 | 660 | 3.1
59139 | NV | RENO | 2 | 13 | 16.1 | 876 |  | 391857 | 1195302 | 38571 | 678 | 0.3
10228 | NV | RENO | 5 | 15 | 50 | 140 | 74902 | 393501 | 1194752 | 6245 | 389 | 0
19191 | NV | RENO | 21 | 20 | 53 | 176 | 42485 | 393503 | 1194751 | 6065 | 363 | 0
51493 | NV | RENO | 27 | 26 | 1000 | 894 | 28095 | 391847 | 1195259 | 36813 | 577 | 0.5
48360 | NV | RENO | 11 | 44 | 1000 | 836 | 44000 | 393523 | 1195537 | 19310 | 403 | 0
86643 | NV | TONOPAH | 9 | 9 | 3.2 | 448 | 74720 | 380305 | 1171330 | 12823 | 3 | 0
63846 | NV | WINNEMUCCA | 7 | 7 | 3.2 | 650 |  | 410041 | 1174559 | 23032 | 17 | 0
11970 | NY | ALBANY | 23 | 7 | 10 | 434 |  | 423731 | 740038 | 26085 | 1488 | 1.1
73363 | NY | ALBANY | 13 | 12 | 9.1 | 436 |  | 423731 | 740038 | 26438 | 1477 | 0.2
74422 | NY | ALBANY | 10 | 26 | 700 | 426 | 67986 | 423731 | 740038 | 27072 | 1496 | 1.5
13933 | NY | AMSTERDAM | 55 | 50 | 450 | 207 | 38556 | 425904 | 741056 | 13763 | 993 | 0
2325 | NY | BATAVIA | 51 | 23 | 445 | 279 | 74609 | 425342 | 780056 | 19868 | 2211 | 0.5
72623 | NY | BATH | 14 | 14 | 50 | 318 | 74731 | 421828 | 771317 | 15650 | 468 | 14.6
23337 | NY | BINGHAMTON | 12 | 7 | 20.4 | 342 |  | 420331 | 755706 | 27244 | 1001 | 1.8
62210 | NY | BINGHAMTON | 40 | 8 | 7.9 | 371 | 70921 | 420322 | 755639 | 21231 | 750 | 1.5
11260 | NY | BINGHAMTON | 34 | 34 | 450 | 263 | 70326 | 420339 | 755636 | 16714 | 635 | 2.2
74034 | NY | BINGHAMTON | 46 | 42 | 50 | 408 |  | 420340 | 755645 | 17846 | 603 | 1.2
415 | NY | BUFFALO | 29 | 14 | 1000 | 300 | 76608 | 430132 | 785543 | 20685 | 1403 | 1.1
71905 | NY | BUFFALO | 23 | 32 | 1000 | 314 |  | 430148 | 785515 | 28800 | 1538 | 2.1
64547 | NY | BUFFALO | 2 | 33 | 480 | 295 |  | 424307 | 783347 | 22864 | 1848 | 1.2
67784 | NY | BUFFALO | 49 | 34 | 175 | 288 | 78226 | 430132 | 785543 | 12091 | 1291 | 1.9
54176 | NY | BUFFALO | 7 | 38 | 358 | 433 |  | 423815 | 783712 | 29175 | 1990 | 0.2
7780 | NY | BUFFALO | 4 | 39 | 790 | 417 |  | 423933 | 783733 | 32947 | 2280 | 0.1
71928 | NY | BUFFALO | 17 | 43 | 156 | 330 | 74905 | 430148 | 785515 | 21439 | 1386 | 0.1
68851 | NY | CARTHAGE | 7 | 7 | 15.6 | 203 | 74512 | 435715 | 754345 | 17022 | 191 | 7.9
78908 | NY | CORNING | 30 | 30 | 50 | 319 |  | 420829 | 770439 | 16043 | 439 | 0.6
62219 | NY | CORNING | 48 | 48 | 50 | 166 | 75045 | 420943 | 770215 | 9513 | 285 | 1
60653 | NY | ELMIRA | 18 | 18 | 90 | 363 | 70327 | 420622 | 765217 | 16933 | 606 | 3.1
71508 | NY | ELMIRA | 36 | 36 | 50 | 320 | 74631 | 420620 | 765217 | 15689 | 544 | 0.3
38336 | NY | GARDEN CITY | 21 | 21 | 89.9 | 111 | 74455 | 404719 | 732709 | 10930 | 13638 | 0.1
34329 | NY | ITHACA | 52 | 20 | 0.015 | 1 |  | 422546 | 762948 | 382 | 66 | 2.6
30303 | NY | JAMESTOWN | 26 | 26 | 234 | 463 | 75000 | 422336 | 791344 | 22922 | 1548 | 0.2
74156 | NY | KINGSTON |  | 48 | 950 | 378 | 65356 | 412918 | 735656 | 23706 | 14181 | 1.2
1328 | NY | NEW YORK | 7 | 7 | 3.2 | 491 | 74571 | 404243 | 740049 | 26545 | 19366 | 0.9
73881 | NY | NEW YORK | 11 | 11 | 3.2 | 506 | 80235 | 404243 | 740049 | 26014 | 19252 | 1.9
6048 | NY | NEW YORK | 25 | 24 | 151 | 310 |  | 404522 | 735912 | 20843 | 18220 | 1.3
47535 | NY | NEW YORK | 4 | 28 | 164 | 515 | 74906 | 404243 | 740049 | 28669 | 19696 | 1
73356 | NY | NEW YORK | 31 | 31 | 225 | 458 | 74482 | 404243 | 740049 | 20490 | 17944 | 5.8
9610 | NY | NEW YORK | 2 | 33 | 239 | 482 | 74646 | 404243 | 740049 | 26765 | 19217 | 3.4
22206 | NY | NEW YORK | 5 | 44 | 225 | 515 | 74907 | 404243 | 740049 | 27036 | 19135 | 3.6
57476 | NY | NORTH POLE | 5 | 14 | 650 | 845 | 72521 | 443132 | 724858 | 39057 | 642 | 0
62137 | NY | NORWOOD | 18 | 23 | 40 | 242 |  | 442929 | 745127 | 14994 | 163 | 0.1
46755 | NY | PLATTSBURGH | 57 | 38 | 100 | 737 | 66309 | 444143 | 735300 | 26048 | 413 | 0
67993 | NY | POUGHKEEPSIE | 54 | 27 | 800 | 358 | 43683 | 412920 | 735653 | 23834 | 10810 | 34.2
73206 | NY | RIVERHEAD | 55 | 47 | 410 | 196 | 72009 | 405350 | 725456 | 14328 | 4541 | 1
70041 | NY | ROCHESTER | 10 | 10 | 5.9 | 152 | 74676 | 430807 | 773502 | 17449 | 1148 | 0
73371 | NY | ROCHESTER | 13 | 13 | 5.83 | 152 | 74689 | 430807 | 773503 | 17099 | 1134 | 0.7
57274 | NY | ROCHESTER | 21 | 16 | 180 | 130 | 68025 | 430807 | 773503 | 12874 | 1118 | 0.1
413 | NY | ROCHESTER | 31 | 28 | 320 | 161 | 66841 | 430805 | 773507 | 13190 | 1127 | 0
73964 | NY | ROCHESTER | 8 | 45 | 1000 | 122 | 69994 | 430807 | 773502 | 15154 | 1146 | 0.4
77515 | NY | SARANAC LAKE | 40 | 40 | 50 | 440 | 74774 | 440935 | 742834 | 11926 | 38 | 1.7
73942 | NY | SCHENECTADY | 6 | 6 | 4.46 | 426 | 74544 | 423731 | 740038 | 30364 | 1567 | 1.7
73263 | NY | SCHENECTADY | 17 | 34 | 325 | 426 |  | 423731 | 740038 | 24147 | 1423 | 0.8
73264 | NY | SCHENECTADY | 45 | 43 | 676 | 413 | 67289 | 423731 | 740038 | 24332 | 1399 | 0.9
60553 | NY | SMITHTOWN | 67 | 23 | 150 | 204 | 39829 | 405323 | 725713 | 13615 | 4096 | 15.2
9088 | NY | SPRINGVILLE | 67 | 7 | 15.5 | 411 | 74575 | 423814 | 783711 | 16571 | 1369 | 0.7
64352 | NY | SYRACUSE | 56 | 15 | 78.2 | 379 | 74790 | 431818 | 760300 | 17835 | 1053 | 0.8
73113 | NY | SYRACUSE | 9 | 17 | 105 | 402 | 44725 | 425642 | 760128 | 22102 | 1222 | 0.1
40758 | NY | SYRACUSE | 68 | 19 | 621 | 445 | 29285 | 425250 | 761200 | 29954 | 1648 | 0.3
21252 | NY | SYRACUSE | 3 | 24 | 210 | 405 |  | 425642 | 760707 | 26452 | 1367 | 0.2
53734 | NY | SYRACUSE | 24 | 25 | 97 | 393 |  | 425644 | 760707 | 22595 | 1276 | 0
58725 | NY | SYRACUSE | 43 | 44 | 680 | 445 | 68111 | 425250 | 761200 | 27037 | 1403 | 0
74151 | NY | SYRACUSE | 5 | 47 | 500 | 290 |  | 425719 | 760634 | 22565 | 1246 | 0
43424 | NY | UTICA | 33 | 27 | 688 | 433 | 59327 | 430213 | 752641 | 25154 | 1066 | 2.1
60654 | NY | UTICA | 2 | 29 | 708 | 402 | 45240 | 430609 | 745627 | 28378 | 1294 | 3.3
57837 | NY | UTICA | 20 | 30 | 50 | 227 | 45963 | 430843 | 751035 | 10411 | 447 | 8.7
16747 | NY | WATERTOWN | 50 | 21 | 25 | 331 | 44780 | 435247 | 754312 | 15745 | 186 | 0
62136 | NY | WATERTOWN | 16 | 41 | 50 | 370 | 74911 | 435144 | 754340 | 18784 | 234 | 0.3
70491 | OH | AKRON | 23 | 23 | 317 | 296 | 74690 | 410353 | 813459 | 21976 | 4065 | 0.2
72958 | OH | AKRON | 55 | 30 | 1000 | 334 | 66037 | 412302 | 814144 | 16202 | 3445 | 0
49421 | OH | AKRON | 49 | 50 | 180 | 305 |  | 410458 | 813802 | 18680 | 3641 | 6.7
49439 | OH | ALLIANCE | 45 | 45 | 388 | 223 | 74576 | 405423 | 805439 | 15811 | 2304 | 0
50147 | OH | ATHENS | 20 | 27 | 250 | 242 |  | 391852 | 820859 | 19485 | 708 | 1.9
6568 | OH | BOWLING GREEN | 27 | 27 | 110 | 320 |  | 410812 | 835424 | 21416 | 1313 | 0
50141 | OH | CAMBRIDGE | 44 | 35 | 310 | 385 | 68039 | 400532 | 811719 | 24017 | 1218 | 1.1
67893 | OH | CANTON | 17 | 39 | 200 | 292 |  | 410320 | 813538 | 20718 | 3970 | 1
43870 | OH | CANTON | 67 | 47 | 1000 | 134 | 40562 | 410633 | 812010 | 15829 | 3690 | 0.1
21158 | OH | CHILLICOTHE | 53 | 46 | 1000 | 328 | 33138 | 393520 | 830644 | 27391 | 2595 | 0.2
59438 | OH | CINCINNATI | 9 | 10 | 15.4 | 305 | 75072 | 390731 | 842957 | 27021 | 3082 | 0.6
11289 | OH | CINCINNATI | 12 | 12 | 15.6 | 305 | 75016 | 390658 | 843005 | 26165 | 3013 | 1.9
11204 | OH | CINCINNATI | 64 | 33 | 500 | 337 | 39190 | 391201 | 843122 | 24978 | 3100 | 0
65666 | OH | CINCINNATI | 48 | 34 | 500 | 326 | 32656 | 390727 | 843118 | 24471 | 3023 | 0.1
46979 | OH | CINCINNATI | 5 | 35 | 1000 | 311 |  | 390727 | 843118 | 29790 | 3176 | 0.1
73150 | OH | CLEVELAND | 8 | 8 | 15.7 | 305 | 75017 | 412147 | 814258 | 27942 | 3966 | 1.5
59441 | OH | CLEVELAND | 5 | 15 | 1000 | 311 | 75073 | 412227 | 814306 | 31477 | 4147 | 3.2
73195 | OH | CLEVELAND | 3 | 17 | 1000 | 296 | 72095 | 412310 | 814121 | 30737 | 4170 | 0
18753 | OH | CLEVELAND | 25 | 26 | 100 | 313 | 42131 | 412028 | 814425 | 18860 | 3498 | 0.1
60556 | OH | CLEVELAND | 61 | 34 | 525 | 334 | 40362 | 412258 | 814207 | 25232 | 3931 | 0.3
56549 | OH | COLUMBUS | 6 | 13 | 59 | 286 | 39803 | 395614 | 830116 | 26405 | 2526 | 10.4
50781 | OH | COLUMBUS | 4 | 14 | 902 | 264 |  | 395816 | 830140 | 28164 | 2467 | 0.4
71217 | OH | COLUMBUS | 10 | 21 | 1000 | 279 |  | 395816 | 830140 | 28074 | 2497 | 2.6
74137 | OH | COLUMBUS | 28 | 36 | 1000 | 271 |  | 395614 | 830116 | 25893 | 2312 | 1.6
66185 | OH | COLUMBUS | 34 | 38 | 250 | 291 |  | 400933 | 825523 | 21605 | 2191 | 0.4
25067 | OH | DAYTON | 16 | 16 | 126 | 320 |  | 394316 | 841500 | 21274 | 3118 | 2.2
411 | OH | DAYTON | 45 | 30 | 425 | 351 | 29247 | 394328 | 841518 | 22724 | 2886 | 7
41458 | OH | DAYTON | 7 | 41 | 1000 | 290 | 67218 | 394402 | 841453 | 24364 | 3196 | 0.5
65690 | OH | DAYTON | 2 | 50 | 1000 | 323 |  | 394307 | 841522 | 29198 | 3497 | 0.3
73155 | OH | DAYTON | 22 | 51 | 138 | 351 |  | 394328 | 841518 | 21345 | 3050 | 1.9
37503 | OH | LIMA | 35 | 8 | 30 | 165 | 36733 | 404454 | 840755 | 23276 | 1109 | 8.5
1222 | OH | LIMA | 44 | 47 | 50 | 207 | 75074 | 404547 | 841059 | 14055 | 556 | 0.1
8532 | OH | LORAIN | 43 | 28 | 200 | 337 | 38130 | 412245 | 814312 | 22230 | 3706 | 0
41893 | OH | MANSFIELD | 68 | 12 | 14 | 180 | 69497 | 404550 | 823704 | 19484 | 1109 | 12.2
11118 | OH | NEWARK | 51 | 24 | 1000 | 132 | 39194 | 400445 | 824141 | 18218 | 1935 | 0.2
25065 | OH | OXFORD | 14 | 28 | 400 | 268 | 43343 | 390719 | 843252 | 20730 | 2781 | 0
65130 | OH | PORTSMOUTH | 30 | 17 | 50 | 237 | 75075 | 384542 | 830341 | 16947 | 596 | 1.5
66190 | OH | PORTSMOUTH | 42 | 43 | 50 | 382 |  | 384542 | 830341 | 19181 | 604 | 8.3
11027 | OH | SANDUSKY | 52 | 42 | 700 | 213 | 41148 | 412348 | 824731 | 18330 | 1542 | 0.1
39746 | OH | SHAKER HEIGHTS | 19 | 10 | 3.5 | 304 | 19316 | 412315 | 814143 | 18681 | 3562 | 1.2
70138 | OH | SPRINGFIELD | 26 | 26 | 50 | 291 | 74421 | 394328 | 841518 | 15181 | 2003 | 0.9
74122 | OH | STEUBENVILLE | 9 | 9 | 8.82 | 261 | 74665 | 402033 | 803714 | 21161 | 2829 | 0.1
17076 | OH | TOLEDO | 40 | 5 | 10 | 155 | 43356 | 414441 | 840106 | 18262 | 2235 | 17.4
13992 | OH | TOLEDO | 11 | 11 | 13.1 | 263 | 74409 | 414022 | 832247 | 22529 | 2388 | 0.5
74150 | OH | TOLEDO | 13 | 13 | 14.6 | 305 | 74430 | 414100 | 832449 | 22711 | 2547 | 3
66285 | OH | TOLEDO | 30 | 29 | 50 | 314 | 75078 | 413927 | 832555 | 18428 | 2208 | 0
19190 | OH | TOLEDO | 36 | 46 | 110 | 356 | 40304 | 413922 | 832641 | 18875 | 2041 | 0.8
73354 | OH | TOLEDO | 24 | 49 | 59 | 409 | 42576 | 414003 | 832122 | 18182 | 1915 | 0
72062 | OH | YOUNGSTOWN | 21 | 20 | 460 | 295 | 43442 | 410448 | 803825 | 23468 | 3296 | 0
4693 | OH | YOUNGSTOWN | 33 | 36 | 50 | 148 |  | 410343 | 803807 | 12151 | 1299 | 3.1
73153 | OH | YOUNGSTOWN | 27 | 41 | 700 | 418 |  | 410324 | 803844 | 29686 | 3817 | 26.3
61216 | OH | ZANESVILLE | 18 | 40 | 620 | 169 |  | 395542 | 815907 | 18268 | 818 | 1.3
35666 | OK | ADA | 10 | 26 | 1000 | 426 |  | 342134 | 963334 | 37746 | 516 | 1.1
1005 | OK | BARTLESVILLE | 17 | 17 | 210 | 296 | 74384 | 363059 | 954610 | 20962 | 949 | 0
50194 | OK | CHEYENNE | 12 | 8 | 30 | 303 |  | 353536 | 994002 | 30003 | 101 | 2.9
57431 | OK | CLAREMORE | 35 | 36 | 144 | 255 | 76140 | 362403 | 953630 | 15572 | 915 | 0
50198 | OK | EUFAULA | 3 | 31 | 1000 | 364 |  | 351101 | 952019 | 31355 | 600 | 0.1
35645 | OK | LAWTON | 7 | 11 | 138 | 327 |  | 341255 | 984313 | 40212 | 446 | 1.6
78322 | OK | MUSKOGEE | 19 | 20 | 245 | 252 | 80215 | 354508 | 954815 | 20096 | 1001 | 0.4
84225 | OK | NORMAN | 46 | 46 | 50 | 416 | 74779 | 353552 | 972922 | 18745 | 1211 | 0.1
12508 | OK | OKLAHOMA CITY | 5 | 7 | 34 | 430 | 41104 | 353345 | 972924 | 34028 | 1407 | 0.1
25382 | OK | OKLAHOMA CITY | 9 | 9 | 19.4 | 465 | 74545 | 353258 | 972950 | 36596 | 1436 | 0.2
50205 | OK | OKLAHOMA CITY | 13 | 13 | 26.4 | 465 | 74494 | 353552 | 972922 | 38899 | 1455 | 0
67999 | OK | OKLAHOMA CITY | 14 | 15 | 500 | 358 |  | 353435 | 972909 | 29701 | 1365 | 1.1
35388 | OK | OKLAHOMA CITY | 25 | 24 | 1000 | 476 | 44126 | 353258 | 972918 | 37403 | 1448 | 0
66222 | OK | OKLAHOMA CITY | 4 | 27 | 790 | 489 |  | 353552 | 972922 | 39060 | 1449 | 0.7
50170 | OK | OKLAHOMA CITY | 34 | 33 | 1000 | 458 |  | 353258 | 972918 | 39194 | 1464 | 0
50182 | OK | OKLAHOMA CITY | 43 | 40 | 55.6 | 475 | 74566 | 353522 | 972903 | 23666 | 1272 | 0
2566 | OK | OKLAHOMA CITY | 62 | 50 | 200 | 483 |  | 353552 | 972922 | 28774 | 1341 | 0
38214 | OK | OKLAHOMA CITY | 52 | 51 | 1000 | 458 |  | 353552 | 972922 | 36936 | 1428 | 0
7078 | OK | OKMULGEE | 44 | 28 | 1000 | 219 | 19049 | 355002 | 960728 | 20118 | 978 | 0.5
77480 | OK | SHAWNEE | 30 | 29 | 770 | 474 |  | 353336 | 972907 | 38646 | 1451 | 0.5
59439 | OK | TULSA | 2 | 8 | 18.2 | 558 | 74648 | 360115 | 954032 | 40080 | 1293 | 0.2
35685 | OK | TULSA | 8 | 10 | 6.9 | 542 | 42996 | 355808 | 953655 | 28865 | 1168 | 1.7
66195 | OK | TULSA | 11 | 11 | 22.2 | 396 | 74534 | 360115 | 954032 | 33165 | 1210 | 0.3
11910 | OK | TULSA | 23 | 22 | 1000 | 400 |  | 360136 | 954044 | 35867 | 1235 | 1
54420 | OK | TULSA | 41 | 42 | 900 | 381 |  | 360136 | 954044 | 32279 | 1195 | 0.2
35434 | OK | TULSA | 6 | 45 | 840 | 573 | 74632 | 360115 | 954032 | 40750 | 1297 | 0.7
37099 | OK | TULSA | 47 | 47 | 50 | 460 | 75034 | 360115 | 954032 | 19212 | 1018 | 0
24485 | OK | TULSA | 53 | 49 | 50 | 182 | 74912 | 360234 | 955711 | 13058 | 893 | 0
86532 | OK | WOODWARD | 35 | 35 | 50 | 339 | 74767 | 361606 | 992656 | 16828 | 37 | 0
50588 | OR | BEND | 3 | 11 | 160 | 226 |  | 440441 | 1211957 | 29073 | 157 | 0
55907 | OR | BEND | 21 | 21 | 53.7 | 197 | 74422 | 440440 | 1211949 | 10195 | 150 | 0
166534 | OR | BEND |  | 51 | 84.1 | 206 | 75180 | 440440 | 1211956 | 10034 | 148 | 0
49750 | OR | COOS BAY | 11 | 11 | 3.2 | 188 | 74446 | 432326 | 1240746 | 12943 | 82 | 0
35183 | OR | COOS BAY | 23 | 22 | 10 | 179 | 44658 | 432339 | 1240756 | 8368 | 65 | 0.9
50590 | OR | CORVALLIS | 7 | 7 | 10.1 | 375 | 74546 | 443825 | 1231625 | 24451 | 1118 | 9.6
34406 | OR | EUGENE | 9 | 9 | 12.1 | 502 | 75028 | 440657 | 1225957 | 24311 | 513 | 0.1
49766 | OR | EUGENE | 13 | 13 | 30.9 | 407 | 74988 | 440007 | 1230653 | 28949 | 648 | 7.6
35189 | OR | EUGENE | 16 | 17 | 70 | 473 | 44473 | 440657 | 1225957 | 17731 | 465 | 0.1
50591 | OR | EUGENE | 28 | 29 | 100 | 403 | 60215 | 440007 | 1230653 | 15614 | 477 | 0
8322 | OR | EUGENE | 34 | 31 | 88 | 372 | 67996 | 440004 | 1230645 | 13922 | 460 | 0
83306 | OR | GRANTS PASS | 30 | 30 | 50 | 654 | 74763 | 422256 | 1231629 | 19481 | 185 | 0
8284 | OR | KLAMATH FALLS | 2 | 13 | 9 | 659 |  | 420548 | 1213757 | 29481 | 84 | 0.2
60740 | OR | KLAMATH FALLS | 31 | 29 | 50 | 691 | 74913 | 420550 | 1213759 | 19200 | 65 | 0
61335 | OR | KLAMATH FALLS | 22 | 33 | 50 | 656 | 74914 | 420550 | 1213759 | 20779 | 67 | 0
50592 | OR | LA GRANDE | 13 | 13 | 31.8 | 775 | 74341 | 451833 | 1174354 | 28984 | 78 | 3.1
81447 | OR | LA GRANDE | 16 | 29 | 50 | 773 | 74737 | 451835 | 1174357 | 20192 | 42 | 0
8260 | OR | MEDFORD | 5 | 5 | 6.35 | 823 | 74385 | 424149 | 1231339 | 49279 | 483 | 0
61350 | OR | MEDFORD | 8 | 8 | 16.9 | 818 | 74567 | 424132 | 1231345 | 36640 | 386 | 1
22570 | OR | MEDFORD | 10 | 10 | 11.5 | 1009 | 74513 | 420455 | 1224307 | 38336 | 337 | 0
60736 | OR | MEDFORD | 12 | 12 | 16.9 | 823 | 74535 | 424132 | 1231346 | 35257 | 377 | 2.2
32958 | OR | MEDFORD | 26 | 26 | 50 | 428 | 75001 | 421754 | 1224459 | 11117 | 216 | 0
12729 | OR | PENDLETON | 11 | 11 | 22 | 472 | 74974 | 454451 | 1180211 | 30211 | 316 | 0
34874 | OR | PORTLAND | 8 | 8 | 21.9 | 509 | 74577 | 453121 | 1224446 | 30424 | 2379 | 3.6
50589 | OR | PORTLAND | 10 | 10 | 32 | 509 | 75002 | 453121 | 1224445 | 32672 | 2474 | 0.1
50633 | OR | PORTLAND | 12 | 12 | 21.9 | 543 | 74483 | 453119 | 1224453 | 30824 | 2429 | 1.2
35380 | OR | PORTLAND | 6 | 40 | 1000 | 523 |  | 453058 | 1224358 | 30516 | 2489 | 0
21649 | OR | PORTLAND | 2 | 43 | 1000 | 524 |  | 453057 | 1224359 | 30145 | 2486 | 0
47707 | OR | PORTLAND | 24 | 45 | 1000 | 522 |  | 453058 | 1224359 | 29841 | 2479 | 0
31437 | OR | ROSEBURG | 36 | 18 | 50 | 213 | 34395 | 431409 | 1231916 | 9672 | 93 | 0
61551 | OR | ROSEBURG | 4 | 19 | 50 | 274 | 28609 | 431408 | 1231918 | 9394 | 89 | 0
35187 | OR | ROSEBURG | 46 | 45 | 12 | 109 | 44472 | 431222 | 1232156 | 5477 | 76 | 0.2
5801 | OR | SALEM | 22 | 22 | 1000 | 490 | 74337 | 453121 | 1224445 | 31809 | 2507 | 0
10192 | OR | SALEM | 32 | 33 | 750 | 523 |  | 453058 | 1224358 | 30060 | 2482 | 0.1
36989 | PA | ALLENTOWN | 39 | 39 | 50 | 302 | 74699 | 403358 | 752606 | 15373 | 4857 | 2.5
39884 | PA | ALLENTOWN | 69 | 46 | 500 | 314 | 59122 | 403352 | 752624 | 16547 | 6539 | 2.3
20287 | PA | ALTOONA | 23 | 24 | 1000 | 311 | 29784 | 403406 | 782638 | 19812 | 757 | 0.8
23341 | PA | ALTOONA | 10 | 32 | 883 | 305 | 70018 | 403401 | 782630 | 22732 | 817 | 1.6
13929 | PA | ALTOONA | 47 | 46 | 50 | 308 | 74915 | 403412 | 782626 | 13077 | 575 | 0.7
60850 | PA | BETHLEHEM | 60 | 9 | 3.2 | 284 | 59326 | 403352 | 752624 | 15841 | 5342 | 8.4
66219 | PA | CLEARFIELD | 3 | 15 | 810 | 413 | 59340 | 410720 | 782629 | 31830 | 862 | 1.4
24970 | PA | ERIE | 12 | 12 | 8.63 | 305 | 74599 | 420352 | 800019 | 24248 | 675 | 0.7
49711 | PA | ERIE | 35 | 16 | 200 | 279 | 30039 | 420215 | 800343 | 19713 | 636 | 0.6
19707 | PA | ERIE | 66 | 22 | 850 | 276 | 65637 | 420233 | 800356 | 14972 | 581 | 0
65749 | PA | ERIE | 24 | 24 | 523 | 310 | 70354 | 420225 | 800409 | 20313 | 702 | 1.1
53716 | PA | ERIE | 54 | 50 | 200 | 271 | 67971 | 420234 | 800356 | 18066 | 531 | 3.5
13924 | PA | GREENSBURG | 40 | 50 | 362 | 264 | 44438 | 402334 | 794654 | 16084 | 2634 | 2.8
72326 | PA | HARRISBURG | 27 | 10 | 14 | 346 | 40451 | 401857 | 765702 | 22372 | 2185 | 0.6
72313 | PA | HARRISBURG | 21 | 21 | 500 | 372 | 70325 | 402043 | 765209 | 22848 | 2357 | 4.6
73083 | PA | HARRISBURG | 33 | 36 | 50 | 427 | 74916 | 402045 | 765206 | 16831 | 1972 | 8.6
73375 | PA | HAZLETON | 56 | 45 | 420 | 488 |  | 411100 | 755210 | 26172 | 1848 | 17.9
69880 | PA | JEANNETTE | 19 | 49 | 233 | 325 | 74484 | 401051 | 790946 | 19207 | 2016 | 19.9
20295 | PA | JOHNSTOWN | 8 | 8 | 6.5 | 352 | 70335 | 401053 | 790905 | 20947 | 2534 | 0.8
73120 | PA | JOHNSTOWN | 6 | 34 | 1000 | 386 | 65822 | 402217 | 785856 | 24695 | 1984 | 3
53930 | PA | LANCASTER | 8 | 8 | 13.4 | 393 | 74678 | 400204 | 763708 | 23713 | 3313 | 2.5
23338 | PA | LANCASTER | 15 | 23 | 500 | 381 | 41227 | 401545 | 762751 | 25174 | 3340 | 1.1
8616 | PA | PHILADELPHIA | 6 | 6 | 6.22 | 332 | 80202 | 400239 | 751426 | 32281 | 10186 | 0.2
73879 | PA | PHILADELPHIA | 17 | 17 | 237 | 354 | 74615 | 400230 | 751411 | 24810 | 8188 | 0
25453 | PA | PHILADELPHIA | 3 | 26 | 770 | 375 |  | 400233 | 751433 | 31614 | 10075 | 1.6
12499 | PA | PHILADELPHIA | 57 | 32 | 250 | 400 | 44229 | 400230 | 751411 | 22512 | 7859 | 3.6
63153 | PA | PHILADELPHIA | 10 | 34 | 325 | 377 | 71122 | 400230 | 751411 | 27178 | 8934 | 1.6
28480 | PA | PHILADELPHIA | 35 | 35 | 358 | 377 | 71123 | 400230 | 751411 | 25390 | 8573 | 4.3
51568 | PA | PHILADELPHIA | 29 | 42 | 273 | 347 | 74917 | 400226 | 751420 | 22077 | 7633 | 8.6
41315 | PA | PITTSBURGH | 13 | 13 | 12.6 | 210 | 80240 | 402646 | 795751 | 21749 | 2933 | 1.3
25454 | PA | PITTSBURGH | 2 | 25 | 1000 | 311 |  | 402938 | 800109 | 29482 | 3587 | 0.1
41314 | PA | PITTSBURGH | 16 | 38 | 64.1 | 215 | 74997 | 402646 | 795751 | 14493 | 2602 | 0.2
73907 | PA | PITTSBURGH | 22 | 42 | 1000 | 315 | 43259 | 402943 | 800017 | 22255 | 2996 | 3.9
73875 | PA | PITTSBURGH | 53 | 43 | 1000 | 303 | 45946 | 402943 | 800018 | 23931 | 3093 | 0
73910 | PA | PITTSBURGH | 11 | 48 | 1000 | 289 |  | 402748 | 800016 | 24863 | 3239 | 0.6
65681 | PA | PITTSBURGH | 4 | 51 | 1000 | 273 | 40377 | 401649 | 794811 | 20794 | 2868 | 0.6
55305 | PA | READING | 51 | 25 | 900 | 395 | 67694 | 401952 | 754141 | 20961 | 5185 | 35.2
55350 | PA | RED LION | 49 | 30 | 50 | 177 | 74918 | 395418 | 763500 | 11529 | 1959 | 17.2
17010 | PA | SCRANTON | 22 | 13 | 30 | 471 |  | 411058 | 755226 | 32173 | 2482 | 5.9
64690 | PA | SCRANTON | 64 | 32 | 528 | 354 | 59210 | 412606 | 754335 | 20285 | 1051 | 5.2
73374 | PA | SCRANTON | 38 | 38 | 57.6 | 385 | 75018 | 412609 | 754345 | 15550 | 899 | 3.7
47929 | PA | SCRANTON | 44 | 41 | 200 | 487 |  | 411055 | 755217 | 23850 | 1905 | 2.3
73318 | PA | SCRANTON | 16 | 49 | 100 | 506 |  | 411100 | 755210 | 21352 | 1725 | 0.9
71225 | PA | WILKES-BARRE | 28 | 11 | 30 | 471 |  | 411058 | 755226 | 32646 | 2524 | 5.2
52075 | PA | WILLIAMSPORT | 53 | 29 | 200 | 223 | 17599 | 411157 | 770739 | 12694 | 325 | 2.2
10213 | PA | YORK | 43 | 47 | 933 | 385 | 45937 | 400141 | 763600 | 22841 | 3255 | 26.3
50063 | RI | BLOCK ISLAND | 69 | 17 | 1000 | 228 | 67093 | 412941 | 714706 | 21896 | 2966 | 4
73311 | RI | PROVIDENCE | 64 | 12 | 11.5 | 295 | 74616 | 415214 | 711745 | 21844 | 5899 | 0.8
47404 | RI | PROVIDENCE | 12 | 13 | 18 | 305 |  | 415236 | 711657 | 28045 | 6539 | 0.8
56092 | RI | PROVIDENCE | 36 | 21 | 50 | 268 | 65226 | 415154 | 711715 | 11209 | 2916 | 34.3
50780 | RI | PROVIDENCE | 10 | 51 | 1000 | 305 | 74926 | 415154 | 711715 | 27224 | 6489 | 0.4
61003 | SC | ALLENDALE | 14 | 33 | 427 | 241 | 67765 | 331115 | 812350 | 15210 | 603 | 0
56548 | SC | ANDERSON | 40 | 14 | 310 | 311 | 30073 | 343851 | 821613 | 22074 | 1365 | 0
61007 | SC | BEAUFORT | 16 | 44 | 440 | 365 | 70516 | 324242 | 804054 | 19925 | 835 | 0
61005 | SC | CHARLESTON | 7 | 7 | 12 | 562 | 70358 | 325528 | 794158 | 31487 | 849 | 0
416 | SC | CHARLESTON | 24 | 24 | 283 | 583 | 74554 | 325624 | 794145 | 30857 | 818 | 0
21536 | SC | CHARLESTON | 4 | 34 | 630 | 522 | 43263 | 325528 | 794158 | 32715 | 848 | 0
9015 | SC | CHARLESTON | 36 | 36 | 50 | 583 | 74514 | 325624 | 794145 | 21692 | 657 | 0
71297 | SC | CHARLESTON | 5 | 47 | 1000 | 521 | 45846 | 325528 | 794158 | 33547 | 866 | 0.3
10587 | SC | CHARLESTON | 2 | 50 | 1000 | 581 | 66300 | 325624 | 794145 | 35154 | 925 | 0
60963 | SC | COLUMBIA | 25 | 8 | 43.7 | 529 | 34078 | 340658 | 804551 | 40798 | 1724 | 9.5
13990 | SC | COLUMBIA | 10 | 10 | 18.1 | 462 | 74559 | 340729 | 804523 | 32006 | 1450 | 1.8
37176 | SC | COLUMBIA | 19 | 17 | 1000 | 500 | 43474 | 340549 | 804551 | 33240 | 1341 | 6.5
61013 | SC | COLUMBIA | 35 | 32 | 65 | 314 |  | 340706 | 805613 | 18946 | 969 | 0
136750 | SC | COLUMBIA | 47 | 47 | 50 | 192 | 74780 | 340238 | 805951 | 5835 | 584 | 16.7
19199 | SC | COLUMBIA | 57 | 48 | 520 | 464 | 43955 | 340658 | 804551 | 27312 | 1158 | 1.4
61004 | SC | CONWAY | 23 | 9 | 20 | 230 |  | 335658 | 790631 | 27745 | 778 | 0
66407 | SC | FLORENCE | 13 | 13 | 18.3 | 541 | 74650 | 342204 | 791921 | 40668 | 1577 | 1
17012 | SC | FLORENCE | 15 | 16 | 421 | 602 |  | 342153 | 791949 | 42129 | 1611 | 1.2
3133 | SC | FLORENCE | 21 | 21 | 384 | 581 | 74438 | 342153 | 791949 | 32643 | 1311 | 0.1
61008 | SC | FLORENCE | 33 | 45 | 45 | 242 |  | 341648 | 794435 | 14727 | 495 | 0.2
82494 | SC | GEORGETOWN |  | 38 | 500 | 171 | 66448 | 335012 | 785111 | 14797 | 379 | 2
61010 | SC | GREENVILLE | 29 | 9 | 65 | 378 | 64722 | 345629 | 822438 | 30476 | 1753 | 0.1
9064 | SC | GREENVILLE | 16 | 16 | 98.4 | 337 |  | 345626 | 822441 | 20693 | 1507 | 0.5
72300 | SC | GREENVILLE | 21 | 21 | 496 | 744 | 70350 | 351056 | 824056 | 32127 | 1918 | 0.9
53905 | SC | GREENVILLE | 4 | 36 | 664 | 577 | 74692 | 350643 | 823624 | 35642 | 2008 | 0.2
60931 | SC | GREENWOOD | 38 | 18 | 49 | 230 |  | 342219 | 821005 | 15770 | 1009 | 0.7
27245 | SC | HARDEEVILLE | 28 | 28 | 1000 | 455 | 75003 | 320245 | 812027 | 34454 | 819 | 0
9054 | SC | MYRTLE BEACH | 43 | 18 | 1000 | 459 | 39594 | 341119 | 791100 | 36913 | 1343 | 0.9
83969 | SC | MYRTLE BEACH | 32 | 32 | 165 | 186 | 77954 | 334350 | 790432 | 13305 | 334 | 0
61009 | SC | ROCK HILL | 30 | 15 | 403 | 212 | 67767 | 345023 | 810107 | 15304 | 1610 | 0.2
20624 | SC | ROCK HILL | 55 | 39 | 200 | 595 |  | 352144 | 810919 | 30125 | 2793 | 2.7
66391 | SC | SPARTANBURG | 7 | 7 | 20.5 | 657 | 74611 | 351012 | 821727 | 40644 | 2745 | 0.4
61011 | SC | SPARTANBURG | 49 | 43 | 50 | 302 |  | 345311 | 814916 | 16629 | 1263 | 4
61012 | SC | SUMTER | 27 | 28 | 98.4 | 364 |  | 335251 | 801615 | 22690 | 1018 | 0.4
40902 | SC | SUMTER | 63 | 39 | 500 | 391 | 66995 | 340658 | 804551 | 23915 | 1157 | 7.1
48659 | SD | ABERDEEN | 9 | 9 | 19.4 | 427 | 74475 | 450632 | 975330 | 32920 | 127 | 2.8
61064 | SD | ABERDEEN | 16 | 17 | 50 | 357 | 74927 | 452955 | 974035 | 21097 | 80 | 0
61067 | SD | BROOKINGS | 8 | 8 | 9.16 | 230 | 70586 | 442016 | 971342 | 19513 | 123 | 4.1
61071 | SD | EAGLE BUTTE | 13 | 13 | 21.9 | 518 | 74989 | 450320 | 1021540 | 37160 | 18 | 3
41975 | SD | FLORENCE | 3 | 3 | 3.7 | 241 | 74334 | 445753 | 973450 | 25730 | 122 | 0
28501 | SD | HURON | 12 | 12 | 11.8 | 217 | 74456 | 441139 | 981905 | 19995 | 64 | 1.5
17686 | SD | LEAD | 11 | 10 | 34.8 | 576 |  | 441936 | 1035012 | 44028 | 162 | 0
34348 | SD | LEAD | 5 | 29 | 1000 | 564 | 74928 | 441930 | 1035014 | 39408 | 160 | 1.3
61063 | SD | LOWRY | 11 | 11 | 10.6 | 317 | 74386 | 451634 | 995903 | 27187 | 27 | 0.7
61062 | SD | MARTIN | 8 | 8 | 12.9 | 265 | 74461 | 432606 | 1013314 | 24925 | 28 | 0
55375 | SD | MITCHELL | 5 | 26 | 1000 | 315 |  | 434533 | 982444 | 31314 | 100 | 0
61066 | SD | PIERRE | 10 | 10 | 21.4 | 488 | 74447 | 435755 | 993556 | 37734 | 62 | 1.3
48660 | SD | PIERRE | 4 | 19 | 61 | 347 | 44050 | 440307 | 1000503 | 17986 | 32 | 0
17688 | SD | RAPID CITY | 3 | 2 | 7.1 | 185 | 39981 | 440407 | 1031503 | 21008 | 131 | 0
34347 | SD | RAPID CITY | 7 | 7 | 12.3 | 204 | 80208 | 440400 | 1031501 | 19308 | 129 | 1
41969 | SD | RAPID CITY | 15 | 16 | 150 | 154 | 68112 | 440413 | 1031501 | 14080 | 118 | 0
81464 | SD | RAPID CITY | 21 | 21 | 50 | 211 | 74748 | 440533 | 1031453 | 14030 | 121 | 0
61068 | SD | RAPID CITY | 9 | 26 | 76.3 | 202 | 74931 | 440307 | 1031436 | 13945 | 117 | 0
41964 | SD | RELIANCE | 6 | 13 | 40 | 318 | 45870 | 435757 | 993611 | 27299 | 49 | 6.6
28521 | SD | SIOUX FALLS | 17 | 7 | 65 | 126 | 29257 | 432920 | 964540 | 21044 | 318 | 2.5
41983 | SD | SIOUX FALLS | 11 | 11 | 24.1 | 589 | 74495 | 433107 | 963205 | 41072 | 530 | 2
48658 | SD | SIOUX FALLS | 13 | 13 | 22.7 | 610 | 75012 | 433107 | 963205 | 41131 | 542 | 6.5
60728 | SD | SIOUX FALLS | 23 | 24 | 29 | 75 |  | 433428 | 963919 | 9342 | 217 | 0
29121 | SD | SIOUX FALLS | 36 | 36 | 152 | 209 |  | 433019 | 963419 | 16927 | 287 | 0
55379 | SD | SIOUX FALLS | 46 | 47 | 1000 | 608 |  | 433018 | 963322 | 43736 | 577 | 0
61072 | SD | VERMILLION | 2 | 34 | 236 | 204 |  | 430301 | 964701 | 17956 | 395 | 1.4
22590 | TN | CHATTANOOGA | 9 | 9 | 10.7 | 317 | 74516 | 350941 | 851903 | 21458 | 1022 | 4.4
54385 | TN | CHATTANOOGA | 12 | 12 | 20.3 | 376 | 74582 | 350806 | 851925 | 25744 | 1171 | 1.8
59137 | TN | CHATTANOOGA | 3 | 13 | 34.8 | 335 | 39987 | 350940 | 851851 | 22387 | 1068 | 3.3
65667 | TN | CHATTANOOGA | 45 | 29 | 200 | 336 |  | 351226 | 851652 | 20169 | 974 | 1.1
71353 | TN | CHATTANOOGA | 61 | 40 | 84 | 350 | 68567 | 351234 | 851639 | 15882 | 880 | 0.3
72060 | TN | CLEVELAND | 53 | 42 | 500 | 333 | 67273 | 351234 | 851639 | 21132 | 1017 | 0.3
69479 | TN | COOKEVILLE | 22 | 22 | 50 | 425 | 74600 | 361026 | 852037 | 20631 | 418 | 4.5
28468 | TN | COOKEVILLE | 28 | 36 | 733 | 429 | 64292 | 361604 | 864744 | 28993 | 1833 | 0.5
72971 | TN | CROSSVILLE | 20 | 20 | 189 | 719 | 75046 | 360633 | 842017 | 33281 | 1435 | 0.8
40761 | TN | GREENEVILLE | 39 | 38 | 1000 | 795 | 59933 | 360124 | 824256 | 33197 | 1840 | 0.2
60820 | TN | HENDERSONVILLE | 50 | 51 | 264 | 417 | 62261 | 361603 | 864744 | 23496 | 1687 | 1.5
68519 | TN | JACKSON | 16 | 39 | 392 | 296 |  | 354722 | 890614 | 23937 | 609 | 0
65204 | TN | JACKSON | 7 | 43 | 920 | 323 | 74935 | 353815 | 884132 | 29064 | 630 | 0.5
52628 | TN | JELLICO | 54 | 23 | 18 | 608 | 29572 | 361153 | 841351 | 18076 | 1024 | 0.6
57826 | TN | JOHNSON CITY | 11 | 11 | 23 | 692 | 74679 | 362555 | 820815 | 33619 | 1273 | 5.9
27504 | TN | KINGSPORT | 19 | 19 | 167 | 699 | 75004 | 362552 | 820817 | 19914 | 813 | 2.5
83931 | TN | KNOXVILLE |  | 7 | 55 | 382 | 66337 | 360036 | 835557 | 27676 | 1275 | 2.7
46984 | TN | KNOXVILLE | 10 | 10 | 24.7 | 530 | 75019 | 360013 | 835635 | 32937 | 1395 | 3.2
18267 | TN | KNOXVILLE | 15 | 17 | 100 | 551 |  | 355944 | 835723 | 25564 | 1229 | 0.4
71082 | TN | KNOXVILLE | 6 | 26 | 930 | 529 |  | 360013 | 835634 | 34036 | 1441 | 1.7
35908 | TN | KNOXVILLE | 8 | 30 | 398 | 551 |  | 355944 | 835723 | 29948 | 1352 | 0.8
19200 | TN | KNOXVILLE | 43 | 34 | 460 | 529 |  | 360013 | 835634 | 29596 | 1344 | 0.2
7651 | TN | LEBANON | 66 | 44 | 50 | 161 | 74936 | 360913 | 862246 | 9894 | 1179 | 0
71645 | TN | LEXINGTON | 11 | 47 | 1000 | 195 | 74937 | 354212 | 883610 | 20726 | 465 | 0
19184 | TN | MEMPHIS | 5 | 5 | 1.46 | 338 | 74601 | 351633 | 894638 | 24916 | 1412 | 0.6
85102 | TN | MEMPHIS |  | 10 | 3.2 | 306 | 74651 | 350916 | 894920 | 18964 | 1299 | 0.2
12521 | TN | MEMPHIS | 13 | 13 | 12.9 | 308 | 75055 | 351028 | 895041 | 26715 | 1453 | 0.6
81692 | TN | MEMPHIS | 14 | 23 | 255 | 379 | 80188 | 352803 | 901127 | 19956 | 1415 | 0.1
11907 | TN | MEMPHIS | 24 | 25 | 1000 | 340 |  | 351633 | 894638 | 32105 | 1643 | 1.3
66174 | TN | MEMPHIS | 3 | 28 | 1000 | 305 | 74938 | 351052 | 894956 | 30178 | 1518 | 0.3
42061 | TN | MEMPHIS | 10 | 29 | 835 | 320 |  | 350916 | 894920 | 30623 | 1534 | 0
68518 | TN | MEMPHIS | 30 | 31 | 871 | 340 |  | 351633 | 894638 | 31598 | 1615 | 0.2
21726 | TN | MEMPHIS | 50 | 51 | 1000 | 298 |  | 351241 | 894854 | 27402 | 1452 | 0.1
11117 | TN | MURFREESBORO | 39 | 38 | 1000 | 250 | 32815 | 360458 | 862552 | 20770 | 1547 | 0.1
36504 | TN | NASHVILLE | 5 | 5 | 10.3 | 425 | 80199 | 361605 | 864716 | 39572 | 2091 | 0.1
41398 | TN | NASHVILLE | 8 | 8 | 17.6 | 411 | 74578 | 360250 | 864949 | 31980 | 1855 | 1.7
41232 | TN | NASHVILLE | 4 | 10 | 39.7 | 434 | 74939 | 360827 | 865156 | 37842 | 2019 | 0.7
418 | TN | NASHVILLE | 17 | 15 | 1000 | 411 | 39931 | 361550 | 864739 | 31670 | 1874 | 3
9971 | TN | NASHVILLE | 30 | 21 | 1000 | 413 | 39919 | 361550 | 864739 | 31591 | 1916 | 0.9
73310 | TN | NASHVILLE | 58 | 23 | 350 | 367 | 65623 | 361550 | 864739 | 25194 | 1708 | 0.1
73188 | TN | NASHVILLE | 2 | 27 | 946 | 411 |  | 360250 | 864949 | 36057 | 2007 | 0.1
18252 | TN | SNEEDVILLE | 2 | 41 | 445 | 567 |  | 362252 | 831049 | 30546 | 1678 | 1.1
81750 | TN | TAZEWELL | 48 | 48 | 193 | 431 | 74781 | 361530 | 833743 | 16166 | 1003 | 0.3
62293 | TX | ABILENE | 15 | 15 | 165 | 298 | 74734 | 321631 | 993523 | 18689 | 215 | 2.4
59988 | TX | ABILENE | 32 | 24 | 1000 | 258 |  | 321638 | 993551 | 27447 | 268 | 0
306 | TX | ABILENE | 9 | 29 | 1000 | 258 | 77885 | 321638 | 993551 | 22366 | 226 | 0
60537 | TX | ALVIN | 67 | 36 | 1000 | 579 | 43470 | 293415 | 953037 | 41745 | 4843 | 0
40446 | TX | AMARILLO | 7 | 7 | 21.9 | 518 | 74462 | 352229 | 1015258 | 39374 | 350 | 0
1236 | TX | AMARILLO | 2 | 8 | 5 | 519 |  | 352230 | 1015256 | 29273 | 314 | 5.6
51466 | TX | AMARILLO | 10 | 10 | 20.8 | 466 |  | 351734 | 1015042 | 37002 | 347 | 0.1
33722 | TX | AMARILLO | 14 | 15 | 925 | 464 |  | 352033 | 1014921 | 40775 | 356 | 0.1
8523 | TX | AMARILLO | 4 | 19 | 400 | 455 |  | 352033 | 1014921 | 34791 | 341 | 0
68834 | TX | ARLINGTON | 68 | 42 | 1000 | 368 | 60704 | 323525 | 965823 | 26621 | 5223 | 0.9
35649 | TX | AUSTIN | 7 | 7 | 15.9 | 384 | 74653 | 301836 | 974733 | 31188 | 1835 | 0
35920 | TX | AUSTIN | 36 | 21 | 700 | 396 |  | 301933 | 974758 | 34107 | 1900 | 1.6
8564 | TX | AUSTIN | 18 | 22 | 700 | 358 |  | 301919 | 974812 | 33104 | 1897 | 0.1
35867 | TX | AUSTIN | 24 | 33 | 1000 | 376 |  | 301918 | 974811 | 33409 | 1874 | 3
33691 | TX | AUSTIN | 42 | 43 | 1000 | 395 | 60307 | 301918 | 974811 | 31315 | 1837 | 2.1
144 | TX | AUSTIN | 54 | 49 | 500 | 396 | 28952 | 301933 | 974758 | 26233 | 1589 | 3.2
70492 | TX | BAYTOWN | 57 | 41 | 1000 | 596 | 38691 | 293415 | 953037 | 40536 | 4831 | 0
10150 | TX | BEAUMONT | 12 | 12 | 12.9 | 292 | 75047 | 301124 | 935315 | 27428 | 707 | 0
22589 | TX | BEAUMONT | 6 | 21 | 50 | 254 | 44573 | 300824 | 935844 | 14995 | 489 | 0
12896 | TX | BEAUMONT | 34 | 33 | 500 | 312 | 29808 | 301041 | 935426 | 23659 | 661 | 0
9754 | TX | BELTON | 46 | 46 | 232 | 360 | 74537 | 305908 | 973751 | 22126 | 1398 | 5.6
42008 | TX | BIG SPRING | 4 | 33 | 174 | 83 | 66027 | 321655 | 1012934 | 10867 | 96 | 0
125710 | TX | BLANCO | 17 | 18 | 224 | 204 | 75128 | 294148 | 983045 | 16790 | 1769 | 0
83715 | TX | BORGER |  | 31 | 700 | 306 | 66220 | 352033 | 1014920 | 23168 | 314 | 0
12523 | TX | BROWNSVILLE | 23 | 24 | 1000 | 445 | 39305 | 260601 | 975020 | 35542 | 959 | 0
60384 | TX | BRYAN | 28 | 28 | 50 | 220 | 75013 | 304118 | 962535 | 12801 | 270 | 0
6669 | TX | BRYAN | 3 | 50 | 1000 | 477 | 43579 | 303316 | 960151 | 36945 | 2953 | 0
65301 | TX | COLLEGE STATION | 15 | 12 | 3.2 | 119 | 74940 | 303748 | 962033 | 13045 | 278 | 4.9
58835 | TX | CONROE | 49 | 32 | 1000 | 555 | 74342 | 293415 | 953037 | 38783 | 4814 | 0
28324 | TX | CONROE | 55 | 42 | 1000 | 597 | 43288 | 293344 | 953035 | 39190 | 4840 | 0
10188 | TX | CORPUS CHRISTI | 3 | 8 | 160 | 269 | 65123 | 273930 | 973604 | 36835 | 541 | 0.1
33079 | TX | CORPUS CHRISTI | 10 | 10 | 14.3 | 287 | 74423 | 274650 | 973803 | 27676 | 539 | 0
25559 | TX | CORPUS CHRISTI | 6 | 13 | 46.1 | 240 | 71769 | 274429 | 973609 | 24373 | 527 | 1.8
58408 | TX | CORPUS CHRISTI | 16 | 23 | 200 | 273 | 31667 | 273920 | 973355 | 18472 | 500 | 0
64877 | TX | CORPUS CHRISTI | 28 | 27 | 1000 | 287 | 38420 | 274227 | 973759 | 26335 | 536 | 0
82910 | TX | CORPUS CHRISTI | 38 | 38 | 50 | 280 | 74770 | 274522 | 973625 | 12804 | 476 | 0
72054 | TX | DALLAS | 8 | 8 | 21.5 | 512 | 74356 | 323506 | 965841 | 39164 | 5431 | 0.5
49324 | TX | DALLAS | 13 | 14 | 475 | 500 |  | 323443 | 965712 | 39475 | 5462 | 0
22201 | TX | DALLAS | 33 | 32 | 780 | 537 | 36873 | 323235 | 965732 | 36512 | 5404 | 0
33770 | TX | DALLAS | 4 | 35 | 1000 | 511 | 74941 | 323506 | 965841 | 41095 | 5492 | 0
17037 | TX | DALLAS | 27 | 36 | 1000 | 495 | 29430 | 323236 | 965732 | 37393 | 5405 | 0.1
35994 | TX | DALLAS | 39 | 40 | 1000 | 494 |  | 323507 | 965806 | 40034 | 5463 | 0.1
67910 | TX | DALLAS | 58 | 45 | 1000 | 494 | 65026 | 323236 | 965732 | 33987 | 5352 | 0
73701 | TX | DECATUR | 29 | 30 | 1000 | 544 | 65411 | 323519 | 965805 | 37279 | 5435 | 0
55762 | TX | DEL RIO | 10 | 28 | 1000 | 100 |  | 292039 | 1005139 | 17248 | 56 | 0
49326 | TX | DENTON | 2 | 43 | 1000 | 494 | 64993 | 323235 | 965732 | 33538 | 5346 | 0
32621 | TX | EAGLE PASS | 16 | 18 | 50 | 85 | 36900 | 284332 | 1002835 | 17853 | 68 | 0
49832 | TX | EL PASO | 7 | 7 | 38.1 | 574 | 74410 | 314818 | 1062858 | 42990 | 854 | 0
67760 | TX | EL PASO | 9 | 9 | 24 | 582 | 74401 | 314818 | 1062857 | 39562 | 854 | 0
19117 | TX | EL PASO | 13 | 13 | 24.4 | 265 | 74485 | 314715 | 1062847 | 22908 | 849 | 0
33716 | TX | EL PASO | 14 | 15 | 1000 | 602 | 68879 | 314855 | 1062920 | 39112 | 857 | 0
33764 | TX | EL PASO | 4 | 18 | 1000 | 475 | 74942 | 314746 | 1062857 | 35035 | 851 | 0
51708 | TX | EL PASO | 26 | 25 | 1000 | 439 | 36510 | 314746 | 1062857 | 28858 | 851 | 0
10202 | TX | EL PASO | 38 | 39 | 50 | 557 | 74943 | 314855 | 1062917 | 18504 | 851 | 0
68753 | TX | EL PASO | 65 | 51 | 70 | 525 | 29633 | 314818 | 1062859 | 16890 | 846 | 0
81445 | TX | FARWELL | 18 | 18 | 50 | 112 | 74740 | 342621 | 1031222 | 9122 | 77 | 0
29015 | TX | FORT WORTH | 52 | 9 | 6.87 | 545 | 75052 | 323519 | 965805 | 25183 | 5229 | 1.5
23422 | TX | FORT WORTH | 11 | 11 | 26.3 | 500 | 74431 | 323443 | 965712 | 38000 | 5412 | 1.3
51517 | TX | FORT WORTH | 21 | 18 | 220 | 535 | 19052 | 323235 | 965732 | 28958 | 5279 | 0.4
49330 | TX | FORT WORTH | 5 | 41 | 1000 | 514 | 74944 | 323515 | 965759 | 40533 | 5475 | 0
24316 | TX | FREDERICKSBURG | 2 | 5 | 10.2 | 413 | 74707 | 300813 | 983635 | 38961 | 2966 | 0
24436 | TX | GALVESTON | 22 | 23 | 247 | 566 |  | 291756 | 951411 | 35208 | 4479 | 2.3
64984 | TX | GALVESTON | 47 | 48 | 1000 | 597 | 43454 | 293415 | 953037 | 39815 | 4836 | 0
35841 | TX | GARLAND | 23 | 23 | 186 | 518 |  | 323521 | 965812 | 33002 | 5332 | 0
42359 | TX | GREENVILLE | 47 | 46 | 600 | 496 | 60867 | 323236 | 965732 | 30628 | 5313 | 0.1
34457 | TX | HARLINGEN | 4 | 31 | 1000 | 368 | 44581 | 260856 | 974918 | 26278 | 949 | 0
12913 | TX | HARLINGEN | 44 | 34 | 200 | 283 | 65860 | 261300 | 974648 | 18751 | 925 | 0
56079 | TX | HARLINGEN | 60 | 38 | 1000 | 346 | 46306 | 260714 | 974918 | 25290 | 944 | 0
69269 | TX | HOUSTON | 8 | 8 | 21.9 | 564 | 80228 | 293428 | 952937 | 37914 | 4826 | 0.1
34529 | TX | HOUSTON | 11 | 11 | 17 | 570 |  | 293340 | 953004 | 38950 | 4822 | 0.5
35675 | TX | HOUSTON | 13 | 13 | 22.2 | 588 | 70860 | 293427 | 952937 | 42534 | 4833 | 0.4
51569 | TX | HOUSTON | 20 | 19 | 421 | 596 | 33045 | 293344 | 953035 | 36222 | 4827 | 0
12895 | TX | HOUSTON | 14 | 24 | 900 | 579 | 59136 | 293415 | 953037 | 42319 | 4848 | 0
22204 | TX | HOUSTON | 26 | 26 | 234 | 594 | 75005 | 293428 | 952937 | 31274 | 4768 | 0.1
53117 | TX | HOUSTON | 2 | 35 | 1000 | 585 |  | 293406 | 952957 | 45364 | 4862 | 0
23394 | TX | HOUSTON | 39 | 38 | 1000 | 582 | 33161 | 293406 | 952957 | 35952 | 4818 | 0
69531 | TX | HOUSTON | 61 | 44 | 1000 | 461 | 68030 | 293344 | 953035 | 32739 | 4777 | 0
60534 | TX | IRVING | 49 | 48 | 225 | 535 | 39591 | 323235 | 965732 | 27401 | 5245 | 0
55643 | TX | JACKSONVILLE | 56 | 22 | 1000 | 459 | 33098 | 320340 | 951850 | 35608 | 924 | 0.8
31870 | TX | KATY | 51 | 47 | 1000 | 597 | 69142 | 293415 | 953037 | 40037 | 4838 | 0
51518 | TX | KERRVILLE | 35 | 32 | 1000 | 531 | 46137 | 293638 | 985333 | 33391 | 1818 | 0.2
148 | TX | KILLEEN | 62 | 13 | 45 | 484 |  | 304334 | 975923 | 41662 | 1828 | 1.2
17433 | TX | LAKE DALLAS | 55 | 39 | 57.3 | 494 | 74617 | 323236 | 965732 | 18912 | 5077 | 0.9
10061 | TX | LAREDO | 8 | 8 | 33.3 | 285 | 74387 | 274021 | 993951 | 27256 | 199 | 5.9
33078 | TX | LAREDO | 13 | 13 | 3.2 | 280 | 74376 | 273114 | 993119 | 19464 | 201 | 1.8
51479 | TX | LAREDO | 27 | 19 | 200 | 49 | 36711 | 273004 | 993037 | 8202 | 193 | 0
35909 | TX | LLANO | 14 | 27 | 660 | 249 |  | 304036 | 983359 | 22137 | 903 | 9.7
70917 | TX | LONGVIEW | 51 | 31 | 1000 | 361 | 29517 | 321535 | 945702 | 29711 | 821 | 0.5
83913 | TX | LONGVIEW | 38 | 38 | 191 | 268 | 74771 | 321536 | 945702 | 15446 | 554 | 0.3
27507 | TX | LUBBOCK | 11 | 11 | 15 | 232 |  | 333232 | 1015014 | 24161 | 371 | 0.6
53544 | TX | LUBBOCK | 16 | 16 | 50 | 83 | 74990 | 333312 | 1014913 | 9355 | 283 | 0
40820 | TX | LUBBOCK | 28 | 27 | 1000 | 219 |  | 333133 | 1015207 | 23831 | 358 | 0
55031 | TX | LUBBOCK | 34 | 35 | 1000 | 274 |  | 333008 | 1015220 | 27678 | 377 | 0
65355 | TX | LUBBOCK | 5 | 39 | 890 | 143 | 32592 | 333455 | 1015325 | 14440 | 342 | 1.4
3660 | TX | LUBBOCK | 13 | 40 | 1000 | 219 |  | 333133 | 1015207 | 22626 | 354 | 0
68541 | TX | LUFKIN | 9 | 9 | 10 | 204 | 74363 | 312509 | 944803 | 20490 | 309 | 4.7
69692 | TX | MCALLEN | 48 | 49 | 1000 | 286 | 39111 | 260518 | 980344 | 23860 | 956 | 0
86263 | TX | MIDLAND | 18 | 18 | 240 | 284 | 74741 | 315019 | 1023159 | 16457 | 276 | 0
35131 | TX | MIDLAND | 2 | 26 | 1000 | 323 |  | 320511 | 1021710 | 32226 | 345 | 0
55644 | TX | NACOGDOCHES | 19 | 18 | 640 | 457 |  | 315420 | 950505 | 35050 | 829 | 8.3
6865 | TX | ODESSA | 7 | 7 | 13.1 | 226 | 80209 | 315150 | 1023441 | 25197 | 283 | 0
42007 | TX | ODESSA | 9 | 9 | 25.7 | 391 |  | 315917 | 1025241 | 34523 | 341 | 0
12524 | TX | ODESSA | 24 | 23 | 600 | 333 | 39998 | 320551 | 1021721 | 26889 | 324 | 0
84410 | TX | ODESSA | 30 | 30 | 50 | 212 | 74764 | 320551 | 1021721 | 11292 | 254 | 0
50044 | TX | ODESSA | 36 | 38 | 500 | 82 |  | 315158 | 1022248 | 14075 | 267 | 0
53541 | TX | ODESSA | 42 | 42 | 50 | 142 | 75023 | 320254 | 1021804 | 9745 | 254 | 0
61214 | TX | PORT ARTHUR | 4 | 40 | 1000 | 360 |  | 300920 | 935910 | 32745 | 776 | 0
62354 | TX | RIO GRANDE CITY | 40 | 20 | 50 | 113 | 74946 | 262547 | 984925 | 12057 | 225 | 0
53847 | TX | ROSENBERG | 45 | 45 | 356 | 578 | 74579 | 293344 | 953035 | 33056 | 4793 | 0
31114 | TX | SAN ANGELO | 8 | 11 | 18.8 | 434 |  | 312201 | 1000248 | 33418 | 163 | 2.4
307 | TX | SAN ANGELO | 3 | 16 | 1000 | 160 |  | 313722 | 1002614 | 21754 | 130 | 0
58560 | TX | SAN ANGELO | 6 | 19 | 1000 | 277 | 74948 | 313521 | 1003100 | 27865 | 132 | 0.3
749 | TX | SAN ANTONIO | 9 | 9 | 8.3 | 259 | 74347 | 291938 | 982117 | 21643 | 1787 | 0.4
53118 | TX | SAN ANTONIO | 12 | 12 | 18.4 | 427 | 70242 | 291611 | 981531 | 32978 | 1888 | 0.7
27300 | TX | SAN ANTONIO | 23 | 16 | 500 | 307 | 45032 | 291724 | 981520 | 24963 | 1830 | 0.2
56528 | TX | SAN ANTONIO | 29 | 30 | 1000 | 441 | 28869 | 291728 | 981612 | 34435 | 1982 | 0
64969 | TX | SAN ANTONIO | 60 | 38 | 1000 | 414 | 41078 | 291738 | 981530 | 29713 | 1891 | 0.2
26304 | TX | SAN ANTONIO | 5 | 39 | 751 | 424 | 74634 | 291607 | 981555 | 34215 | 1903 | 0.1
35881 | TX | SAN ANTONIO | 41 | 41 | 416 | 414 | 74547 | 291738 | 981530 | 25480 | 1848 | 0.2
69618 | TX | SAN ANTONIO | 4 | 48 | 844 | 451 | 74680 | 291610 | 981555 | 34527 | 1894 | 1.3
35954 | TX | SHERMAN | 12 | 12 | 14.4 | 543 | 74439 | 340158 | 964800 | 38337 | 946 | 13
77452 | TX | SNYDER | 17 | 17 | 184 | 138 | 74359 | 324652 | 1005352 | 8618 | 45 | 0
308 | TX | SWEETWATER | 12 | 20 | 561 | 427 | 74949 | 322448 | 1000625 | 31757 | 243 | 2.6
10245 | TX | TEMPLE | 6 | 9 | 25 | 527 | 41595 | 311624 | 971314 | 34738 | 1265 | 6.8
35648 | TX | TEXARKANA | 6 | 15 | 1000 | 454 |  | 325411 | 940020 | 42049 | 1055 | 0.1
68540 | TX | TYLER | 7 | 7 | 15 | 302 | 74360 | 323223 | 951312 | 25525 | 762 | 0.4
61173 | TX | UVALDE | 26 | 26 | 235 | 560 | 74761 | 293711 | 990257 | 31324 | 1771 | 1.6
35846 | TX | VICTORIA | 19 | 11 | 18 | 290 |  | 285042 | 970733 | 24235 | 256 | 13.4
73101 | TX | VICTORIA | 25 | 15 | 900 | 312 | 59285 | 285042 | 970733 | 29932 | 310 | 1.8
35903 | TX | WACO | 10 | 10 | 13.8 | 552 | 75056 | 311919 | 971858 | 38053 | 1164 | 1.1
6673 | TX | WACO | 34 | 20 | 700 | 319 | 69374 | 311917 | 972040 | 25553 | 679 | 0.9
9781 | TX | WACO | 25 | 26 | 1000 | 561 | 58939 | 312016 | 971836 | 38287 | 1343 | 2.2
12522 | TX | WACO | 44 | 44 | 160 | 552 | 74667 | 311852 | 971937 | 22371 | 743 | 10
43328 | TX | WESLACO | 5 | 13 | 57 | 445 | 38452 | 260602 | 975021 | 33861 | 962 | 0
7675 | TX | WICHITA FALLS | 18 | 15 | 1000 | 325 | 39767 | 341205 | 984345 | 24386 | 379 | 3
6864 | TX | WICHITA FALLS | 6 | 22 | 200 | 311 |  | 335404 | 983221 | 23697 | 346 | 0
65370 | TX | WICHITA FALLS | 3 | 28 | 1000 | 274 |  | 335323 | 983330 | 28507 | 377 | 0
77719 | TX | WOLFFORTH | 22 | 43 | 77.1 | 228 | 80190 | 333008 | 1015220 | 15511 | 312 | 0
59494 | UT | CEDAR CITY | 4 | 14 | 1000 | 819 |  | 373229 | 1130404 | 45405 | 141 | 0
69694 | UT | LOGAN | 12 | 12 | 22.3 | 690 | 74725 | 414703 | 1121355 | 32939 | 792 | 5.9
77512 | UT | OGDEN | 24 | 24 | 450 | 1229 | 59860 | 403933 | 1121207 | 37197 | 1798 | 0
69582 | UT | OGDEN | 9 | 36 | 200 | 1256 | 38687 | 403933 | 1121207 | 29628 | 1781 | 0
1136 | UT | OGDEN | 30 | 48 | 200 | 1257 | 41318 | 403933 | 1121207 | 27529 | 1768 | 0
84277 | UT | PRICE | 3 | 11 | 51.1 | 658 | 74335 | 394522 | 1105922 | 39858 | 210 | 0
57884 | UT | PROVO | 16 | 29 | 530 | 1171 | 18846 | 403912 | 1121206 | 27532 | 1785 | 0
81451 | UT | PROVO | 32 | 32 | 138 | 812 | 75067 | 401645 | 1115600 | 17405 | 1617 | 0
6823 | UT | PROVO | 11 | 44 | 403 | 1257 |  | 403933 | 1121207 | 36321 | 1791 | 0
82576 | UT | RICHFIELD |  | 19 | 0.33 | 441 | 46081 | 383804 | 1120333 | 4806 | 22 | 0
22215 | UT | SALT LAKE CITY | 13 | 13 | 43.4 | 1234 | 74476 | 403932 | 1121208 | 38745 | 1812 | 0.4
10177 | UT | SALT LAKE CITY | 20 | 20 | 73.3 | 1171 | 74746 | 403912 | 1121206 | 24439 | 1734 | 0
35823 | UT | SALT LAKE CITY | 2 | 34 | 423 | 1267 | 39866 | 403933 | 1121207 | 34886 | 1796 | 0
6359 | UT | SALT LAKE CITY | 5 | 38 | 546 | 1267 | 19903 | 403933 | 1121207 | 34973 | 1791 | 0
68889 | UT | SALT LAKE CITY | 4 | 40 | 476 | 1256 | 27794 | 403933 | 1121207 | 33954 | 1790 | 0
69396 | UT | SALT LAKE CITY | 7 | 42 | 239 | 1266 | 30673 | 403933 | 1121207 | 30198 | 1785 | 0
36607 | UT | SALT LAKE CITY | 14 | 46 | 123 | 1181 | 75006 | 403912 | 1121206 | 27341 | 1761 | 0
35822 | UT | ST. GEORGE | 12 | 9 | 3.2 | 43 | 44874 | 370348 | 1133423 | 4214 | 85 | 0.4
82585 | UT | ST. GEORGE |  | 18 | 1.62 | 67 | 43602 | 370350 | 1133420 | 3637 | 81 | 0
83729 | UT | VERNAL | 6 | 16 | 1000 | 676 | 74714 | 402122 | 1090841 | 36226 | 44 | 0
69532 | VA | ARLINGTON | 14 | 15 | 900 | 173 | 29445 | 385624 | 770454 | 19793 | 6911 | 0.2
10897 | VA | ASHLAND | 65 | 47 | 1000 | 249 | 28058 | 374431 | 771515 | 20211 | 1398 | 0.3
2455 | VA | BRISTOL | 5 | 5 | 8.93 | 680 | 80200 | 362657 | 820631 | 46491 | 1935 | 0.7
363 | VA | CHARLOTTESVILLE | 19 | 19 | 50 | 326 | 74743 | 375903 | 782852 | 14121 | 381 | 1.2
70309 | VA | CHARLOTTESVILLE | 29 | 32 | 1000 | 368 | 67231 | 375902 | 782853 | 28673 | 1512 | 1.8
9990 | VA | CHARLOTTESVILLE | 41 | 46 | 340 | 332 | 41219 | 375859 | 782902 | 16348 | 439 | 7.4
15507 | VA | DANVILLE | 24 | 24 | 141 | 332 |  | 370210 | 793230 | 21206 | 917 | 0
9999 | VA | FAIRFAX | 56 | 24 | 50 | 215 | 74668 | 385228 | 771324 | 14900 | 5838 | 0.1
66378 | VA | FRONT ROYAL | 42 | 21 | 50 | 400 | 32594 | 385736 | 781952 | 13538 | 714 | 16.9
10019 | VA | GOLDVEIN |  | 30 | 160 | 229 |  | 383743 | 772621 | 17529 | 4650 | 0.5
37808 | VA | GRUNDY | 68 | 49 | 1000 | 662 |  | 364947 | 820445 | 35029 | 1179 | 0.8
74167 | VA | HAMPTON | 13 | 13 | 19.1 | 344 | 74561 | 364900 | 762806 | 31544 | 1937 | 1.1
25932 | VA | HAMPTON-NORFOLK | 15 | 16 | 950 | 361 | 33525 | 364831 | 763013 | 33081 | 2003 | 0
4688 | VA | HARRISONBURG | 3 | 49 | 65 | 638 |  | 383605 | 783757 | 15007 | 441 | 6.9
73988 | VA | LYNCHBURG | 13 | 13 | 19.6 | 568 | 74507 | 371854 | 793806 | 34552 | 1169 | 1.1
24812 | VA | LYNCHBURG | 21 | 20 | 400 | 500 | 39495 | 371914 | 793758 | 27193 | 972 | 3.4
74091 | VA | MANASSAS | 66 | 34 | 1000 | 254 | 72356 | 385701 | 770447 | 10458 | 3141 | 34.3
5982 | VA | MARION | 52 | 42 | 100 | 448 |  | 365407 | 813232 | 17079 | 494 | 1.1
40759 | VA | NORFOLK | 33 | 33 | 905 | 361 | 74538 | 364831 | 763013 | 26943 | 1894 | 0
47401 | VA | NORFOLK | 3 | 40 | 950 | 377 |  | 364831 | 763013 | 33295 | 2003 | 0
67077 | VA | NORFOLK | 49 | 46 | 1000 | 360 | 19107 | 364831 | 763013 | 27594 | 1786 | 0.2
5985 | VA | NORTON | 47 | 32 | 100 | 591 |  | 365353 | 823721 | 27184 | 974 | 0.1
74416 | VA | PETERSBURG | 8 | 22 | 450 | 328 |  | 373045 | 773605 | 28598 | 1526 | 0
71127 | VA | PORTSMOUTH | 10 | 31 | 1000 | 280 |  | 364914 | 763041 | 28778 | 1917 | 0
9762 | VA | PORTSMOUTH | 27 | 50 | 800 | 264 |  | 364843 | 762745 | 23806 | 1762 | 0
30833 | VA | RICHMOND | 12 | 12 | 5.41 | 241 | 74618 | 373023 | 773012 | 21438 | 1277 | 2.4
57832 | VA | RICHMOND | 6 | 25 | 410 | 347 |  | 373045 | 773605 | 28828 | 1531 | 0
412 | VA | RICHMOND | 35 | 26 | 800 | 328 |  | 373045 | 773605 | 30742 | 1594 | 1.4
9987 | VA | RICHMOND | 23 | 42 | 160 | 346 |  | 373045 | 773604 | 22009 | 1323 | 2.3
9989 | VA | RICHMOND | 57 | 44 | 100 | 328 |  | 373045 | 773605 | 20348 | 1242 | 0
5981 | VA | ROANOKE | 15 | 3 | 7.25 | 618 | 39733 | 371146 | 800917 | 42351 | 1469 | 0
24813 | VA | ROANOKE | 27 | 17 | 400 | 594 | 29905 | 371146 | 800916 | 28254 | 1105 | 5.2
71329 | VA | ROANOKE | 7 | 18 | 605 | 610 | 74951 | 371142 | 800922 | 37968 | 1316 | 1.3
57840 | VA | ROANOKE | 10 | 30 | 950 | 592 | 69296 | 371203 | 800854 | 31210 | 1162 | 4
70251 | VA | ROANOKE | 38 | 36 | 700 | 623 | 27852 | 371137 | 800925 | 28663 | 1055 | 1.3
60111 | VA | STAUNTON | 51 | 11 | 3.2 | 680 | 31834 | 380954 | 791851 | 19643 | 552 | 5.6
82574 | VA | VIRGINIA BEACH | 21 | 7 | 4.86 | 310 | 75265 | 364831 | 763012 | 19356 | 1714 | 0.1
65387 | VA | VIRGINIA BEACH | 43 | 29 | 1000 | 241 | 30040 | 364914 | 763041 | 21875 | 1737 | 0
11259 | VT | BURLINGTON | 22 | 13 | 10 | 852 | 60531 | 443133 | 724858 | 32388 | 586 | 0.3
46728 | VT | BURLINGTON | 3 | 22 | 444 | 835 | 80197 | 443136 | 724857 | 42718 | 620 | 0.4
69944 | VT | BURLINGTON | 33 | 32 | 200 | 826 |  | 443132 | 724851 | 34750 | 567 | 0
10132 | VT | BURLINGTON | 44 | 43 | 47 | 839 | 71757 | 443133 | 724857 | 24761 | 479 | 0.8
73344 | VT | HARTFORD | 31 | 25 | 117 | 651 | 43680 | 432615 | 722708 | 21850 | 616 | 0.3
69946 | VT | RUTLAND | 28 | 9 | 15 | 385 | 67939 | 433931 | 730625 | 21748 | 544 | 2.8
69940 | VT | ST. JOHNSBURY | 20 | 18 | 200 | 592 |  | 443416 | 715339 | 26170 | 300 | 1.2
69943 | VT | WINDSOR | 41 | 24 | 200 | 693 |  | 432614 | 722707 | 30172 | 1183 | 0.5
56852 | WA | BELLEVUE | 33 | 33 | 179 | 716 | 80219 | 473017 | 1215803 | 26579 | 3579 | 0
4624 | WA | BELLEVUE | 51 | 50 | 240 | 719 | 17552 | 473017 | 1215804 | 28362 | 3664 | 0
53586 | WA | BELLINGHAM | 24 | 19 | 165 | 757 | 43180 | 484046 | 1225031 | 33673 | 982 | 7.4
35862 | WA | BELLINGHAM | 12 | 35 | 612 | 722 | 74955 | 484040 | 1224948 | 43278 | 1644 | 0
62468 | WA | CENTRALIA | 15 | 19 | 43.7 | 334 |  | 463316 | 1230326 | 13904 | 489 | 22.8
35396 | WA | EVERETT | 16 | 31 | 700 | 218 | 44001 | 473755 | 1222059 | 18375 | 3525 | 0
2495 | WA | KENNEWICK | 42 | 44 | 160 | 390 |  | 460611 | 1190754 | 23073 | 373 | 0
56029 | WA | PASCO | 19 | 18 | 50 | 366 | 74956 | 460551 | 1191130 | 20149 | 362 | 0
71024 | WA | PULLMAN | 10 | 10 | 6.2 | 408 | 74411 | 465143 | 1171026 | 25722 | 259 | 0
78921 | WA | PULLMAN | 24 | 24 | 1000 | 569 | 66879 | 473444 | 1171746 | 32886 | 657 | 0
12427 | WA | RICHLAND | 25 | 26 | 200 | 411 |  | 460612 | 1190749 | 26245 | 384 | 0
71023 | WA | RICHLAND | 31 | 38 | 47.6 | 361 | 60199 | 460612 | 1190740 | 11914 | 290 | 0
33749 | WA | SEATTLE | 9 | 9 | 7.49 | 252 | 74562 | 473658 | 1221828 | 21801 | 3579 | 0
69571 | WA | SEATTLE | 22 | 25 | 1000 | 290 |  | 473657 | 1221826 | 27243 | 3646 | 0
21656 | WA | SEATTLE | 4 | 38 | 1000 | 247 | 74957 | 473755 | 1222109 | 22159 | 3592 | 0.1
66781 | WA | SEATTLE | 7 | 39 | 1000 | 230 | 65845 | 473801 | 1222120 | 19081 | 3534 | 0.1
49264 | WA | SEATTLE | 45 | 44 | 240 | 714 | 38740 | 473017 | 1215806 | 25492 | 3632 | 0
34847 | WA | SEATTLE | 5 | 48 | 960 | 239 | 18954 | 473755 | 1222059 | 18736 | 3562 | 0
34537 | WA | SPOKANE | 6 | 7 | 45.1 | 653 | 74388 | 473452 | 1171747 | 45079 | 684 | 0
61956 | WA | SPOKANE | 7 | 8 | 21.6 | 558 |  | 473434 | 1171758 | 36062 | 666 | 0.2
61978 | WA | SPOKANE | 4 | 13 | 23.3 | 936 |  | 475518 | 1170648 | 46084 | 655 | 0.3
34868 | WA | SPOKANE | 2 | 20 | 893 | 641 | 64696 | 473541 | 1171753 | 37651 | 663 | 0
58684 | WA | SPOKANE | 28 | 28 | 91.4 | 601 | 74486 | 473444 | 1171746 | 26401 | 586 | 0
81694 | WA | SPOKANE | 34 | 34 | 104 | 450 | 74766 | 473604 | 1171753 | 17181 | 537 | 0
35606 | WA | SPOKANE | 22 | 36 | 250 | 622 | 64693 | 473541 | 1171753 | 20760 | 538 | 0
23428 | WA | TACOMA | 11 | 11 | 12.6 | 276 | 74526 | 473655 | 1221828 | 20515 | 3560 | 0
33894 | WA | TACOMA | 13 | 13 | 22.7 | 585 | 74424 | 473253 | 1224822 | 32350 | 3783 | 0
67950 | WA | TACOMA | 20 | 14 | 90 | 473 | 39524 | 473250 | 1224740 | 22129 | 3629 | 0
62469 | WA | TACOMA | 28 | 27 | 47.2 | 224 |  | 471641 | 1223042 | 13991 | 3136 | 0
35419 | WA | TACOMA | 56 | 42 | 144 | 695 |  | 473017 | 1215806 | 29896 | 3638 | 0
35460 | WA | VANCOUVER | 49 | 30 | 741 | 528 |  | 453119 | 1224453 | 29877 | 2443 | 1.4
84238 | WA | WALLA WALLA | 9 | 9 | 45 | 432 |  | 460558 | 1190740 | 38298 | 459 | 0.1
2506 | WA | YAKIMA | 35 | 14 | 160 | 293 |  | 463157 | 1203037 | 15036 | 248 | 0.1
12395 | WA | YAKIMA | 23 | 16 | 200 | 266 |  | 463159 | 1203026 | 14954 | 247 | 0
33752 | WA | YAKIMA | 47 | 21 | 50 | 280 |  | 463158 | 1203033 | 11735 | 236 | 0
56033 | WA | YAKIMA | 29 | 33 | 50 | 296 | 74958 | 463158 | 1203033 | 10949 | 235 | 0
86496 | WI | ANTIGO |  | 46 | 50 | 286 | 38603 | 450322 | 892754 | 11094 | 243 | 0.1
361 | WI | APPLETON | 32 | 27 | 50 | 336 | 74693 | 442130 | 875848 | 19462 | 961 | 0
2709 | WI | CHIPPEWA FALLS | 48 | 49 | 1000 | 203 |  | 445724 | 914003 | 20780 | 395 | 0
81503 | WI | CRANDON | 4 | 12 | 3.2 | 119 | 74710 | 453423 | 885257 | 11762 | 86 | 0.4
77789 | WI | EAGLE RIVER | 34 | 28 | 70 | 144 | 67695 | 454630 | 891455 | 12379 | 92 | 0.2
7893 | WI | EAU CLAIRE | 13 | 13 | 22.9 | 607 | 74548 | 443951 | 905741 | 43031 | 858 | 2
64550 | WI | EAU CLAIRE | 18 | 15 | 200 | 280 | 67697 | 444800 | 912757 | 19543 | 336 | 0.2
60571 | WI | FOND DU LAC | 68 | 44 | 700 | 195 | 66227 | 432620 | 883129 | 18054 | 2137 | 0.1
4150 | WI | GREEN BAY | 11 | 11 | 17.2 | 384 | 75053 | 442431 | 875929 | 31619 | 1089 | 2.6
74417 | WI | GREEN BAY | 2 | 23 | 1000 | 372 |  | 442435 | 880006 | 35477 | 1151 | 0.7
9635 | WI | GREEN BAY | 5 | 39 | 1000 | 364 | 68312 | 442001 | 875856 | 30736 | 1115 | 1.4
2708 | WI | GREEN BAY | 26 | 41 | 1000 | 321 | 27828 | 442130 | 875848 | 26965 | 1084 | 0.8
18798 | WI | GREEN BAY | 38 | 42 | 200 | 375 |  | 442434 | 880006 | 25059 | 1041 | 0.5
26025 | WI | JANESVILLE | 57 | 32 | 200 | 387 | 65253 | 430303 | 892913 | 25102 | 1265 | 0.3
37104 | WI | KENOSHA | 55 | 40 | 830 | 358 | 43896 | 430544 | 875417 | 26695 | 2947 | 0.4
74424 | WI | LA CROSSE | 8 | 8 | 20.3 | 462 | 74563 | 440528 | 912016 | 35282 | 714 | 2.4
64549 | WI | LA CROSSE | 19 | 14 | 250 | 327 |  | 434823 | 912202 | 25195 | 419 | 0.8
2710 | WI | LA CROSSE | 25 | 17 | 450 | 349 | 29449 | 434815 | 912220 | 25884 | 487 | 0.7
18780 | WI | LA CROSSE | 31 | 30 | 308 | 351 |  | 434817 | 912206 | 25913 | 420 | 0
10221 | WI | MADISON | 47 | 11 | 15 | 471 | 30020 | 430321 | 893206 | 29375 | 1533 | 4.4
6870 | WI | MADISON | 15 | 19 | 56 | 387 |  | 430303 | 892913 | 21196 | 1026 | 3.9
6096 | WI | MADISON | 21 | 20 | 100 | 453 |  | 430321 | 893206 | 26579 | 1250 | 1.2
64545 | WI | MADISON | 27 | 26 | 400 | 455 | 33126 | 430321 | 893206 | 30128 | 1450 | 1.3
65143 | WI | MADISON | 3 | 50 | 603 | 466 |  | 430321 | 893206 | 32793 | 1639 | 2.5
68547 | WI | MAYVILLE | 52 | 43 | 300 | 186 |  | 432611 | 883134 | 16768 | 1878 | 7.9
18793 | WI | MENOMONIE | 28 | 27 | 291 | 350 |  | 450249 | 915147 | 26272 | 743 | 13.7
42663 | WI | MILWAUKEE | 10 | 8 | 25 | 354 | 67092 | 430546 | 875415 | 29509 | 3035 | 1.4
74174 | WI | MILWAUKEE | 18 | 18 | 368 | 302 | 74698 | 430544 | 875417 | 22781 | 2496 | 3.6
72342 | WI | MILWAUKEE | 30 | 22 | 196 | 297 | 42943 | 430544 | 875417 | 19180 | 2440 | 1.3
71278 | WI | MILWAUKEE | 24 | 25 | 625 | 340 | 41342 | 430544 | 875417 | 26207 | 2873 | 1.1
74098 | WI | MILWAUKEE | 4 | 28 | 1000 | 305 | 74959 | 430529 | 875407 | 30554 | 2856 | 4.5
73107 | WI | MILWAUKEE | 6 | 33 | 1000 | 305 | 74960 | 430524 | 875347 | 30009 | 2916 | 0.6
65680 | WI | MILWAUKEE | 12 | 34 | 863 | 263 | 59757 | 430642 | 875542 | 23265 | 2660 | 0
42665 | WI | MILWAUKEE | 36 | 35 | 500 | 355 | 66933 | 430546 | 875415 | 25395 | 2769 | 0.1
71427 | WI | MILWAUKEE | 58 | 46 | 1000 | 322 | 32644 | 430642 | 875550 | 27046 | 2827 | 1.9
63046 | WI | PARK FALLS | 36 | 36 | 50 | 445 | 74583 | 455643 | 901628 | 22223 | 139 | 0
68545 | WI | RACINE | 49 | 48 | 176 | 303 | 74961 | 430515 | 875401 | 17104 | 2279 | 0.1
49699 | WI | RHINELANDER | 12 | 16 | 538 | 489 | 28605 | 454003 | 891229 | 38587 | 375 | 0
33658 | WI | SUPERIOR | 6 | 19 | 384 | 312 |  | 464721 | 920650 | 26329 | 264 | 0
73042 | WI | SURING | 14 | 21 | 450 | 332 | 43297 | 442001 | 875856 | 20367 | 938 | 0.2
6867 | WI | WAUSAU | 7 | 7 | 16.9 | 369 | 74555 | 445514 | 894131 | 31741 | 531 | 0.1
64546 | WI | WAUSAU | 9 | 9 | 17 | 369 | 75014 | 445514 | 894131 | 31158 | 526 | 0.8
73036 | WI | WAUSAU | 20 | 24 | 200 | 387 |  | 445514 | 894128 | 27230 | 487 | 0.4
86204 | WI | WITTENBERG | 55 | 50 | 160 | 327 | 74788 | 450322 | 892754 | 18272 | 378 | 1.2
37806 | WV | BLUEFIELD | 40 | 40 | 1000 | 386 | 74377 | 371308 | 811539 | 24131 | 705 | 1.2
74176 | WV | BLUEFIELD | 6 | 46 | 1000 | 372 |  | 371520 | 811054 | 25413 | 700 | 0.2
417 | WV | CHARLESTON | 11 | 19 | 475 | 514 |  | 382428 | 815413 | 37278 | 1306 | 0.6
73189 | WV | CHARLESTON | 29 | 39 | 1000 | 350 | 40580 | 382812 | 814635 | 25868 | 924 | 2
71280 | WV | CHARLESTON | 8 | 41 | 475 | 514 |  | 382428 | 815413 | 33607 | 1168 | 3.1
10976 | WV | CLARKSBURG | 46 | 10 | 30 | 235 | 44599 | 391802 | 802037 | 21897 | 566 | 4.9
71220 | WV | CLARKSBURG | 12 | 12 | 11.3 | 262 | 80238 | 391706 | 801946 | 22848 | 585 | 2
71680 | WV | GRANDVIEW | 9 | 10 | 18.6 | 305 | 80261 | 375346 | 805921 | 24852 | 649 | 2.1
23342 | WV | HUNTINGTON | 13 | 13 | 16 | 396 | 70338 | 383021 | 821233 | 27894 | 1025 | 4.7
36912 | WV | HUNTINGTON | 3 | 23 | 724 | 402 |  | 383036 | 821310 | 33731 | 1182 | 0.6
71657 | WV | HUNTINGTON | 33 | 34 | 63.1 | 379 | 74962 | 382941 | 821203 | 16566 | 734 | 1.4
74169 | WV | LEWISBURG | 59 | 8 | 3.68 | 577 |  | 374622 | 804225 | 26153 | 590 | 1.7
23264 | WV | MARTINSBURG | 60 | 12 | 23 | 314 |  | 392727 | 780352 | 24936 | 2480 | 6.2
71676 | WV | MORGANTOWN | 24 | 33 | 145 | 457 | 74963 | 394145 | 794545 | 20788 | 1370 | 0.5
66804 | WV | OAK HILL | 4 | 50 | 1000 | 236 | 80182 | 375726 | 810903 | 18914 | 515 | 1.7
4685 | WV | PARKERSBURG | 15 | 49 | 47.4 | 193 |  | 392059 | 813356 | 12781 | 348 | 2.2
70592 | WV | WESTON | 5 | 5 | 9.96 | 253 | 74344 | 390429 | 802528 | 27452 | 568 | 0.5
6869 | WV | WHEELING | 7 | 7 | 15.5 | 293 | 74497 | 400341 | 804508 | 25673 | 2373 | 0.1
82575 | WY | CASPER | 6 | 6 | 1 | 536 | 74715 | 424426 | 1062134 | 20136 | 70 | 0
68713 | WY | CASPER | 13 | 12 | 3.2 | 534 | 74727 | 424426 | 1062134 | 18050 | 70 | 0
63177 | WY | CASPER | 14 | 14 | 53.3 | 573 | 74389 | 424426 | 1062134 | 25030 | 70 | 0
18286 | WY | CASPER | 2 | 17 | 741 | 588 |  | 424403 | 1062000 | 40682 | 80 | 0.1
74256 | WY | CASPER | 20 | 20 | 52.4 | 582 | 74425 | 424437 | 1061831 | 21652 | 70 | 0
18287 | WY | CHEYENNE | 33 | 11 | 16 | 650 | 67257 | 403247 | 1051150 | 28369 | 2763 | 0
40250 | WY | CHEYENNE | 27 | 27 | 169 | 232 | 74478 | 410255 | 1045328 | 13499 | 438 | 0
63166 | WY | CHEYENNE | 5 | 30 | 630 | 189 |  | 410601 | 1050023 | 18799 | 415 | 2.9
1283 | WY | JACKSON | 2 | 2 | 1 | 293 | 74378 | 432742 | 1104510 | 17622 | 31 | 0
35103 | WY | JACKSON | 11 | 11 | 3.2 | 327 | 74724 | 432742 | 1104510 | 10697 | 22 | 0
63162 | WY | LANDER | 5 | 7 | 31.7 | 82 | 74964 | 425343 | 1084334 | 15754 | 32 | 2.8
10036 | WY | LANDER | 4 | 8 | 60 | 463 | 74965 | 423459 | 1084236 | 36626 | 35 | 0.6
10032 | WY | LARAMIE | 8 | 8 | 3.2 | 318 | 74718 | 411717 | 1052642 | 12970 | 109 | 0.1
21612 | WY | RAWLINS | 11 | 9 | 3.2 | 70 | 74966 | 414615 | 1071425 | 9432 | 11 | 0
21613 | WY | RIVERTON | 10 | 10 | 13.9 | 526 | 74402 | 432726 | 1081202 | 26335 | 49 | 0.1
63170 | WY | ROCK SPRINGS | 13 | 13 | 14.2 | 495 | 74448 | 412621 | 1090642 | 33002 | 43 | 0
81191 | WY | SHERIDAN | 7 | 7 | 3.2 | 349 | 74717 | 443720 | 1070657 | 12316 | 28 | 0
17680 | WY | SHERIDAN | 12 | 13 | 50 | 372 |  | 443720 | 1070657 | 32735 | 52 | 0
51233 | GU | AGANA | 8 | 8 | 3.2 | 282 |  | 132553 | −1444236 |  |  |
25511 | GU | AGANA | 12 | 12 | 38.9 | 75 |  | 132613 | −1444817 |  |  |
29232 | GU | TAMUNING | 14 | 14 | 50 | 1 |  | 133009 | −1444817 |  |  |
3255 | PR | AGUADA | 50 | 50 | 50 | 343 | 74700 | 181907 | 671048 | 13079 | 862 | 2.3
71725 | PR | AGUADILLA | 12 | 12 | 7.31 | 665 | 74705 | 180900 | 665900 | 35964 | 1570 | 1.9
61573 | PR | AGUADILLA | 44 | 17 | 50 | 372 | 74920 | 181906 | 671042 | 17140 | 918 | 2.5
26602 | PR | AGUADILLA | 32 | 34 | 250 | 605 |  | 180906 | 665923 | 35049 | 1393 | 6.6
26676 | PR | ARECIBO | 60 | 14 | 50 | 833 | 80214 | 180917 | 663316 | 23099 | 2851 | 9.4
3001 | PR | ARECIBO | 54 | 46 | 50 | 600 | 74610 | 181406 | 664536 | 16621 | 2420 | 5.7
4110 | PR | BAYAMON | 36 | 30 | 50 | 329 | 74691 | 181640 | 660638 | 14518 | 2514 | 0.5
19777 | PR | CAGUAS | 11 | 11 | 3.2 | 357 | 74649 | 181654 | 660646 | 16753 | 2655 | 0.1
8156 | PR | CAGUAS | 58 | 48 | 50 | 329 | 74666 | 181640 | 660638 | 12923 | 2406 | 2.3
54443 | PR | CAROLINA | 52 | 51 | 450 | 585 | 32803 | 181644 | 655112 | 30994 | 2770 | 0.1
73901 | PR | FAJARDO | 13 | 13 | 2.8 | 863 |  | 181836 | 654741 | 34770 | 2702 | 0.1
2174 | PR | FAJARDO | 40 | 16 | 150 | 839 | 58931 | 181836 | 654741 | 30040 | 2720 | 3.9
15320 | PR | FAJARDO | 34 | 33 | 50 | 848 | 74765 | 181836 | 654741 | 24903 | 2589 | 0.2
18410 | PR | GUAYAMA | 46 | 45 | 50 | 642 | 74921 | 181648 | 655108 | 23740 | 2490 | 0.9
67190 | PR | HUMACAO | 68 | 49 | 46 | 623 | 75154 | 181644 | 655110 | 20292 | 2501 | 0.9
60357 | PR | MAYAGUEZ | 16 | 22 | 50 | 338 | 74738 | 181851 | 671124 | 16336 | 808 | 14.3
73336 | PR | MAYAGUEZ | 22 | 23 | 400 | 693 | 65201 | 180900 | 665900 | 37898 | 1376 | 0.9
64865 | PR | MAYAGUEZ | 5 | 29 | 1000 | 607 |  | 180902 | 665920 | 45696 | 1574 | 14.2
53863 | PR | MAYAGUEZ | 3 | 35 | 620 | 674 |  | 180900 | 665900 | 43682 | 1920 | 0.1
19561 | PR | NARANJITO | 64 | 18 | 50 | 142 | 74703 | 181734 | 661602 | 12482 | 2515 | 0.1
60341 | PR | PONCE | 7 | 7 | 16.4 | 826 | 80207 | 180917 | 663316 | 46704 | 3722 | 0
19776 | PR | PONCE | 9 | 9 | 3.2 | 825 | 74569 | 181009 | 663436 | 28603 | 3473 | 0
26681 | PR | PONCE | 14 | 15 | 380 | 839 | 67269 | 181010 | 663436 | 41336 | 3364 | 5.6
58341 | PR | PONCE | 20 | 19 | 700 | 269 | 65948 | 180449 | 664453 | 24888 | 1701 | 0.1
2175 | PR | PONCE | 26 | 25 | 200 | 310 | 41622 | 180448 | 664456 | 19187 | 1516 | 0
29000 | PR | PONCE | 48 | 47 | 50 | 247 | 74924 | 180450 | 664450 | 11769 | 1118 | 0.3
58340 | PR | SAN JUAN | 24 | 21 | 1000 | 564 |  | 181645 | 655114 | 44300 | 3102 | 0.4
52073 | PR | SAN JUAN | 4 | 27 | 1000 | 794 |  | 180642 | 660305 | 53151 | 3389 | 0.5
64983 | PR | SAN JUAN | 2 | 28 | 871 | 861 | 74925 | 180654 | 660310 | 52474 | 3313 | 4
4077 | PR | SAN JUAN | 30 | 31 | 75.9 | 287 |  | 181630 | 660536 | 15347 | 2490 | 0.6
28954 | PR | SAN JUAN | 18 | 32 | 3.9 | 290 | 65128 | 181630 | 660536 | 7747 | 2088 | 6.4
53859 | PR | SAN JUAN | 6 | 43 | 791 | 825 | 74633 | 180642 | 660305 | 48283 | 3343 | 0
58342 | PR | SAN SEBASTIAN | 38 | 39 | 700 | 627 | 65242 | 180900 | 665900 | 34738 | 1692 | 0
39887 | PR | YAUCO | 42 | 41 | 185 | 832 |  | 181010 | 663436 | 39318 | 3448 | 0
3113 | VI | CHARLOTTE AMALIE | 17 | 17 | 50 | 455 |  | 182126 | 645650 | 24537 | 104 | 0.1
83270 | VI | CHARLOTTE AMALIE |  | 43 | 1.4 | 28 |  | 182043 | 645545 | 1687 | 0 | 0
70287 | VI | CHARLOTTE AMALIE | 12 | 44 | 30.4 | 505 | 75403 | 182128 | 645653 | 18332 | 11 | 0
84407 | VI | CHRISTIANSTED | 15 | 15 | 50 | 296 | 74735 | 174521 | 644756 | 14545 | 0 | 0
2370 | VI | CHRISTIANSTED | 8 | 20 | 501 | 292 | 74953 | 174521 | 644756 | 17484 | 7 | 0
83304 | VI | CHRISTIANSTED | 39 | 23 | 0.85 | 130 |  | 174440 | 644340 | 5461 | 0 | 0

Appendix C—List of Commenters and Reply Commenters

Comments (Filed by Jan. 25, 2007)

1. 54 Broadcasting, Inc.

2. Alabama Educational Television Commission

3. Alaska Broadcasting Company, Inc.

4. The Allen Broadcasting Corp.

5. Amarillo Junior College District

6. Arizona Board of Regents

7. Arkansas Educational Television Commission

8. Association of Federal Communications Consulting Engineers

9. Barrington Bay City License LLC

10. Barrington Peoria License LLC

11. Bluestone License Holdings, Inc.

12. Board of Regents of Oklahoma Colleges/Roger State University

13. The Board of Trustees of Southern Illinois University

14. Board of Trustees of Northern Michigan University

15. Ronald J. Brey

16. Brazos Valley Public Broadcasting Foundation

17. CBS Corporation

18. Capital Community Broadcasting, Inc.

19. Capital Broadcasting Company, Inc.

20. Christian Faith Broadcast, Inc.

21. Christian Worldview Broadcasting Corporation

22. CMCG Puerto Rico License, LLC

23. Collins Broadcasting Company

24. Colorado Public Television

25. Community Television of Southern California—KCET

26. Connecticut Public Broadcasting, Inc.

27. Corridor Television LLP Licensee of KCWX, Fredericksburg, Texas

28. The Curators of the University of Missouri

29. Delta College

30. Dept. of Information Technology and Telecommunication of the City of New York

31. Dispatch Broadcast Group

32. Diversified Broadcasting, Inc.

33. Dominion Broadcasting, Inc.

34. Duluth-Superior Area Educational Television Corporation—WDSE

35. Eastern Illinois University

36. Eastern Television Corporation

37. Educational Broadcasting Foundation, Inc.

38. Ellis Communications KDOC Licensee, Inc.

39. Entravision Holdings, LLC

40. Evangelistic Alaska Missionary Fellowship, Inc.

41. Flathead Adventist Radio, Inc.

42. Florida West Coast Public Broadcasting, Inc.

43. John F. Fleming

44. Florida West Coast Public Broadcasting, Inc.

45. Florida State University

46. Gainesville Channel 61 Associates, Inc.

47. Georgia Public Telecommunications Commission

48. Granite Broadcasting Corporation

49. Grant Educational Foundation, et. al.

50. Gray Television Licensee, Inc.

51. Griffin Tulsa II Licensing, LLC

52. Hearst-Argyle Television, KCWE LMA Inc., and WMOR-TV Company

53. Hoak Media, LLC

54. ICA Broadcasting I, Ltd., Licensee of KOSA-TV

55. International Broadcasting Corporation

56. Jackson Television, LLC

57. KATC Communications, Inc.

58. Ketchikan TV, LLC

59. KEVN, Inc.

60. KM Television of Iowa, LLC, KM Television of Flagstaff, LLC

61. KOB-TV, LLC

62. KOCE-TV Foundation

63. KPAX Communications, Inc.

64. KRTV Communications, Inc.

65. KTVQ Communications, Inc.

66. KVIE, Inc.

67. KVOA Communications, Inc.

68. LIN of Alabama, LLC

69. Malara Broadcast Group, Inc.

70. Maritime Communications/Land Mobile, LLC

71. Mc-Graw Hill Broadcasting Company, Inc.

72. Media General Communications Holdings, LLC

73. Meredith Corporation

74. Mid State Television, Inc.

75. Mission Broadcasting, Inc.

76. Mississippi Authority for Educational Television

77. Mississippi Broadcasting Partners

78. Mitts Telecasting Company

79. Morris Network, Inc.

80. Mt. Mansfield Television, Inc.

81. Mountain Licenses, LP

82. NBC Telemundo License Co.

83. NEPSK, Inc.

84. New Jersey Public Broadcasting Authority

85. New York Times Management Services

86. Newport License Holdings, Inc.

87. Newschannel 5 Network, L.P.

88. Nexstar Broadcasting, Inc.

89. Northern California Public Television

90. Northern California Public Broadcasting Inc.—KQED

91. Oral Roberts University

92. Pappas Entities

93. Pappas Telecasting of America & South Central Communications Corporation

94. Parker Broadcasting, Inc.

95. Paxson Communications License Company, LLC

96. Paxson Denver License, Inc.

97. Paxson Hartford License, Inc.

98. Paxson Jax License, Inc.

99. Paxson Kansas City License, Inc.

100. The Pennsylvania State University

101. Piedmont Television of Huntsville License, LLC and Huntsville Broadcasting Corporation

102. Piedmont Television of Macon License, LLC

103. Piedmont Television of Monroe/El Dorado License LLC

104. Prime Time Christian Broadcasting, Inc.

105. The PSC Liquidating Trust

106. Puerto Rico Public Broadcasting Corporation

107. Ramar Communications II, Ltd.

108. Raycom TV Broadcasting, Inc.

109. Red River Broadcast, LLC

110. Red River Broadcast Co., LLC—KBRR

111. Red River Broadcast Co., LLC—KJRR

112. St. Lawrence Valley Educational Television Council, Inc.

113. Sangre de Christo Communications, Inc.

114. School Board of Broward County, Florida

115. Larry L. Schrecongost

116. Scripps Howard Broadcasting Company—KNXV-DT

117. Scripps Howard Broadcasting Company—WCPO-DT

118. Siete Grande Television, Inc.

119. Sinclair Broadcast Group, Inc.

120. Smith Media License Holdings, LLC

121. South Carolina Educational Television Commission

122. South Dakota Board of Directors for Educational Telecommunications

123. Stainless Broadcasting, LP

124. State Board of Education, State of Idaho

125. Sunbeam Television Corporation

126. Surtsey Media, LLC

127. Tanana Valley Television Company

128. Television Capital Corporation of Mobile

129. University of Houston System

130. The University of North Carolina

131. Thomas Broadcasting Company

132. Trinity Christian Center of Santa Ana, Inc., et. Al. (Supplement to Comment)

133. Twin Cities Public Television, Inc.

134. University of Alaska

135. University of New Hampshire

136. Univision Communications, Inc.

137. Virgin Islands Public Television System

138. WHDH-TV

139. WLEX Communications, LLC

140. WMHT Educational Telecommunications

141. WMYT-TV, Inc.

142. WNYT-TV, LLC

143. WQED Multimedia

144. WVVA Television, Inc.

145. Waitt Broadcasting, Inc.

146. The Walt Disney Company

147. Washburn University of Topeka

148. West Virginia Educational Broadcasting Authority

149. West Virginia Media Holdings, LLC

150. Western Kentucky University

151. Woods Communications Corporation

152. Young Broadcasting, Inc.

Reply Comments (Filed by Feb. 26, 2007)

1. Association for Maximum Service Television, Inc.

2. Ronald J. Brey

3. CBS Corporation

4. Capital Broadcasting Company, Inc.

5. Cohen, Dippell and Everist, P.C. (Some appear to be filed as late comments)

6. Concilio Mision Cristiana Fuente De Agua Viva, Inc. (written as comment)

7. Connecticut Public Broadcasting, Inc.

8. Davis Television Clarksburg, LLC

9. Ebenezer Broadcasting Group, Inc. (written as comment)

10. Florida West Coast Public Broadcasting, Inc.

11. Gilmore Broadcasting Corporation

12. KPAX Communications, Inc.

13. Larry L. Schrecongost

14. McGraw Hill Broadcasting Company, Inc.

15. Midwest Television, Inc.

16. Nexstar Broadcasting, Inc.

17. Paging Systems, Inc.

18. Quincy Broadcasting Company (filed jointly with WREX Television, LLC)

19. Smith Media License Holdings, LLC

20. Southern Broadcasting, Inc. (resubmitting comments they stated were filed January 25, 2007)

21. WSJV Television, Inc.

22. WVVA Television, Inc.

23. The Walt Disney Company

Late-filed Ex Parte Comments (Filed After Feb. 26, 2007)

1. Alamo Public Telecommunications Council

2. The Board of Trustees of the University of Alabama

3. CBS Corporation (Supplemental comments)

4. Community Television of Southern California—KCET (response to Reply comments)

5. Corridor Television LLP Licensee of KCWX, Fredericksburg, Texas (supplemental)

6. Davis Television Clarksburg, LLC

7. Gray Television, Inc.

8. Fox Television Stations, Inc.

9. Fox Television Stations of Philadelphia, Inc.

10. Georgia Public Telecommunications Commission (supplemental)

11. Idaho Independent Television, Inc.

12. KTBC License, Inc.

13. La Cadena Del Milagro, Inc.

14. Oklahoma Educational Television Authority

15. Oklahoma Land Company LLC

16. Richland Reserve, LLC

17. Saga Quad States Communications, LLC

18. Smith Media License Holdings, LLC (supplement to comment)

19. Southern Broadcasting, Inc. (raising new issues)

20. Tribune Broadcasting Company

Ex Parte

1. Association for Maximum Service Television, Inc.

2. Association of Public Television Stations, PBS, CPB

3. Christian Faith Broadcast, Inc.

4. Colorado Public Television

5. Corridor Television LLP

6. Dispatch Broadcast Group

7. Gilmore Broadcasting Corporation

8. Gray Television, Inc.

9. KTBC License, Inc.

10. Mt. Mansfield Television, Inc.

11. New America Foundation

12. Pacifica Broadcasting Company & Oceania Christian Church

13. Sangre de Cristo Communications, Inc.

14. Siete Grande Television, Inc.

15. Tribune Broadcasting Company

16. West Virginia Educational Broadcasting Authority WSJV Television, Inc.

Appendix D1—Granted Requests for Minor Adjustments

Call sign | Facility ID # | Community | State | Current NTSC channel | Current DTV channel | Post transition channel
KVEA | 19783 | CORONA | CA | 52 | 39 | 39
KWHY | 26231 | LOS ANGELES | CA | 22 | 42 | 42
KCRA | 33875 | SACRAMENTO | CA | 3 | 35 | 35
KQED | 35500 | SAN FRANCISCO | CA | 9 | 30 | 30
WSCV | 64971 | FORT LAUDERDALE | FL | 51 | 52 | 30
KMEG | 39665 | SIOUX CITY | IA | 14 | 39 | 39
WEEK | 24801 | PEORIA | IL | 25 | 57 | 25
WPTA | 73905 | FORT WAYNE | IN | 21 | 24 | 24
WRTV-DT | 40877 | INDIANAPOLIS | IN | 6 | 25 | 25
WNEM-DT | 41221 | BAY CITY | MI | 5 | 22 | 22
WMYD | 74211 | DETROIT | MI | 20 | 21 | 21
KPXE-DT | 33337 | KANSAS CITY | MO | 50 | 51 | 51
WRAL | 8688 | RALEIGH | NC | 5 | 53 | 48
KSNB | 21161 | SUPERIOR | NE | 4 | 34 | 34
WKBW | 54176 | BUFFALO | NY | 7 | 38 | 38
WTVH | 74151 | SYRACUSE | NY | 5 | 47 | 47
KDOR | 1005 | BARTLESVILLE | OK | 17 | 15 | 17
WPMT | 10213 | YORK | PA | 43 | 47 | 47
WQHA | 3255 | AGUADA | PR | 50 | 62 | 50
WATE | 71082 | KNOXVILLE | TN | 6 | 26 | 26
WSLS | 57840 | ROANOKE | VA | 10 | 30 | 30
WBAY | 74417 | GREEN BAY | WI | 2 | 23 | 23

Appendix D2—Granted Requests for Changes to Certification That Meet the Interference Criteria

Call sign | Facility ID # | Community | State | Current NTSC channel | Current DTV channel | Post transition channel | File No.
KTVA | 49632 | ANCHORAGE | AK | 11 | 28 | 28 | BLCDT-20061113AAT.
KATN | 13813 | FAIRBANKS | AK | 2 | 18 | 18 | BMPCDT-20070222AAL.
KJUD | 13814 | JUNEAU | AK | 8 | 11 | 11 | BMCDT-20070412AAI.
KTOO | 8651 | JUNEAU | AK | 3 | 10 | 10 | BLEDT-20040730ABD.
WDHN | 43846 | DOTHAN | AL | 18 | 21 | 21 | BMPCDT-20070125ACS.
WTTO | 74138 | HOMEWOOD | AL | 21 | 28 | 28 | BMPCDT-20041104AMB.
WAAY | 57292 | HUNTSVILLE | AL | 31 | 32 | 32 | BLCDT-20050701ABO.
WMPV | 60827 | MOBILE | AL | 21 | 20 | 20 | BLCDT-20060703AAJ.
KTVE | 35692 | EL DORADO | AR | 10 | 27 | 27 | BLCDT-20070105ABH.
KHOG | 60354 | FAYETTEVILLE | AR | 29 | 15 | 15 | BLCDT-20020904AAX.
KHBS | 60353 | FORT SMITH | AR | 40 | 21 | 21 | BLCDT-20031121AMR.
KARK | 33440 | LITTLE ROCK | AR | 4 | 32 | 32 | BLCDT-20060504ABM.
KCFG | 35104 | FLAGSTAFF | AZ | 9 | 32 | 32 | BMPCDT-20060329AJP.
KTAZ | 81458 | PHOENIX | AZ | 39 |  | 39 | BLCT-20060809ABN.
KUAT | 2731 | TUCSON | AZ | 6 | 30 | 30 | BLEDT-20040727ABR.
KDOC | 24518 | ANAHEIM | CA | 56 | 32 | 32 | BLCDT-20060626ACV.
KTNC | 21533 | CONCORD | CA | 42 | 63 | 14 | BLCDT-20060629ABI.
KSEE | 35594 | FRESNO | CA | 24 | 38 | 38 | BLCDT-20050914AAZ.
KBCW-TV | 69619 | SAN FRANCISCO | CA | 44 | 45 | 45 | BLCDT-20020709AAQ.
KREG | 70578 | GLEENWOOD SPRING | CO | 3 | 23 | 23 | BLCDT-20060629AER.
KFQX | 31597 | GRAND JUNCTION | CO | 4 | 15 | 15 | BLCDT-20061020ACO.
KKCO | 24766 | GRAND JUNCTION | CO | 11 | 12 | 12 | BLCDT-20030401ABM.
KREX | 70596 | GRAND JUNCTION | CO | 5 | 2 | 2 | BPCDT-19991029AFS.
KDEN-DT | 38375 | LONGMONT | CO | 25 | 29 | 29 | BLCDT-20060630ACM.
KREY | 70759 | MONTROSE | CO | 10 | 13 | 13 | BLCDT-20060629ACV.
KOAA | 59014 | PUEBLO | CO | 5 | 42 | 42 | BPCDT-19991029AGS.
WHPX-DT | 51980 | NEW LONDON | CT | 26 | 34 | 26 | BLCDT-20060630ABZ.
WPPB | 51349 | BOCA RATON | FL | 63 | 40 | 40 | Allotment Facility 122731.
WTGL | 24582 | COCOA | FL | 52 | 53 | 51 | BPCDT-20000428ABS.
WTCE | 29715 | FORT PIERCE | FL | 21 | 38 | 38 | BMPEDT-20060125ADR.
WCJB | 16993 | GAINESVILLE | FL | 20 | 16 | 16 | BDSTA-20050803ADT.
WGFL | 7727 | HIGH SPRINGS | FL | 53 | 28 | 28 | BLCDT-20060714ABC.
WJEB | 29719 | JACKSONVILLE | FL | 59 | 44 | 44 | BLCDT-20060301ADC.
WMOR | 53819 | LAKELAND | FL | 32 | 19 | 19 | BLCDT-20050726ABO.
WSFL | 10203 | MIAMI | FL | 39 | 19 | 19 | BLCDT-20070124ABF.
WSVN-DT | 63840 | MIAMI | FL | 7 | 8 | 7 | BPCDT-19991101AFH.
WTLH | 23486 | BAINBRIDGE | GA | 49 | 50 | 49 | BLCDT-20061020ACP.
WPXC-DT | 71236 | BRUNSWICK | GA | 21 | 24 | 24 | BLCDT-20060607ABQ.
WELF | 60825 | DALTON | GA | 23 | 16 | 16 | BLCDT-20060301ADC.
WGXA-DT | 58262 | MACON | GA | 24 | 16 | 16 | BMPCDT-20070131AIP.
WMGT | 43847 | MACON | GA | 41 | 40 | 40 | BLCDT-20070112AHJ.
KALO | 51241 | HONOLULU | HI | 38 | 10 | 10 | Allotment Facility 161807.
KBFD | 65395 | HONOLULU | HI | 32 | 33 | 33 | BMPCDT-20070112AGB.
KWKB-TV | 35096 | IOWA CITY | IA | 20 | 25 | 25 | BLCDT-20070130AJQ.
KUID | 62382 | MOSCOW | ID | 35 | 12 | 12 | BLEDT-20060804AFK.
WCIA | 42124 | CHAMPAIGN | IL | 3 | 48 | 48 | BMPCDT-20050701ACC.
WICD | 25684 | CHAMPAIGN | IL | 15 | 41 | 41 | BLCDT-20050620AAO.
WEIU | 18301 | CHARLESTON | IL | 51 | 50 | 50 | BLEDT-20060504AAW.
WUSI | 4301 | OLNEY | IL | 16 | 19 | 19 | BLEDT-20060619ABG.
WMBD | 42121 | PEORIA | IL | 31 | 30 | 30 | BLCDT-20061019ADD.
WSJV | 74007 | ELKHART | IN | 28 | 58 | 28 | BLCDT-20060620ABX.
WFFT | 25040 | FORT WAYNE | IN | 55 | 36 | 36 | BMPCDT-20070125ACY.
WISE | 13960 | FORT WAYNE | IN | 33 | 19 | 19 | BMPCDT-20070123AAR.
WFXW | 65247 | TERRE HAUTE | IN | 38 | 39 | 39 | BMPCDT-20070125ACT.
WTWO | 20426 | TERRE HAUTE | IN | 2 | 36 | 36 | BMPCDT-20070125ADB.
WLEX-TV | 73203 | LEXINGTON | KY | 18 | 39 | 39 | BMPCDT-20050728AOP.
KATC-TV | 33471 | LAFAYETTE | LA | 3 | 28 | 28 | BMPCDT-20060906AAW.
KARD | 3658 | WEST MONROE | LA | 14 | 36 | 36 | BMPCDT-20070125ACR.
WPME | 48408 | LEWISTON | ME | 35 | 28 | 35 | BLCDT-20060629ABK.
WPXT | 53065 | PORTLAND | ME | 51 | 43 | 43 | BLCDT-20060714ABB.
WAGM-DT | 48305 | PRESQUE ISLE | ME | 8 | 16 | 8 | BLCDT-20030807AEX.
KDLH | 4691 | DULUTH | MN | 3 | 33 | 33 | BMPCDT-20060519AAE.
KTCA | 68594 | ST. PAUL | MN | 2 | 34 | 34 | BLEDT-20060802AAO.
KODE | 18283 | JOPLIN | MO | 12 | 43 | 43 | BMPCDT-20070125ACU.
KSNF | 67766 | JOPLIN | MO | 16 | 46 | 46 | BMPCDT-20070125ACP.
KSFX | 3659 | SPRINGFIELD | MO | 27 | 28 | 28 | BMPCDT-20070116AAC.
KTAJ | 999 | ST. JOSEPH | MO | 16 | 21 | 21 | BLCDT-20060703AAK.
WABG-TV | 43203 | GREENWOOD | MS | 6 | 32 | 32 | BLCDT-20051024ABR.
KSVI | 5243 | BILLINGS | MT | 6 | 18 | 18 | BPCDT-19991029ACI.
KTVQ | 35694 | BILLINGS | MT | 2 | 10 | 10 | BLCDT-20060802AYX.
KRTV | 35567 | GREAT FALLS | MT | 3 | 7 | 7 | BLCDT-20060728AEO.
KHMT | 47670 | HARDIN | MT | 4 | 22 | 22 | BMPCDT-20070125ACV.
KPAX | 35455 | MISSOULA | MT | 8 | 7 | 7 | BLCDT-20070209AAZ.
WUND | 69292 | COLUMBIA | NC | 2 | 20 | 20 | BPEDT-20070112AHT.
KFYR | 41427 | BISMARCK | ND | 5 | 31 | 31 | BMPCDT-20060629AES.
KVLY | 61961 | FARO | ND | 11 | 44 | 44 | BMPCDT-20060629AFS.
KXJB | 49134 | VALLEY CITY | ND | 4 | 38 | 38 | BLCDT-20060831AAM.
KETV | 53903 | OMAHA | NE | 7 | 20 | 20 | BLCDT-20041222AED.
KPTM | 51491 | OMAHA | NE | 42 | 43 | 43 | BLCDT-20051107AFO.
KXVO | 23277 | OMAHA | NE | 15 | 38 | 15 | BLCDT-20060809AFX.
WGTW | 7623 | BURLINGTON | NJ | 48 | 27 | 27 | BLCDT-20060105AAR.
KOB | 35313 | ALBUQUERQUE | NM | 4 | 26 | 26 | BLCDT-20051003BQP.
KVCW | 10195 | LAS VEGAS | NV | 33 | 29 | 29 | BLCDT-20070109AAW.
KVMY | 10179 | LAS VEGAS | NV | 21 | 22 | 22 | BLCDT-20070109AAU.
WICZ | 62210 | BINGHAMTON | NY | 40 | 8 | 8 | BLCDT-20060320AFC.
WNYO | 67784 | BUFFALO | NY | 49 | 34 | 34 | BLCDT-20061207ABR.
WNYE | 6048 | NEW YORK | NY | 25 | 24 | 24 | BMPEDT-20070124AAX.
WPTZ | 57476 | NORTH POLE | NY | 5 | 14 | 14 | BLCDT-20070116ACW.
WNPI | 62137 | NORWOOD | NY | 18 | 23 | 23 | BLEDT-20050715ABZ.
WROC | 73964 | ROCHESTER | NY | 8 | 45 | 45 | BLCDT-20060418AAA.
WUTR | 57837 | UTICA | NY | 20 | 30 | 30 | BLCDT-20040217ADC.
WGGN-DT | 11027 | SANDUSKY | OH | 52 | 42 | 42 | BMPCDT-20000501AIZ.
KRSC-DT | 57431 | CLAREMORE | OK | 35 | 36 | 36 | BLEDT-20061011AAM.
KTUZ | 77480 | SHAWNEE | OK | 30 | 29 | 29 | BMPCDT-20060707AFM.
KRCW | 10192 | SALEM | OR | 32 | 33 | 33 | BMLCDT-20070123ABS.
WTAJ | 23341 | ALTOONA | PA | 10 | 32 | 32 | BLCDT-20051018ACE.
WOLF | 73375 | HAZLETON | PA | 56 | 45 | 45 | BLCDT-20050906ACK.
WQMY | 52075 | WILLIAMSPORT | PA | 53 | 29 | 29 | BPCDT-19980825KJ.
WMEI | 26676 | ARECIBO | PR | 60 | 61 | 14 | BMPCT-20060614ABI.
WVSN | 67190 | HUMACAO | PR | 68 | 49 | 49 | BMPCDT-20060719ACQ.
WIPM-DT | 53863 | MAYAGUEZ | PR | 3 | 35 | 35 | BLEDT-20060627ACQ.
WJWJ-DT | 61007 | BEAUFORT | SC | 16 | 44 | 44 | BLEDT-20060221AEJ.
WJPM-DT | 61008 | FLORENCE | SC | 33 | 45 | 45 | BLED-20050324ACE.
WNEH-DT | 60931 | GREENWOOD | SC | 38 | 18 | 18 | BLEDT-20050322AGH.
WMBF-TV | 83969 | MYRTLE BEACH | SC | 32 |  | 32 | BMPCDT-20060829BEG.
WRET-DT | 61011 | SPARTANBURG | SC | 49 | 43 | 43 | BLEDT-20050324ACD.
KPRY | 48660 | PIERRE | SD | 4 | 19 | 19 | BLCDT-20021118ABY.
KCSD | 60728 | SIOUX FALLS | SD | 23 | 24 | 24 | BLEDT-20040112ACM.
KUSD | 61072 | VERMILLION | SD | 2 | 34 | 34 | BDSTA-20060908ADD.
WDSI | 71353 | CHATTANOOGA | TN | 61 | 40 | 40 | BMPCDT-20041229AAO.
KRBC | 306 | ABILENE | TX | 9 | 29 | 29 | BMPCDT-20070125ABY.
KTAB | 59988 | ABILENE | TX | 32 | 24 | 24 | BMPCDT-20070125ABS.
KAMR | 8523 | AMARILLO | TX | 4 | 19 | 19 | BMPCDT-20070125ABO.
KRIS-DT | 25559 | CORPUS CHRISTI | TX | 6 | 13 | 13 | BLCDT-20060628ABC.
KAMC | 40820 | LUBBOCK | TX | 28 | 27 | 27 | BMPCDT-20070125ABW.
KJTV-DT | 55031 | LUBBOCK | TX | 34 | 35 | 35 | BLCDT-20070201BKH.
KLBK | 3660 | LUBBOCK | TX | 13 | 40 | 40 | BMPCDT-20070125ABT.
KLST | 31114 | SAN ANGELO | TX | 8 | 11 | 11 | BMPCDT-20070125ACQ.
KSAN | 307 | SAN ANGELO | TX | 3 | 16 | 16 | BMPCDT-20070125ABX.
KTAL | 35648 | TEXARKANA | TX | 6 | 15 | 15 | BMPCDT-20070125ABR.
KWBU | 6673 | WACO | TX | 34 | 20 | 20 | BLEDT-20060622AAS.
KAUZ | 6864 | WICHITA FALLS | TX | 6 | 22 | 22 | BPCDT-19991028ADQ.
KFDX | 65370 | WICHITA FALLS | TX | 3 | 28 | 28 | BMPCDT-20070125ABU.
WTJX | 70287 | CHARLOTTE AMALIE | VI | 12 | 44 | 44 | BPEDT-20060824ADL.
WFFF-DT | 10132 | BURLINGTON | VT | 44 | 43 | 43 | BPCDT-19991029ABX.
KWPX | 56852 | BELLEVUE | WA | 33 | 32 | 33 | BLCDT-20060405ACG.
WFRV | 9635 | GREEN BAY | WI | 5 | 39 | 39 | BLCDT-20051004ABD.
KBJR | 33658 | SUPERIOR | WI | 6 | 19 | 19 | BMPCDT-20060519AAF.
WVVA-DT | 74176 | BLUEFIELD | WV | 6 | 46 | 46 | BLCDT-20060929AEJ.

Appendix D3—Granted Requests for Modified Coverage Area

Call sign | Facility ID # | Community | State | Current NTSC channel | Current DTV channel | Post transition channel
KUAC | 69315 | FAIRBANKS | AK | 9 | 24 | 9
WCIQ | 711 | MOUNT CHEAHA | AL | 7 | 56 | 7
KFMB | 42122 | SAN DIEGO | CA | 8 | 55 | 8
WVAN | 23947 | SAVANNAH | GA | 9 | 13 | 9
WGEM | 54275 | QUINCY | IL | 10 | 54 | 10
WREX | 73940 | ROCKFORD | IL | 13 | 54 | 13
WTHR | 70162 | INDIANAPOLIS | IN | 13 | 46 | 13
KTWU-DT | 70938 | TOPEKA | KS | 11 | 23 | 11
WHDH-TV | 72145 | BOSTON | MA | 7 | 42 | 7
WDSE-TV | 17726 | DULUTH | MN | 8 | 38 | 8
KOMU-DT | 65583 | COLUMBIA | MO | 8 | 36 | 8
KTVM-TV | 18066 | BUTTE | MT | 6 | 33 | 6
KCFW | 18079 | KALISPELL | MT | 9 | 38 | 9
KECI-TV | 18084 | MISSOULA | MT | 13 | 40 | 13
WCTI-DT | 18334 | NEW BERN | NC | 12 | 48 | 12
KJRR | 55364 | JAMESTOWN | ND | 7 | 18 | 7
KMOT | 41425 | MINOT | ND | 10 | 58 | 10
KHAS | 48003 | HASTINGS | NE | 5 | 21 | 5
KNOP | 49273 | NORTH PLATTE | NE | 2 | 22 | 2
WENH-DT | 69237 | DURHAM | NH | 11 | 57 | 11
WPIX | 73881 | NEW YORK | NY | 11 | 33 | 11
WPVI | 8616 | PHILADELPHIA | PA | 6 | 64 | 6
WQED | 41315 | PITTSBURGH | PA | 13 | 38 | 13
WSTE | 60341 | PONCE | PR | 7 | 8 | 7
WTVF | 36504 | NASHVILLE | TN | 5 | 56 | 5
KUHT | 69269 | HOUSTON | TX | 8 | 9 | 8
KOSA | 6865 | ODESSA | TX | 7 | 31 | 7
WCYB-TV | 2455 | BRISTOL | VA | 5 | 28 | 5
WCAX | 46728 | BURLINGTON | VT | 3 | 53 | 22
WBOY | 71220 | CLARKSBURG | WV | 12 | 52 | 12

Appendix D4—Stations in Border Zones That Must File Post-Transition Applications

Call sign | Facility ID | Community | State | Current DTV channel | Current NTSC channel | Post transition channel
KTNL | 60519 | SITKA | AK | 2 | 13 | 7
KFTU-TV | 81441 | DOUGLAS | AZ | 0 | 3 | 36
KFPH-TV | 41517 | FLAGSTAFF | AZ | 27 | 13 | 13
KNAZ-TV | 24749 | FLAGSTAFF | AZ | 22 | 2 | 2
KUVE-TV | 63927 | GREEN VALLEY | AZ | 47 | 46 | 46
KDTP | 83491 | HOLBROOK | AZ |  | 11 | 11
KPNX | 35486 | MESA | AZ | 36 | 12 | 12
KAET | 2728 | PHOENIX | AZ | 29 | 8 | 8
KNXV-TV | 59440 | PHOENIX | AZ | 56 | 15 | 15
KSAZ-TV | 35587 | PHOENIX | AZ | 31 | 10 | 10
KTAZ | 81458 | PHOENIX | AZ | 39 | 39 | 39
KTVW-TV | 35705 | PHOENIX | AZ | 34 | 33 | 33
KAZT-TV | 35811 | PRESCOTT | AZ | 25 | 7 | 7
KPPX | 26655 | TOLLESON | AZ | 52 | 51 | 51
KGUN | 36918 | TUCSON | AZ | 35 | 9 | 9
KHRR | 30601 | TUCSON | AZ | 42 | 40 | 40
KYMA | 74449 | YUMA | AZ | 41 | 11 | 11
960919KZ | 83825 | BISHOP | CA |  | 20 | 20
KAJB | 40517 | CALIPATRIA | CA | 5 | 54 | 36
KGMC | 23302 | CLOVIS | CA | 44 | 43 | 43
KECY-TV | 51208 | EL CENTRO | CA | 48 | 9 | 9
KSCI | 35608 | LONG BEACH | CA | 61 | 18 | 18
KABC-TV | 282 | LOS ANGELES | CA | 53 | 7 | 7
KCAL-TV | 21422 | LOS ANGELES | CA | 43 | 9 | 9
KCBS-TV | 9628 | LOS ANGELES | CA | 60 | 2 | 43
KCET | 13058 | LOS ANGELES | CA | 59 | 28 | 28
KCOP-TV | 33742 | LOS ANGELES | CA | 66 | 13 | 13
KMEX-TV | 35123 | LOS ANGELES | CA | 35 | 34 | 34
KTTV | 22208 | LOS ANGELES | CA | 65 | 11 | 11
KESQ-TV | 25577 | PALM SPRINGS | CA | 52 | 42 | 42
KRCA | 22161 | RIVERSIDE | CA | 68 | 62 | 45
KFMB-TV | 42122 | SAN DIEGO | CA | 55 | 8 | 8
KGTV | 40876 | SAN DIEGO | CA | 25 | 10 | 10
WEDW | 13594 | BRIDGEPORT | CT | 52 | 49 | 49
WTXX | 14050 | WATERBURY | CT | 12 | 20 | 20
WXFT-TV | 60539 | AURORA | IL | 59 | 60 | 50
WBBM-TV | 9617 | CHICAGO | IL | 3 | 2 | 12
WLS-TV | 73226 | CHICAGO | IL | 52 | 7 | 7
WGBO-TV | 12498 | JOLIET | IL | 53 | 66 | 38
WCLJ-TV | 68007 | BLOOMINGTON | IN | 56 | 42 | 42
WSJV | 74007 | ELKHART | IN | 58 | 28 | 28
WTHR | 70162 | INDIANAPOLIS | IN | 46 | 13 | 13
WTTK | 56526 | KOKOMO | IN | 54 | 29 | 29
WIPB | 3646 | MUNCIE | IN | 52 | 49 | 23
WSBT-TV | 73983 | SOUTH BEND | IN | 30 | 22 | 22
WHDH-TV | 72145 | BOSTON | MA | 42 | 7 | 7
WUTF-TV | 60551 | MARLBOROUGH | MA | 23 | 66 | 27
WWDP | 23671 | NORWELL | MA | 52 | 46 | 10
WNYA | 136751 | PITTSFIELD | MA | 0 | 51 | 13
WGBY-TV | 72096 | SPRINGFIELD | MA | 58 | 57 | 22
WGGB-TV | 25682 | SPRINGFIELD | MA | 55 | 40 | 40
WHAG-TV | 25045 | HAGERSTOWN | MD | 55 | 25 | 26
WJAL | 10259 | HAGERSTOWN | MD | 16 | 68 | 39
WGPT | 40619 | OAKLAND | MD | 54 | 36 | 36
WCBB | 39659 | AUGUSTA | ME | 17 | 10 | 10
WLBZ | 39644 | BANGOR | ME | 25 | 2 | 2
WVII-TV | 3667 | BANGOR | ME | 14 | 7 | 7
WPME | 48408 | LEWISTON | ME | 28 | 35 | 35
WMTW-TV | 73288 | POLAND SPRING | ME | 46 | 8 | 8
WAGM-TV | 48305 | PRESQUE ISLE | ME | 16 | 8 | 8
WMEM-TV | 39662 | PRESQUE ISLE | ME | 20 | 10 | 10
WPFO | 84088 | WATERVILLE | ME | 0 | 23 | 23
WBKB-TV | 67048 | ALPENA | MI | 13 | 11 | 11
WCML | 9917 | ALPENA | MI | 57 | 6 | 24
WPXD | 5800 | ANN ARBOR | MI | 33 | 31 | 31
WBSF | 82627 | BAY CITY | MI | 0 | 46 | 46
WWTV | 26994 | CADILLAC | MI | 40 | 9 | 9
WBKP | 76001 | CALUMET | MI | 11 | 5 | 5
WJBK | 73123 | DETROIT | MI | 58 | 2 | 7
WKAR-TV | 6104 | EAST LANSING | MI | 55 | 23 | 40
WFUM | 69273 | FLINT | MI | 52 | 28 | 28
WJRT-TV | 21735 | FLINT | MI | 36 | 12 | 12
WZZM-TV | 49713 | GRAND RAPIDS | MI | 39 | 13 | 13
WDHS | 15498 | IRON MOUNTAIN | MI | 22 | 8 | 8
WBUP | 59281 | ISHPEMING | MI | 0 | 10 | 10
WWMT | 74195 | KALAMAZOO | MI | 2 | 3 | 2
WLNS-TV | 74420 | LANSING | MI | 59 | 6 | 36
WCMW | 9913 | MANISTEE | MI | 58 | 21 | 21
WMQF | 81448 | MARQUETTE | MI | 0 | 19 | 19
WNMU | 4318 | MARQUETTE | MI | 33 | 13 | 13
WCMU-TV | 9908 | MOUNT PLEASANT | MI | 56 | 14 | 26
WILX-TV | 6863 | ONONDAGA | MI | 57 | 10 | 10
WGTQ | 59279 | SAULT STE.MARIE | MI | 9 | 8 | 8
WWUP-TV | 26993 | SAULT STE.MARIE | MI | 49 | 10 | 10
WGTU | 59280 | TRAVERSE CITY | MI | 31 | 29 | 29
WPBN-TV | 21253 | TRAVERSE CITY | MI | 50 | 7 | 7
KCCO-TV | 9632 | ALEXANDRIA | MN | 24 | 7 | 7
KSAX | 35584 | ALEXANDRIA | MN | 36 | 42 | 42
KAWE | 49578 | BEMIDJI | MN | 18 | 9 | 9
KFTC | 83714 | BEMIDJI | MN | 0 | 26 | 26
KRII | 82698 | CHISHOLM | MN | 0 | 11 | 11
WDIO-TV | 71338 | DULUTH | MN | 43 | 10 | 10
WDSE-TV | 17726 | DULUTH | MN | 38 | 8 | 8
WIRT | 71336 | HIBBING | MN | 36 | 13 | 13
KARE | 23079 | MINNEAPOLIS | MN | 35 | 11 | 11
KMSP-TV | 68883 | MINNEAPOLIS | MN | 26 | 9 | 9
KSTC-TV | 35843 | MINNEAPOLIS | MN | 44 | 45 | 45
WFTC | 11913 | MINNEAPOLIS | MN | 21 | 29 | 29
KSTP-TV | 28010 | ST. PAUL | MN | 50 | 5 | 35
KTCI-TV | 68597 | ST. PAUL | MN | 16 | 17 | 26
KBRR | 55370 | THIEF RIVERFALLS | MN | 57 | 10 | 10
KCCW-TV | 9640 | WALKER | MN | 20 | 12 | 12
KBTZ | 81438 | BUTTE | MT | 0 | 24 | 24
KTVM | 18066 | BUTTE | MT | 33 | 6 | 6
KLMN | 81331 | GREAT FALLS | MT | 0 | 26 | 26
KBBJ | 83689 | HAVRE | MT | 0 | 9 | 9
KTVH | 5290 | HELENA | MT | 14 | 12 | 12
KCFW-TV | 18079 | KALISPELL | MT | 38 | 9 | 9
KBAO | 84794 | LEWISTOWN | MT | 0 | 13 | 13
KYUS-TV | 5237 | MILES CITY | MT | 13 | 3 | 3
KECI-TV | 18084 | MISSOULA | MT | 40 | 13 | 13
KMMF | 81348 | MISSOULA | MT | 0 | 17 | 17
KTMF | 14675 | MISSOULA | MT | 36 | 23 | 23
KUFM-TV | 66611 | MISSOULA | MT | 27 | 11 | 11
KNDX | 82611 | BISMARCK | ND | 0 | 26 | 26
KXMB-TV | 55686 | BISMARCK | ND | 23 | 12 | 12
WDAZ-TV | 22124 | DEVILS LAKE | ND | 59 | 8 | 8
KDSE | 53329 | DICKINSON | ND | 20 | 9 | 9
KQCD-TV | 41430 | DICKINSON | ND | 18 | 7 | 7
KFME | 53321 | FARGO | ND | 23 | 13 | 13
KVLY-TV | 61961 | FARGO | ND | 44 | 11 | 44
KCPM | 86208 | GRAND FORKS | ND | 0 | 27 | 27
KGFE | 53320 | GRAND FORKS | ND | 56 | 2 | 15
KJRR | 55364 | JAMESTOWN | ND | 18 | 7 | 7
KMCY | 22127 | MINOT | ND | 15 | 14 | 14
KMOT | 41425 | MINOT | ND | 58 | 10 | 10
KXMC-TV | 55685 | MINOT | ND | 45 | 13 | 13
KXND | 82615 | MINOT | ND | 0 | 24 | 24
KNRR | 55362 | PEMBINA | ND | 15 | 12 | 12
KUMV-TV | 41429 | WILLISTON | ND | 52 | 8 | 8
WENH-TV | 69237 | DURHAM | NH | 57 | 11 | 11
WMUR-TV | 73292 | MANCHESTER | NH | 59 | 9 | 9
WFUT-TV | 60555 | NEWARK | NJ | 53 | 68 | 30
WNET | 18795 | NEWARK | NJ | 61 | 13 | 13
KOAT-TV | 53928 | ALBUQUERQUE | NM | 21 | 7 | 7
KRQE | 48575 | ALBUQUERQUE | NM | 16 | 13 | 13
KTEL-TV | 83707 | CARLSBAD | NM | 0 | 25 | 25
KUPT | 27431 | HOBBS | NM | 16 | 29 | 29
KBIM-TV | 48556 | ROSWELL | NM | 41 | 10 | 10
KOBR | 62272 | ROSWELL | NM | 38 | 8 | 8
KRPV | 53539 | ROSWELL | NM | 28 | 27 | 27
KRWB-TV | 84157 | ROSWELL | NM | 0 | 21 | 21
KOBG-TV | 85114 | SILVER CITY | NM | 0 | 6 | 12
KOVT | 53911 | SILVER CITY | NM | 12 | 10 | 10
WPXJ-TV | 2325 | BATAVIA | NY | 53 | 51 | 23
870331LW | 72623 | BATH | NY | 0 | 14 | 14
WIVT | 11260 | BINGHAMTON | NY | 4 | 34 | 34
WWNY-TV | 68851 | CARTHAGE | NY | 35 | 7 | 7
WSKA | 78908 | CORNING | NY | 0 | 30 | 30
WYDC | 62219 | CORNING | NY | 50 | 48 | 48
WENY-TV | 71508 | ELMIRA | NY | 55 | 36 | 36
WETM-TV | 60653 | ELMIRA | NY | 2 | 18 | 18
WNYI | 34329 | ITHACA | NY | 0 | 52 | 20
WNYB | 30303 | JAMESTOWN | NY | 27 | 26 | 26
WABC-TV | 1328 | NEW YORK | NY | 45 | 7 | 7
WCBS-TV | 9610 | NEW YORK | NY | 56 | 2 | 33
WPIX | 73881 | NEW YORK | NY | 33 | 11 | 11
WPXN-TV | 73356 | NEW YORK | NY | 30 | 31 | 31
WLNY | 73206 | RIVERHEAD | NY | 57 | 55 | 47
WHAM-TV | 73371 | ROCHESTER | NY | 59 | 13 | 13
WHEC-TV | 70041 | ROCHESTER | NY | 58 | 10 | 10
WRGB | 73942 | SCHENECTADY | NY | 39 | 6 | 6
WNGS | 9088 | SPRINGVILLE | NY | 46 | 67 | 46
WSPX-TV | 64352 | SYRACUSE | NY | 0 | 56 | 15
WSTM-TV | 21252 | SYRACUSE | NY | 54 | 3 | 24
WVPX | 70491 | AKRON | OH | 59 | 23 | 23
WNEO | 49439 | ALLIANCE | OH | 46 | 45 | 45
WBGU-TV | 6568 | BOWLING GREEN | OH | 56 | 27 | 27
WKRC-TV | 11289 | CINCINNATI | OH | 31 | 12 | 12
WJW | 73150 | CLEVELAND | OH | 31 | 8 | 8
WKYC-TV | 73195 | CLEVELAND | OH | 2 | 3 | 17
WTTE | 74137 | COLUMBUS | OH | 36 | 28 | 36
WPTD | 25067 | DAYTON | OH | 58 | 16 | 16
WBDT | 70138 | SPRINGFIELD | OH | 18 | 26 | 26
WTOV-TV | 74122 | STEUBENVILLE | OH | 57 | 9 | 9
WTOL | 13992 | TOLEDO | OH | 17 | 11 | 11
WTVG | 74150 | TOLEDO | OH | 19 | 13 | 13
KOAC-TV | 50590 | CORVALLIS | OR | 39 | 7 | 7
KFFX-TV | 12729 | PENDLETON | OR | 8 | 11 | 11
KGW | 34874 | PORTLAND | OR | 46 | 8 | 8
KNMT | 47707 | PORTLAND | OR | 45 | 24 | 24
KOPB-TV | 50589 | PORTLAND | OR | 27 | 10 | 10
KPTV | 50633 | PORTLAND | OR | 30 | 12 | 12
KPXG | 5801 | SALEM | OR | 4 | 22 | 22
WLVT-TV | 36989 | ALLENTOWN | PA | 62 | 39 | 39
WICU-TV | 24970 | ERIE | PA | 52 | 12 | 12
WJET-TV | 65749 | ERIE | PA | 58 | 24 | 24
WHP-TV | 72313 | HARRISBURG | PA | 4 | 21 | 21
WPCW | 69880 | JEANNETTE | PA | 49 | 19 | 11P
WWCP-TV | 20295 | JOHNSTOWN | PA | 29 | 8 | 8
WCAU | 63153 | PHILADELPHIA | PA | 67 | 10 | 34
WYBE | 28480 | PHILADELPHIA | PA | 34 | 35 | 35
WQED | 41315 | PITTSBURGH | PA | 38 | 13 | 13
WQEX | 41314 | PITTSBURGH | PA | 26 | 16 | 38
WSWB | 73374 | SCRANTON | PA | 31 | 38 | 38
WNAC-TV | 73311 | PROVIDENCE | RI | 54 | 64 | 12
KTBC | 35649 | AUSTIN | TX | 56 | 7 | 7
KNIC-TV | 125710 | BLANCO | TX |  | 17 | 18
KZTV | 33079 | CORPUS CHRISTI | TX | 18 | 10 | 10
KCOS | 19117 | EL PASO | TX | 30 | 13 | 13
KTSM-TV | 67760 | EL PASO | TX | 16 | 9 | 9
KVIA-TV | 49832 | EL PASO | TX | 17 | 7 | 7
KHOU-TV | 34529 | HOUSTON | TX | 31 | 11 | 11
KGNS-TV | 10061 | LAREDO | TX | 15 | 8 | 8
KVTV | 33078 | LAREDO | TX | 14 | 13 | 13
KCBD | 27507 | LUBBOCK | TX | 9 | 11 | 11
KUPB | 86263 | MIDLAND | TX | 0 | 18 | 18
KMLM | 53541 | ODESSA | TX | 43 | 42 | 42
KOSA-TV | 6865 | ODESSA | TX | 31 | 7 | 7
KWES-TV | 42007 | ODESSA | TX | 13 | 9 | 9
KWWT | 84410 | ODESSA | TX | 0 | 30 | 30
KENS-TV | 26304 | SAN ANTONIO | TX | 55 | 5 | 39
KLRN | 749 | SAN ANTONIO | TX | 8 | 9 | 9
KSAT-TV | 53118 | SAN ANTONIO | TX | 48 | 12 | 12
KWEX-TV | 35881 | SAN ANTONIO | TX | 39 | 41 | 41
WOAI-TV | 69618 | SAN ANTONIO | TX | 58 | 4 | 48
KPCB | 77452 | SNYDER | TX | 10 | 17 | 17
KLTV | 68540 | TYLER | TX | 10 | 7 | 7
KPXL | 61173 | UVALDE | TX | 0 | 26 | 26
WCAX-TV | 46728 | BURLINGTON | VT | 53 | 3 | 22
KWPX | 56852 | BELLEVUE | WA | 32 | 33 | 33
KQUP | 78921 | PULLMAN | WA | 0 | 24 | 24
KWSU-TV | 71024 | PULLMAN | WA | 17 | 10 | 10
KCTS-TV | 33749 | SEATTLE | WA | 41 | 9 | 9
KAYU-TV | 58684 | SPOKANE | WA | 30 | 28 | 28
KHQ-TV | 34537 | SPOKANE | WA | 15 | 6 | 7
KCPQ | 33894 | TACOMA | WA | 18 | 13 | 13
KSTW | 23428 | TACOMA | WA | 36 | 11 | 11
KPDX | 35460 | VANCOUVER | WA | 48 | 49 | 30
KAZW-TV | 84238 | WALLA WALLA | WA | 9 | 9 | 9
WBIJ | 81503 | CRANDON | WI |  | 4 | 4
WEAU-TV | 7893 | EAU CLAIRE | WI | 39 | 13 | 13
WLUK-TV | 4150 | GREEN BAY | WI | 51 | 11 | 11
WKBT | 74424 | LA CROSSE | WI | 41 | 8 | 8
WLEF-TV | 63046 | PARK FALLS | WI | 47 | 36 | 36
WAOW-TV | 64546 | WAUSAU | WI | 29 | 9 | 9
WSAW-TV | 6867 | WAUSAU | WI | 40 | 7 | 7
WFXS | 86204 | WITTENBERG | WI | 0 | 55 | 50
WBOY-TV | 71220 | CLARKSBURG | WV | 52 | 12 | 12
WOWK-TV | 23342 | HUNTINGTON | WV | 47 | 13 | 13
WDTV | 70592 | WESTON | WV | 6 | 5 | 5
WTRF-TV | 6869 | WHEELING | WV | 32 | 7 | 7

Appendix D5—Granted Requests for Alternative Channel Assignments

Call sign | Facility ID # | Community | State | Current NTSC channel | Current DTV channel | Current TCD | Post transition channel
KJNP | 20015 | NORTH POLE | AK | 4 | 20 | 4 | 20
KTNL | 60519 | SITKA | AK | 13 | 2 | 2 | 7
KETZ | 92872 | EL DORADO | AR |  | 12 | 12 | 10
KBDI | 22685 | BROOMFIELD | CO | 12 | 38 | 38 | 13
WBBM-TV | 9617 | CHICAGO | IL | 2 | 3 | 11 | 12
KFJX | 83992 | PITTSBURG | KS | 14 | 0 | 14 | 13
WDBD | 71326 | JACKSON | MS | 40 | 41 | 41 | 40
WFUT | 60555 | NEWARK | NJ | 68 | 53 | 41 | 30
KNMT | 47707 | PORTLAND | OR | 24 | 45 | 24 | 45
KEVN | 34347 | RAPID CITY | SD | 7 | 18 | 18 | 7
960405KF | 81692 | MEMPHIS | TN | 14 |  | 14 | 23
KLCW | 77719 | WOLFFORTH | TX | 22 |  | 22 | 43
WOAY | 66804 | OAK HILL | WV | 4 | 50 | 4 | 50

Appendix D6—Requests for Changes to Appendix B Antenna Information

Call sign | Facility ID # | Community | State | Current NTSC channel | Current DTV channel | Post transition channel
KQCA | 10242 | STOCKTON | CA | 58 | 46 | 46
WFGX | 6554 | FORT WALTONBEACH | FL | 35 | 50 | 50
WFSG | 6093 | PANAMA CITY | FL | 56 | 38 | 38
WEAR | 71363 | PENSACOLA | FL | 3 | 17 | 17
WFSU | 21801 | TALLAHASSEE | FL | 11 | 32 | 32
WMUM | 23935 | COCHRAN | GA | 29 | 7 | 7
WKYU | 71861 | BOWLING GREEN | KY | 24 | 18 | 18
WCVB | 65684 | BOSTON | MA | 5 | 20 | 20
KCWE | 64444 | KANSAS CITY | MO | 29 | 31 | 31
WRAZ | 64611 | RALEIGH | NC | 50 | 49 | 49
WXII | 53921 | WINSTON-SALEM | NC | 12 | 31 | 31
KOCT | 53908 | CARLSBAD | NM | 6 | 19 | 19
KOFT | 53904 | FARMINGTON | NM | 3 | 8 | 8
WLWT | 46979 | CINCINNATI | OH | 5 | 35 | 35
WKRN | 73188 | NASHVILLE | TN | 2 | 27 | 27
KACV | 1236 | AMARILLO | TX | 2 | 8 | 8
WRIC | 74416 | PETERSBURG | VA | 8 | 22 | 22

Appendix D7—Denied Requests From New Applicants

Call Sign | Facility ID # | Community | State | Current NTSC channel | Current DTV channel
New | 35855 | SACRAMENTO | CA |  |
New | 83711 | WEAVERVILLE | CA | 32 |
New |  | OWENSBORO | KY | 48 |
New | 169025 | KALISPELL | MT |  | 46
New |  | TULSA | OK | 26 |

[FR Doc. E7-18248 Filed 9-25-07; 8:45 am]

BILLING CODE 6712-01-P